DEPARTMENT OF HOMELAND SECURITY

Coast Guard

46 CFR Parts 10, 11, 12, 13, 15, 16, 30, 35, and 39

[Docket No. USCG-2021-0097]

RIN 1625-AC75

Electronic Submission of Mariner Course Completion Data

AGENCY: Coast Guard, DHS.

ACTION: Final rule.

SUMMARY: The Coast Guard is requiring Coast Guard-approved training providers to electronically submit student course completion data to the Coast Guard within 5 business days of completion. The National Maritime Center will use this information to validate mariner course completion as part of an application for a Merchant Mariner Credential. In addition, the Coast Guard is replacing gendered titles for certain officer and rating endorsements in keeping with Coast Guard policy of using gender-neutral language whenever possible. We expect these changes to improve the Coast Guard's verification process of mariner credential applications and to appropriately conform terms that should be gender neutral.

DATES: This final rule is effective January 17, 2025. Reporting requirements in 46 CFR 10.403(a)(7) need not be complied with until November 25, 2026. The incorporation by reference of certain material listed in the rule was approved by the Director of the Federal Register as of July 6, 2016.

ADDRESSES: To view documents mentioned in this preamble as being available in the docket, go to www.regulations.gov, type USCG-2021-0097 in the search box and click “Search.” Next, in the Document Type column, select “Supporting & Related Material.”

FOR FURTHER INFORMATION CONTACT: For information about this document, call or email Mr. Brian T. Eichelberger, Office of Merchant Mariner Credentialing, Coast Guard; telephone 202-372-1450, email Brian.T.Eichelberger@uscg.mil.

SUPPLEMENTARY INFORMATION:

Table of Contents for Preamble

I. Abbreviations

II. Basis and Purpose, and Regulatory History

III. Discussion of Comments and Changes

IV. Discussion of the Rule

V. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards

M. Environment

I. Abbreviations

BLS Bureau of Labor Statistics

CFR Code of Federal Regulations

CSV Comma-Separated values

DHS Department of Homeland Security

FR Federal Register

GS General Schedule

ICR Information collection request

IT Information technology

MMC Merchant Mariner Credential

MMLD Merchant Mariner Licensing and Documentation

MRN Mariner reference number

MTAD Mariner Training and Assessment Data

NMC National Maritime Center

NPRM Notice of proposed rulemaking

OMB Office of Management and Budget

PII Personally identifiable information

PDF Portable document format

QSS Quality Standard System

RA Regulatory analysis

SME Subject matter expert

SSN Social security number

STCW International Convention on Standards of Training, Certification, and Watchkeeping, 1978, as amended

§ Section

U.S.C. United States Code

II. Basis and Purpose, Background and Regulatory History

The legal basis of this rulemaking is Title 46 of the United States Code (U.S.C.), Sections 7101(b) and 7301(b), which authorize the Secretary of the department in which the Coast Guard is operating to prescribe regulations relating to issuing Merchant Mariner Credentials (MMCs) with officer and rating endorsements. The Secretary of the Department of Homeland Security (DHS) has delegated the rulemaking authority under 46 U.S.C. 7101(b) and 7301(b) to the Coast Guard through 46 U.S.C. 2104 and DHS Delegation No. 00170.1, Revision No. 01.4, paragraph (II)(92)(e). Additionally, 14 U.S.C. 102(3) grants the Coast Guard broad authority to issue and enforce regulations to promote safety of life and property on waters subject to the jurisdiction of the United States, which includes establishing the experience, professional qualifications, and processes required for issuing credentials.

The Coast Guard issues MMCs to mariners who have met the regulatory requirements for individual endorsement(s), as described in title 46 of the Code of Federal Regulations (CFR), parts 10, 11, 12, and 13. Professional requirements for an MMC endorsement generally include sea service, completion of Coast Guard-approved training, and having a met a standard of competence through practical demonstration and completion of a written examination. The general standards for Coast Guard-approved courses and programs are found in 46 CFR 10.403. Coast Guard-approved training providers are required to maintain physical or electronic records of all students who took a course for at least 5 years after the completion of the course.

Starting November 25, 2026, this final rule will require Coast Guard-approved training providers to submit students' course completion data electronically to the Coast Guard within 5 business days of the course ending. This action lessens the probability of issuing MMCs to mariners who have not met the professional requirements for their endorsements and improves the efficiency of the credentialing process. In addition, this final rule replaces gendered titles for certain officer and rating endorsements to align with the Coast Guard's policy of using gender-neutral language whenever feasible, capitalizes the endorsements for uniformity, removes some references to an obsolete Coast Guard document, and makes editorial changes such as replacing “shall” with “must” and “his or her” with “their”.

The Coast Guard published a notice of proposed rulemaking (NPRM) on May 5, 2023 (88 FR 29013), explaining the MMC application process and proposing these changes—minus the delay in implementing reporting requirements. In response, we received three comments and subsequently made changes to the regulatory text based on the comments.

III. Discussion of Comments and Changes

Of the three comments received by the Coast Guard, one commenter strongly supported the rule, particularly the gender-neutral language measures. The remaining two commenters had recommendations for the Coast Guard to consider.

One of the commenters, hereafter “Commenter 1”, recommended that the submission period for Coast Guard-approved training providers to submit students' course completion data to the Coast Guard should be 10 business days instead of the 5-day period that was included in the proposed rule.

The Coast Guard has elected to retain the 5-day submission period. Our reason for this decision is that the majority of mariners will take a course and then apply for an endorsement immediately after completing the course. Requiring Coast Guard-approved training providers to submit the data within a 5-day period ensures that the course completion data will be uploaded to the mariner's file within the Merchant Mariner Licensing and Documentation (MMLD) ¹ database promptly, and the application process will not be delayed.

¹ https://www.dhs.gov/publication/dhsuscgpia-015-merchant-mariner-licensing-and-documentation-system (last accessed January 18, 2024).

Commenter 1 also urged the Coast Guard to limit the data submission requirement to students who have passed the course.

The Coast Guard agrees with this suggestion and notes that, as proposed in the NPRM, the requirement to submit course completion data is limited to “each student who successfully completes an approved course or program.”

Commenter 1 further recommended that hard-copy certificates issued to students should be optional and allow for electronic or portable document format (PDF) certificates. Another commenter, hereafter “Commenter 2”. recommended that the Coast Guard no longer support the issuance of hard-copy course completion certificates.

The Coast Guard does not require approved training providers to issue hard copies of certificates to students who complete the course. Coast Guard-approved training providers, however, may continue to issue certificates as they have historically done for students who complete the course or program. That is, Coast Guard-approved training providers can issue the certificates to students via email, PDF, or hard copy. Coast Guard-approved training providers should continue to issue course completion certificates to students so they can submit them with their application for an MMC, in order to validate the certificates with the course completion data submitted electronically by the training provider.

Commenter 1 recommended that the submission of the course completion data should allow for comma-separated values (CSV) files for easy upload, and also allow for direct system entry.

The existing Homeport system currently supports this file type. It is a role-based environment that brings together Coast Guard personnel, members of the maritime community, and other designated individuals, allowing them to share information, and for records to be submitted by either single entry via webform or by multiple entries at once using a CSV file.

Commenter 1 recommended a 2-year phased in approach, where a 2-year period should be given to Coast Guard-approved training providers to implement these new requirements. The commenter also suggested that the phase-in periods should be based on course approval or expiration dates.

The Coast Guard agrees with this recommendation and has edited the preamble and regulatory text consistent with this recommendation.

The Coast Guard, however, declines to adopt the recommendation that the phase-in period should be based on course approval or expiration dates. Although course approvals are valid for 5 years, not all courses or programs are approved for the same 5-year calendar period. The Coast Guard's intention is to bring all training course providers into compliance at the same time. Coast Guard-approved training providers will have until 2 years after the effective date of this rule to come into compliance with the new requirements.

Commenter 1 also stated that the Coast Guard needs a faster, more user-friendly system for uploading course completion data. The Coast Guard agrees, and has long-term plans for developing a more secure, agile, and user-friendly system in the future. For now, providers comply with the requirements of this rule by submitting data through Homeport.

Commenter 2 urged the Coast Guard to revise the Code of Federal Regulations (CFR) to eliminate any use of gendered pronouns from the proposed text. In addition, this commenter provided a list of sections within parts 30, 31, 32, and 35 where “his or her” remains in use.

The Coast Guard agrees with the recommendation to eliminate the use of gendered pronouns from the proposed text and has made edits accordingly. The Coast Guard appreciates the information listing additional instance where “his or her” remains in use and will evaluate whether to amend these parts when we draft our annual technical amendments.

Commenter 2 also suggested that Coast Guard-approved training providers should include a mariner's social security number (SSN) on their course completion certificate.

The Coast Guard does not accept this recommendation. Mariners provide their SSNs as required on the Application for Merchant Mariner Credential (Form CG-719B), and they are issued a mariner reference number (MRN) after they apply for their original MMC. The MRN is used by the Coast Guard to identify the mariner in all future credentialing transactions, and all records are matched to the MRN rather than the SSN.

Commenter 2 believes that the proposed language in 46 CFR 10.403, paragraph (a)(7), could be revised to make it clear that Coast Guard-approved training providers must submit the information listed in subparagraphs (i) through (iv).

The Coast Guard agrees with the comment and has made editorial changes to the text to make that clear.

Commenter 2 also suggested that the Coast Guard update 46 CFR 10.402(b)(8) by requiring the same information listed in 46 CFR 10.403(a)(7)(i) through (iv) be included on the sample course completion certificates that Coast Guard-approved training providers submit to the Coast Guard for approval of a specific course or program.

As the NPRM did not discuss changes course and proposal approval requirements, these changes are outside the scope of this rulemaking.

IV. Discussion of the Rule

This rule amends 46 CFR 10.403 to require Coast Guard-approved training providers to submit course completion data electronically to the National Maritime Center (NMC) for each student who successfully completes a Coast Guard-approved course or program. Under this rule this data must be submitted electronically within 5 business days of the completion of any Coast Guard-approved course or program. Coast Guard-approved training providers will submit this data through Homeport to comply with this requirement until the Coast Guard announces the availability of a new method of compliance.²

² Homeport is the Coast Guard's enterprise internet portal for the maritime community and can be accessed at https://homeport.uscg.mil/.

Mariners submitting course completion data to the Coast Guard as part of their MMC application, and Coast Guard-approved training providers submitting course completion data electronically to the Coast Guard, must attest, under criminal penalty, that the records are accurate to the best of their knowledge and that no false entries or statements were made. See 18 U.S.C. 1001. The NMC will use this information to confirm that the applicant has completed the training required for the requested MMC endorsement. Requiring all Coast Guard-approved training providers to submit this data electronically improves the efficiency of the credentialing process and allows for the validation of course completion data ensuring the mariner meets the requirements for issuance of an endorsement. Under the process utilized prior to implementation of this rule, when a mariner submits an application, NMC personnel evaluate what is submitted and input the information into the mariner's training record within the MMLD database. If the course has not been electronically submitted by the training provider, then the evaluator has to enter the course completion information into the MMLD database manually. Under the process as implemented by this rule, NMC evaluators can use the data submitted electronically by training providers to verify quickly that the information submitted by the training provider is identical to the information submitted by the mariner with their application.

Providing 5 business days to submit course completion data ensures that a mariner's application will not be delayed due to the NMC waiting for training providers to submit the course completion data. By reducing delays in issuing an MMC, this final rule can help avoid loss of employment for a mariner, which supports NMC's mission to issue credentials to fully qualified mariners in the most effective and efficient manner possible.

Although the Coast Guard will electronically receive course completion data under this final rule, Coast Guard-approved training providers should continue to issue course completion certificates to their students, as mariners will still be responsible for including their course completion certificates as supporting documentation with their MMC application package (46 CFR 10.209(d)). This allows Coast Guard evaluators to validate the information submitted by the mariner with their MMC application against information submitted electronically by the training provider.

Under this final rule, training providers are required to submit the name of the training provider, the training provider's Coast Guard-issued provider code, the title of the Coast Guard-approved course or program, the Coast Guard-issued course code, the dates the training provider held the course, and the name of the approved instructor. This information allows the Coast Guard to validate that the course is one that has been approved by the Coast Guard and conducted by an approved instructor, and to verify the dates the course was held. The electronic submission also requires the student's full name as it appears on their MMC or other valid Government-issued identification, and their Coast Guard-issued MRN, or their date of birth and place of birth if they do not have an MRN.

The Coast Guard is currently in the process of developing a replacement for the MMLD database with a more secure, agile, and user-friendly system that provides better service to the maritime industry. Since the new system has yet to be developed, the best way for training providers to comply with the requirements is to electronically submit course completion data through Homeport. The Coast Guard realizes that Homeport does not have all the data fields listed that are required for this rule. Until Homeport or other means of electronic submission is updated, training providers will need to input only data currently required in Homeport for submittal of course completion. Some of the data required by this rule to be submitted electronically, including course instructor name and date of birth (if a mariner currently does not have a reference number) cannot currently be inputted into Homeport. In the event a new system is developed and becomes fully operational, it will be announced through publication of a Federal Register notice.

The Coast Guard understands that immediate compliance upon publication of the final rule may not be feasible for many training providers submitting mariner course completion data. For that reason, we have amended 46 CFR 10.403 from what we proposed in the NPRM so that the requirements in paragraph (a)(7) need not be met until November 25, 2026. This gives training providers 2 years from this rule's effective date to come into compliance with the new requirements. To be prepared for enforcement, training providers should request accounts for Homeport at least 90 days prior to the enforcement date of this rule. Guidance for requesting accounts to Homeport can be found on the NMC's website at www.dco.uscg.mil/Portals/9/NMC/pdfs/training/how_to_obtain_a_homeport_account.pdf?.

This rule also amends 46 CFR parts 10, 11, 12, 13, 15, 16, 30, 35, and 39 to ensure the titles of certain officer and rating endorsements are gender neutral. In this initiative, the Coast Guard is amending the following endorsement titles as described in table 1:

Table 1—Nomenclature Changes to 46 CFR Parts 10, 11 12, 13, 15, 16, 30, 35, and 39
Prior to this rule | As amended by this rule
Apprentice mate (steersman) | Apprentice Mate of Towing Vessels.
Crewman | Crewmember.
Fireman | Boiler Technician.
Hospital corpsman | Medical Technician.
Lifeboatman | Lifeboat Operator, Lifeboat Operator-Limited.
Pumpman | Pump Technician.
Seaman | Seafarer, Able Seafarer-Unlimited, Able Seafarer-Limited, Able Seafarer-Special, Able Seafarer-Offshore Supply Vessel, Able Seafarer-Sail, Able Seafarer-Fishing Industry.
Tankerman | Tank Vessel-PIC, Tank Barge-PIC, Restricted Tank Vessel-PIC, Restricted Tank Barge-PIC. Tank Vessel-Assistant, Tank Vessel-Engineer.

Upon the effective date of this rule, the Coast Guard will issue endorsements using the endorsement titles as implemented by this rule. Mariners do not have to apply to have the endorsement titles changed on their MMCs. The endorsement titles will be updated at the next credential transaction when an application is submitted to the Coast Guard.

With this final rule, the Coast Guard is changing the title of the Able Seaman endorsement to Able Seafarer. To differentiate in 46 CFR 10.231(c)(6)(ii) between the already established International Convention on Standards of Training, Certification, and Watchkeeping, 1978, as amended (STCW) endorsements of Able Seafarer-Deck and Able Seafarer-Engine and the Able Seafarer endorsement, the endorsement will be referred to as national Able Seafarer.

In some provisions of 46 CFR part 12, the legacy titles of endorsements will not be changed to the new endorsement titles. Specifically, §§ 12.501(b)(2) 12.607(b), 12.613(c), and 12.615(c) reference endorsements that would have been held before 2017 with the legacy name.

Finally, the Coast Guard is removing the expired grandfathering provisions in 46 CFR 13.603(e), 13.605(e), 13.607(e), 13.609(b), and 13.611(b). These provisions provided a method for mariners who held valid national tankerman endorsements issued before March 24, 2014, to qualify for original STCW tanker cargo operations endorsements. Any national tankerman endorsements issued before March 24, 2014, would have expired as of March 23, 2019; therefore, the grandfathering provisions have expired. Mariners who wish to obtain original STCW tanker cargo endorsements must meet the requirements of the applicable section.

In addition to these changes, the Coast Guard is making a number of technical amendments to improve the clarity of the regulations. These changes include capitalizing certain terminology, making additional changes to gendered language, and edits for clarity. Because of these changes, our regulatory text in this final rule is significantly longer than the text in the NPRM. We have added redlines illustrating the changes to parts 13 and 15, and subpart B of part 16 to the docket where indicated under the ADDRESSES portion of the preamble.

V. Regulatory Analyses

We developed this rule after considering numerous statutes and Executive orders related to rulemaking. Below we summarize our analyses based on these statutes or Executive orders.

A. Regulatory Planning and Review

Executive Orders 12866 (Regulatory Planning and Review) as amended by Executive Order 14094 (Modernizing Regulatory Review), and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying costs and benefits, reducing costs, harmonizing rules, and promoting flexibility.

Executive Order 13610 (Identifying and Reducing Regulatory Burdens) promotes the goals of Executive Order 13563. Executive Order 13610 aims to modernize the regulatory systems and to reduce unjustified regulatory burdens and costs on the public.

The Office of Management and Budget (OMB) has not designated this final rule a significant regulatory action under section 3(f) of Executive Order 12866, as amended by Executive Order 14094. Accordingly, OMB has not reviewed this rule.

The changes from the NPRM, as published in the Federal Register on May 5, 2023, to this final rule are detailed in table 2.

Table 2—Changes From the NPRM to the Final Rule
Description | NPRM | Final rule | Resulting change in regulatory analysis
Wage data for training providers and Coast Guard personnel | Wages were calculated for 2020 | Wages are calculated for 2022, with new data sources for Federal employee wages | Figures have been updated with more recent data from the Bureau of Labor Statistics (BLS) and the OMB.
Cost savings for automatic verification of mariner course completion data | The use of Homeport allows for verification of course completion information submitted by mariners and course completion information submitted by training providers. This was not included as a cost savings | Identification of improved efficiency means that verification is quantified | Cost savings is now included in the rule and has produced a net savings to the Federal Government.
Period of analysis | Cost estimate was derived from the years 2010-2020 | This period was updated to more recent years (2013-2022) | The period of analysis shifted to 2013-2022, using the most recently available data under a 10-year window of time.
Phase-in period | The rule was to become effective following publication in the Federal Register | After responding to public comments, the rule now includes a 2-year phase-in period during which training providers can prepare by establishing Homeport accounts and familiarizing themselves with the new requirements | The reporting requirements in 46 CFR 10.403(a)(7) need not be complied with until 2 years after the rule is published in the Federal Register. This phase-in period is accounted for in the cost analysis.

Table 3 shows the summary of the estimated impacts of this final rule. A regulatory analysis follows.

Table 3—Summary of the Impacts of the Final Rule
Category | Summary
Affected Population | Approximately 327 Coast Guard-approved training providers.
Cost to Industry over 10 Years (2022 dollars, 7% discount rate) | $933,588.
Cost to Government over 10 Years (2022 dollars, 7% discount rate) | A cost savings of $142,393.
Unquantified Benefits | The final rule will improve efficiency and accuracy during the MMC evaluation process by the NMC and help ensure that mariner credentials are not issued to mariners who have not met the required qualifications.

Affected Population

As discussed in Section II. Basis and Purpose, and Regulatory History, the NMC must determine that a mariner meets the requirements for an endorsement on their MMC prior to issuance of that endorsement. Currently, the NMC makes this determination by reviewing course completion certificates submitted with an MMC application. As discussed previously, the NMC's current course completion verification process is cumbersome and time-consuming. This final rule seeks to address this issue by mandating that training providers electronically submit their course completion data to the NMC, which Coast Guard personnel will match to the mariner's MMLD profile.

Starting in 2010, the NMC launched a pilot program to collect course completion records via Homeport. Table 4 provides a 10-year historic overview of Coast Guard-approved training providers, the annual count of training providers submitting records via Homeport, and the number of records the NMC processed each year.

Table 4—Number of Approved Training Providers and Course Completion Records Submitted to the NMC, 2013-2022
Year | Approved training providers | Training providers using Homeport | Student course completion submissions: Via mariner applications | Student course completion submissions: Via Homeport | Student course completion submissions: Total (Homeport plus mariner application submissions)
2013 | 330 | 36 | 49,577 | 12,110 | 61,687
2014 | 329 | 43 | 57,119 | 13,051 | 70,170
2015 | 340 | 43 | 51,890 | 19,491 | 71,381
2016 | 343 | 44 | 57,207 | 20,248 | 77,455
2017 | 338 | 49 | 47,074 | 25,125 | 72,199
2018 | 340 | 41 | 45,812 | 21,031 | 66,843
2019 | 322 | 33 | 49,435 | 12,834 | 62,269
2020 | 318 | 26 | 39,866 | 8,208 | 48,074
2021 | 322 | 24 | 46,194 | 9,049 | 55,243
2022 | 289 | 28 | 48,395 | 13,456 | 61,851
Average * | 327 |  | 49,257 | 15,460 | 64,717
* Averages rounded to the nearest whole number. Averages for “Training Providers using Homeport” are not calculated, as this rule will require all training providers to use Homeport.

The affected population for this final rule includes training providers approved by the NMC who offer training courses for MMC endorsements. From 2013 to 2022, the NMC reports that the number of Coast Guard-approved training providers ranged from a low of 289 to a high of 343, for an average of 327. The number of Coast Guard-approved courses offered by training providers can vary greatly each year, depending on demand for the course, instructor availability, and other factors. There were 2,515 approved courses offered in 2022.

Figure 1 shows the distribution of the number of Coast Guard-approved training providers and the number of courses they have Coast Guard approval for in a given year. According to NMC data, there are 93 training providers that offer only 1 course and 154 training providers (47 percent of all training providers) that offer up to 3 courses (see figure 1). The NMC does not track how many times a training provider offers each of their approved courses; for example, it is possible that a training provider with only 1 Coast Guard-approved course offers that course multiple times in a year. The analysis for this final rule focuses on the number of course completion records submitted, rather than the number of courses offered, in order to best account for the frequency in course offerings.

Cost to Industry

The cost to industry for this rule is comprised of two separate components: the cost to training providers for the time spent registering for a Homeport account, and the recurring cost to training providers for submitting course completion records. To find the total cost to industry, these costs are calculated individually and then combined under a 10-year timeline.

We find the initial cost of the rule by multiplying the number of training providers who must register for a Homeport account by the time it takes to register the account by the hourly wages of those who will register. According to an NMC subject matter expert (SME) familiar with Homeport, it takes a training provider approximately 20 minutes to establish a Homeport account. Given that Homeport accounts will be mandatory for the entire affected population, the cost of the rule is estimated to include all 327 training providers, even those who have already registered a Homeport account. These training providers must all be registered by the end of the 2-year phase-in period.

According to data from the NMC, there are currently 32 training providers who have registered accounts in Homeport, which means an additional 295 must be registered by the end of the 2-year phase-in period. For this analysis, we assume that half the remaining providers will register during the first year of the implementation period and half will register during the second year. That is, 147 training providers will register in the first year (along with the 32 training providers already registered), and the remaining 148 training providers will register in the second year.

After the training providers have all established their Homeport accounts, we expect any new training providers will register as they are approved by the NMC. We can anticipate these future training providers by examining the fluctuations in training providers from 2013 to 2022. Instances in which the population of training providers declined can be ignored (there is no cost to training providers for leaving the field), and the anticipated yearly number of new training providers can be found by finding the 10-year historic average for years when the count of training providers increased. As calculated from table 4, there have been 18 new Homeport accounts created over the 10-year period of the analysis. Rounding to the nearest whole number, the 10-year average for new training providers is two (2) training providers per year.

When calculating hourly wages, the Coast Guard must account not only for the hourly wages of personnel, but also for the additional costs the employer must pay to employ that individual, such as payroll taxes, Social Security, and insurance. These additional costs, when added to wages, are considered the “total compensation” of that job. To find the total compensation of training providers, the Coast Guard researched the wages and total compensation for the education industry as a whole, as provided by the BLS, and divided the total cost of employment by wages in order to find their ratio. This number is considered the “load factor” that, when multiplied by wages, produces the total cost of employing a training provider.

The loaded mean hourly wage rate of submitters is approximately $51.06 for 2022, derived from an unloaded mean hourly wage rate of $33.59 ³ for Training and Development Specialists and a load factor of 1.52.⁴

³ The 2022 mean hourly wage rate of $33.59 is for Training and Development Specialists. https://www.bls.gov/oes/2022/may/oes131151.htm (last accessed January 18, 2024).

⁴ Bureau of Labor Statistics, Employer Costs For Employee Compensation—March 2022. “Table 2, Employer Costs for Employee Compensation for civilian workers by occupational and industry group.” https://www.bls.gov/news.release/archives/ecec_06162022.pdf (last accessed January 18, 2024). We calculated the load factor by dividing total compensation for education services ($57.27) by wages and salaries for education services ($37.69). (57.27/37.69 = a load factor of 1.52).

Multiplying these factors with the wages of personnel who will be responsible for registering the account, we find that the cost to industry for registering Homeport accounts over 10 years will be total of $5,838, as detailed in table 5.

Table 5—The Cost to Training Providers To Establish a Homeport Account
[2022 Dollars]
Year | Number of training providers | Time to complete (hours) | Hourly loaded wage | Total cost
1 | 179 | .33 | $51.06 | $3,047
2 | 148 | .33 | 51.06 | 2,519
3 | 2 | .33 | 51.06 | 34
4 | 2 | .33 | 51.06 | 34
5 | 2 | .33 | 51.06 | 34
6 | 2 | .33 | 51.06 | 34
7 | 2 | .33 | 51.06 | 34
8 | 2 | .33 | 51.06 | 34
9 | 2 | .33 | 51.06 | 34
10 | 2 | .33 | 51.06 | 34
Total |  |  |  | 5,838
Note: Figures may not sum due to rounding.

The other cost to industry for the rule is for training providers to submit course completion data through Homeport. This is calculated on a 10-year timeline. Training providers can decide between two methods for uploading course completion data into Homeport: they can upload with a direct entry system through a Hyper Text Markup Language (HTML) form, or they can use a CSV file, which can upload multiple records at once.

As discussed in table 4, the NMC provided the 10-year historical data for the number of student course completion records that training providers submitted. From 2013 to 2022, there were approximately 327 training providers responsible for generating an average of 64,717 course completion records per year. We found the cost to training providers to submit the record electronically to the NMC by multiplying the average annual number of course completion records submitted by the time it takes to submit records and then by the hourly wages of those who will submit records.

To estimate the time cost for submitting records electronically, we surveyed training providers currently using Homeport. Under the Paperwork Reduction Act (44 U.S.C. 3501-3520), we are limited in how many training providers we could solicit for information. We contacted eight providers and received four complete responses back, three of which quantified the time required to submit data through Homeport. The two key questions asked as part of the survey were:

• Excluding time already spent on issuance of conventional paper course completion certificates, what is the minimum additional amount of time you estimate it takes to enter data into Homeport for each course?

• What is the maximum additional amount of time you estimate it takes to enter data into Homeport for each course?

Using the survey responses, we estimate a range for the time to submit each student course completion record to be approximately 0.0114 hours (0.68 minutes) on the lower end, and 0.0688 hours (4.13 minutes) on the higher end, for an average of .04 hours (2.4 minutes) per submission. We will use the average submission time for our subsequent cost calculations.

Based on the 10-year average calculated from table 4, we estimate that training providers will submit 64,717 course completion records electronically annually. Multiplying the average number of annual records by the average time to upload a record and then by the loaded wage for a training provider (64,717 records × 0.04 hrs. × $51.06) gives us an annual total cost to training providers of approximately $132,178. Dividing the annual total costs by the number of training providers gives us an annual per-training provider cost of uploading course completion records of approximately $404 ($132,178/327).

We estimate the 10-year total costs to training providers by combining the Homeport account creation costs and the recurring course completion record submission costs. Table 6 presents the undiscounted total costs of this rule as well as the 3 percent and 7 percent discounted costs. The annualized total costs to training providers, discounted at 3 percent and 7 percent, are estimated to be $132,829 and $132,922, respectively.

Table 6—Total Costs to Training Providers
[2022 Dollars]
Year | Homeport account creation | Course completion record submission | Total cost | 3% discount | 7% discount
1 | $3,047 | $132,178 | $135,225 | $131,286 | $126,378
2 | 2,519 | 132,178 | 134,697 | 126,965 | 117,650
3 | 34 | 132,178 | 132,212 | 120,993 | 107,924
4 | 34 | 132,178 | 132,212 | 117,469 | 100,864
5 | 34 | 132,178 | 132,212 | 114,047 | 94,265
6 | 34 | 132,178 | 132,212 | 110,726 | 88,098
7 | 34 | 132,178 | 132,212 | 107,500 | 82,335
8 | 34 | 132,178 | 132,212 | 104,369 | 76,949
9 | 34 | 132,178 | 132,212 | 101,330 | 71,915
10 | 34 | 132,178 | 132,212 | 98,378 | 67,210
Totals | 5,838 | 1,321,780 | 1,327,618 | 1,133,063 | 933,588
Annualized |  |  |  | 132,829 | 132,922
Note: Figures may not sum due to rounding

Cost to the Federal Government

The cost to the Federal Government for this final rule is comprised of the cost for Coast Guard personnel to verify new training provider accounts created on Homeport, the cost for Coast Guard personnel to manually match course completion data to mariner accounts when personally identifiable information is not available, and the cost savings from NMC evaluators not having to manually enter mariner course completion data directly into MMLD. The total cost to the Federal Government is found by combining these costs and cost savings within a 10-year period.

In order for a training provider to be able to electronically submit course completion data through Homeport, they must first establish a user account by registering on the site. User accounts must be verified by Coast Guard personnel at the NMC before they are ready for use. According to an NMC SME familiar with Homeport, it takes a General Schedule (GS)-07 civilian employee approximately 20 minutes to verify a Homeport user account. The estimate for the number of training providers over a 10-year period are taken from table 5.

The cost of verifying training provider accounts on Homeport is found by multiplying the wages of Coast Guard personnel who verify new Homeport accounts by the amount of time they spend performing that task.

We calculated wages for civilian Federal employees by taking the wages for a Federal employee in their locality, with their grade, at step 5 (which is considered an average). As of January 2022 in the national capital region, this is $27.50 per hour for GS-07 employees.⁵ To account for the total cost of the position, wages are multiplied by a load factor, which is found by taking the total compensation for Federal employees ($64.80) and dividing by average wages for Federal employees ($38.30).⁶ The calculation creates a load factor of 1.69, and, when multiplied by the hourly wage, the total wages for a GS-07 employee becomes $46.48 per hour.

⁵ General Schedule pay scale for Federal employees. https://www.opm.gov/policy-data-oversight/pay-leave/salaries-wages/salary-tables/pdf/2022/DCB_h.pdf (last accessed January 18, 2024).

⁶ Congressional Budget Office, Comparing the Compensation of Federal and Private-Sector Employees, 2011 to 2015 (April 2017), www.cbo.gov/publication/52637 (last accessed January 18, 2024).

“Federal and Private-Sector Total Compensation, by Workers' Educational Attainment”: Federal Government, All Levels of Education. Page 16.

“Federal and Private-Sector Wages, by Workers' Educational Attainment.” Federal Government, All Levels of Education. Page 11.

The 10-year cost of Homeport account verification is $5,314, as detailed in table 7.

Table 7—Cost to Government of Verifying Homeport User Accounts
[2022 Dollars]
Year | Number of training providers | Time to verify new homeport account—hours (20 min.) | Hourly GS-07 wages | Total cost
1 | 179 | .33 | $46.48 | $2,773
2 | 148 | .33 | 46.48 | 2,293
3 | 2 | .33 | 46.48 | 31
4 | 2 | .33 | 46.48 | 31
5 | 2 | .33 | 46.48 | 31
6 | 2 | .33 | 46.48 | 31
7 | 2 | .33 | 46.48 | 31
8 | 2 | .33 | 46.48 | 31
9 | 2 | .33 | 46.48 | 31
10 | 2 | .33 | 46.48 | 31
Total |  |  |  | $5,314
Note: Figures may not sum due to rounding.

The second part of the cost to Government is found by multiplying the wages of Coast Guard personnel who will manually match the course completion information with existing mariner records by the time they spend performing that task. This is considered a recurring cost for the Coast Guard and is calculated over a 10-year period.

The course completion data that the training provider submits through Homeport is added to a database known as Mariner Training and Assessment Data (MTAD) and is automatically matched to the mariner's profile in the MMLD using the individual's MRN. If a mariner does not have an MRN, the course data appears in the MMLD as an unmatched entry because it does not match to an existing MRN. This situation prompts manual review by personnel at NMC.

However, records may also not match due to a misspelling or other errors in data entry. If neither an SSN nor an MRN are provided, the certificate would remain unmatched to a mariner's record in the MMLD until it can be matched manually. The need for manual review to match records in the MMLD represents a cost to the Coast Guard.

For the period 2012 to 2022, 15,460 of the 64,717 course completion records submitted required manual matching. Using these data, Coast Guard estimates that approximately 24 percent (15,460 ÷ 64,717) of records must be manually matched. According to a Coast Guard SME from the NMC, manually matching records in the MMLD requires 3 hours per week at the GS-7 level and 0.5 hours per week at the GS-13 level, for the current 24 percent of course completion records entered into the MMLD. This number will be projected at an additional 76 percent to account for the remaining Coast Guard-approved training providers who will begin submitting course completion data to the NMC under this rule. The projected total cost to the Coast Guard is 12.5 hours per week at the GS-7 level:

((3/24) × 100 = 12.5 hours per week,⁷ rounded; 12.5 × 52 weeks per year = 650 hours per year),

⁷ The current figure of 3 hours only accounts for 24% of the record matching that will occur due to the rule. To find how much time is needed, we divide the time already being used (3 hours) by the percentage of the job that is already being completed (24) to find the required hours as a single percentage of the total job. Then we multiply by 100 to find the total time required for the job, which gives us 12.5 hours per week.

The projected total cost to the Coast Guard is 2.1 hours per week at the GS-13 level:

((.5/24) × 100 = 2.1 hours per week, rounded; 2.1 × 52 week per year = 109 hours per year).

There is a total annual burden of 759 hours—650 hours for a GS-7 and 109 hours for a GS-13. Total wages for GS-07 employees are $46.48 per hour, and total wages for GS-13 are $98.04 per hour. :

(GS-07 Step 5: 27.50 × 1.69 = 46.48 per hour)

(GS-13 Step 5: 58.01 × 1.69 = 98.04 per hour)

To find the cost of the final rule to the Federal Government over a 10-year period, we first multiply the wages of personnel by the hours they work verifying course completion data in a given year. GS-07 personnel work for 650 hours at the rate of $46.48 per hour, totaling to $30,212. GS-13 personnel work for 109 hours at the rate of $98.04 per hour, totaling to $10,686. Combining these figures, the final rule will cost the Federal Government $40,898 annually.

If we divide this amount by the total 759 hours of verification, we find the weighted average wage of manually matching mariner records is $53.88 per hour. The first 2 years are adjusted for the phase-in period, as calculated in table 5:

(Year 1: 179/327 = .55, and 759 × 55% = 417)

(Year 2: 148/327 = .45, and 759 × 45% = 342)

The details of this cost, and the discounted cost at 3 percent and 7 percent, are provided in table 8.

Table 8—Estimated Costs of Matching Records to Federal Government
[2022 Dollars]
Year | Total time (hours) | Weighted average wage | Total annual | 3% discount | 7% discount
1 | 417 | 53.88 | 22,468 | 21,814 | $20,998
2 | 342 | 53.88 | 18,427 | 17,369 | 16,095
3 | 759 | 53.88 | 40,895 | 37,425 | 33,382
4 | 759 | 53.88 | 40,895 | 36,335 | 31,199
5 | 759 | 53.88 | 40,895 | 35,276 | 29,158
6 | 759 | 53.88 | 40,895 | 34,249 | 27,250
7 | 759 | 53.88 | 40,895 | 33,251 | 25,467
8 | 759 | 53.88 | 40,895 | 32,283 | 23,801
9 | 759 | 53.88 | 40,895 | 31,343 | 22,244
10 | 759 | 53.88 | 40,895 | 30,430 | 20,789
Total |  |  | 368,055 | 309,774 | 250,383
Annualized |  |  |  | 36,315 | 35,649
Note: Figures may not sum due to rounding.

The cost for matching records in the MMLD is $368,055 over a period of 10 years. The total cost, discounted at 7 percent, is $250,383 over a 10-year period.

This final cost factor of the rule to the Federal Government will be cost savings from automating the process for inputting mariner course completion data in MMLD as part of the evaluation of an MMC application. Course completion data submitted electronically by training providers will be matched to the MRN in MTAD and ultimately recorded in the mariner's training profile in MMLD, rather than evaluators manually inputting the course completion information directly into the MMLD.

An NMC SME estimated that electronic submission will save the Coast Guard 1 minute per record when submitted through Homeport, resulting in cost savings for the Federal Government. There are 64,717 records submitted annually, resulting in a savings of 64,717 minutes per year, or 1,079 hours. The manual entry of mariner course completion data is completed through a pool of 32 Coast Guard evaluators at NMC, 13 of whom are GS-07 employees and 19 of whom are GS-09. Manual entry of mariner course completion data is divided evenly among the pool, meaning the evaluators all spend an equal amount of time on entering course completion data, so that GS-07 employees perform 41 percent of the manual entry, and GS-09 employees perform 59 percent of the manual entry. The loaded wages for these personnel are $46.48 for GS-07s and $56.85 for GS-09s.⁸

⁸ See methodology outlined above for calculated loaded wages for Federal employees.

The total cost savings for this rule is derived by multiplying the amount of time saved by the wages of Coast Guard personnel who had previously done the manual entry of mariner course completion data. This calculation must account for different wages of the personnel based on their GS step, and the percentage of the manual entry performed by the individuals. The total cost savings is $56,586 per year, or $565,860 over a 10-year period, as outlined in table 9.

Table 9—Annual Cost Savings of Electronic Submission to the Government
[2022 Dollars]
Time manually entering course completion data | Evaluators | Percentage of time by GS step manually entering course completion data (%) | Total hours | Wages | Total cost savings
A |  | B | A * B | C | A * B * C
1,079 hrs. | GS-07 | 41 | 442 | 46.48/hr. | 20,544
| GS-09 | 59 | 637 | 56.85/hr. | 36,041
Total |  |  | 1,079 |  | 56,586
Note: Figures may not sum due to rounding.

Net Cost to the Federal Government

The net cost of this final rule to the Federal Government is found by adding all three cost factors: the cost of verifying new Homeport accounts, the cost of manually matching submitted records to a mariner's profile in MMLD, and the cost savings that result from eliminating the need to manually enter mariner course completion data. These combined factors result in an overall cost savings for the Federal Government of $192,491 over 10 years, and a total of $142,393 over 10 years when discounted at 7 percent. The results are outlined in table 10.

Table 10—Total Cost to the Federal Government
[2022 Dollars]
Year | Verifying homeport accounts | Matching records | Cost savings from elimination of manual entry of course completion data | Total | 3% Discount | 7% Discount
| A | B | C | (A + B)−C |  |
1 | $2,773 | $22,468 | $56,586 | ($32,910) | ($31,951) | ($30,757)
2 | 2,293 | 18,427 | 56,586 | (34,301) | (32,332) | (29,960)
3 | 31 | 40,895 | 56,586 | (15,660) | (14,331) | (12,783)
4 | 31 | 40,895 | 56,586 | (15,660) | (13,914) | (11,947)
5 | 31 | 40,895 | 56,586 | (15,660) | (13,508) | (11,165)
6 | 31 | 40,895 | 56,586 | (15,660) | (13,115) | (10,435)
7 | 31 | 40,895 | 56,586 | (15,660) | (12,733) | (9,752)
8 | 31 | 40,895 | 56,586 | (15,660) | (12,362) | (9,114)
9 | 31 | 40,895 | 56,586 | (15,660) | (12,002) | (8,518)
10 | 31 | 40,895 | 56,586 | (15,660) | (11,653) | (7,961)
Total | 5,314 | 368,055 | 565,860 | (192,491) | (167,901) | (142,393)
Annualized |  |  |  |  | (19,683) | (20,273)
Note: Figures may not sum due to rounding.

Net Total Cost of the Final Rule

The net cost of the final rule is found by taking the cost to training providers and subtracting the cost savings to the Federal Government. Table 11 shows the net cost of the final rule combining the results from table 6 and table 10.

Table 11—Net Costs of the Final Rule:
[2022 Dollars]
Year | Cost to training providers | Cost to govt. | Total net cost | 3% discount | 7% discount
1 | $135,225 | ($32,910) | $102,315 | $99,335 | $95,621
2 | 134,697 | (34,301) | 100,396 | 94,633 | 87,690
3 | 132,212 | (15,660) | 116,552 | 106,662 | 95,141
4 | 132,212 | (15,660) | 116,552 | 103,555 | 88,917
5 | 132,212 | (15,660) | 116,552 | 100,539 | 83,100
6 | 132,212 | (15,660) | 116,552 | 97,610 | 77,664
7 | 132,212 | (15,660) | 116,552 | 94,767 | 72,583
8 | 132,212 | (15,660) | 116,552 | 92,007 | 67,834
9 | 132,212 | (15,660) | 116,552 | 89,327 | 63,397
10 | 132,212 | (15,660) | 116,552 | 86,726 | 59,249
Total | 1,327,618 | (192,491) | 1,135,127 | 965,161 | 791,196
Annualized |  |  |  | 113,146 | 112,648
Note: Figures may not sum due to rounding.

The estimated total cost of the final rule over a 10-year period is approximately $1.135 million. The annualized total cost of the final rule, when discounted at 3 and 7 percent, is $113,146 and $112,648, respectively.

Benefits

The benefit of the rule will be to improve efficiency and accuracy during the evaluation of MMC applications by streamlining the process for verifying mariner course completions and eliminating the need for manual entry of course information in MMLD. Currently, mariner course completion data can be verified by having Coast Guard personnel call the training provider to confirm that the mariner's reported course completion information matches the records of the provider, and then reconcile any discrepancies. Under this final rule, both the mariner and the training provider will submit their course completion data to the Coast Guard: the mariner submits course completion data with their application for an MMC, and the training provider submits course completion data through Homeport. NMC evaluators then verify that the data submitted by the mariner matches the data submitted by the training providers. If any discrepancies are found, an investigation may be initiated to determine the nature of the discrepancy and whether the mariner has met the requirements to be issued the credential.

Alternatives Considered

1. No action. We rejected this alternative because the Coast Guard has a responsibility to improve the credentialing process for training providers and mariners, and to minimize operating costs wherever possible. These responsibilities will be better served under this final rule than under the current process.

2. Coast Guard-provided serial numbers for training certificates. Under this alternative, the Coast Guard would provide training providers with a list of serial numbers to use on the course completion certificates they issue to students. We rejected this alternative because, to implement it, the Coast Guard would need to develop an electronic system to track certificate serial numbers. Prior attempts at adding new capabilities to the MMLD have been unsuccessful. Implementing this alternative would require additional human resources to develop and manage a secondary system to track certificate numbers and increase application evaluation times due to the need to access multiple databases to verify data. None of these requirements are feasible in the immediate near term.

B. Small Entities

Under the Regulatory Flexibility Act, 5 U.S.C. 601-612, we have considered whether this final rule will have significant economic impact on a substantial number of small entities. The term “small entities” comprises small businesses, not-for-profit organizations that are independently owned and operated and are not dominant in their fields, and governmental jurisdictions with populations of less than 50,000.

The impact of this final rule on each training provider varies by how many Coast Guard-approved courses a training provider offers in any given year, and how many student records a training provider submits to the Coast Guard. Larger training providers that offer many courses, and thus manage more student records, have a larger burden from the final rule, but they also have larger revenues. Conversely, smaller training providers that manage fewer student records have a smaller burden under this final rule but may have less revenue to mitigate the burden. To assess the potential burden on small entities, we took a random sample of the total population of Coast Guard-approved training providers and multiplied the cost per course by the number of courses each training provider offered in a year.

Of the 327 training providers impacted by this final rule, we took a random sample of 173 companies (training providers) to achieve a 95-percent confidence interval. We found 147 of the companies in the random sample that had known revenues or employee information. Of these, 100 had both measures, while 47 had only known employee information. The sample represented 59 different North American Industry Classification System codes, including schools, professional training centers, and specific trades reflecting the range of courses required to qualify for an MMC and associated endorsements.

Out of the sample of 173 companies (training providers), we found 166 small entities overall that could potentially be affected by this final rule.⁹ Among the sample of 173 companies, we found that 74 are small entities based on a revenue size standard, and 11 are small entities based on an employee size standard. There was insufficient information to determine the size of 81 companies, so we assumed that they are also small entities. Overall, we found 166 small entities that could potentially be affected by this final rule. Table 12 presents the number of small entities based on employee size standard, revenue size standard, or other information.

⁹ The definitions for small entities were based on the July 2022 SBA Small Business Size Standards, https://www.sba.gov/sites/default/files/2022-07/Table%20of%20Size%20Standards_Effective%20July%2014%202022_Final-508.pdf,(accessed Jan. 18th, 2024.)

Table 12—Number of Small Entities
Category | Number
Small entities by revenue standard | 74
Small entities by employee standard | 11
Entities assumed to be small with insufficient information | 81
Total small entities | 166
Number of entities in sample | 173

The annual impact of this final rule on each entity will be proportional to the number of courses offered. Here, we use the number of courses rather than the number of students, because the number of Coast Guard-approved courses is known, but the number of students per training provider is not. To estimate the impact, we multiply the number of Coast Guard-approved courses offered by the estimated time burden per course in hours, and then multiply by the loaded hourly wage rate of the submitters.

According to an SME at the NMC, we estimate training provider class sizes to be 20 students per course. We can estimate the per-course time burden by multiplying the class size by the time it takes to submit a student course completion record. Using the survey response range for the time to submit each student's course completion record of 0.0114 hours (0.68 minutes) on the lower end, and 0.0688 hours (4.13 minutes) on the higher end, we estimate an hourly range per course to be between 0.228 and 1.376 hours, for an average of .802 hours.

If a training provider offered two Coast Guard-approved courses, for example, their burden would be approximately $81.90 (2 courses × .802 hours × $51.06). For a rule to create an impact of more than 1 percent of revenues, an entity would need to have annual revenues less than or equal to $8,190 ((2 × .802 × 51.06) × 100).

The mode of courses offered by small entities is one: most small entities only offer one course. The mean of courses offered by small entities is 9.22.

Table 13—Number of Courses and Cost of Rule by Small Entities
Number of courses | Number of small entities | Percentage of small entities | Cost of rule
1 | 49 | 29% | $41
2 | 17 | 10 | 82
3 | 13 | 8 | 123
4 | 16 | 10 | 164
5 | 11 | 7 | 205
6 | 3 | 2 | 246
7 | 6 | 4 | 287
8 | 4 | 2 | 328
9 | 9 | 5 | 369
10 | 6 | 4 | 410
11 | 2 | 1 | 450
12 | 5 | 3 | 491
13 | 1 | 1 | 532
14 | 2 | 1 | 573
16 | 1 | 1 | 655
18 | 2 | 1 | 737
19 | 1 | 1 | 778
20 | 3 | 2 | 819
>20 * | 16 | 10 | 1,359
Note: Percentages may not sum to 100% due to rounding.
* Estimates for the “over 20 courses” category uses a mean of 32 courses, derived from a sample of ten small entities after removing six large outliers.

Table 14 shows the number of small entities with a greater than 1 percent impact on their annual revenues as the percentage of the total population of small entities that we found through our analysis. Of the 166 small entities for which we found revenue data from a survey provided to a random sample of mariner training providers, over the 10-year period of analysis, on the lower end, one small entity experienced an impact of greater than 1 percent of its total annual revenues, and on the higher end, five small entities experienced an impact of greater than 1 percent of its total annual revenues. Therefore, an average of three small entities are expected to experience an impact of greater than 1 percent of its total annual revenues, which is not a substantial number of small entities out of a total population of 327 training providers that offer at least 1 course.

Table 14—Estimated Initial and Annual Impact of the Final Rule on Small Entities
Category | Lower estimate | Higher estimate | Average estimate
Number of small entities where impact is greater than 1% of revenues | 1 | 5 | 3
Percentage of small entities where impact is greater than 1% of revenues | 0.60% | 3.01% | 1.8%

Table 15 shows the number of small entities affected by the final rule as a percentage of the small entities' total annual revenues.

Table 15—Estimated Initial and Annual Percentage Revenue Impact of the Final Rule on Small Entities
Category | Lower estimate | Higher estimate | Average estimate
Impact <1% of revenues | 91 | 87 | 89
Impact 1 to 2% of revenues | 0 | 2 | 1
Impact 2 to 3% of revenues | 1 | 1 | 1
Impact 3 to 4% of revenues | 0 | 1 | .5
Impact greater than 4% of revenues | 0 | 1 | .5
Total | 92 | 92 | 92

Hence, for small entities that will receive an impact on their revenues of 1 percent or more, we find that 1 percent of the small entities will be impacted using the lower estimate, 5 percent of small entities will be impacted using the higher estimate, and 3 percent of small entities will be impacted on average (low estimate: 1 ÷ 92 = .01, or 1%; high estimate: 5 ÷ 92 = .05, or 5%; average estimate: 3 ÷ 92 = .03, or 3%).

Therefore, the Coast Guard certifies under 5 U.S.C. 605(b) that this final rule will not have a significant economic impact on a substantial number of small entities.

C. Assistance for Small Entities

Under section 213(a) of the Small Business Regulatory Enforcement Fairness Act of 1996, Public Law 104-121, we offer to assist small entities in understanding this rule so that they can better evaluate its effects on them and participate in the rulemaking. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for a revision to a collection of information under the Paperwork Reduction Act of 1995, 44 U.S.C. 3501-3520. As defined in 5 CFR 1320.3(c), “collection of information” comprises reporting, recordkeeping, monitoring, posting, labeling, and other similar actions. The title and description of the information collections, a description of those who must collect the information, and an estimate of the total annual burden follow. The estimate covers the time for reviewing instructions, searching existing sources of data, gathering and maintaining the data needed, and completing and reviewing the collection.

The Paperwork Reduction Act of 1995 requires the Coast Guard to consider the impact of paperwork and other information collection burdens imposed on the public. According to the 1995 amendments to the Paperwork Reduction Act, an agency may not collect or sponsor the collection of information, nor may it impose an information collection requirement, unless it displays a currently valid OMB control number.

This action contains amendments to the existing information collection requirements previously approved under OMB Control Number 1625-0028. This information collection request (ICR) governs all the information collected for training provider approvals, including information required to evaluate and approve the initial course, review of these materials by the NMC, and ongoing recordkeeping requirements for each student taking a course. This final rule increases the hour burden of recordkeeping for each Coast Guard-approved course but does not increase the number of responses (number of Coast Guard-approved courses).

The hour burden of the ICR represents the total annual burden per Coast Guard-approved course, assuming that each Coast Guard-approved course is offered 12 times per year with 20 students in each class. The current hour burden is 40 hours for each Coast Guard-approved course, or 0.1667 hours for each student record. Since the regulatory analysis for this rule used a range for the estimated burden, we use the higher end of the range to provide a conservative estimate of the increase in recordkeeping burden. This rule increases the hour burden per student record by 0.0688, from 0.1667 to 0.2355 hours. This creates a total increase of about 16.51 hours per course, from 40.01 hours per course (0.1667 × 20 students × 12 courses) to about 56.52 hours for each course (0.2355 × 20 students × 12 courses).

The title and description of the information collection, a description of those who must collect the information, and an estimate of the total annual burden, follow. The estimates cover the time for reviewing instructions, searching existing sources of data, gathering and maintaining the data needed, and completing and reviewing the collection. The current OMB-approved number of responses is 2,757.

Title: Course Approval and Records for Merchant Mariner Training Schools.

OMB Control Number: 1625-0028.

Summary of the Collection of Information: This ICR governs all of the information collected for training providers, including approvals (information required to evaluate and approve the course and any information regarding the STCW Quality Standard System (QSS) manual) and ongoing recordkeeping requirements.

Need for Information: Title 46 of the CFR, section 10.402, specifies the information that must be submitted for the Coast Guard to evaluate and approve each course. The Coast Guard is obligated under the STCW Convention to validate the training completed by mariners and to ensure that the approved training is monitored under a QSS.

Proposed Use of Information: Personnel from NMC review the submitted information to ensure training courses and programs meet minimum standards for Coast Guard approval. The recordkeeping requirements help the Coast Guard monitor the performance of schools with Coast Guard-approved courses.

Description of the Respondents: Training providers approved to provide maritime courses or programs.

Number of Respondents: The OMB-approved number of respondents for this collection of information remains at 326.

Frequency of Response: Training providers submit student records every year based on the courses offered and the number of students completing those courses.

Burden of Response: The total burden per response is 56.52 hours per course, which will increase from the previously approved number of 40.01 hours per course.

Estimate of Annual Hour Burden: The final rule increases the estimated annual burden by 51,429 hours (16.51 hours per course multiplied by 3,115 total courses). This will increase the burden from 146,109 hours to 197,538 hours.

As required by 44 U.S.C. 3507(d), we will submit a copy of this final rule to OMB for its review of the collection of information.

You are not required to respond to a collection of information unless it displays a currently valid control number from OMB. OMB has not yet completed its review of this collection. Before the Coast Guard may enforce new collection of information requirements introduced by this rule, OMB will need to approve the Coast Guard's request to collect this information. We will publish a Federal Register notice once OMB takes action on our request.

E. Federalism

A rule has implications for federalism under Executive Order 13132 (Federalism) if it has a substantial direct effect on States, on the relationship between the National Government and the States, or on the distribution of power and responsibilities among the various levels of Government. We have analyzed this final rule under Executive Order 13132 and have determined that it is consistent with the fundamental federalism principles and preemption requirements described in Executive Order 13132. Our analysis follows.

It is well settled that States may not regulate in categories reserved for regulation by the Coast Guard. It is also well settled that all of the categories covered in 46 U.S.C. 7101 and 7301 (personnel qualifications of officers and ratings serving on board merchant vessels) and any other category in which Congress intended the Coast Guard to be the sole source of a vessel's obligations, are within the field foreclosed from regulation by the States. See the Supreme Court's decision in United States v. Locke, 529 U.S. 89, 120 S.Ct. 1135 (2000), which found that the States are foreclosed from regulating tanker vessels. See also Ray v. Atlantic Richfield Co., 435 U.S. 151, 157, 98 S.Ct., 988 (1978), which found that State regulation is preempted where “the scheme of federal regulation may be so pervasive as to make reasonable the inference that Congress left no room for the States to supplement it [or where] the Act of Congress may touch a field in which the federal interest is so dominant that the federal system will be assumed to preclude enforcement of state laws on the same subject.” (Citations omitted). Because this final rule involves the credentialing of merchant mariner officers and ratings under 46 U.S.C. 7101 and 7301 respectively, it relates to personnel qualifications for vessels subject to a pervasive scheme of Federal regulation and is therefore foreclosed from regulation by the States. Because the States may not regulate within these categories, this final rule is consistent with the fundamental federalism principles and preemption requirements in Executive Order 13132.

While it is well settled that States may not regulate in categories in which Congress intended the Coast Guard to be the sole source of a vessel's obligations, the Coast Guard recognizes the key role that State and local governments may have in making regulatory determinations. Additionally, for rules with federalism implications and preemptive effect, Executive Order 13132 specifically directs agencies to consult with State and local governments during the rulemaking process. If you believe this rule will have implications for federalism under Executive Order 13132, please call or email the person listed in the FOR FURTHER INFORMATION CONTACT section of this preamble.

F. Unfunded Mandates

The Unfunded Mandates Reform Act of 1995, 2 U.S.C. 1531-1538, requires Federal agencies to assess the effects of their discretionary regulatory actions. In particular, the Act addresses actions that may result in the expenditure by a State, local, or Tribal Government, in the aggregate, or by the private sector of $100,000,000 (adjusted for inflation) or more in any one year. Although this rule will not result in such expenditure, we do discuss the effects of this rule elsewhere in this preamble.

G. Taking of Private Property

This rule will not cause a taking of private property or otherwise have taking implications under Executive Order 12630 (Governmental Actions and Interference with Constitutionally Protected Property Rights).

H. Civil Justice Reform

This rule meets applicable standards in sections 3(a) and 3(b)(2) of Executive Order 12988 (Civil Justice Reform) to minimize litigation, eliminate ambiguity, and reduce burden.

I. Protection of Children

We have analyzed this rule under Executive Order 13045 (Protection of Children from Environmental Health Risks and Safety Risks). This rule is not an economically significant rule and will not create an environmental risk to health or risk to safety that might disproportionately affect children.

J. Indian Tribal Governments

This rule does not have Tribal implications under Executive Order 13175 (Consultation and Coordination with Indian Tribal Governments), because it will not have a substantial direct effect on one or more Indian Tribes, on the relationship between the Federal Government and Indian Tribes, or on the distribution of power and responsibilities between the Federal Government and Indian Tribes.

K. Energy Effects

We have analyzed this rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (That is, specifications of materials, performance, design, or operation; test methods; sampling procedures; and related management systems practices) that are developed or adopted by voluntary consensus standards bodies.

This rule does not use technical standards. Therefore, we did not consider the use of voluntary consensus standards.

M. Environment

We have analyzed this final rule under DHS Management Directive 023-01, Rev. 1, associated implementing instructions, and Environmental Planning COMDTINST 5090.1 (series), which guide the Coast Guard in complying with the National Environmental Policy Act of 1969 (42 U.S.C. 4321 et seq.), and have made a determination that this action is one of a category of actions that do not individually or cumulatively have a significant effect on the human environment. A Record of Environmental Consideration supporting this determination is available in the docket. For instructions on locating the docket, see the ADDRESSES section of this preamble. This final rule will be categorically excluded under paragraphs L54 and L56 of Appendix A, table 1 of DHS Instruction Manual 023-01-001-01, Rev. 1. Paragraph L54 pertains to regulations that are editorial or procedural. Paragraph L56 pertains to regulations concerning training, qualifying, licensing, and disciplining maritime personnel.

This final rule involves establishing a new procedure for issuing MMCs to mariners who have met the regulatory requirements for the individual endorsements as described in 46 CFR parts 11 and 12. Under this new procedure, Coast Guard-approved training providers will be required to electronically submit student course completion data to the Coast Guard within 5 business days of a course ending. The NMC will use this information to validate mariner course completion certificates submitted as part of an application for an MMC.

List of Subjects

46 CFR Part 10

Incorporation by reference, Penalties, Personally identifiable information, Reporting and recordkeeping requirements, Seafarers.

46 CFR Part 11

Incorporation by reference, Penalties, Reporting and recordkeeping requirements, Schools, Seafarers.

46 CFR Part 12

Incorporation by reference, Penalties, Reporting and recordkeeping requirements, Schools, Seafarers.

46 CFR Part 13

Incorporation by reference, Cargo vessels, Reporting and recordkeeping requirements, Seafarers.

46 CFR Part 15

Incorporation by reference, Reporting and recordkeeping requirements, Seafarers, Vessels.

46 CFR Part 16

Drug testing, Marine safety, Reporting and recordkeeping requirements, Safety, Transportation.

46 CFR Part 30

Cargo vessels, Foreign relations, Hazardous materials transportation, Penalties, Reporting and recordkeeping requirements, Seafarers.

46 CFR Part 35

Cargo vessels, Incorporation by reference, Marine safety, Navigation (water), Occupational safety and health, Reporting and recordkeeping requirements, Seafarers.

46 CFR Part 39

Cargo vessels, Fire prevention, Hazardous materials transportation, Marine safety, Occupational safety and health, Reporting and recordkeeping requirements.

For the reasons discussed in the preamble, the Coast Guard amends 46 CFR parts 10, 11, 12, 13, 15, 16, 30, 35, and 39 as follows:

PART 10—MERCHANT MARINER CREDENTIAL

1. The authority citation for part 10 is revised to read as follows:

Authority: 14 U.S.C. 503; 31 U.S.C. 9701; 46 U.S.C. 2101, 2103, 2104, 2110; 46 U.S.C. chapter 71; 46 U.S.C. chapter 73; 46 U.S.C. chapter 75; 46 U.S.C. 7701, 8903, 8904, and 70105; Executive Order 10173; DHS Delegation No. 00170.1, Revision No. 01.4.

PART 10—[Amended]

2. In part 10, remove the term in the left column wherever it appears and add in its place the term in the right column::

Remove | Add
Certificate of registry | Certificate of Registry.
certificate of registry | Certificate of Registry.
merchant mariner credential | Merchant Mariner Credential.
merchant mariner credentials | Merchant Mariner Credentials.
Merchant mariner's document | Merchant Mariner's Document.
merchant mariner's document | Merchant Mariner's Document.

3. Amend § 10.101 by revising paragraph (b) to read as follows:

§ 10.101 Purpose.

* * * * *

(b) A means of determining that an applicant is competent to serve under the authority of their Merchant Mariner Credential (MMC);

* * * * *

4. Amend § 10.103 by revising paragraph (a) and the introductory text of paragraph (b) to read as follows:

§ 10.103 Incorporation by reference.

(a) Certain material is incorporated by reference into this part with the approval of the Director of the Federal Register under 5 U.S.C. 552(a) and 1 CFR part 51. All approved incorporation by reference material (IBR) is available for inspection at the Coast Guard and the National Archives and Records Administration (NARA). Contact Coast Guard at: Office of Merchant Mariner Credentialing (CG-MMC), U.S. Coast Guard, Stop 7509, 2703 Martin Luther King Jr. Avenue SE, Washington, DC 20593-7509; phone: 202-372-1492; website: https://www.dco.uscg.mil/nmc/merchant_mariner_credential/. For information on the availability of this material at NARA, visit www.archives.gov/federal-register/cfr/ibr-locations or email fr.inspection@nara.gov. The material may be obtained from:

(b) International Maritime Organization (IMO), 4 Albert Embankment, London SE1 7SR, England; phone +44 (0)20 7735 7611; website: www.imo.org.

* * * * *

5. Amend § 10.107 by revising paragraph (b) to read as follows:

§ 10.107 Definitions in subchapter B.

* * * * *

(b) As used in this subchapter, the following terms apply only to merchant marine personnel credentialing and the manning of vessels subject to the manning provisions in the navigation and shipping laws of the United States:

Able Seafarer-Deck means a rating qualified in accordance with the provisions of Regulation II/5 of the STCW Convention.

Able Seafarer-Engine means a rating qualified in accordance with the provisions of Regulation III/5 of the STCW Convention.

Apprentice Mate of Towing Vessels means a credentialed mariner in training to perform bridge watchkeeping duties onboard a towing vessel, who must be under the direct supervision and in the continuous presence of a Master or Mate (Pilot) of Towing Vessels.

Approved means approved by the Coast Guard.

Approved training means training that is approved by the Coast Guard or meets the requirements of § 10.408.

Articulated tug barge or ATB means any tug-barge combination which, through the use of an articulated or “hinged” connection system between the tug and barge, allows independent movement in the critical area of fore and aft pitch.

Assistance towing means towing a disabled vessel for consideration.

Assistant Engineer, for national endorsements, means a qualified officer in the engine department other than the Chief Engineer.

Authorized official includes, but is not limited to, a Federal, State or local law enforcement officer.

Ballast Control Operator or BCO means an officer restricted to service on mobile offshore drilling units (MODUs) whose duties involve the operation of the complex ballast system found on many MODUs. When assigned to a MODU, a Ballast Control Operator is equivalent to a Mate on a conventional vessel.

Barge means a non-self-propelled vessel as defined in 46 U.S.C. 102.

Barge Supervisor or BS means an officer restricted to service on MODUs whose duties involve support to the Offshore Installation Manager (OIM) in marine-related matters including, but not limited to, maintaining watertight integrity, inspecting and maintaining mooring and towing components, and maintaining emergency and other marine-related equipment. A Barge Supervisor, when assigned to a MODU, is equivalent to a Mate on a conventional vessel.

Boatswain means the leading seafarer and immediate supervisor of deck crew who supervises the maintenance of deck gear.

Boundary line marks the dividing point between internal and offshore waters for the purposes of several U.S. statutes and, with exceptions, generally follows the trend of the seaward, highwater shorelines. See part 7 of this chapter.

Cargo engineer means a person holding an officer endorsement on a dangerous-liquid tankship or a liquefied-gas tankship whose primary responsibility is maintaining the cargo system and cargo-handling equipment.

Ceremonial license means a document that reflects a mariner's existing national officer endorsement and is suitable for framing, but is not valid for use as a Merchant Mariner Credential (MMC).

Chemical tanker means a tank vessel that is certificated to carry or carries chemicals in bulk as cargo or cargo residue. For the purposes of qualifying for an STCW endorsement for advanced chemical tanker cargo operations, this includes tank barges.

Chief Engineer means the senior engineer responsible for the mechanical propulsion and the operation and maintenance of the mechanical and electrical installations of the vessel.

Chief Mate means the deck officer next in rank to the Master and upon whom the command of the vessel will fall in the event of incapacity of the Master.

Coast Guard-accepted means—

(1) That the Coast Guard has officially acknowledged in writing that the material or process at issue meets the applicable requirements;

(2) That the Coast Guard has issued an official policy statement listing or describing the material or process as meeting the applicable requirements; or

(3) That an entity acting on behalf of the Coast Guard under a Memorandum of Agreement has determined that the material or process meets the applicable requirements.

Coast Guard-accepted QSS organization means an entity that has been approved by the Coast Guard to accept and monitor training on behalf of the Coast Guard.

Coastwise seagoing vessel means a vessel that is authorized by its Certificate of Inspection to proceed beyond the Boundary Line established in part 7 of this chapter.

Coastwise voyage is a domestic voyage and means a voyage in which a vessel proceeds—

(1) From one port or place in the United States to another port or place in the United States;

(2) From a port or place in a United States possession to another port or place in the same possession, and passes outside the line dividing inland waters from the high seas; or

(3) From a port or place in the United States or its possessions and passes outside the line dividing inland waters from the high seas and navigates on the high seas, and then returns to the same port or place.

Communicable disease means any disease capable of being transmitted from one person to another directly, by contact with excreta or other discharges from the body; or indirectly, via substances or inanimate objects contaminated with excreta or other discharges from an infected person. Pursuant to 42 U.S.C. 12113, the Department of Health and Human Services periodically publishes in the Federal Register a list of infectious and communicable diseases that are transmissible through the food supply, and that list provides examples of communicable diseases for purposes of § 10.304.

Conviction means that the applicant for a Merchant Mariner Credential has been found guilty, by judgment or plea by a court of record of the United States, the District of Columbia, any State, territory, or possession of the United States, a foreign country, or any military court, of a criminal felony or misdemeanor or of an offense described in section 205 of the National Driver Register Act of 1982, as amended (49 U.S.C. 30304). If an applicant pleads guilty or no contest, is granted deferred adjudication, or is required by the court to attend classes, make contributions of time or money, receive treatment, submit to any manner of probation or supervision, or forgo appeal of a trial court's conviction, then the Coast Guard will consider the applicant to have received a conviction. A later expungement of the conviction will not negate a conviction unless the Coast Guard is satisfied that the expungement is based upon a showing that the court's earlier conviction was in error.

Credential means any or all of the following:

(1) Merchant Mariner's Document (MMD).

(2) Merchant Mariner's License.

(3) STCW endorsement.

(4) Certificate of Registry (COR).

(5) Merchant Mariner Credential (MMC).

Criminal record review means the process or action taken by the Coast Guard to determine whether an applicant for, or holder of, a credential is a safe and suitable person to be issued such a credential or to be employed on a vessel under the authority of such a credential.

Dangerous drug means a narcotic drug, a controlled substance, or a controlled-substance analogue (as defined in section 102 of the Comprehensive Drug Abuse and Control Act of 1970 (21 U.S.C. 802)).

Dangerous liquid or DL means a liquid listed in 46 CFR 153.40 of this chapter that is not a liquefied gas as defined in this part. Liquid cargoes in bulk listed in table 2 to part 153 of this chapter are not dangerous-liquid cargoes when carried by non-oceangoing barges.

Day means, for the purpose of complying with the service requirements of this subchapter, 8 hours of watchstanding or day-working not to include overtime. On vessels authorized by 46 U.S.C. 8104 and § 15.705 of this subchapter, to operate a two-watch system, a 12-hour working day may be creditable as 1½ days of service. On vessels of less than 100 GRT, a day is considered as 8 hours unless the Coast Guard determines that the vessel's operating schedule makes this criteria inappropriate; in no case will this period be less than 4 hours. When computing service on MODUs for any endorsement, a day of MODU service must be a minimum of 4 hours, and no additional credit is received for periods served over 8 hours. For cadet service on a training ship furnished by the Maritime Administration under 46 CFR 310.4, a day may be creditable as 1½ days of service.

Deck crew (excluding individuals serving under their officer endorsement) means, as used in 46 U.S.C. 8702, only the following members of the deck department: Able Seafarers, Boatswains, and Ordinary Seafarers.

Deck department means the department aboard a ship responsible for navigation, cargo, command, and control functions.

Designated areas means those areas within pilotage waters for which First-Class Pilot endorsements are issued under part 11, subpart G, of this chapter, by the Officer in Charge, Marine Inspection (OCMI). The areas for which First-Class Pilot endorsements are issued within a particular Marine Inspection Zone and the specific requirements to obtain them may be obtained from the OCMI concerned.

Designated Duty Engineer or DDE means a qualified engineer, who may be the sole engineer on vessels with a periodically unmanned engine room.

Designated Examiner or DE means a person who has been trained or instructed in techniques of training or assessment on towing vessels and is otherwise qualified to evaluate whether an applicant has achieved the level of proficiency required to hold a towing vessel endorsement on an MMC. This person must be approved by the Coast Guard.

Designated Medical Examiner means a licensed physician, licensed physician's assistant, or licensed nurse practitioner who has been trained and approved to conduct medical and physical examinations of merchant mariners on behalf of the U.S. Coast Guard and may be delegated limited authority to grant waivers and approve physical/medical suitability for service.

Directly supervised/direct supervision (only when referring to issues related to tank vessel endorsements) means being in the direct line of sight of the person-in-charge or maintaining direct, two-way communications by a convenient, reliable means, such as a predetermined working frequency over a handheld radio.

Disabled vessel means a vessel that needs assistance, whether docked, moored, anchored, aground, adrift, or underway. This does not mean a barge or any other vessel not regularly operated under its own power.

Document of Continuity means a document issued by the Coast Guard to seafarers who are unwilling or otherwise unable to meet the requirements of § 10.227, for the sole purpose of maintaining an individual's eligibility for renewal of an endorsement.

Domestic voyage means a voyage from one United States port to another United States port, without entering waters under the jurisdiction of another country unless the United States has entered into a treaty or an agreement with that country respecting mutual recognition of national mariner qualifications. This includes a voyage to nowhere that returns to the originating port.

Drug test means a chemical test of an individual's urine for evidence of dangerous drug use.

Dual-mode integrated tug barge means an integrated tug barge (ITB) involving an articulated (flexible) coupling system where the towing unit rolls and heaves (articulates) about a horizontal pivot point. Dual mode units resemble a conventional tug and are capable of towing in other configurations (astern or alongside).

Electro-technical Officer or ETO means an officer qualified in accordance with the provisions of Regulation III/6 of the STCW Convention.

Electro-technical Rating or ETR means a rating qualified in accordance with the provisions of Regulation III/7 of the STCW Convention.

Employment assigned to means the total period of time a person is assigned to work on MODUs, including time spent ashore as part of normal crew rotation.

Endorsement is a statement of a mariner's qualifications and, for the purposes of this chapter, includes only those endorsements listed in § 10.109.

Engine department means the department aboard a ship responsible for the main propulsion and auxiliary systems, and other mechanical, electrical, hydraulic, and refrigeration systems, including deck machinery and cargo-handling equipment.

Entry-level mariner means a mariner holding no rating other than Ordinary Seafarer, Wiper, Steward's Department, or Steward's Department Food Handler (F.H.).

Evaluation means processing an application, from the point of receipt to approval or denial of the application, including review of all documents and records submitted with an application as well as those obtained from public records and databases.

Fails a chemical test for dangerous drugs means that the result of a chemical test conducted under 49 CFR part 40 was reported as “positive” by a Medical Review Officer because the chemical test indicated the presence of a dangerous drug at a level equal to or exceeding the levels established in 49 CFR part 40.

First Assistant Engineer means the engineer officer next in rank to the Chief Engineer and upon whom the responsibility for the mechanical propulsion and the operation and maintenance of the mechanical and electrical installations of the vessel will fall in the event of the incapacity of the Chief Engineer.

Great Lakes, for the purpose of calculating service requirements for an endorsement, means the Great Lakes and their connecting and tributary waters, including the Calumet River as far as the Thomas J. O'Brien Lock and Controlling Works (between miles 326 and 327), the Chicago River as far as the east side of the Ashland Avenue Bridge (between miles 321 and 322), and the Saint Lawrence River as far east as the lower exit of Saint Lambert Lock. For purposes of requiring MMCs with rating endorsements, the connecting and tributary waters are not part of the Great Lakes.

Gross register tons or GRT means the gross ton measurement of the vessel under 46 U.S.C. chapter 145, Regulatory Measurement.

Gross tonnage or GT means the gross tonnage measurement of the vessel under 46 U.S.C. chapter 143, Convention Measurement.

Harbor assist means the use of a towing vessel during maneuvers to dock, undock, moor, or unmoor a vessel, or to escort a vessel with limited maneuverability.

High-Speed Craft Type Rating (HSC) means an endorsement for specific duty on a particular type and model of high-speed craft (compliant with the High-Speed Craft Code).

Horsepower or HP means, for the purpose of this subchapter, the total maximum continuous shaft horsepower of the entire vessel's main propulsion machinery as determined by the manufacturer. This term is used when describing a vessel's propulsion power and also when placing limitations on an engineer officer license or endorsement. One horsepower equals 0.75 kW.

ILO means the International Labour Organization.

IMO means the International Maritime Organization.

Increase in scope means additional authority added to an existing credential, such as adding a new route or increasing the authorized horsepower or tonnage.

Inland waters means the navigable waters of the United States shoreward of the Boundary Lines as described in part 7 of this chapter, excluding the Great Lakes, and, for towing vessels, excluding the Western Rivers.

Integrated tug barge or ITB means any tug barge combination which, through the use of special design features or a specially designed connection system, has increased seakeeping capabilities relative to a tug and barge in the conventional pushing mode. An ITB can be divided into either a dual-mode ITB or a push-mode ITB. The definitions for those categories can be found elsewhere in this section.

Invalid credential means an MMC, MMD, License, STCW endorsement, or Certificate of Registry that has been suspended or revoked, has expired, has been tampered with, has not been signed, or has been superseded in accordance with § 10.205.

ISM means the International Safety Management Code.

Kilowatt or kW means 1⅓ horsepower. This term is used when describing a vessel's propulsion power and also when placing limitations on an engineer officer license or endorsement.

Large passenger vessel, for the purposes of subpart H of part 12, and part 15 (both of this subchapter), means a vessel of more than 70,000 gross tons, as measured under 46 U.S.C. 14302 and documented under the laws of the United States, with capacity for at least 2,000 passengers and a coastwise endorsement under 46 U.S.C. chapter 121.

Lifeboat Operator means a mariner who is qualified to take charge of, lower, and operate survival craft and related survival equipment on a vessel.

Lifeboat Operator-Limited means a mariner who is qualified to take charge of, lower, and operate liferafts, rescue boats, and other survival equipment on vessels where lifeboats are not installed.

Liquefied gas or LG means a cargo that has a vapor pressure of 172 kPa (25 psia) or more at 37.8 °C (100 °F).

Liquefied gas tanker means a tank vessel that is certificated to carry or carries liquefied gases in bulk as cargo or cargo residue. For the purposes of qualifying for an STCW endorsement for advanced liquefied gas tanker cargo operations, this includes tank barges.

Liquid cargo in bulk means a liquid or liquefied gas listed in § 153.40 of this chapter and carried as a liquid cargo or liquid-cargo residue in integral, fixed, or portable tanks, except a liquid cargo carried in a portable tank actually loaded and discharged from a vessel with the contents intact.

Management level means the level of responsibility associated with—

(1) Serving as Master, Chief Mate, Chief Engineer Officer, or Second Engineer Officer onboard a seagoing ship; and

(2) Ensuring that all functions within the designated area of responsibility are properly performed.

Marine chemist means a person certificated by the National Fire Protection Association as a marine chemist.

Master means the officer having command of a vessel.

Mate means a qualified officer in the deck department other than the Master.

Medical Certificate means a certificate issued by the Coast Guard under subpart C of this part 10, that serves as proof that the seafarer meets the medical and physical standards for merchant mariners.

Merchant Mariner Credential or MMC means a credential issued by the Coast Guard under this part 10. It combines the individual Merchant Mariner's Document, License, and Certificate of Registry enumerated in 46 U.S.C. subtitle II part E as well as the STCW endorsement into a single credential that serves as the mariner's qualification document, certificate of identification, and certificate of service.

MMC application means the application for the MMC, as well as the application for any endorsement on an MMC.

Mobile offshore drilling unit or MODU means a vessel capable of engaging in drilling operations for the exploration for or exploitation of subsea resources. MODU designs include the following:

(1) Bottom bearing units, which include—

(i) Self-elevating (or jack-up) units with moveable, bottom bearing legs capable of raising the hull above the surface of the sea; and

(ii) Submersible units of ship-shape, barge-type, or novel hull design, other than a self-elevating unit, intended for operating while bottom bearing.

(2) Surface units with a ship-shape or barge-type displacement hull of single or multiple hull construction intended for operating in a floating condition, including semi-submersibles and drill ships.

Month means 30 days, for the purpose of complying with the service requirements of this subchapter.

National Driver Register or NDR means the nationwide repository of information on drivers maintained by the National Highway Traffic Safety Administration under 49 U.S.C. chapter 303.

National officer endorsement means an annotation on an MMC that allows a mariner to serve in the capacities listed in § 10.109(a). The officer endorsement serves as the License and/or Certificate of Registry pursuant to 46 U.S.C. subtitle II part E.

National rating endorsement means an annotation on an MMC that allows a mariner to serve in those capacities set out in § 10.109(b) and (c). The rating endorsement serves as the Merchant Mariner's Document pursuant to 46 U.S.C. subtitle II part E.

NDR-listed convictions means a conviction of any of the following motor vehicle-related offenses or comparable offenses:

(1) Operating a motor vehicle while under the influence of, or impaired by, alcohol or a controlled substance; or

(2) A traffic violation arising in connection with a fatal traffic accident, reckless driving, or racing on the highways.

Near-coastal means ocean waters not more than 200 miles offshore from the United States and its possessions, except for MMCs endorsed as Operator of Uninspected Passenger Vessel (OUPV) for which near-coastal is limited to waters not more than 100 miles offshore from the United States and its possessions. This also includes those near-coastal waters identified by another Administration when the United States has entered into a treaty or an agreement with that country respecting the recognition of the U.S. near-coastal endorsement.

Non-resident alien, for the purposes of subchapter H of part 12, and part 15, means an individual who is not a citizen or alien lawfully admitted to the United States for permanent residence, but who is employable in the United States under the Immigration and Nationality Act (8 U.S.C. 1101 et seq.), including an alien crewmember described in section 101(a)(15)(D)(i) of that Act who meets the requirements of 46 U.S.C. 8103(k)(3)(A).

Oceans means the waters seaward of the Boundary Lines as described in part 7 of this chapter. For the purposes of establishing sea service credit, the waters of the Inside Passage between Puget Sound and Cape Spencer, Alaska, and the inland waters of another country are not considered oceans.

Officer endorsement means an annotation on an MMC that allows a mariner to serve in the capacities listed in § 10.109.

Officer in Charge, Marine Inspection, or OCMI means, for the purposes of this subchapter, the commanding officer of the National Maritime Center, or any person designated as such by the Commandant, in accordance with § 1.01-5(b).

Officer in Charge of an Engineering Watch in a manned engineroom (OICEW) or Designated Duty Engineer (DDE) in a periodically unmanned engineroom means an engineering officer qualified at the operational level.

Officer in Charge of a Navigational Watch (OICNW) means a deck officer qualified at the operational level.

Offshore Installation Manager or OIM means an officer restricted to service on MODUs. An assigned Offshore Installation Manager is equivalent to a Master on a conventional vessel and is the person designated by the owner or operator to be in complete and ultimate command of the unit.

Oil tanker means a tank vessel that is certificated to carry or carries oil in bulk as cargo or cargo residue. For the purposes of qualifying for an STCW endorsement for Advanced Oil Tanker Cargo Operations, this includes tank barges.

On location means that a mobile offshore drilling unit is bottom bearing or moored with anchors placed in the drilling configuration.

Operate, operating, or operation (as applied to the manning requirements of vessels carrying passengers) refers to a vessel any time passengers are embarked whether the vessel is underway, at anchor, made fast to shore, or aground.

Operational level means the level of responsibility associated with—

(1) Serving as Officer in Charge of a Navigational or Engineering Watch, or as Designated Duty Engineer for periodically unmanned machinery spaces, or as Radio Operator onboard a seagoing ship; and

(2) Maintaining direct control over the performance of all functions within the designated area of responsibility in accordance with proper procedures and under the direction of an individual serving in the management level for that area of responsibility.

Orally assisted examination means an examination as described in part 11, subpart I, of this subchapter administered orally and documented by a Coast Guard examiner.

Overriding operational condition means circumstances in which essential shipboard work cannot be delayed due to safety or environmental reasons, or could not have reasonably been anticipated at the commencement of the voyage.

Participation, when used with regard to the service on transfers required for tank vessel endorsements by §§ 13.120, 13.203, or 13.303 of this subchapter, means either actual participation in the transfers or close observation of how the transfers are conducted and supervised.

Passes a chemical test for dangerous drugs means that the result of a chemical test conducted according to 49 CFR part 40 is reported as “negative” by a Medical Review Officer according to that part.

Periodically unattended engine room means a space containing main propulsion and associated machinery and all sources of main electrical supply which is not at all times manned under all operating conditions, including maneuvering.

PIC means a Person in Charge.

Pilot of Towing Vessels means a qualified officer of a towing vessel operated only on inland routes.

Pilotage waters means the navigable waters of the United States, including all inland waters and offshore waters to a distance of 3 nautical miles from the baseline from which the Territorial Sea is measured.

Practical demonstration means the performance of an activity under the direct observation of a Designated Examiner or Qualified Assessor for the purpose of establishing that the performer is sufficiently proficient in a practical skill to meet a specified standard of competence or other objective criterion.

Propulsion power means the total maximum continuous-rated output power of the main propulsion machinery of a vessel determined by the manufacturer, in either kilowatts or horsepower, which appears on the ship's Certificate of Registry or other official document and excludes thrusters and other auxiliary machinery.

Public vessel means a vessel that—

(1) Is owned, or demise chartered, and operated by the United States Government or a government of a foreign country; and

(2) Is not engaged in commercial service.

Push-mode ITBs means those ITBs that involve a rigid coupling system and, when not coupled to the barge, are incapable of conducting towing in any other configuration (such as astern or alongside) because, by themselves, they have very limited seakeeping capability. The propelling unit moves as one with the barge unit.

Qualified Assessor or QA means a person who is qualified to evaluate, for STCW endorsements, whether an applicant has demonstrated the necessary level of competence in the task for which the assessment is being made. This person must be individually approved by the Coast Guard.

Qualified Instructor means a person who has been trained in instructional techniques and is otherwise qualified to provide required training to candidates for an MMC endorsement. A faculty member employed at a State maritime academy or the U.S. Merchant Marine Academy operated under 46 CFR part 310 and instructing a course on merchant marine officer or rating knowledge, understanding, or proficiency requirements is qualified to serve as a Qualified Instructor in their area of specialization without individual evaluation by the Coast Guard.

Qualified rating means various categories of Able Seafarer, Qualified Member of the Engine Department, or tank vessel endorsements issued on MMCs.

Quality Standard System or QSS means a set of policies, procedures, processes, and data required to establish and fulfill the organization's objectives.

Raise of grade means an increase in the level of authority and responsibility associated with an officer or rating endorsement, such as from Mate to Master or Second Assistant Engineer to First Assistant Engineer.

Rating endorsement is an annotation on an MMC that allows a mariner to serve in those capacities set out in § 10.109.

Regional examination center or REC means a field office of the National Maritime Center that receives and screens credential applications, conducts approved course oversight, and administers Coast Guard examinations as required by this subchapter.

Rest means a period of time during which the person concerned is off duty, is not performing work (which includes administrative tasks such as chart correction or preparation of port-entry documents), and is allowed to sleep without interruption.

Restricted tank vessel endorsement means a valid tank vessel endorsement on an MMC restricting its holder as the Coast Guard deems appropriate. For instance, the endorsement may restrict the holder to one or a combination of the following: A specific cargo or cargoes; a specific vessel or vessels; a specific facility or facilities; a specific employer or employers; a specific activity or activities (such as loading or unloading in a cargo transfer); or a particular area of water.

Rivers means a river, canal, or other similar body of water designated as such by the Coast Guard.

Safe and suitable person means a person whose prior record, including but not limited to criminal record and/or NDR record, provides no information indicating that their character and habits of life would support the belief that permitting such a person to serve under the MMC and/or endorsement sought would clearly be a threat to the safety and security of life or property, detrimental to good discipline, or adverse to the interests of the United States. See §§ 10.211 and 10.213 for the regulations associated with this definition.

Seagoing service means service onboard a ship/vessel relevant to the issue of a credential or other qualification.

Seagoing vessel means a ship that operates beyond the boundary line specified in part 7 of this chapter.

Second Engineer Officer means an engineer officer next in rank to the Chief Engineer Officer and upon whom the responsibility for the mechanical propulsion and the operation and maintenance of the mechanical and electrical installations of the ship will fall in the event of the incapacity of the Chief Engineer Officer.

Self-propelled has the same meaning as the terms “propelled by machinery” and “mechanically propelled.” This term includes vessels fitted with both sails and mechanical propulsion.

Senior company official means the president, vice president, vice president for personnel, personnel director, or similarly titled or responsible individual, or another employee designated in writing by one of these individuals for the purpose of certifying employment.

Service (as used when computing the required service for endorsements) means the time period, in days, a person is assigned to work. On MODUs, this excludes time spent ashore as part of crew rotation.

Ship means a vessel using any mode of propulsion, including sail and auxiliary sail.

Simulated transfer means a transfer practiced in a course meeting the requirements of § 13.121 of this subchapter that uses simulation to meet part of the service on transfers required for tank vessel endorsements by §§ 13.203 or 13.303 of this subchapter.

Staff officer means a person who holds an MMC with an officer endorsement listed in § 10.109(a)(36) through (43).

Standard of competence means the level of proficiency to be achieved for the proper performance of duties onboard vessels according to national and international criteria.

Steward's department means the department that includes entertainment personnel and all service personnel, including wait staff, housekeeping staff, and galley workers, as defined in the vessel security plan approved by the Secretary under 46 U.S.C. 70103(c). These personnel may also be referred to as members of the hotel department on a large passenger vessel.

STCW means the International Convention on Standards of Training, Certification and Watchkeeping for Seafarers, 1978, as amended (incorporated by reference, see § 10.103).

STCW Code means the Seafarers' Training, Certification and Watchkeeping Code (incorporated by reference, see § 10.103).

STCW endorsement means an annotation on an MMC that allows a mariner to serve in those capacities under § 10.109(d). The STCW endorsement serves as evidence that a mariner has met the requirements of the STCW Convention.

Support level means the level of responsibility associated with performing assigned tasks, duties, or responsibilities onboard a seagoing ship under the direction of an individual serving in the operational or management level.

Tank barge means a non-self-propelled tank vessel.

Tank vessel means a vessel that is constructed or adapted to carry, or that carries, oil or hazardous material in bulk as cargo or cargo residue, and that—

(1) Is a vessel of the United States;

(2) Operates on the navigable waters of the United States; or

(3) Transfers oil or hazardous material in a port or place subject to the jurisdiction of the United States.

Tank Barge-PIC means a person holding a valid “Tank Barge-PIC” endorsement on their MMC. See part 13, subpart C, of this subchapter.

Tank Vessel-Assistant means a person holding a valid “Tank Vessel-Assistant” endorsement on their MMC. See part 13, subpart D, of this subchapter.

Tank Vessel-Engineer means a person holding a valid “Tank Vessel-Engineer” endorsement on their MMC. See part 13, subpart E, of this subchapter.

Tank Vessel-PIC means a person holding a valid “Tank Vessel-PIC” endorsement on their MMC. See part 13, subpart B, of this subchapter.

Tankship means any self-propelled tank vessel constructed or adapted primarily to carry oil or hazardous material in bulk as cargo or as cargo residue.

Training program means a combination of training, practical assessment, and service which provides an individual with all or part of the necessary knowledge, understanding, and proficiency required for a specific qualification.

Transfer means any movement of fuel, dangerous liquid, or liquefied gas as cargo in bulk or as cargo residue to or from a vessel by means of pumping, gravitation, or displacement.

Transportation Worker Identification Credential or TWIC means an identification credential issued by the Transportation Security Administration under 49 CFR part 1572.

Underway means that a vessel is not at anchor, made fast to the shore, or aground. When referring to a mobile offshore drilling unit (MODU), underway means that the MODU is not in an on-location or laid-up status and includes that period of time when the MODU is deploying or recovering its mooring system.

Undocumented vessel means a vessel not required to have a certificate of documentation issued under the laws of the United States.

Unlimited means an annotation on an MMC authorizing service on vessels of any tonnage or any propulsion power.

Vessel personnel with designated security duties means a person, excluding the designated security officer (e.g., Company Security Officer (CSO), as defined in 33 CFR chapter I, subchapter H, and Vessel Security Officer (VSO)), having specific security duties and responsibilities in accordance with the ship security plan.

Vessel Security Officer (VSO) means a person onboard the vessel accountable to the Master and designated by the Company as responsible for security of the vessel, including implementation and maintenance of the Vessel's Security Plan, and for liaison with the Facility Security Officer and the vessel's Company Security Officer.

Western Rivers means—

(1) The Mississippi River;

(2) The Mississippi River's tributaries, South Pass, and Southwest Pass, to the navigational demarcation lines dividing the high seas from harbors, rivers, and other inland waters of the United States;

(3) The Port Allen-Morgan City Alternate Route;

(4) That part of the Atchafalaya River above its junction with the Port Allen-Morgan City Alternate Route including the Old River and the Red River; and

(5) Those waters specified in 33 CFR 89.25.

Year means 360 days for the purpose of complying with the service requirements of this subchapter.

6. Revise § 10.109 to read as follows:

§ 10.109 Classification of endorsements.

(a) National officer endorsements. The following national officer endorsements are established in part 11 of this subchapter. The endorsements indicate that an individual holding a valid MMC with this endorsement is qualified to serve in that capacity and the endorsement has been issued under the requirements contained in part 11 of this subchapter:

(1) Master.

(2) Chief Mate.

(3) Second Mate.

(4) Third Mate.

(5) Mate.

(6) Master of Towing Vessels.

(7) Master of Towing Vessels-Limited.

(8) Mate (Pilot) of Towing Vessels.

(9) Apprentice Mate of Towing Vessels.

(10) Apprentice Mate of Towing Vessels-Limited.

(11) Assistance Towing.

(12) Offshore Installation Manager (OIM).

(13) Barge Supervisor (BS).

(14) Ballast Control Operator (BCO).

(15) Operator of Uninspected Passenger Vessels (OUPV).

(16) Master of Uninspected Fishing Industry Vessels.

(17) Mate of Uninspected Fishing Industry Vessels.

(18) Master-OSV.

(19) Chief Mate-OSV.

(20) Mate-OSV.

(21) Chief Engineer.

(22) Chief Engineer-Limited.

(23) First Assistant Engineer.

(24) Second Assistant Engineer.

(25) Third Assistant Engineer.

(26) Assistant Engineer-Limited.

(27) Designated Duty Engineer (DDE).

(28) Chief Engineer-OSV.

(29) Assistant Engineer-OSV.

(30) Chief Engineer-MODU.

(31) Assistant Engineer-MODU.

(32) Chief Engineer Uninspected Fishing Industry Vessels.

(33) Assistant Engineer Uninspected Fishing Industry Vessels.

(34) Radio Officer.

(35) First-Class Pilot.

(36) Chief Purser.

(37) Purser.

(38) Senior Assistant Purser.

(39) Junior Assistant Purser.

(40) Medical Doctor.

(41) Professional Nurse.

(42) Marine Physician Assistant.

(43) Medical Technician.

(44) High-Speed Craft Type Rating (HSC).

(45) Radar Observer.

(b) National rating endorsements. The following national rating endorsements are established in part 12 of this subchapter. The endorsements indicate that an individual holding a valid MMC with this endorsement is qualified to serve in that capacity and the endorsement has been issued under the requirements contained in part 12 of this subchapter:

(1) Able Seafarer:

(i) Unlimited;

(ii) Limited;

(iii) Special;

(iv) Offshore Supply Vessel (OSV);

(v) Sail; and

(vi) Fishing Industry.

(2) Ordinary Seafarer.

(3) Qualified Member of the Engine Department (QMED), including the following specialty endorsements:

(i) Oiler;

(ii) Boiler Technician;

(iii) Junior Engineer;

(iv) Pump Technician/Machinist; and

(v) Electrician/Refrigerating Engineer.

(4) Lifeboat Operator.

(5) Lifeboat Operator-Limited.

(6) Wiper.

(7) Steward's Department.

(8) Steward's Department Food Handler (F.H.)

(9) Cadet (Deck or Engine).

(10) Student Observer.

(11) Apprentice Engineer.

(12) Apprentice Mate.

(c) Tank Vessel Endorsements. The following ratings are established in part 13 of this subchapter. The national endorsements indicate that an individual holding a valid MMC with this endorsement is qualified to serve in that capacity and the endorsement has been issued under the requirements contained in part 13 of this subchapter:

(1) Tank Vessel-PIC.

(2) Tank Barge-PIC.

(3) Restricted Tank Vessel-PIC.

(4) Restricted Tank Barge-PIC.

(5) Tank Vessel-Assistant.

(6) Tank Vessel-Engineer.

(d) STCW endorsements. The following STCW endorsements are issued according to the STCW Convention, the STCW Code, and parts 11, 12, and 13 of this subchapter. The endorsements indicate that an individual holding a valid MMC with this endorsement is qualified to serve in that capacity and the endorsement has been issued under the requirements contained in parts 11, 12 or 13 of this subchapter as well as the STCW Convention and STCW Code (incorporated by reference, see § 10.103):

(1) Master.

(2) Chief Mate.

(3) Officer in Charge of a Navigational Watch (OICNW).

(4) Chief Engineer Officer.

(5) Second Engineer Officer.

(6) Officer In Charge of an Engineering Watch in a manned engineroom or Designated Duty Engineer in a periodically unmanned engineroom (OICEW).

(7) Electro-technical Officer (ETO).

(8) Rating Forming Part of a Navigational Watch (RFPNW).

(9) Able Seafarer-Deck.

(10) Rating Forming Part of an Engineering Watch in a manned engineroom or designated to perform duties in a periodically unmanned engineroom (RFPEW).

(11) Able Seafarer-Engine.

(12) Electro-technical Rating (ETR).

(13) Basic Training (BT).

(14) Advanced Firefighting.

(15) Proficiency in Survival Craft and Rescue Boats other than Fast Rescue Boats (PSC).

(16) Proficiency in Survival Craft and Rescue Boats other than Fast Rescue Boats-Limited (PSC-Limited).

(17) Proficiency in Fast Rescue Boats.

(18) Person in Charge of Medical Care.

(19) Medical First-aid Provider.

(20) GMDSS At-sea Maintainer.

(21) GMDSS Operator.

(22) Advanced Oil Tanker Cargo Operation.

(23) Advanced Chemical Tanker Cargo Operation.

(24) Advanced Liquefied Gas Tanker Cargo Operation.

(25) Basic Oil and Chemical Tanker Cargo Operation.

(26) Basic Liquefied Gas Tanker Cargo Operation.

(27) Vessel Security Officer (VSO).

(28) Vessel Personnel with Designated Security Duties.

(29) Security Awareness.

(30) High-Speed Craft Type Rating (HSC).

7. Amend § 10.201 by revising the section heading and paragraph (a) to read as follows:

§ 10.201 General characteristics of the Merchant Mariner Credential.

(a) A Merchant Mariner Credential (MMC) is a credential combining the elements of the Merchant Mariner's Document (MMD), Merchant Mariner's License (License), and Certificate of Registry (COR) enumerated in 46 U.S.C. subtitle II part E, as well as the STCW endorsement issued pursuant to the STCW Convention and STCW Code (incorporated by reference, see § 10.103). MMDs, licenses, STCW endorsements, and CORs are no longer issued as separate documents, and all qualifications formerly entered on those separate documents appear in the form of an endorsement(s) on an MMC.

* * * * *

8. Amend § 10.205 by revising the section heading and paragraph (g) to read as follows:

§ 10.205 Validity of a Merchant Mariner Credential.

* * * * *

(g) If a mariner chooses to renew their license, MMD, COR, or STCW endorsement and receive their first MMC, the Coast Guard may also renew all other credentials for which the mariner is qualified.

* * * * *

9. Amend § 10.209 by revising paragraphs (a), (d)(2) and (6), (g), and (i) to read as follows:

§ 10.209 General application procedures.

(a) The applicant for an MMC, whether for an original, renewal, duplicate, raise of grade, or a new endorsement on a previously issued MMC, must establish that they satisfy all the requirements for the MMC and endorsement(s) sought before the Coast Guard will issue the MMC. This section contains the general requirements for all applicants. Additional requirements for duplicates, renewals, new endorsements, and raises of grade appear later in this part.

* * * * *

(d) * * *

(2) The applicant's continuous discharge book, certificate of identification, MMD, MMC, License, STCW endorsement, Certificate of Registry (COR), or, if it has not expired, a photocopy of the credential, including the back and all attachments;

* * * * *

(6) For an endorsement as a Medical Doctor or Professional Nurse as required in § 11.807 of this subchapter, evidence that the applicant holds a currently valid, appropriate license as physician, surgeon, or registered nurse, issued under the authority of a state or territory of the United States, the Commonwealth of Puerto Rico, or the District of Columbia. Any MMC issued will retain any limitation associated with the medical license;

* * * * *

(g) When a new MMC is issued, the mariner must return any previously issued and unexpired MMC, License, MMD, COR, or STCW endorsement to the Coast Guard, unless the new MMC is being issued to replace a lost or stolen credential.

* * * * *

(i) A mariner may obtain a ceremonial license when applying for their credential or Document of Continuity.

10. Amend § 10.221 by revising paragraph (a)(1) to read as follows:

§ 10.221 Citizenship.

(a)(1) MMCs with officer Endorsements. Only individuals with valid U.S. citizenship may apply for officer endorsements, except individuals applying for endorsements as Operator of Uninspected Passenger Vessels (OUPV) authorizing service on undocumented vessels in accordance with § 11.201(d) of this subchapter.

* * * * *

11. Amend § 10.223 by revising paragraphs (c)(3)(iii) and (c)(5) to read as follows:

§ 10.223 Modification or removal of limitations or scope.

* * * * *

(c) * * *

(3) * * *

(iii) The mandatory requirements for tank vessel endorsements are contained in part 13 of this subchapter.

* * * * *

(5) Any uncanceled MMD, MMC, License, STCW endorsement, or COR held by the applicant. If one or more of these credentials are still valid at the time of application, a photocopy, front and back of all pages, and all attachments, will satisfy this requirement. If the applicant submits a photocopy, upon the issuance of the new MMC, the applicant must surrender the old, original credential to the Coast Guard. If requested in writing at the time of submission, the old MMD, MMC, License, COR, or STCW endorsement may be returned to the applicant after cancellation.

* * * * *

12. Amend § 10.225 by revising paragraphs (b)(3)(iii) and (c) to read as follows:

§ 10.225 Requirements for original Merchant Mariner Credentials.

* * * * *

(b) * * *

(3) * * *

(iii) The mandatory requirements for tank vessel endorsements are contained in part 13 of this subchapter.

* * * * *

(c) Oath. Every person who receives an original MMC must first take an oath, before an official authorized to give such an oath, that they will faithfully and honestly, according to their best skill and judgment, without concealment or reservation, perform all the duties required by law and obey all lawful orders of superior officers. An oath may be administered by any Coast Guard-designated individual or any person legally permitted to administer oaths in the jurisdiction where the person taking the oath resides. An oath administered at a location other than the Coast Guard must be verified in writing by the administering official and submitted to the same Regional Examination Center (REC) where the applicant applied for their MMC. This oath remains binding for any subsequently issued MMC and endorsements added to the MMC, unless specifically renounced in writing.

13. Amend § 10.227 by revising paragraphs (d)(4), (e), (g)(2)(ii), and (i) to read as follows:

§ 10.227 Requirements for renewal.

* * * * *

(d) * * *

(4) Any uncanceled MMD, MMC, License, STCW endorsement, Certificate of Registry (COR), or Document of Continuity held by the applicant. If one or more of these credentials are still valid at the time of application, a photocopy—front, back, and all attachments—will satisfy this requirement.

(e) Renewal requirements. Except as provided in paragraph (e)(8) of this section and § 13.120 of this subchapter, the applicant must meet the following professional requirements for renewal:

(1) The applicant must either—

(i) Present evidence of at least 1 year of sea service during the past 5 years;

(ii) Pass a comprehensive, open-book exercise covering the general subject matter contained in appropriate sections of subpart B of this part;

(iii) Complete an approved refresher training course;

(iv) Provide evidence of employment as a Qualified Instructor or in a position closely related to the operation, construction, or repair of vessels (either deck or engineer as appropriate) for at least 3 years during the past 5 years. An applicant for a deck license or officer endorsement with this type of employment must also demonstrate knowledge on an applicable Rules of the Road open-book exercise; or

(v) Provide evidence of being a Qualified Instructor who has taught a Coast Guard-approved or -accepted course relevant to the endorsement or credential being applied for, at least twice within the past 5 years, therefore meeting the standards needed to receive a course completion certificate for that course.

(2) The qualification requirements for renewal of Radar Observer endorsement as contained in § 11.480 of this subchapter.

(3) Additional qualification requirements for renewal of an officer endorsement as First-Class Pilot as contained in § 11.713 of this subchapter.

(4) An applicant for renewal of a Radio Officer endorsement must, in addition to meeting the requirements of this section, present a copy of a currently valid License as first- or second-class radiotelegraph operator issued by the Federal Communications Commission.

(5) An applicant for renewal of an endorsement as Medical Doctor or Professional Nurse must, in addition to meeting the requirements of this section, present evidence that they hold a currently valid, appropriate license as physician, surgeon, or registered nurse issued under the authority of a State or territory of the United States, the Commonwealth of Puerto Rico, or the District of Columbia. Any such renewal will retain the limitations placed upon the medical License by the issuing body. There are no professional requirements for renewal of an endorsement as Marine Physician Assistant or Medical Technician.

(6) An applicant for renewal of an endorsement as Master or Mate (Pilot) of Towing Vessels, in addition to the other requirements in this paragraph, must also submit satisfactory evidence of—

(i) Having completed a practical demonstration of maneuvering and handling a towing vessel to the satisfaction of a Designated Examiner; or

(ii) Ongoing participation in training and drills during the validity of the License or MMC being renewed.

(7) An applicant seeking to renew a tank vessel endorsement must meet the additional requirements listed in § 13.120 of this subchapter.

(8) There are no professional requirements for renewal for the following endorsements:

(i) Staff officers (all types).

(ii) Ordinary Seafarer.

(iii) Wiper.

(iv) Steward's Department.

(v) Steward's Department Food Handler (F.H.).

(vi) Cadet.

(vii) Student Observer.

(viii) Apprentice Engineer.

(ix) Apprentice Mate (issued under part 12 of this subchapter).

(x) Person in Charge of Medical Care.

(xi) Medical First-aid Provider.

(xii) GMDSS At-sea Maintainer.

(xiii) GMDSS Operator.

* * * * *

(g) * * *

(2) * * *

(ii) An application including a signed statement from the applicant attesting to an awareness of the limited purpose of the Document of Continuity, their inability to serve, and the requirements to obtain an MMC.

* * * * *

(i) Re-issuance of expired credentials. (1) If an applicant applies for re-issuance of an endorsement as deck officer, engineer officer, or qualified rating more than 12 months after its expiration, instead of the requirements of paragraph (e) of this section, the applicant must demonstrate continued professional knowledge by completing a course approved for this purpose, or by passing the complete examination for original issue of the endorsement. The examination may be oral-assisted if the expired credential was awarded based on the results of an oral exam. The fees set forth in § 10.219 apply to these examinations. In the case of an expired Radio Officer endorsement, the endorsement may be issued upon presentation of a valid first- or second-class radiotelegraph operator license issued by the Federal Communications Commission.

(2) An endorsement for Chief Purser, Purser, Senior Assistant Purser, Junior Assistant Purser, Medical Technician, Marine Physician Assistant, Medical Doctor, or Professional Nurse that has been expired for more than 12 months must be renewed in the same way as a current endorsement of that type. There are no additional requirements for re-issuing endorsements for Chief Purser, Purser, Senior Assistant Purser, Junior Assistant Purser, Medical Technician, Marine Physician Assistant, Medical Doctor, or Professional Nurse that have been expired for more than 12 months.

(3) Applicants applying for re-issuance of an endorsement as Master or Mate (Pilot) of Towing Vessels more than 12 months after expiration of the previous endorsement must complete the practical demonstration of maneuvering and handling a towing vessel required under (e)(6)(i) of this section.

(4) Applicants applying for re-issuance of an endorsement as any tank vessel rating more than 12 months after expiration of the previous endorsement must meet the requirements in § 13.117 of this subchapter.

14. Amend § 10.231 by revising paragraphs (c)(3)(iii), (c)(6)(ii), and (d)(2) to read as follows:

§ 10.231 Requirements for raises of grade or new endorsements.

* * * * *

(c) * * *

(3) * * *

(iii) The mandatory requirements for tank vessel endorsements are contained in part 13 of this subchapter.

* * * * *

(6) * * *

(ii) The first endorsement as National Able Seafarer, Lifeboat Operator, Lifeboat Operator-Limited, Qualified Member of the Engine Department (QMED), or a tank vessel endorsement.

* * * * *

(d) * * *

(2) An applicant remains eligible for a raise of grade while on probation as a result of action under part 5 of this chapter. A raise of grade issued to a person on probation will be subject to the same probationary conditions imposed against their other credentials. The offense for which they were placed on probation will be considered on the merits of the case in determining fitness to hold the endorsement applied for. No applicant will be examined for a raise of grade during any period when a suspension without probation or a revocation imposed under part 5 of this chapter is effective against their credential or while an appeal from these actions is pending.

* * * * *

15. Amend § 10.232 by revising paragraphs (a)(1), (a)(2)(iv) and (vii), (a)(6), (d)(1) and (6), and (g) introductory text to read as follows:

§ 10.232 Sea service.

(a) * * *

(1) Sea service may be documented in various forms such as certificates of discharge, pilotage service and billing forms, and service letters or other official documents from marine companies signed by the owner, operator, Master, or Chief Engineer of the vessel. The Coast Guard must be satisfied as to the authenticity and acceptability of all evidence of experience or training presented.

(2) * * *

(iv) The amount and nature (e.g., Chief mate, Assistant Engineer, etc.) of the applicant's experience.

* * * * *

(vii) For those seeking to renew a Radar Observer endorsement, whether the vessel is equipped with radar and if the mariner served in a position that routinely uses radar for navigation and collision avoidance purposes.

* * * * *

(6) An applicant who has been acting as a Pilot may submit a letter from a pilot's association attesting to the applicant's sea service. For those Pilots seeking to renew a Radar Observer endorsement, the association's letter should indicate that the vessels piloted were equipped with radar, and that radar was used by the Pilot for navigation and collision avoidance purposes. Pilots not part of an association may submit other relevant records indicating service, such as billing forms. For a raise-of-grade, Pilots must comply with the requirements of paragraph (a)(2) of this section.

* * * * *

(d) * * *

(1) Sea service as a member of the Armed Forces of the United States will be accepted as required experience for an original, raise of grade, renewal, or increase in scope of all endorsements. In most cases, military sea service will have been performed upon ocean waters; however, inland service, as may be the case on smaller vessels, will be credited in the same manner as conventional evaluations. The applicant must submit an official transcript of sea service or history of assignments as verification of the service claimed when the application is submitted. A DD-214 is not acceptable evidence of sea service. The applicant must also provide the Coast Guard with other necessary information as to tonnage, routes, propulsion power, percentage of time underway, and assigned duties upon the vessels on which he or she served. Such service will be evaluated by the Coast Guard for a determination of its equivalence to sea service acquired on merchant vessels and the appropriate grade, class, and limit of endorsement for which the applicant is eligible. Normally, 60 percent of the total time onboard is considered equivalent underway service; however, the periods of operation of each vessel may be evaluated separately. In order to be eligible for a Master or Chief Engineer unlimited endorsement, the applicant must have acquired military service in the capacity of commanding officer or engineer officer, respectively.

* * * * *

(6) Service gained in a civilian capacity as commanding officer, Master, Mate, engineer, or Pilot, etc., of any vessel owned and operated by the United States, in any service in which a License or officer endorsement as Master, Mate, engineer, or Pilot was not required at the time of such service, will be evaluated by the Coast Guard for a determination of equivalence.

* * * * *

(g) Closely related service. The Coast Guard may accept evidence of employment in a position closely related to the operation, construction, or repair of vessels (either deck or engineer as appropriate) as meeting the sea service requirements for renewal under § 10.227(e)(1)(iv). Service as port engineer, port captain, shipyard superintendent, Qualified Instructor, or similar related service may be creditable for service for raise of grade of an engineer or deck officer endorsement; however, it may not be used for obtaining an original management-level endorsement. The service is creditable as follows:

* * * * *

16. Amend § 10.233 by revising the section heading and paragraphs (a) and (b) to read as follows:

§ 10.233 Obligations of the holder of a Merchant Mariner Credential.

(a) The holder of a credential may not voluntarily part with it or place it beyond their personal control by pledging or depositing it with any other person, except as required by regulation or as necessary to safeguard the credential. If the holder violates this section, the Coast Guard may pursue suspension or revocation of the License, MMD, COR, or MMC under the provisions of part 5 of this chapter.

(b) Whenever a mariner loses a credential, they must immediately report the loss to the Coast Guard. The report must be made in writing, giving the facts incident to its loss.

* * * * *

17. Amend § 10.235 by revising the section heading and paragraphs (c), (d), and (g) through (i) to read as follows:

§ 10.235 Suspension or revocation of Merchant Mariner Credentials.

* * * * *

(c) An applicant who has had a TWIC, credential, or endorsement revoked, and who is applying for a subsequent MMC or endorsement, must state in their application the date of revocation, the serial number of the document revoked, and the type of document or endorsement revoked.

(d) A person whose credential or endorsement has been revoked or suspended without probation may not be issued a replacement credential or endorsement without approval of the Commandant. If a mariner has multiple endorsements and one or more, but not all, of those endorsements are suspended or revoked, they will be issued, without payment of a fee, a replacement MMC reflecting those endorsements for which the mariner remains qualified.

* * * * *

(g) An applicant for renewal or return of a credential with endorsement as Master or Mate (Pilot) of Towing Vessels whose most recent credential has been suspended or revoked by an administrative law judge for incompetence must complete the practical demonstration required under § 10.227(e)(6)(i).

(h) If the Coast Guard is advised by the Transportation Security Administration (TSA) that a mariner has either been denied a TWIC or their TWIC has been revoked, the Coast Guard may initiate suspension and revocation action against the mariner's MMC, License, MMD, and COR under 46 U.S.C. 7702 and 7703. During the subsequent suspension and revocation proceeding, the TSA decision to deny issuance of, or to revoke, a mariner's TWIC will not be subject to review, and the mariner's failure to hold a TWIC will be treated by the Coast Guard as proof that the mariner is not eligible for an MMC, License, MMD or COR.

(i) A mariner who has either been denied issuance of a TWIC or whose TWIC has been revoked for a reason, other than administrative reasons (e.g., being lost or stolen, not functioning, or having a misspelling) will be deemed ineligible for an MMC, License, MMD or COR.

18. Revise § 10.239 to read as follows:

§ 10.239 Quick reference table for MMC requirements.

Table 1 to § 10.239 provides a guide to the requirements for officer endorsements. Provisions in the reference section are controlling.

Note 1 to § 10.239: For tank vessel endorsements, see table 1 to § 13.129.

Note 2 to § 10.239: All references within table 1 to this section are within this subchapter.

Table 1 to § 10.239—Quick Reference Table for MMC Requirements
Endorsement category | Minimum age | Citizenship | Medical and physical exam | Experience | Recommendations and character check | Firefighting | Professional exam | Demonstration of professional ability | Recency of service | First aid and CPR
Master, Mates | § 11.201(e) Note: exceptions. | U.S., § 10.221(a)(1) § 11.201(d) | § 10.302(a) | part 11—subpart D | N/A: Note exceptions in § 11.201(g) for original national or STCW endorsements | § 11.201(h) | § 11.201(j); § 11.903; § 11.910 Note: § 11.903(b) | N/A | original § 11.201(c)(2) renewal § 10.227(e) | § 11.201(i) Note: exceptions.
Operator of Uninspected Passenger Vessels (OUPV) | § 11.201(e) Note: exceptions here and in § 11.201(l) | § 10.221(a)(1) § 11.201(d). | § 10.302(a) | § 11.467(c); (d); (e); (f); (g) | N/A: Note exceptions in § 11.201(g) for original national or STCW endorsements | N/A | §§ 11.201(j); 11.903; § 11.910 | N/A | original § 11.201(c)(2) renewal § 10.227(e) | § 11.201(i): Note exceptions.
STCW deck officer endorsements | § 11.201(e) Note: exceptions. | U.S., § 10.221(a)(1) § 11.201(d). | § 10.302(a) | part 11—subpart C | N/A: Note exceptions in § 11.201(g) for original national or STCW endorsements | § 11.303 Renewal: § 11.303(b) and (c) | N/A | Master § 11.305; .311; .315; .317 Chief Mate § 11.307; .313 OICNW § 11.309; 11.319; 11.321 | original § 11.201 (c)(2) renewal § 10.227(e) | § 11.201(i).
Officer on a passenger ship when on an international voyage | N/A | N/A | N/A | N/A | N/A | N/A | N/A | § 11.1105(a)(1); (2) | § 11.1105(c) | N/A.
Engineers (original) | § 11.201(e) Note: exceptions. | U.S., § 10.221(a)(1) § 11.201(d) | 10.302(a) | part 11—subpart E | N/A: Note exceptions in § 11.201(g) for original national or STCW endorsements | § 11.201(h) | § 11.201(j); 11.903; § 11.950 Note: § 11.903(b) | N/A | original § 11.201(c)(2) renewal § 10.227(e) | § 11.201(i).
STCW Engineering Officer endorsements | § 11.201(e) Note: exceptions. | U.S., § 10.221(a)(1) § 11.201(d) | § 10.302(a) | part 11—subpart C | N/A: Note exceptions in § 11.201(g) for original national or STCW endorsements | § 11.303 Renewal: § 11.303(b) and (c) | N/A | Chief § 11.325; § 11.331 2nd engineer officer; § 11.327; § 11.333 OICEW/DDE § 11.329 | original § 11.201 (c)(2) renewal § 10.227(e) | § 11.201(i).
National Designated Duty Engineer (DDE) | § 11.201(e) Note: exceptions. | U.S., § 10.221(a)(1) § 11.201(d). | § 10.302(a) | 11.524(b) | N/A: Note exceptions in § 11.201(g) for original national or STCW endorsements | § 11.201(h)(1)(iv) | § 11.903 | N/A | original § 11.201(c)(2) renewal § 10.227(e) | § 11.201(i).
Electro-technical Officer | § 11.201(e) Note: exceptions. | U.S., § 10.221(a)(1) § 11.201(d). | § 10.302(a) | § 11.335(a)(1) note exception in § 11.335(b) & § 11.33 5(c) | N/A: Note exceptions in § 11.201(g) for original national or STCW endorsements | § 11.335(a)(3)(ii) | N/A | § 11.335(a)(2), (3) note exception in § 11.335(b) & (c) |  | § 11.335(a)(3)(i).
Pilot | § 11.201(e) Note: exceptions. | U.S., § 10.221(a)(1) § 11.201(d) | § 10.302(a); § 11.709 | § 11.703; § 11.705 | N/A: Note exceptions in § 11.201(g) for original national or STCW endorsements | N/A | § 11.707; § 11.903; § 11.910 | § 11.705 | § 11.705(e), § 11.713 | § 11.201(i).
Towing Vessels | § 11.201(e) Note: exceptions. | U.S., § 10.221(a)(1) § 11.201(d) | § 10.302(a) | part 11—subpart D | N/A: Note exceptions in § 11.201(g) for original national or STCW endorsements | § 11.201(h)(1)(ii) § 11.201(h)(2)(ii) Note: exceptions | § 11.201(j); § 11.903; § 11.910 | § 11.464; § 11.465 | original § 11.201(c)(2) renewal § 10.227(e) | § 11.201(i).
Offshore Supply Vessels (OSV) | § 11.201(e) Note: exceptions. | U.S., § 10.221(a)(1) § 11.201(d) | § 10.302(a) | Master § 11.493 Chief Mate § 11.495 Mate § 11.497 C/E § 11.553 Engineer § 11.555 | N/A: Note exceptions in § 11.201(g) for original national or STCW endorsements | § 11.201(h) | § 11.201(j); Master § 11.493 Chief Mate § 11.495 Mate § 11.497 C/E § 11.553; § 11.903 Eng § 11.555; § 11.903 | Master § 11.493 Chief Mate § 11.495 Mate § 11.497 C/E § 11.553 Engineer § 11.555 | original § 11.201(c)(2) renewal § 10.227(e). | § 11.201(i).
MODU licenses | § 11.201(e) Note: exceptions. | U.S., § 10.221(a)(1) § 11.201(d). | § 10.302(a) | OIM: § 11.470 B.S.: § 11.472 BCO: § 11.474 ChEng: § 11.542 Asst. Eng: § 11.544 | N/A: Note exceptions in § 11.201(g) for original national or STCW endorsements | § 11.201(h): note exceptions | § 11.201(j); § 11.903; § 11.920 | N/A | original § 11.201(c)(2) renewal § 10.227(e). | § 11.201(i).
Uninspected Fishing Industry Vessels | § 11.201(e) Note: exceptions | U.S., § 10.221(a)(1) § 11.201(d) | § 10.302(a) | Deck: § 11.462(c); (d); Engine: § 11.530(c); (d); (e) | N/A: Note exceptions in § 11.201(g) for original national or STCW endorsements | § 11.201(h) Note: exceptions | § 11.201(j); § 11.903; § 11.910 | N/A | original § 11.201(c)(2) renewal § 10.227(e). | § 11.201(i).
Radio Officer | § 11.201(e) Note: exceptions | U.S., § 10.221(a)(1) § 11.201(d) | § 10.302(a) | N/A | N/A: Note exceptions in § 11.201(g) for original national or STCW endorsements | N/A | N/A | § 11.603 | N/A | § 11.201(i).
GMDSS Operator | N/A | N/A | N/A | N/A | N/A | N/A | N/A | 11.604 | N/A | N/A.
Officer raises of grade | § 11.201(e) Note: exceptions | U.S., § 10.221(a)(1) § 11.201(d) | § 10.302(a) | § 10.231(c); part 11, subparts D and E | N/A | N/A | § 10.231(d); § 11.903; § 11.910; § 11.920; § 11.950 | part 11, subparts D and E | 3 months in past 3 years, § 11.201 (c)(2) | N/A.
Officer renewals | § 11.201(e) Note: exceptions | U.S., § 10.221(a)(1) § 11.201(d) | § 10.302(a) | § 10.227(d) and (e) Note: exceptions | N/A | N/A | N/A | Towing officers, § 10.227(d) and (e) | 1 year in past 5, § 10.227(e) and (f) Note: alternative. | N/A.
Staff officer | § 11.201(e) Note: exceptions | U.S., § 10.221(a)(1) § 11.201(d). | § 10.302(a) | § 11.807 | N/A: Note exceptions in § 11.201(g) for original national or STCW endorsements | N/A | N/A | § 11.807 | N/A | § 11.201(i).
Staff officer renewals | § 11.201(e) Note: exceptions | U.S., § 10.221(a)(1) § 11.201(d). | § 10.302(a) | N/A | N/A | N/A | N/A | N/A | N/A | N/A.
Able Seafarer | § 12.401(c)(1) | U.S. or alien admitted for permanent residence, § 10.221(a)(2) | § 10.302(a), § 12.401(c)(2) | § 12.403 | N/A | N/A | § 12.401(c)(5) | § 12.401(c)(6) § 12.405 | Renewal only, 1 year in past 5, § 10.227(e) and (f) Note: alternative | N/A.
Able Seafarer-Deck | § 12.603(a)(1) | U.S. or alien admitted for permanent residence, § 10.221(a)(2) | § 10.302(a) | § 12.603(a)(3) | N/A | N/A | N/A | § 12.603(a)(2) § 12.603(a)(4) § 12.603(a)(5) | Renewal only, 1 year in past 5, § 10.227(e) and (f) Note: alternative | § 12.602(a).
Ratings Forming Part of a Navigational Watch (RFPNW) | § 12.605(a)(1) | U.S. or alien admitted for permanent residence, § 10.221(a)(2) | § 10.302(a) | § 12.605(a)(2) | N/A | N/A | N/A | § 12.605(a)(3) | Renewal only, 1 year in past 5, § 10.227(e) and (f) Note: alternative | § 12.602(a).
Qualified Members of Engine Department (QMED) | § 12.501(c)(1) | U.S. or alien admitted for permanent residence, § 10.221(a)(2) | § 10.302(a) | § 12.503 | N/A | N/A | § 12.505 | N/A | Renewal only, 1 year in past 5, § 10.227(e) and (f) Note: alternative | N/A.
Able Seafarer-Engine | § 12.607(a)(1) | U.S. or alien admitted for permanent residence, § 10.221(a)(2) | § 10.302(a) | § 12.607(a)(3) | N/A | N/A | N/A | § 12.607(a)(2); (4) § 12.607(b); (c) | Renewal only, 1 year in past 5, § 10.227(e) and (f) Note: alternative | § 12.602(a).
Ratings Forming Part of an Engineering Watch (RFPEW) | § 12.609(a)(1) | U.S. or alien admitted for permanent residence, § 10.221(a)(2) | § 10.302(a) | § 12.609(a)(2) | N/A | N/A | N/A | § 12.609(a)(3) | Renewal only, 1 year in past 5, § 10.227(e) and (f) Note: alternative | § 12.602(a).
Electro-technical Rating | § 12.611(a)(1) | U.S. or alien admitted for permanent residence, § 10.221(a)(2) | § 10.302(a) | § 12.611(a)(2) | N/A | N/A | N/A | § 12.611(a)(3); § 12.611(b) | Renewal only, 1 year in past 5, § 10.227(e) and (f) Note: alternative | § 12.602(a).
Entry level ratings | N/A | U.S. or alien admitted for permanent residence, § 10.221(a)(2) § 12.803; § 12.809 | N/A; note exception in § 12.811(a)(2) Note: Food Handler (F.H.) requirements in table § 10.302(a) (xiii) § 10.302(a) (xiv) | N/A | N/A | N/A | N/A | N/A | N/A | N/A.
Lifeboat Operator | N/A | U.S. or alien admitted for permanent residence, § 10.221(a)(2) | § 10.302(a) | § 12.407(b)(1) | N/A | N/A | § 12.407(b)(2); (4) | § 12.407(b)(2); (3) | Renewal only, 1 year in past 5, § 10.227(e) and (f) Note: alternative | N/A.
Lifeboat Operator-Limited | N/A | U.S. or alien admitted for permanent residence, § 10.221(a)(2) | § 10.302(a) | § 12.409(b)(1) | N/A | N/A | § 12.409(b)(2); (4) | § 12.409(b)(2); (3) | Renewal only, 1 year in past 5, § 10.227(e) and (f) Note: alternative | N/A.
Proficiency in Fast Rescue Boats | § 12.617(a)(1) | U.S. or alien admitted for permanent residence, § 10.221(a)(2) | N/A | N/A | N/A | N/A | N/A | § 12.617(a)(2); (3); (4) | Renewal only, 1 year in past 5, § 10.227(e) and (f) Note: alternative Renewal § 12.617(b)(2) | § 12.602(a).
Proficiency in Survival Craft and Rescue Boats other than Fast Rescue Boats | § 12.613(a)(1) | U.S. or alien admitted for permanent residence, § 10.221(a)(2) | N/A | § 12.613(a)(2) | N/A | N/A | N/A | § 12.613(a)(3) | Renewal only, 1 year in past 5, § 10.227(e) and (f) Note: alternative Renewal: § 12.613(b)(2) | § 12.602(a).
Proficiency in Survival Craft and Rescue Boats other than Lifeboats and Fast Rescue Boats-Limited | § 12.615(a)(1) | U.S. or alien admitted for permanent residence, § 10.221(a)(2) | N/A | § 12.615(a)(2) | N/A | N/A | N/A | § 12.615(a)(3) | Renewal only, 1 year in past 5, § 10.227(e) and (f) Note: alternative. Renewal: § 12.615(b)(2) | § 12.602(a).
Assistance Towing endorsement | N/A | N/A | N/A | § 11.482 | N/A | N/A | § 11.482 | § 11.482 | original § 11.201(c)(2) | N/A.
Radar Observer endorsement | N/A | N/A | N/A | N/A | N/A | N/A | N/A | § 11.480(d); (h) | N/A | N/A.
Vessel Security Officer (VSO) | § 11.337(a) | U.S. or alien admitted for permanent residence, § 10.221(a)(1) § 10.221(a)(2) | § 10.302(a) | § 11.337(a) | N/A: Note exceptions in § 11.201(g) for original national or STCW endorsements | N/A | N/A | § 11.337(a) | original § 11.201(c)(2) renewal § 10.227(e). | § 11.201(i).
High Speed Craft | N/A | U.S. § 10.221(a)(1) | N/A | § 11.821(b)(1) § 11.821(c) | N/A: Note exceptions in § 11.201(g) for original national or STCW endorsements | N/A | N/A | § 11.821(b)(2) | Renewal: § 11.821(e) | N/A.
GMDSS at-Sea Maintainer | § 12.623(a) | N/A | N/A | N/A | N/A | N/A | N/A | § 12.623(b) | N/A | N/A.
Medical First-aid Provider | N/A | N/A | N/A | § 12.619(b) | N/A | N/A | N/A | § 12.619(a)(1); (2) | N/A | § 12.619(a)(1).
Person in Charge of Medical Care | N/A | N/A | N/A | § 12.621(b) | N/A | N/A | N/A | § 12.621(a)(1); (2) | N/A | § 12.621(a)(1).
Vessel Personnel with Designated Security Duties | § 12.625(a)(1) | U.S. or alien admitted for permanent residence, § 10.221(a)(2) § 12.803 | § 12.625(a)(2) | § 12.625(a)(1) | N/A | N/A | N/A | § 12.625(a)(1) | Renewal only, 1 year in past 5, § 10.227(e) and (f) Note: alternative | N/A.
Security Awareness | § 12.627(a)(1) | U.S. or alien admitted for permanent residence, § 10.221(a)(2) § 12.803 | § 12.627(a)(2) | § 12.627(a)(1) | N/A | N/A | N/A | § 12.627(a)(1) | Renewal only, 1 year in past 5, § 10.227(e) and (f) Note: alternative | N/A.
Ratings serving on passenger ships on international voyages | N/A | N/A | N/A | N/A | N/A | N/A | N/A | § 12.905(a); (b) | Renewal § 12.905(d) | N/A.

19. Revise § 10.302 paragraph (b) and table 1 to § 10.302(a) to read as follows:

§ 10.302 Medical and physical requirements.

* * * * *

(b) Any required test, exam, or demonstration must have been performed, witnessed, or reviewed by a Licensed Medical Doctor, Licensed Physician Assistant, Licensed Nurse Practitioner, or a Designated Medical Examiner. All licensed medical practitioners must hold a valid license issued in the United States.

Table 1 to § 10.302(a)—Medical and Physical Requirements for Mariner Endorsements
1 | 2 | 3 | 4 | 5
Credential | Vision test | Hearing test | General medical exam | Demonstration of physical ability
(1) Deck officer, including Pilot | § 10.305(a) | § 10.306 | § 10.304(a) | § 10.304(c)
(2) Engineering officer | § 10.305(b) | § 10.306 | § 10.304(a) | § 10.304(c)
(3) Radio Officer | § 10.305(b) | § 10.306 | § 10.304(a) | § 10.304(c)
(4) OIM, BS, or BCO | § 10.305(b) | § 10.306 | § 10.304(a) | § 10.304(c)
(5) Able Seafarer | § 10.305(a) | § 10.306 | § 10.304(a) | § 10.304(c)
(6) QMED | § 10.305(b) | § 10.306 | § 10.304(a) | § 10.304(c)
(7) Able Seafarer-Deck | § 10.305(a) | § 10.306 | § 10.304(a) | § 10.304(c)
(8) RFPNW | § 10.305(a) | § 10.306 | § 10.304(a) | § 10.304(c)
(9) Able Seafarer-Engine | § 10.305(b) | § 10.306 | § 10.304(a) | § 10.304(c)
(10) RFPEW | § 10.305(b) | § 10.306 | § 10.304(a) | § 10.304(c)
(11) ETR | § 10.305(b) | § 10.306 | § 10.304(a) | § 10.304(c)
(12) Tank vessel endorsement | § 10.305(b) | § 10.306 | § 10.304(a) | § 10.304(c)
(13) Lifeboat Operator and PSC | § 10.305(b) | § 10.306 | § 10.304(a) | § 10.304(c)
(14) Lifeboat Operator-Limited and PSC-Limited | § 10.305(b) | § 10.306 | § 10.304(a) | § 10.304(c)
(15) Fast Rescue Boat | § 10.305(b) | § 10.306 | § 10.304(a) | § 10.304(c)
(16) Food Handler serving on vessels to which STCW does not apply |  |  | § 10.304(b) |
(17) Food Handler serving on vessels to which STCW applies |  |  | § 10.304(b) | § 10.304(c)
(18) Ratings, including entry level, serving on vessels to which STCW applies, other than those listed above |  |  |  | § 10.304(c)
(19) Ratings, including entry level, serving on vessels to which STCW does not apply, other than those listed above |  |  |  |
(20) VSO | § 10.305(a) | § 10.306 | § 10.304(a) | § 10.304(c)

§ 10.304 [Amended]

20. Amend § 10.304 in paragraph (b) by removing the word “handlers” and, in its place, adding the word “Handlers.”

21. Amend § 10.305 by revising the heading to paragraph (b) and paragraphs (c) through (e) to read as follows:

§ 10.305 Vision requirements.

* * * * *

(b) Engineering, Radio Officer, tank vessel endorsement, and MODU standard.

* * * * *

(c) Vision waiver. Any applicant whose uncorrected vision does not meet the 20/200 standard and is correctable to listed standards above may be granted a medical waiver in accordance with § 10.303. If a vision waiver is granted, a limitation will be placed on the medical certificate indicating the mariner may not serve under the authority of the endorsement unless corrective lenses are worn and spare lenses are carried onboard a vessel. Waivers are not normally granted to an applicant whose corrected vision in the better eye is not at least 20/40 for deck officers or 20/50 for engineer officers.

(d) Vision operational limitation. If corrective lenses are required in order to meet the vision standards above, a mariner may not serve under the authority of the endorsement unless corrective lenses are worn and spare lenses are carried onboard a vessel. This operational limitation will be placed on their medical certificate.

(e) Loss of vision. A mariner having lost vision in one eye must wait 6 months from the date of the vision loss before submitting any application, and must provide a statement of demonstrated ability on their medical examination.

22. Revise § 10.403 to read as follows:

§ 10.403 General Standards.

(a) Each school with an approved course must—

(1) Have a well-maintained facility that accommodates the students in a safe and comfortable environment conducive to learning;

(2) Have the necessary equipment, including simulators where appropriate, sufficient for the number of students to be accommodated, and support the objectives of the course;

(3) Administer training entirely in the English language unless specifically approved to be presented in another language;

(4) Administer written examinations to each student appropriate for the course material and the knowledge requirements of the position or endorsement for which the student is being trained. For a course approved to substitute for a Coast Guard-administered examination, the courses must be of such a degree of difficulty that a student who successfully completes them would most likely pass, on the first attempt, an examination prepared by the Coast Guard;

(5) Require each student to successfully demonstrate practical skills appropriate for the course material and equal to the level of endorsement for which the course is approved; and

(6) Keep physical or electronic copies of the following records for at least 5 years after the end of each student's completion or disenrollment from a course or program:

(i) A copy of each student's examination scores;

(ii) A copy of each examination or, in the case of a practical test, a report of such test;

(iii) A record of each student's classroom attendance, which includes their full name, Coast Guard-issued Mariner Reference Number, or date of birth and place of birth if they do not have a Mariner Reference Number;

(iv) A copy of each student's course completion certificate or program completion certificate, as appropriate;

(v) A summary of changes or modification to the last course submittal;

(vi) A list of all locations at which the training course was presented and the number of times it was presented at each location;

(vii) The name(s) of the instructor(s) who taught the course, which does not include lab assistants or other non-teaching assistants;

(viii) The number of students who began the training;

(ix) The number of students who successfully completed the training;

(x) The number of students who were required to retest;

(xi) The number of students who were required to retake the entire course and

(xii) The number of students who were required to retake a portion of the course.

(7) By November 25, 2026, for each student who successfully completes an approved course or program, in a manner specified by the Coast Guard, the school must electronically submit to the Coast Guard, within 5 business days of completion, the information listed in paragraphs (7)(i) through (v). By submitting records electronically to the Coast Guard, the submitter attests that they are accurate to the best of their knowledge and no false entries or statements were made under penalty of 18 U.S.C. 1001.

(i) The name of the school and Coast Guard-issued course provider code;

(ii) The title of the approved course or program, the Coast Guard-issued course code, and the dates the course was held;

(iii) The name of the Coast Guard-approved instructor who conducted the course;

(iv) The name of the student as it appears on their MMC or valid government-issued identification, along with their Coast Guard-issued Mariner Reference Number or date of birth and place of birth if they do not have a Mariner Reference Number; and

(v) The unique course certificate identification code associated with the course or program completion certificate issued to the student for the course.

(8) Not significantly change its approved curriculum without approval from the NMC as specified in § 10.402(e);

(9) Conduct an internal audit midway through the term of the course's approval and maintain the results of the audit for a period of not less than 5 years. The audit will evaluate whether—

(i) Records are being maintained according to these regulations;

(ii) The course is being presented in accordance with the approval letter; and

(iii) Surveys from students indicate that the course is meeting their needs; and

(10) At any time, allow the Coast Guard to—

(i) Inspect its facilities, equipment, and records, including scholastic records;

(ii) Conduct interviews and surveys of students to aid in course evaluation and improvement;

(iii) Assign personnel to observe or participate in the course of instruction; and

(iv) Supervise or administer the required examinations or practical demonstrations, including the substitution of an applicable Coast Guard examination in a course approved to substitute for a Coast Guard-administered examination.

(b) [Reserved]

23. Amend § 10.404 by revising paragraphs (b)(1)(iv) through (vii) and paragraph (c) to read as follows:

§ 10.404 Substitution of training for required service, use of training-record books (TRBs), and use of towing officer assessment records (TOARs).

* * * * *

(b) * * *

(1) * * *

(iv) A place for a Qualified Instructor to indicate by their initials that the applicant has received training in the proper performance of the task or skill.

(v) A place for a Qualified Assessor (QA) to indicate by their initials that the applicant has successfully completed a practical demonstration and has proved competent in the task or skill under the criteria, when assessment of competence is to be documented in the record books.

(vi) The printed name of each Qualified Instructor, including any MMC endorsements held, and the instructor's signature.

(vii) The printed name of each Qualified Assessor, when any assessment of competence is recorded, including any MMC endorsement, License, or document held by the assessor, and the assessor's signature confirming that their initials certify that they have witnessed the practical demonstration of a particular task or skill by the applicant.

* * * * *

(c) Use of towing officer assessment records (TOARs). Each applicant for an endorsement as Master or Mate (Pilot) of Towing Vessels, and each Master or Mate of self-propelled vessels of 200 GRT or more, seeking an endorsement for towing vessels, must complete a TOAR approved by the Coast Guard that contains at least the following:

(1) Identification of the applicant, including their full name, and reference number;

(2) Objectives of the training and assessment;

(3) Tasks to perform or skills to demonstrate;

(4) Criteria to use in determining that the tasks or skills have been performed properly;

(5) A means for a Designated Examiner (DE) to attest that the applicant has successfully completed a practical demonstration and has proved proficient in the task or skill under the criteria; and

(6) Identification of each DE by their full name and reference number, job title, ship name and official number, and serial number of the MMC, License, or document held, and printed name and signature confirming that their initials certify that they have witnessed the practical demonstration of a particular task or skill by the applicant.

24. Amend § 10.405 by revising the section heading, paragraphs (a) introductory text, (b) introductory text, and (d) to read as follows:

§ 10.405 Qualification as Qualified Assessor and Designated Examiner.

(a) To become a Qualified Assessor (QA), an applicant must have documentary evidence to establish—

* * * * *

(b) To become a Designated Examiner (DE) for towing officer assessment records (TOARs), an applicant must have documentary evidence to establish—

* * * * *

(d) In order to renew their qualifications, each QA and DE must have either experience, training, or evidence of instruction in effective assessment within the past 5 years.

PART 11—REQUIREMENTS FOR OFFICER ENDORSEMENTS

25. The authority citation for part 11 is revised to read as follows:

Authority: 14 U.S.C. 503; 31 U.S.C. 9701; 46 U.S.C. 2101, 2103, and 2110; 46 U.S.C. chapter 71; 46 U.S.C. 7502, 7505, 7701, 8903, 8904, and 70105; Executive Order 10173; DHS Delegation No. 00170.1, Revision No. 01.4. Section 11.107 is also issued under the authority of 44 U.S.C. 3507.

PART 11—[Amended]

26. In part 11, remove the term in the left column wherever it appears and add in its place the term in the right column:

Remove | Add
fireman | Boiler Technician.
hospital corpsman | Medical Technician.
seaman | seafarer.

27. Amend § 11.101 by revising paragraphs (a) and (b) to read as follows:

§ 11.101 Purpose of regulations.

(a) The purpose of this part is to provide—

(1) A means of determining the qualifications an applicant must possess to be eligible for an officer endorsement as a staff officer, deck officer, engineer officer, Pilot, or Radio Officer on merchant vessels, or for an endorsement to operate uninspected passenger vessels; and

(2) A means of determining that an applicant is competent to serve as a Master, Chief Mate, Officer in Charge of a Navigational Watch, Chief Engineer Officer, Second Engineer Officer (First Assistant Engineer), Officer in Charge of an Engineering Watch, Designated Duty Engineer, or Global Maritime Distress and Safety System (GMDSS) Radio Operator, in accordance with the provisions of the International Convention on Standards of Training, Certification and Watchkeeping for Seafarers, 1978, as amended (the STCW Convention or STCW), and other laws, and to receive the appropriate endorsement as required by STCW.

(b) With few exceptions, these regulations do not specify or restrict officer endorsements to particular types of service such as tankships, freight vessels, or passenger vessels. However, each officer credentialed under this part must become familiar with the relevant characteristics of a vessel prior to assuming their duties as required in the provisions of § 15.405 of this subchapter.

* * * * *

28. Amend § 11.102 by revising paragraph (a) and the introductory text of paragraph (b) to read as follows:

§ 11.102 Incorporation by reference.

(a) Certain material is incorporated by reference into this part with the approval of the Director of the Federal Register under 5 U.S.C. 552(a) and 1 CFR part 51. All approved incorporation by reference material (IBR) is available for inspection at the Coast Guard and the National Archives and Records Administration (NARA). Contact Coast Guard at: Office of Merchant Mariner Credentialing (CG-MMC), U.S. Coast Guard, Stop 7509, 2703 Martin Luther King Jr. Avenue SE, Washington, DC 20593-7509; phone: 202-372-1492; website: https://www.dco.uscg.mil/nmc/merchant_mariner_credential/. For information on the availability of this material at NARA, visit www.archives.gov/federal-register/cfr/ibr-locations or email fr.inspection@nara.gov. The material may be obtained from:

(b) International Maritime Organization (IMO), 4 Albert Embankment, London SE1 7SR, England; phone: +44 (0)20 7735 7611; website: www.imo.org.

* * * * *

29. Amend § 11.201 by revising paragraphs (a), (e), (g), (h)(2) through (4), (i)(1) introductory text, (j)(3), and (k) to read as follows:

§ 11.201 General requirements for national and STCW officer endorsements.

(a) General. In addition to the requirements of part 10 of this subchapter, the applicant for an officer endorsement, whether original, renewal, duplicate, or raise of grade, must establish to the satisfaction of the Coast Guard that they possess all the qualifications necessary (including but not limited to age, experience, character, physical health, citizenship, approved training, professional competence, and a test for dangerous drugs) before the Coast Guard will issue the applicant a Merchant Mariner Credential (MMC). An applicant for any STCW endorsement must hold the appropriate national endorsement unless otherwise specified.

* * * * *

(e) Age. Except as specified in this paragraph, no officer endorsement may be issued to a person who has not attained the age of 21 years. The required evidence of age may be established using any of the items submitted to establish citizenship set out in 49 CFR 1572.17.

(1) An endorsement may be granted to an applicant who has reached the age of 19 years as—

(i) Master of near-coastal, Great Lakes and inland, or river vessels of 25-200 GRT;

(ii) Third Mate;

(iii) Third Assistant Engineer;

(iv) Mate of vessels of between 200 GRT and 1,600 GRT;

(v) Ballast Control Operator (BCO);

(vi) Assistant Engineer-MODU;

(vii) Assistant Engineer of Fishing Industry Vessels;

(viii) Mate (Pilot) of Towing Vessels;

(ix) Radio Officer;

(x) Assistant Engineer-Limited; or

(xi) Designated Duty Engineer of vessels of less than 4,000 HP/3,000 kW.

(2) An endorsement may be granted to an applicant who has reached the age of 18 years as—

(i) Limited Master of near-coastal vessels of less than 100 GRT;

(ii) Limited Master of Great Lakes and inland vessels of less than 100 GRT;

(iii) Mate of Great Lakes and inland vessels of 25-200 GRT;

(iv) Mate of near-coastal vessels of 25-200 GRT;

(v) Operator of Uninspected Passenger Vessels (OUPV);

(vi) Designated Duty Engineer (DDE) of vessels of less than 1,000 HP/750 kW;

(vii) Apprentice Mate of Towing Vessels;

(viii) Officer in Charge of a Navigational Watch (OICNW);

(ix) Officer in Charge of an Engineering Watch (OICEW); or

(x) Electro-technical Officer (ETO).

* * * * *

(g) Character check. (1) An individual may apply for an original officer endorsement, or officer or STCW endorsement of a different type, while on probation as a result of administrative action under part 5 of this chapter. The offense for which the applicant was placed on probation will be considered in determining their fitness to hold the endorsement applied for. An officer or STCW endorsement issued to an applicant on probation will be subject to the same probationary conditions as were imposed against the applicant's other credential. An applicant may not take an examination for an officer or STCW endorsement during any period of time when a suspension without probation or a revocation is effective against the applicant's currently held License, Merchant Mariner Document (MMD), or MMC, or while an appeal from these actions is pending.

(2) If information about the applicant's habits of life and character is brought to the attention of the Coast Guard after an original License, Certificate of Registry, or officer endorsement has been issued, and if such information reasonably supports the conclusion that the applicant cannot be entrusted with the duties and responsibilities of the License, Certificate of Registry, or officer endorsement issued, or indicates that the application for the License, Certificate of Registry, or officer endorsement was false or incomplete, the Coast Guard may notify the holder in writing that the License, Certificate of Registry, or officer endorsement is considered null and void, direct the holder to return the credential to the Coast Guard, and advise the holder that, upon return of the credential, the appeal procedures of § 10.237 of this subchapter apply.

(h) * * *

(2) The following categories must meet the requirements for Basic and Advanced Firefighting in Regulations VI/1 and VI/3 of the STCW Convention and Tables A-VI/1-2 and A-VI/3 of the STCW Code (both incorporated by reference, see § 11.102):

(i) National officer endorsements as Master or Mate on seagoing vessels of 200 GRT or more;

(ii) All national officer endorsements for Master or Mate (Pilot) of Towing Vessels, except Apprentice Mate of Towing Vessels, on oceans;

(iii) All national officer endorsements for MODUs;

(iv) All national officer endorsements for engineers;

(v) All national officer endorsements for OSVs; and

(vi) All STCW officer endorsements except GMDSS Radio Operator.

(3) The following categories must meet the requirements for basic firefighting in Regulation VI/1 of the STCW Convention and Table A-VI/1-2 of the STCW Code:

(i) Officer endorsement as Master on vessels of less than 500 GT in ocean service; and

(ii) All officer endorsements for Master or Mate (Pilot) of Towing Vessels, except Apprentice Mate of Towing Vessels, in all services except oceans.

(4) Applicants for a raise of grade of an officer endorsement who have not previously met the requirements of paragraph (h) of this section must do so.

(i) * * *

(1) Evidence of continued competency in STCW Basic Training in accordance with § 11.302 or a certificate indicating completion not more than 1 year from the date of application of—

* * * * *

(j) * * *

(3) An examination is not required for a staff officer or Radio Officer endorsement.

(k) Radar Observer. Applicants for an endorsement as Radar Observer must present a certificate of completion from a Radar Observer course as required by § 11.480.

* * * * *

30. Amend § 11.211 by revising paragraphs (c)(1), (e), and (f) to read as follows:

§ 11.211 Creditable service and equivalents for national and STCW officer endorsements.

* * * * *

(c) * * *

(1) MODU service is creditable for raise of grade of an officer endorsement. Evidence of 1 year of service on MODUs as Mate or equivalent while holding an officer endorsement or license as Third Mate, or as Engineering Officer of the Watch or equivalent while holding an officer endorsement or license as Third Assistant Engineer, is acceptable for a raise of grade to Second Mate or Second Assistant Engineer, respectively. However, any subsequent raises of grade of unlimited, non-restricted officer licenses or endorsements must include a minimum of 6 months of service on conventional vessels.

* * * * *

(e) Service on towing vessels. Service as Master or Mate (Pilot) of Towing Vessels, when the aggregate tonnage of the tug and barges is 1,600 GRT/3,000 GT or more, is creditable, using the aggregate tonnage, on a two-for-one basis (2 days experience equals 1 day of creditable service) for up to 50 percent of the total service on vessels of 1,600 GRT/3,000 GT or more required for an unlimited officer endorsement. The remaining required service on vessels of more than 1,600 GRT/3,000 GT must be obtained on conventional vessels. This service must be documented as specified in § 10.232(a) of this subchapter.

(f) Cadet experience. Individuals obtaining sea service as part of an approved training curriculum pursuant to either § 11.407(a)(2) or § 11.516(a)(3) must do so in the capacity of Cadet-Deck or Cadet-Engine, as appropriate, notwithstanding any other rating endorsements the individual may hold or any other capacity in which the individual may have served.

* * * * *

31. Amend § 11.301 by revising paragraph (a)(1)(i), paragraph (d) introductory text, and paragraphs (g)(1) and (2) to read as follows:

§ 11.301 Requirements for STCW officer endorsements.

(a) * * *

(1) * * *

(i) In-service experience: Documentation of successful completion of assessments, approved or accepted by the Coast Guard, and signed by a Qualified Assessor (QA)—deck or engineering—as appropriate.

* * * * *

(d) Management-level endorsement. Applicants holding national officer endorsements as Master, Chief Mate, Chief Engineer, or First Assistant Engineer, and who seek to add an STCW endorsement at the management level, must provide evidence of meeting the STCW requirements found in this subpart, including—

* * * * *

(g) * * *

(1) Masters, Mates, or engineers endorsed for service on small passenger vessels that are subject to subchapter T or K of this chapter and that operate beyond the boundary line.

(2) Masters, Mates, or engineers endorsed for service on seagoing vessels of less than 200 GRT, other than passenger vessels subject to subchapter H of this chapter.

* * * * *

§ 11.302 [Amended]

32. Amend § 11.302 by:

a. In the section heading, by removing the word “training” and adding in its place the word “Training”; and

b. In paragraph (a) introductory text, by removing the words “basic training”, and adding in their place the words “Basic Training”.

33. Amend § 11.304 by revising paragraphs (a)(2), (3), and (5) to read as follows:

§ 11.304 STCW deck officer endorsements.

(a) * * *

(2) Chief Mate on vessels of 3,000 GT or more (management level).

(3) Officer in Charge of a Navigational Watch (OICNW) of vessels of 500 GT or more (operational level).

* * * * *

(5) Chief Mate of vessels of 500 GT or more and less than 3,000 GT (management level).

* * * * *

34. Amend § 11.305 by revising the section heading and paragraphs (a) introductory text and (a)(1), paragraph (b) introductory text, and paragraphs (d) and (e) to read as follows:

§ 11.305 Requirements to qualify for an STCW endorsement as Master of vessels of 3,000 GT or more (management level).

(a) To qualify for an STCW endorsement as Master, an applicant must—

(1) Provide evidence of 36 months of service as OICNW on vessels operating in oceans, near-coastal waters, and/or Great Lakes. This period may be reduced to not less than 24 months if the applicant served as Chief Mate for not less than 12 months. Service on inland waters that are navigable waters of the United States may be substituted for up to 50 percent of the total required service. Experience gained in the engine department on vessels may be creditable for up to 3 months of the service requirements;

* * * * *

(b) For a renewal of an STCW endorsement as Master of vessels of 3,000 GT or more to be valid on or after January 1, 2017, each candidate must provide evidence of successful completion of approved training in the following:

* * * * *

(d) Seafarers holding an STCW endorsement as Master of vessels of 500 GT or more and less than 3,000 GT, in accordance with § 11.311, are eligible to apply for the endorsement as Master of vessels of 3,000 GT or more upon completion of 6 months of sea service, under the authority of the endorsement, and must complete any items in paragraphs (a)(2) and (a)(3) of this section not previously satisfied.

(e) Seafarers with one of the following national officer endorsements are eligible to apply for this endorsement upon completion of the requirements in table 1 to this paragraph:

Table 1 to § 11.305(e)—STCW Endorsement as Master of Vessels of 3,000 GT or More
Entry path from national endorsements | Sea service under authority of the endorsement ¹ | Competence—STCW Table A-II/2 ² | Training required by this section ³
Master ocean or near-coastal, unlimited tonnage | None | Yes | Yes.
Master OSV | None | Yes | Yes.
¹ This column provides the minimum additional service required of the seafarer in order to meet the requirements of this section.
² Complete any items in paragraph (a)(2) of this section not previously satisfied.
³ Complete any items in paragraph (a)(3) of this section not previously satisfied.

35. Amend § 11.307 by revising the section heading, paragraphs (a) introductory text, (b) introductory text, and (d), and table 1 to § 11.307(e) to read as follows:

§ 11.307 Requirements to qualify for an STCW endorsement as Chief Mate of vessels of 3,000 GT or more (management level).

(a) To qualify for an STCW endorsement as Chief Mate, an applicant must—

* * * * *

(b) For a renewal of an STCW endorsement as Chief Mate of vessels of 3,000 GT or more to be valid on or after January 1, 2017, each candidate must provide evidence of successful completion of approved training in the following:

* * * * *

(d) Seafarers holding an STCW endorsement as Chief Mate of vessels of 500 GT or more and less than 3,000 GT, in accordance with § 11.313, are eligible to apply for the endorsement as Chief Mate of vessels of 3,000 GT or more upon completion of 6 months of sea service, under the authority of the endorsement, and must complete any items in paragraphs (a)(2) and (3) of this section not previously satisfied.

(e) * * *

Table 1 to § 11.307(e)—STCW Endorsement as Chief Mate of Vessels of 3,000 GT or More
Entry path from national endorsements | Sea service under authority of the endorsement ¹ | Competence—STCW Table A-II/2 ² | Training required by this section ³
Chief Mate ocean or near-coastal, unlimited tonnage | None | Yes | Yes.
Master ocean or near-coastal, less than 500 GRT | 12 months | Yes | Yes.
Chief Mate OSV | None | Yes | Yes.
Master of Towing Vessels ocean or near-coastal | 12 months | Yes | Yes.
¹ This column provides the minimum additional service required of the seafarer in order to meet the requirements of this section.
² Complete any items in paragraph (a)(2) of this section not previously satisfied.
³ Complete any items in paragraph (a)(3) of this section not previously satisfied.

36. Amend § 11.309 by revising the section heading, paragraph (a), and table 1 to § 11.309(e) to read as follows:

§ 11.309 Requirements to qualify for an STCW endorsement as Officer in Charge of a Navigational Watch of vessels of 500 GT or more (operational level).

(a) To qualify for an STCW endorsement as Officer in Charge of a Navigational Watch (OICNW), an applicant must—

(1) Provide evidence of seagoing service as follows:

(i) Thirty-six months of seagoing service in the deck department on vessels operating in oceans, near-coastal waters, and/or Great Lakes. Service on inland waters, bays, or sounds that are navigable waters of the United States may be substituted for up to 50 percent of the total required service; or

(ii) Twelve months of seagoing service as part of an approved training program, which includes onboard training that meets the requirements of Section A-II/1 of the STCW Code (incorporated by reference, see § 11.102);

(2) Provide evidence of having performed, during the required seagoing service, bridge watchkeeping duties under the supervision of an officer holding the STCW endorsement as Master, Chief Mate, Second Mate, or OICNW, for a period of not less than 6 months;

(3) Provide evidence of meeting the standard of competence specified in Section A-II/1 of the STCW Code; and

(4) Provide evidence of having satisfactorily completed approved training in the following subject areas:

(i) Medical First-aid Provider.

(ii) Radar Observer.

(iii) Search and rescue.

(iv) Basic and Advanced Firefighting in accordance with § 11.303.

(v) Proficiency in Survival Craft and Rescue Boats other than Fast Rescue Boats (PSC) or Proficiency in Survival Craft and Rescue Boats other than Lifeboats and Fast Rescue Boats (PSC-Limited).

(vi) Visual signaling.

(vii) Bridge resource management (BRM).

(viii) Terrestrial and celestial navigation, and electronic navigation systems.

(ix) Watchkeeping, including International Regulations for Preventing Collisions at Sea (COLREGS) and IMO standard marine communication phrases (SMCP).

(x) Cargo handling and stowage.

(xi) Ship handling.

(xii) Stability and ship construction.

(xiii) Meteorology.

(xiv) ARPA, if serving on a vessel with this equipment.

(xv) GMDSS, if serving on a vessel with this equipment.

(xvi) ECDIS, if serving on a vessel with this equipment.

* * * * *

(e) * * *

Table 1 to § 11.309(e)—STCW Endorsement as OICNW of Vessels of 500 GT or More
Entry path from national endorsements | Sea service under authority of the endorsement ¹ | Competence— STCW Table A-II/1 ² | Training required by this section ³
Mate ocean or near-coastal, unlimited tonnage | None | Yes | Yes.
Master ocean or near-coastal, less than 500 GRT | 6 months | Yes | Yes.
Mate ocean or near-coastal, less than 1,600 GRT | None | Yes | Yes.
Mate ocean or near-coastal, less than 500 GRT | 12 months | Yes | Yes.
Mate OSV | 12 months¹ | Yes | Yes.
Mate of Towing Vessels ocean or near-coastal | 6 months | Yes | Yes.
¹ This column provides the minimum additional service required of the seafarer in order to meet the requirements of this section.
² Complete any items in paragraph (a)(3) of this section not previously satisfied.
³ Complete any items in paragraph (a)(4) of this section not previously satisfied.

37. Amend § 11.311 by revising the section heading, paragraphs (a) introductory text, (a)(1), and (b) introductory text, and table 1 to § 11.311(d) to read as follows:

§ 11.311 Requirements to qualify for an STCW endorsement as Master of vessels of 500 GT or more and less than 3,000 GT (management level).

(a) To qualify for an STCW endorsement as Master, an applicant must—

(1) Provide evidence of 36 months of service as OICNW on vessels operating in oceans, near-coastal waters, and/or Great Lakes. However, this period may be reduced to not less than 24 months if the applicant served as Chief Mate for not less than 12 months. Service on inland waters, bays, or sounds that are navigable waters of the United States may be substituted for up to 50 percent of the total required service. Experience gained in the engine department on vessels may be creditable for up to 3 months of the service requirements;

* * * * *

(b) For a renewal of an STCW endorsement as Master of vessels of 500 GT or more and less than 3,000 GT to be valid on or after January 1, 2017, each candidate must provide evidence of successful completion of approved training in the following:

* * * * *

(d) * * *

Table 1 to § 11.311(d)—STCW Endorsement as Master of Vessels of 500 GT or More and Less Than 3,000 GT
Entry path from national endorsements | Sea service under authority of the endorsement ¹ | Competence—STCW Table A-II/2 ² | Training required by this section ³
Master oceans or near-coastal, less than 1,600 GRT | None | Yes | Yes.
Master OSV | None | Yes | Yes.
Master oceans or near-coastal, less than 500 GRT | 12 months | Yes | Yes.
Master of Towing Vessels oceans or near-coastal | 12 months | Yes | Yes.
¹ This column provides the minimum additional service required of the seafarer in order to meet the requirements of this section.
² Complete any items in paragraph (a)(2) of this section not previously satisfied.
³ Complete any items in paragraph (a)(3) of this section not previously satisfied.

38. Amend § 11.313 by revising the section heading, paragraphs (a) introductory text and (b) introductory text, and table 1 to § 11.313(d) to read as follows:

§ 11.313 Requirements to qualify for an STCW endorsement as Chief Mate of vessels of 500 GT or more and less than 3,000 GT (management level).

(a) To qualify for an STCW endorsement as Chief Mate, an applicant must—

* * * * *

(b) For a renewal of an STCW endorsement as Chief Mate of vessels of 500 GT or more and less than 3,000 GT to be valid on or after January 1, 2017, each candidate must provide evidence of successful completion of approved training in the following:

* * * * *

(d) * * *

Table 1 to § 11.313(d)—STCW Endorsement as Chief Mate of Vessels of 500 GT or More and Less Than 3,000 GT
Entry path from national endorsements | Sea service under authority of the endorsement ¹ | Competence—STCW Table A-II/2 ² | Training required by this section ³
Chief Mate OSV | None | Yes | Yes.
Master oceans or near-coastal, less than 500 GRT | 6 months | Yes | Yes.
Master of Towing Vessels oceans or near-coastal | 6 months | Yes | Yes.
¹ This column provides the minimum additional service required of the seafarer in order to meet the requirements of this section.
² Complete any items in paragraph (a)(2) of this section not previously satisfied.
³ Complete any items in paragraph (a)(3) of this section not previously satisfied.

39. Amend § 11.315 by revising the section heading, paragraphs (a) introductory text, (a)(1), and (b) introductory text, and table 1 to § 11.315(d) to read as follows:

§ 11.315 Requirements to qualify for an STCW endorsement as Master of vessels of less than 500 GT (management level).

(a) To qualify for an STCW endorsement as Master, an applicant must—

(1) Provide evidence of 36 months of seagoing service as OICNW on vessels operating in oceans, near-coastal waters, and/or Great Lakes; however, this period may be reduced to not less than 24 months if not less than 12 months of such seagoing service has been served as Chief Mate. Service on inland waters, bays, or sounds that are navigable waters of the United States may be substituted for up to 50 percent of the total required service. Experience gained in the engine department may be creditable for up to 3 months of the service requirements;

* * * * *

(b) For a renewal of an STCW endorsement as Master of vessels of less than 500 GT to be valid on or after January 1, 2017, each candidate must provide evidence of successful completion of approved training in the following:

* * * * *

(d) * * *

Table 1 to § 11.315(d)—STCW Endorsement as Master of Vessels of Less Than 500 GT
Entry path from national endorsements | Sea service under authority of the endorsement ¹ | Competence—STCW Table A-II/2 ² | Training required by this section ³
Master oceans or near-coastal, less than 500 GRT | None | Yes | Yes.
Master of Towing Vessels oceans or near-coastal | None | Yes | Yes.
Master oceans or near-coastal, less than 200 GRT | 12 months | Yes | Yes.
¹ This column provides the minimum additional service required of the seafarer in order to meet the requirements of this section.
² Complete any items in paragraph (a)(2) of this section not previously satisfied.
³ Complete any items in paragraph (a)(3) of this section not previously satisfied.

40. Amend § 11.317 by revising the section heading, paragraphs (a) and (b) introductory text, and table 1 to § 11.317(d) to read as follows:

§ 11.317 Requirements to qualify for an STCW endorsement as Master of vessels of less than 500 GT limited to near-coastal waters (management level).

(a) To qualify for an STCW endorsement as Master, an applicant must—

(1) Provide evidence of 12 months of service as OICNW, on vessels operating in oceans, near-coastal waters, and/or Great Lakes. Service on inland waters, bays, or sounds that are navigable waters of the United States may be substituted for up to 50 percent of the total required service. Experience gained in the engine department on vessels may be creditable for up to 1 month of the service requirements;

(2) Provide evidence of meeting the standard of competence specified in Section A-II/3 of the STCW Code (incorporated by reference, see § 11.102); and

(3) Provide evidence of having satisfactorily completed approved training in the following subject areas:

(i) Medical First-aid Provider.

(ii) Basic and Advanced Firefighting in accordance with § 11.303.

(iii) Proficiency in Survival Craft and Rescue Boats other than Fast Rescue Boats (PSC) or Proficiency in Survival Craft and Rescue Boats other than Lifeboats and Fast Rescue Boats (PSC-Limited).

(vi) Radar Observer, if serving on a vessel with this equipment.

(iv) Leadership and managerial skills.

(v) ECDIS, if serving on a vessel with this equipment.

(vi) Radar Observer, if serving on a vessel with this equipment.

(vii) ARPA, if serving on a vessel with this equipment.

(b) For a renewal of an STCW endorsement as Master of vessels of less than 500 GT limited to near-coastal waters to be valid on or after January 1, 2017, each candidate must provide evidence of successful completion of approved training in the following:

* * * * *

(d) * * *

Table 1 to § 11.317(d)—STCW Endorsement as Master of Vessels of Less Than 500 GT Limited to Near-Coastal Waters
Entry path from national endorsements | Sea service under authority of the endorsement ¹ | Competence—STCW Table A-II/3 ² | Training required by this section ³
Mate oceans or near-coastal, less than 500 GRT | None | Yes | Yes.
Mate of Towing Vessels oceans or near-coastal | None | Yes | Yes.
Master oceans or near-coastal, less than 200 GRT | 6 months | Yes | Yes.
Mate oceans or near-coastal, less than 200 GRT | 12 months | Yes | Yes.
¹ This column provides the minimum additional service required of the seafarer in order to meet the requirements of this section.
² Complete any items in paragraph (a)(2) of this section not previously satisfied.
³ Complete any items in paragraph (a)(3) of this section not previously satisfied.

41. Amend § 11.319 by revising the section heading, paragraph (a), and table 1 to § 11.317(d) to read as follows:

§ 11.319 Requirements to qualify for an STCW endorsement as Officer in Charge of a Navigational Watch of vessels of less than 500 GT (operational level).

(a) To qualify for an STCW endorsement as Officer in Charge of a Navigational Watch (OICNW), an applicant must—

(1) Provide evidence of seagoing service as follows:

(i) Provide evidence of 36 months of service in the deck department on vessels operating in oceans, near-coastal waters, and/or Great Lakes. Service on inland waters, bays, or sounds that are navigable waters of the United States may be substituted for up to 50 percent of the required service. Experience gained in the engine department may be creditable for up to 3 months of the service requirements; or

(ii) Provide evidence of not less than 12 months of seagoing service as part of an approved training program that includes onboard training that meets the requirements of Section A-II/1 of the STCW Code (incorporated by reference, see § 11.102).

(2) Provide evidence of having performed during the required seagoing service, bridge watchkeeping duties, under the supervision of an officer holding the STCW endorsement as Master, Chief Mate, or OICNW, for a period of not less than 6 months. The Coast Guard will accept service on vessels as Boatswain, Able Seafarer, or quartermaster while holding the appropriate deck watchkeeping rating endorsement, which may be accepted on a two-for-one basis to a maximum allowable substitution of 3 months (6 months of experience equals 3 months of creditable service);

(3) Provide evidence of meeting the standard of competence specified in Section A-II/1 of the STCW Code; and

(4) Provide evidence of having satisfactorily completed approved training in the following subject areas:

(i) Medical First-aid Provider.

(ii) Radar Observer, if serving on a vessel with this equipment.

(iii) Watchkeeping, including COLREGS and IMO standard marine communication phrases (SMCP).

(iv) Basic and Advanced Firefighting in accordance with § 11.303.

(v) Proficiency in Survival Craft and Rescue Boats other than Fast Rescue Boats (PSC) or Proficiency in Survival Craft and Rescue Boats other than Lifeboats and Fast Rescue Boats (PSC-Limited).

(vi) Visual signaling.

(vii) Bridge resource management;

(viii) ARPA, if serving on a vessel with this equipment.

(ix) GMDSS, if serving on a vessel with this equipment.

(x) ECDIS, if serving on a vessel with this equipment.

* * * * *

(d) * * *

Table 1 to § 11.319(d)—STCW Endorsement as Officer in Charge of a Navigational Watch (OICNW) of Vessels of Less Than 500 GT
Entry path from national endorsements | Sea service under authority of the endorsement ¹ | Competence—STCW Table A-II/1 ² | Training required by this section ³
Mate oceans or near-coastal, less than 500 GRT | None | Yes | Yes.
Mate of Towing Vessels oceans or near-coastal | None | Yes | Yes.
Master oceans or near-coastal, less than 200 GRT | 6 months | Yes | Yes.
Mate oceans or near-coastal, less than 200 GRT | 12 months | Yes | Yes.
¹ This column provides the minimum additional service required of the seafarer in order to meet the requirements of this section.
² Complete any items in paragraph (a)(3) of this section not previously satisfied.
³ Complete any items in paragraph (a)(4) of this section not previously satisfied.

42. Amend § 11.321 by revising the section heading, paragraph (a), and table 1 to § 11.321(d) to read as follows:

§ 11.321 Requirements to qualify for an STCW endorsement as Officer in Charge of a Navigational Watch of vessels of less than 500 GT limited to near-coastal waters (operational level).

(a) To qualify for an STCW endorsement as Officer in Charge of a Navigational Watch (OICNW), an applicant must—

(1) Provide evidence of seagoing service as follows:

(i) Twenty-four months of seagoing service in the deck department on vessels operating in oceans, near-coastal waters, and/or Great Lakes. Service on inland waters, bays, or sounds that are navigable waters of the United States may be substituted for up to 50 percent of the total required service. Experience gained in the engine department may be creditable for up to 3 months of the service requirements; or

(ii) Successful completion of an approved training program that includes seagoing service as required by the Coast Guard; or

(iii) Successful completion of approved training for this section and obtain 12 months of seagoing service;

(2) Provide evidence of meeting the standard of competence specified in Section A-II/3 of the STCW Code (incorporated by reference, see § 11.102); and

(3) Provide evidence of having satisfactorily completed approved training in the following subject areas:

(i) Medical First-aid Provider.

(ii) Basic and Advanced Firefighting in accordance with § 11.303.

(iii) Proficiency in Survival Craft and Rescue Boats other than Fast Rescue Boats (PSC) or Proficiency in Survival Craft and Rescue Boats other than Lifeboats and Fast Rescue Boats (PSC-Limited).

(iv) Bridge resource management;

(v) ECDIS, if serving on a vessel with this equipment.

(vi) Radar Observer, if serving on a vessel with this equipment.

(vii) ARPA, if serving on a vessel with this equipment.

* * * * *

(d) * * *

Table 1 to § 11.321(d)—STCW Endorsement as OICNW of Vessels of Less Than 500 GT Limited to Near-Coastal Waters
Entry path from national endorsements | Sea service under authority of the endorsement ¹ | Competence—STCW Table A-II/3 ² | Training required by this section ³
Mate oceans or near-coastal less than 500 GRT | None | Yes | Yes.
Mate of Towing Vessels oceans or near-coastal | None | Yes | Yes.
Master oceans or near-coastal, less than 200 GRT | None | Yes | Yes.
Mate oceans or near-coastal, less than 200 GRT | 6 months | Yes | Yes.
¹ This column provides the minimum additional service required of the seafarer in order to meet the requirements of this section.
² Complete any items in paragraph (a)(2) of this section not previously satisfied.
³ Complete any items in paragraph (a)(3) of this section not previously satisfied.

43. Amend § 11.323 by revising paragraphs (a) and (d) to read as follows:

§ 11.323 STCW engineer officer endorsements.

(a) Specific requirements for all STCW engineer officer endorsements are detailed in the applicable sections in this part.

(1) Chief Engineer Officer on vessels powered by main propulsion machinery of 3,000 kW/4,000 HP propulsion power or more (management level).

(2) Second Engineer Officer on vessels powered by main propulsion machinery of 3,000 kW/4,000 HP propulsion power or more (management level).

(3) Officer in Charge of an Engineering Watch (OICEW) in a manned engineroom, or as a Designated Duty Engineer in a periodically unmanned engineroom, on vessels powered by main propulsion machinery of 750 kW/1,000 HP propulsion power or more (operational level).

(4) Chief Engineer Officer on vessels powered by main propulsion machinery of between 750 kW/1,000 HP and 3,000 kW/4,000 HP propulsion power (management level).

(5) Second Engineer Officer on vessels powered by main propulsion machinery of 750 kW/1,000 HP to 3,000 kW/4,000 HP propulsion power (management level).

(6) Electro-technical Officer on vessels powered by main propulsion machinery of 750 kW/1,000 HP or more (operational level).

* * * * *

(d) An officer endorsement issued in the grade of Chief Engineer-Limited or Assistant Engineer-Limited allows the holder to serve within any propulsion power limitations on vessels of unlimited tonnage on inland waters, on vessels of less than 3,000 GT in Great Lakes service, and on the vessels specified in § 15.105(f) and (g) of this subchapter.

44. Amend § 11.325 by revising the section heading, paragraphs (a) and (b) introductory text, and table 1 to § 11.325(d) to read as follows:

§ 11.325 Requirements to qualify for an STCW endorsement as Chief Engineer Officer on vessels powered by main propulsion machinery of 3,000 kW/4,000 HP propulsion power or more (management level).

(a) To qualify for an STCW endorsement as Chief Engineer Officer, an applicant must—

(1) Provide evidence of not less than 36 months of service as OICEW on ships powered by main propulsion machinery of 750 kW/1,000 HP propulsion power or more. This period may be reduced to not less than 24 months if the applicant has served for not less than 12 months as Second Engineer Officer on ships powered by propulsion machinery of 3,000 kW/4,000 HP or more;

(2) Provide evidence of meeting the standard of competence specified in Section A-III/2 of the STCW Code (incorporated by reference, see § 11.102); and

(3) Provide evidence of having satisfactorily completed approved training in the following areas:

(i) Engineroom Resource Management (ERM) if not completed at the operational level.

(ii) Leadership and managerial skills.

(iii) Management of electrical and electronic control equipment.

(b) For a renewal of an STCW endorsement as Chief Engineer Officer on vessels powered by main propulsion machinery of 3,000 kW/4,000 HP propulsion power or more to be valid on or after January 1, 2017, each candidate must provide evidence of successful completion of approved training in the following:

* * * * *

(d) * * *

Table 1 to § 11.325(d)—STCW Endorsement as Chief Engineer Officer on Vessels Powered by Main Propulsion Machinery of 3,000 kW/4,000 HP Propulsion Power or More
Entry path from national endorsements | Sea service ¹ | Competence— STCW Table A-III/2 ² | Training required by this section ³
Chief Engineer | None | Yes | Yes.
Chief Engineer-Limited | 12 months | Yes | Yes.
Chief Engineer-MODU | 12 months/24 months⁴ | Yes | Yes.
Chief Engineer-OSV | None | Yes | Yes.
Designated Duty Engineer, any horsepower ⁵ | 24 months as DDE | Yes | Yes.
¹ This column provides the minimum additional service required of the seafarer in order to meet the requirements of this section.
² Complete any items in paragraph (a)(2) of this section not previously satisfied.
³ Complete any items in paragraph (a)(3) of this section not previously satisfied.
⁴ Depending on the type of sea service used to obtain Chief Engineer-MODU (refer to § 11.542)
⁵ STCW certificate should be limited to vessels less than 500 GRT.

45. Amend § 11.327 by revising the section heading, paragraphs (a) and (b) introductory text, and table 1 to § 11.327(d) to read as follows:

§ 11.327 Requirements to qualify for an STCW endorsement as Second Engineer Officer on vessels powered by main propulsion machinery of 3,000kW/4,000 HP propulsion power or more (management level).

(a) To qualify for an STCW endorsement as Second Engineer Officer, an applicant must—

(1) Provide evidence of not less than 12 months of service as OICEW on vessels powered by main propulsion machinery of 750kW/1,000 HP or more; or 12 months of sea service as a Chief Engineer on vessels powered by propulsion machinery of vessels between 750kW/1,000 HP and 3,000 kW/4,000 HP;

(2) Provide evidence of meeting the standard of competence specified in Section A-III/2 of the STCW Code (incorporated by reference, see § 11.102); and

(3) Provide evidence of having satisfactorily completed approved training in the following areas:

(i) Engineroom Resource Management (ERM) if not completed at the operational level.

(ii) Leadership and managerial skills.

(iii) Management of electrical and electronic control equipment.

(b) For a renewal of an STCW endorsement as Second Engineer Officer on vessels powered by main propulsion machinery of 3,000 kW/4,000 HP propulsion power or more to be valid on or after January 1, 2017, each candidate must provide evidence of successful completion of approved training in the following:

* * * * *

(d) * * *

Table 1 to § 11.327(d)—STCW Endorsement as Second Engineer Officer on Vessels Powered by Main Propulsion Machinery of 3,000 kW/4,000 HP Propulsion Power or More
Entry path from national endorsements | Sea service ¹ | Competence—STCW Table A-III/2 ² | Training required by this section ³
First Assistant Engineer | None | Yes | Yes.
Second Assistant Engineer | None | Yes | Yes.
Third Assistant Engineer | 12 months | Yes | Yes.
Assistant Engineer-Limited | 12 months | Yes | Yes.
Chief Engineer-MODU | 12 months | Yes | Yes.
Chief Engineer-OSV | None | Yes | Yes.
Designated Duty Engineer-Unlimited ⁴ | 12 months as DDE | Yes | Yes.
¹ This column provides the minimum additional service required of the seafarer in order to meet the requirements of this section.
² Complete any items in paragraph (a)(2) of this section not previously satisfied.
³ Complete any items in paragraph (a)(3) of this section not previously satisfied.
⁴ STCW certificate should be limited to vessels less than 500 GRT.

46. Amend § 11.329 by revising the section heading, paragraph (a), and table 1 to § 11.329(e) to read as follows:

§ 11.329 Requirements to qualify for an STCW endorsement as Officer in Charge of an Engineering Watch in a manned engineroom or Designated Duty Engineer in a periodically unmanned engineroom on vessels powered by main propulsion machinery of 750 kW/1,000 HP propulsion power or more (operational level).

(a) To qualify for an STCW endorsement as Officer in Charge of an Engineering Watch (OICEW), an applicant must—

(1) Provide evidence of seagoing service as follows:

(i) Thirty-six months of seagoing service in the engine department; or

(ii) Successful completion of an approved training program, which includes a combination of workshop skill training and seagoing service of not less than 12 months, and that meets the requirements of Section A-III/1 of the STCW Code (incorporated by reference, see § 11.102);

(2) Provide evidence of having performed during the required seagoing service, engineroom watchkeeping duties, under the supervision of an officer holding the STCW endorsement as Chief Engineer Officer or as a qualified engineer officer, for a period of not less than 6 months;

(3) Provide evidence of meeting the standard of competence specified in Section A-III/1 of the STCW Code; and

(4) Provide evidence of having satisfactorily completed approved training in the following subject areas:

(i) Medical First-aid Provider.

(ii) Basic and Advanced Firefighting in accordance with § 11.303.

(iii) Proficiency in Survival Craft and Rescue Boats other than Fast Rescue Boats.

(iv) Engineroom Resource Management (ERM).

(v) Engineering terminology and shipboard operations.

(vi) Auxiliary machinery.

(vii) Gas turbine plants, as applicable.

(viii) Steam plants, as applicable.

(ix) Motor plants, as applicable.

(x) Electrical machinery and basic electronics.

(xi) Control systems.

* * * * *

(e) * * *

Table 1 to § 11.329(e)—STCW Endorsement as OICEW in a Manned Engineroom or Designated Duty Engineer in a Periodically Unmanned Engineroom on Vessels Powered by Main Propulsion Machinery of 750 kW/1,000 HP Propulsion Power or More [Operational level]
Entry path from national endorsements | Sea service * | Competence— STCW Table A- III/1 ** | Training required by this section ***
Second Assistant Engineer any horsepower | None | Yes | Yes.
Third Assistant Engineer any horsepower | None | Yes | Yes.
Assistant Engineer-Limited | None | Yes | Yes.
Designated Duty Engineer-Unlimited, less than 500 GRT | None | Yes | Yes.
Assistant Engineer-MODU | None | Yes | Yes.
Assistant Engineer-OSV | None | Yes | Yes.
Designated Duty Engineer, 3,000 kW/4,000 HP ¹ | 12 months | Yes | Yes.
Designated Duty Engineer, 750 kW/1,000 HP ¹ | 24 months | Yes | Yes.
* This column provides the minimum additional service required of the seafarer in order to meet the requirements of this section.
** Complete any items in paragraph (a)(3) of this section not previously satisfied.
*** Complete any items in paragraph (a)(4) of this section not previously satisfied.
¹ STCW certificate should be limited to vessels less than 500 GRT.

47. Amend § 11.331 by revising the section heading, paragraphs (a), (b) introductory text, and (c), and table 1 to § 11.331(e) to read as follows:

§ 11.331 Requirements to qualify for an STCW endorsement as Chief Engineer Officer on vessels powered by main propulsion machinery of 750 kW/1,000 HP or more and less than 3,000 kW/4,000 HP propulsion power (management level).

(a) To qualify for an STCW endorsement as Chief Engineer Officer, an applicant must—

(1) Provide evidence of meeting the requirements for certification as OICEW, and have not less than 24 months of service on seagoing vessels powered by main propulsion machinery of not less than 750 kW/1,000 HP, of which not less than 12 months must be served while qualified to serve as Second Engineer Officer. Experience gained in the deck department may be creditable for up to 2 months of the total service requirements;

(2) Provide evidence of meeting the standard of competence specified in Section A-III/3 of the STCW Code (incorporated by reference, see § 11.102); and

(3) Provide evidence of having satisfactorily completed approved training in the following areas:

(i) Engineroom Resource Management (ERM) if not completed at the operational level.

(ii) Leadership and managerial skills.

(iii) Management of electrical and electronic control equipment.

(b) For a renewal of an STCW endorsement as Chief Engineer Officer on vessels powered by main propulsion machinery of 750 kW/1,000 HP or more and less than 3,000 kW/4,000 HP propulsion power to be valid on or after January 1, 2017, each candidate must provide evidence of successful completion of approved training in the following:

* * * * *

(c) An engineer officer qualified to serve as Second Engineer Officer on vessels powered by main propulsion machinery of 3,000 kW/4,000 HP or more, may serve as Chief Engineer Officer on vessels powered by main propulsion machinery of 750 kW/1,000 HP or more and less than 3,000 kW/4,000 HP provided the certificate is so endorsed.

* * * * *

(e) * * *

Table 1 to § 11.331(e)—STCW Endorsement as Chief Engineer Officer on Vessels Powered by Main Propulsion Machinery of 750 kW/1,000 HP or More and Less Than 3,000 kW/4,000 HP Propulsion Power
Entry path from national endorsements | Sea service ¹ | Competence—STCW Table A-III/3 ² | Training required by this section ³
Chief Engineer | None | Yes | Yes.
First Assistant Engineer | None | Yes | Yes.
Chief Engineer-Limited | None | Yes | Yes.
Chief Engineer-OSV | None | Yes | Yes.
Chief Engineer-MODU | 12 months | Yes | Yes.
Designated Duty Engineer, 3,000 kW/4,000 HP ⁴ | 12 months | Yes | Yes.
Designated Duty Engineer, 750 kW/1,000 HP ⁴ | 24 months | Yes | Yes.
¹ This column provides the minimum additional service required of the seafarer in order to meet the requirements of this section.
² Complete any items in paragraph (a)(2) of this section not previously satisfied.
³ Complete any items in paragraph (a)(3) of this section not previously satisfied.
⁴ STCW certificate should be limited to vessels less than 500 GRT.

48. Amend § 11.333 by revising the section heading, paragraphs (a) and (b) introductory text, and table 1 to § 11.333(d) to read as follows:

§ 11.333 Requirements to qualify for an STCW endorsement as Second Engineer Officer on vessels powered by main propulsion machinery of 750kW/1,000 HP or more and less than 3,000 kW/4,000 HP propulsion power (management level).

(a) To qualify for an STCW endorsement as Second Engineer Officer, an applicant must—

(1) Provide evidence of meeting the requirements for certification as OICEW, as well as serving for not less than 12 months as Assistant Engineer Officer or engineer officer on vessels powered by main propulsion machinery of not less than 750 kW/1,000 HP. Experience gained in the deck department may be creditable for up to 1 month of the total service requirements;

(2) Provide evidence of meeting the standard of competence specified in Section A-III/3 of the STCW Code (incorporated by reference, see § 11.102); and

(3) Provide evidence of having satisfactorily completed approved training in the following areas:

(i) Engineroom Resource Management (ERM) if not completed at the operational level.

(ii) Leadership and managerial skills.

(iii) Management of electrical and electronic control equipment.

(b) For a renewal of an STCW endorsement as Second Engineer Officer on vessels powered by main propulsion machinery of 750 kW/1,000 HP or more and less than 3,000 kW/4,000 HP propulsion power to be valid on or after January 1, 2017, each candidate must provide evidence of successful completion of approved training in the following:

* * * * *

(d) * * *

Table 1 to § 11.333(d)—STCW Endorsement as Second Engineer Officer on Vessels Powered by Main Propulsion Machinery of 750 kW/1,000 HP or More and Less Than 3,000 kW/4,000 HP Propulsion Power
Entry path from national endorsements | Sea service ¹ | Competence—STCW Table A-III/3 ² | Training required by this section ³
First Assistant Engineer | None | Yes | Yes.
Second Assistant Engineer | None | Yes | Yes.
Third Assistant Engineer | 12 months | Yes | Yes.
Assistant Engineer-Limited | None | Yes | Yes.
Assistant Engineer-OSV | None | Yes | Yes.
Assistant Engineer-MODU | 12 months | Yes | Yes.
¹ This column provides the minimum additional service required of the seafarer in order to meet the requirements of this section.
² Complete any items in paragraph (a)(2) of this section not previously satisfied.
³ Complete any items in paragraph (a)(3) of this section not previously satisfied.

49. Amend § 11.335 by revising the section heading and paragraphs (a) and (c) to read as follows:

§ 11.335 Requirements to qualify for an STCW endorsement as an Electro-technical Officer on vessels powered by main propulsion machinery of 750 kW/1,000 HP or more (operational level).

(a) To qualify for an STCW endorsement as an Electro-technical Officer (ETO), an applicant must—

(1) Provide evidence of 36 months combined workshop skills training and approved seagoing service of which not less than 30 months must be seagoing service in the engine department of vessels. Experience gained in the deck department may be creditable for up to 3 months of the service requirements; or completion of an approved training program, that includes a combination of workshop skill training and seagoing service of not less than 12 months, and which meets the requirements of Section A-III/6 of the STCW Code (incorporated by reference, see § 11.102);

(2) Provide evidence of meeting the standard of competence specified in Section A-III/6 of the STCW Code;

(3) Provide evidence of having satisfactorily completed approved training in the following subject areas:

(i) Medical First-aid Provider.

(ii) Basic and Advanced Firefighting in accordance with § 11.303.

(iii) Proficiency in Survival Craft and Rescue Boats other than Fast Rescue Boats (PSC) or Proficiency in Survival Craft and Rescue Boats other than Lifeboats and Fast Rescue Boats (PSC-Limited); and

(4) Provide evidence of having satisfactorily completed approved professional training in the following subject areas:

(i) Onboard computer networking and security.

(ii) Radio electronics.

(iii) Integrated navigation equipment.

(iv) Ship propulsion and auxiliary machinery.

(v) Instrumentation and control systems.

(vi) High-voltage power systems.

* * * * *

(c) An applicant who holds an STCW endorsement as OICEW, Second Engineer Officer, or Chief Engineer Officer will be allowed to receive the ETO endorsement upon completion of the requirements in Section A-III/6 of the STCW Code.

* * * * *

50. Amend § 11.337 by revising the section heading and paragraph (a) to read as follows:

§ 11.337 Requirements to qualify for an STCW endorsement as Vessel Security Officer.

(a) The applicant for an endorsement as Vessel Security Officer (VSO) must present satisfactory documentary evidence in accordance with the requirements in 33 CFR 104.215.

* * * * *

51. Amend § 11.401 by revising paragraphs (a), (b), and (d) to read as follows:

§ 11.401 Ocean and near-coastal national officer endorsements.

(a) Subject to the provisions of §§ 11.464(e) and 11.465(b), any License or MMC endorsement for service as Master or Mate on ocean waters qualifies the mariner to serve in the same grade on any waters, except towing vessels upon western rivers subject to the limitations of the endorsement.

(b) Subject to the provisions of §§ 11.464(e) and 11.465(b), any License or MMC endorsement issued for service as Master or Mate on near-coastal waters qualifies the mariner to serve in the same grade on Great Lakes and inland waters, except towing vessels upon western rivers subject to the limitations of the endorsement.

* * * * *

(d) A Master or Mate on vessels of 200 GRT or more, and a Master or Mate on vessels under 200 GRT, may be endorsed for Sail or Auxiliary Sail as appropriate. The applicant must present the equivalent total service required for conventional officer endorsements, including at least 1 year of deck experience on that specific type of vessel. For example, for an officer endorsement as Master of vessels of less than 1,600 GRT endorsed for auxiliary sail, the applicant must meet the total experience requirements for the conventional officer endorsement, including time as Mate, and the proper tonnage experience, including at least 1 year of deck service, on appropriately sized auxiliary sail vessels. For an endorsement to serve on vessels of less than 200 GRT, see the individual endorsement requirements.

* * * * *

52. Amend § 11.402 by revising paragraphs (b) through (d) to read as follows:

§ 11.402 Tonnage requirements for national ocean or near-coastal endorsements for vessels of 1,600 GRT or more.

* * * * *

(b) If an applicant for a national endorsement as Master or Mate of unlimited tonnage does not have the service on vessels of 1,600 GRT or more as required by paragraph (a)(2) of this section, a tonnage limitation will be placed on the MMC based on the applicant's qualifying experience. The endorsement will be limited to the maximum tonnage on which at least 25 percent of the required experience was obtained, or 150 percent of the maximum tonnage on which at least 50 percent of the service was obtained, whichever is higher. However, the minimum tonnage limitation calculated according to this paragraph will be 2,000 GRT. Limitations are in multiples of 1,000 GRT using the next higher figure when an intermediate tonnage is calculated. When the calculated limitation equals or exceeds 10,000 GRT, the applicant is issued an unlimited tonnage endorsement.

(c) Tonnage limitations imposed under paragraph (b) of this section may be raised or removed in one of the following manners:

(1) When the applicant provides evidence of 6 months of service on vessels of 1,600 GRT or more in the highest grade endorsed, all tonnage limitations will be removed.

(2) When the applicant provides evidence of 6 months of service on vessels of 1,600 GRT or more in any capacity as an officer other than the highest grade for which they are endorsed, all tonnage limitations for the grade in which the service is performed will be removed and the next higher grade endorsement will be raised to the tonnage of the vessel on which the majority of the service was performed. The total cumulative service before and after issuance of the limited License or MMC officer endorsement may be considered in removing all tonnage limitations.

(3) When the applicant has 12 months of service as Able Seafarer on vessels of 1,600 GRT or more while holding a License or endorsement as Third Mate, all tonnage limitations on the Third Mate's License or MMC officer endorsement will be removed.

(d) No applicant holding any national endorsement as Master or Mate of vessels of less than 1,600 GRT, less than 500 GRT, or less than 25-200 GRT may use the provisions of paragraph (c) of this section to increase the tonnages of their License or endorsement.

53. Amend § 11.404 by revising the section heading, and paragraphs (a) and (b) introductory text to read as follows:

§ 11.404 Service requirements for Master of ocean or near-coastal self-propelled vessels of unlimited tonnage.

(a) The minimum service required to qualify an applicant for an endorsement as Master of ocean or near-coastal self-propelled vessels of unlimited tonnage is—

(1) One year of service as Chief Mate on ocean self-propelled vessels; or

(2) While holding a License or MMC endorsement as Chief Mate of ocean self-propelled vessels of unlimited tonnage, 12 months of service on deck as follows:

(i) A minimum of 6 months of service as Chief Mate.

(ii) Service as Second Mate, Third Mate, or Officer in Charge of a Navigational Watch (OICNW) accepted on a two-for-one basis (12 months as OICNW equals 6 months of creditable service).

(b) An individual holding an endorsement or License as Master of Great Lakes and inland, self-propelled vessels of unlimited tonnage, or Master of inland, self-propelled vessels of unlimited tonnage, may obtain an endorsement as Master of oceans or near-coastal self-propelled vessels of unlimited tonnage by providing evidence of sea service of not less than 24 months under the authority of the credential and by completing the prescribed examination in subpart I of this part. Service will be credited as follows:

* * * * *

54. Amend § 11.405 by revising the section heading and paragraph (a) to read as follows:

§ 11.405 Service requirements for Chief Mate of ocean or near-coastal self-propelled vessels of unlimited tonnage.

(a) The minimum service required to qualify an applicant for an endorsement as Chief Mate of ocean or near-coastal self-propelled vessels of unlimited tonnage is 1 year of service as Officer in Charge of a Navigational Watch (OICNW) on ocean self-propelled vessels while holding a License or MMC endorsement as Second Mate.

* * * * *

55. Amend § 11.406 by revising the section heading and paragraphs (a) and (c) to read as follows:

§ 11.406 Service requirements for Second Mate of ocean or near-coastal self-propelled vessels of unlimited tonnage.

(a) The minimum service required to qualify an applicant for an endorsement as Second Mate of ocean or near-coastal self-propelled vessels of unlimited tonnage is—

(1) One year of service as Officer in Charge of a Navigational Watch (OICNW) on ocean self-propelled vessels while holding a License or endorsement as Third Mate; or

(2) While holding a License or MMC endorsement as Third Mate of ocean self-propelled vessels of unlimited tonnage, 12 months of service on deck as follows:

(i) A minimum of 6 months service as officer in charge of a deck watch on ocean self-propelled vessels.

(ii) Service on ocean self-propelled vessels as Boatswain, Able Seafarer, or quartermaster while holding a certificate or MMC endorsement as Able Seafarer, which may be accepted on a two-for-one basis to a maximum allowable substitution of six months (12 months of experience equals 6 months of creditable service).

* * * * *

(c) If an individual holds an endorsement or License as Master of Great Lakes and inland self-propelled vessels of unlimited tonnage or Master of inland self-propelled vessels of unlimited tonnage, they may obtain an endorsement as Second Mate of ocean or near-coastal self-propelled vessels of unlimited tonnage by completing the prescribed examination in subpart I of this part.

* * * * *

56. Amend § 11.407 by revising the section heading and paragraphs (a) through (d) to read as follows:

§ 11.407 Service requirements for Third Mate of ocean or near-coastal self-propelled vessels of unlimited tonnage.

(a) The minimum service or training required to qualify an applicant for an endorsement as Third Mate of ocean or near-coastal self-propelled vessels of unlimited tonnage is—

(1) Three years of service in the deck department on ocean self-propelled vessels, with a minimum of 6 months of bridge watchkeeping duties under the supervision of the Master or a qualified officer. Experience gained in the engine department on vessels of appropriate tonnage may be creditable for up to 3 months of the service requirements for this officer endorsement;

(2) Graduation from—

(i) The U.S. Merchant Marine Academy (deck curriculum);

(ii) The U.S. Coast Guard Academy with qualification as an underway Officer in Charge of a Navigational Watch (OICNW), underway officer of the deck, or deck watch officer;

(iii) The U.S. Naval Academy with qualification as an underway OICNW, underway officer of the deck or deck watch officer; or

(iv) The deck class of a maritime academy approved by and conducted under rules prescribed by the Maritime Administrator and listed in part 310 of this title, including the ocean option program in the deck class of the Great Lakes Maritime Academy; or

(3) Satisfactory completion of a comprehensive Apprentice Mate training program approved by the Coast Guard.

(b) Graduation from the deck class of the Great Lakes Maritime Academy will qualify the graduate to be examined for an endorsement as Third Mate of self-propelled vessels of unlimited tonnage with a route appropriate to the program completed.

(c) While holding a license or MMC endorsement as Master of ocean or near-coastal self-propelled vessels of less than 1,600 GRT, 1 year of service as Master on vessels of more than 200 GRT operating on ocean or near-coastal waters will qualify the applicant for an endorsement as Third Mate of ocean or near-coastal self-propelled vessels of unlimited tonnage.

(d) An individual holding an endorsement or License as Mate of Great Lakes and inland, self-propelled vessels of unlimited tonnage, or Master of inland, self-propelled vessels of unlimited tonnage, may obtain an endorsement as Third Mate of oceans or near-coastal self-propelled vessels of unlimited tonnage by completing the prescribed examination in subpart I of this part.

* * * * *

57. Amend § 11.410 by revising paragraphs (a) and (b) introductory text to read as follows:

§ 11.410 Requirements for deck officer endorsements for vessels of less than 1,600 GRT.

(a) Endorsements as Master and Mate of vessels of less than 1,600 GRT are issued in the following tonnage categories:

* * * * *

(b) Experience gained in the engine department on vessels of appropriate tonnage may be creditable for up to 90 days of the service requirements for any Master or Mate endorsement in this category.

* * * * *

58. Amend § 11.412 by revising the section heading and paragraphs (a) and (b) to read as follows:

§ 11.412 Service requirements for Master of ocean or near-coastal self-propelled vessels of less than 1,600 GRT.

(a) The minimum service required to qualify an applicant for an endorsement as Master of ocean or near-coastal self-propelled vessels of less than 1,600 GRT is—

(1) Four years total service on ocean or near-coastal waters. Service on Great Lakes and inland waters may substitute for up to 2 years of the required service. Two years of the required service must have been on vessels of more than 100 GRT. Two years of the required service must have been as a Master or Mate of self-propelled vessels, or Master or Mate (Pilot) of Towing Vessels, or equivalent position while holding a License or MMC endorsement as Master or Mate of self-propelled vessels, or Master or Mate (Pilot) of Towing Vessels. One year of the service as Master or Mate of self-propelled vessels, or Master or Mate (Pilot) of Towing Vessels, or equivalent position must have been on vessels of more than 100 GRT; or

(2) One year of service on vessels of more than 100 GRT on ocean or near-coastal waters as a Master or Mate of self-propelled vessels, or Master or Mate of Towing Vessels while holding a License or MMC endorsement as Mate of ocean self-propelled vessels of less than 1,600 GRT or as Master or Mate of Towing Vessels.

(b) An applicant holding a License or MMC endorsement as Chief Mate of ocean or near-coastal self-propelled vessels of 1,600 GRT or more is eligible for this endorsement without further examination. An applicant holding a License or MMC endorsement as Second Mate of ocean or near-coastal self-propelled vessels of 1,600 GRT or more is eligible for this endorsement upon completion of a limited examination.

* * * * *

59. Amend § 11.414 by revising the section heading and paragraph (a) to read as follows:

§ 11.414 Service requirements for Mate of ocean self-propelled vessels of less than 1,600 GRT.

(a) The minimum service required to qualify an applicant for an endorsement as Mate of self-propelled vessels of less than 1,600 GRT is—

(1) Three years of total service in the deck department of ocean or near-coastal self-propelled, sail, or auxiliary sail vessels, as follows:

(i) Service on Great Lakes and inland waters may substitute for up to 18 months of the required service.

(ii) One year of the required service must have been on vessels of more than 100 GRT.

(iii) One year of the required service must have been as a Master or Mate of self-propelled vessels, or Master or Mate (Pilot) of Towing Vessels, or equivalent position while holding a License or MMC endorsement as Master, Mate, or Master or Mate (Pilot) of Towing Vessels. Six months of the required service as Master or Mate of self-propelled vessels, or Master or Mate (Pilot) of Towing Vessels, or equivalent position must have been on vessels of more than 100 GRT; or

(2) Three years of total service in the deck department on ocean or near-coastal self-propelled, sail, or auxiliary sail vessels of more than 100 GRT. Six months of the required service must have been while performing bridge watchkeeping duties under the supervision of the Master or a qualified officer.

* * * * *

60. Amend § 11.416 by revising the section heading and paragraph (a) to read as follows:

§ 11.416 Service requirements for Mate of near-coastal self-propelled vessels of less than 1,600 GRT.

(a) The minimum service required to qualify an applicant for an endorsement as Mate of near-coastal self-propelled vessels of less than 1,600 GRT is 2 years of total service in the deck department of ocean or near-coastal self-propelled, sail, or auxiliary sail vessels. Service on Great Lakes and inland waters may substitute for up to 1 year of the required service. One year of the required service must have been on vessels of more than 100 GRT. Six months of the required service must have been while performing bridge watchkeeping duties under the supervision of the Master or a qualified officer.

* * * * *

61. Amend § 11.418 by revising the section heading and paragraphs (a) and (b) to read as follows:

§ 11.418 Service requirements for Master of ocean or near-coastal self-propelled vessels of less than 500 GRT.

(a) The minimum service required to qualify an applicant for an endorsement as Master of ocean or near-coastal self-propelled vessels of less than 500 GRT is—

(1) Three years total of service on ocean or near-coastal waters. Service on Great Lakes and inland waters may substitute for up to 18 months of the required service. Two years of the required service must have been as a Master, Mate, or equivalent position while holding a License or MMC endorsement as Master, Mate, or Operator of Uninspected Passenger Vessels. One year of the required service as Master, Mate, or equivalent position must have been on vessels of more than 50 GRT; or

(2) One year of service on vessels of more than 50 GRT on ocean or near-coastal waters as a Master or Mate of self-propelled vessels, or Master or Mate of Towing Vessels while holding a License or MMC endorsement as Mate of ocean self-propelled vessels of less than 500 GRT.

(b) The holder of a License or MMC endorsement as Master or Mate (Pilot) of Towing Vessels authorizing service on oceans or near-coastal routes is eligible for an endorsement as Master of ocean or near-coastal self-propelled vessels of less than 500 GRT after both 1 year of service as Master or Mate of Towing Vessels on oceans or near-coastal routes and completion of a limited examination.

* * * * *

62. Amend § 11.420 by revising the section heading and paragraph (a) to read as follows:

§ 11.420 Service requirements for Mate of ocean self-propelled vessels of less than 500 GRT.

(a) The minimum service required to qualify an applicant for an endorsement as Mate of ocean self-propelled vessels of less than 500 GRT is 2 years of total service in the deck department of ocean or near-coastal self-propelled, sail, or auxiliary sail vessels. Service on Great Lakes and inland waters may substitute for up to 1 year of the required service. One year of the required service must have been as a Master, Mate, or equivalent position while holding a License or endorsement as Master, Mate, or Operator of Uninspected Passenger Vessels. Six months of the required service as Master, Mate, or equivalent position must have been on vessels of more than 50 GRT.

* * * * *

63. Amend § 11.421 by revising the section heading and paragraph (a) to read as follows:

§ 11.421 Service requirements for Mate of near-coastal self-propelled vessels of less than 500 GRT.

(a) The minimum service required to qualify an applicant for an endorsement as Mate of near-coastal self-propelled vessels of less than 500 GRT is 2 years of total service in the deck department of ocean or near-coastal self-propelled, sail, or auxiliary sail vessels. Service on Great Lakes and inland waters may substitute for up to 1 year of the required service. One year of the required service must have been on vessels of more than 50 GRT. Three months of the required service must have been while performing bridge watchkeeping duties under the supervision of the Master or a qualified officer on vessels of more than 50 GRT.

* * * * *

64. Revise § 11.422 to read as follows:

§ 11.422 Tonnage limitations and qualifying requirements for endorsements as Master or Mate of vessels of less than 200 GRT.

(a) Each national endorsement as Master or Mate of vessels of less than 200 GRT is issued with a tonnage limitation based on the applicant's qualifying experience. The tonnage limitation will be issued at the 25, 50, 100, or 200 GRT level. The endorsement will be limited to the maximum GRT on which at least 25 percent of the required experience was obtained, or 150 percent of the maximum GRT on which at least 50 percent of the service was obtained, whichever is higher. Limitations are as stated above, using the next higher figure when an intermediate tonnage is calculated. If more than 75 percent of the qualifying experience is obtained on vessels of 5 GRT or less, the MMC will automatically be limited to vessels of less than 25 GRT.

(b) The tonnage limitation may be raised as follows:

(1) For an endorsement as Mate, with at least 45 days of additional service on deck of a vessel in the highest tonnage increment authorized by the officer endorsement.

(2) For an endorsement as Master, with at least 90 days of additional service on deck of a vessel in the highest tonnage increment authorized by the Master endorsement.

(3) With additional service, which, when combined with all previously accumulated service, will qualify the applicant for a higher tonnage officer endorsement under the basic formula specified in paragraph (a) of this section.

(4) With 6 months additional service in the deck department on vessels within the highest tonnage increment on the officer's License or MMC endorsement. In this case, the tonnage limitation may be raised one increment.

(c) When the service is obtained on vessels upon which no personnel need an officer endorsement or License, the Coast Guard must be satisfied that the nature of this required service (i.e., size of vessel, route, equipment, etc.) is a reasonable equivalent to the duties performed on vessels which are required to engage individuals with officer endorsements.

(d) Service gained in the engineroom on vessels of 200 GRT or less may be creditable for up to 90 days of the deck service requirements for Mate.

65. Amend § 11.424 by revising the section heading and paragraphs (a) and (b) to read as follows:

§ 11.424 Requirements for Master of ocean self-propelled vessels of less than 200 GRT.

(a) The minimum service required to qualify an applicant for an officer endorsement as Master of ocean self-propelled vessels of less than 200 GRT is—

(1) Three years of total service on ocean or near-coastal waters. Service on Great Lakes and inland waters may substitute for up to 18 months of the required service. Two years of the required service must have been as Master, Mate, or equivalent position while holding a License or MMC endorsement as Master, as Mate, or as Operator of Uninspected Passenger Vessels (OUPV); or

(2) Two years of total service as a Master or Mate of ocean or near-coastal towing vessels. Completion of an examination is also required.

(b) In order to obtain an officer endorsement for sail or auxiliary sail vessels, the applicant must submit evidence of 12 months of service on sail or auxiliary sail vessels. The required 12 months of service may have been obtained prior to issuance of the Master's License or MMC endorsement.

* * * * *

66. Amend § 11.425 by revising the section heading and paragraphs (a), (b), and (d) to read as follows:

§ 11.425 Requirements for Mate of ocean self-propelled vessels of less than 200 GRT.

(a) The minimum service required to qualify for the endorsement as Mate of ocean self-propelled vessels of less than 200 GRT is—

(1) Twelve months of total service in the deck department of ocean or near-coastal self-propelled, sail, or auxiliary sail vessels. Service on Great Lakes and inland waters may substitute for up to 6 months of the required service; or

(2) Three months of service in the deck department of self-propelled vessels operating on ocean, near-coastal, Great Lakes, or inland waters while holding a License or MMC endorsement as Master of inland self-propelled, sail, or auxiliary sail vessels of less than 200 GRT.

(b) The holder of a License or MMC endorsement as Operator of Uninspected Passenger Vessels (OUPV) with a near-coastal route endorsement may obtain this endorsement by successfully completing an examination on rules and regulations for small passenger vessels.

* * * * *

(d) A License or MMC endorsement as Master of near-coastal self-propelled vessels may be endorsed as Mate of sail or auxiliary sail vessels upon presentation of 3 months of service on sail or auxiliary sail vessels.

* * * * *

67. Amend § 11.426 by revising the section heading and paragraph (a) to read as follows:

§ 11.426 Requirements for Master of near-coastal self-propelled vessels of less than 200 GRT.

(a) The minimum service required to qualify for a Master of near-coastal self-propelled vessels of less than 200 GRT is—

(1) Two years total service on ocean or near-coastal waters. Service on Great Lakes and inland waters may substitute for up to 1 year of the required service. One year of the required service must have been as a Master, Mate, or equivalent position while holding a License or endorsement as Master, Mate, or Operator of Uninspected Passenger Vessels (OUPV); or

(2) One year of total service as Master or Mate of Towing Vessels on ocean or near-coastal routes. Completion of an examination is also required.

* * * * *

68. Amend § 11.427 by revising the section heading and paragraphs (a), (b), and (d) to read as follows:

§ 11.427 Requirements for Mate of near-coastal self-propelled vessels of less than 200 GRT.

(a) The minimum service required to qualify for the endorsement as Mate of near-coastal self-propelled vessels of less than 200 GRT is—

(1) Twelve months of total service in the deck department of ocean or near-coastal self-propelled, sail, or auxiliary sail vessels. Service on Great Lakes and inland waters may substitute for up to 6 months of the required service; or

(2) Three months of service in the deck department of self-propelled vessels operating on ocean, near-coastal, Great Lakes, or inland waters while holding a License or MMC endorsement as Master of inland self-propelled, sail, or auxiliary sail vessels of less than 200 GRT.

(b) The holder of a License or MMC endorsement as Operator of Uninspected Passenger Vessels (OUPV) with a near-coastal route endorsement may obtain this endorsement by successfully completing an examination on rules and regulations for small passenger vessels.

* * * * *

(d) A License or MMC endorsement as Master of near-coastal self-propelled vessels may be endorsed as Mate of sail or auxiliary sail vessels upon presentation of 3 months of service on sail or auxiliary sail vessels.

* * * * *

69. Amend § 11.428 by revising the section heading and paragraphs (a), (b), and (d) to read as follows:

§ 11.428 Requirements for Master of near-coastal self-propelled vessels of less than 100 GRT.

(a) The minimum service required to qualify for the endorsement as Master of self-propelled, seagoing vessels of less than 100 GRT limited to domestic voyages upon near-coastal waters is 2 years of service in the deck department of a self-propelled vessel on ocean or near-coastal waters. Service on Great Lakes and inland waters may substitute for up to 1 year of the required service.

(b) To obtain an endorsement for sail or auxiliary sail vessels, the applicant must submit evidence of 12 months of service on sail or auxiliary-sail vessels. This required service may have been obtained before issuance of the License or MMC.

* * * * *

(d) All endorsements issued for Master or Mate of vessels of less than 100 GRT are issued in tonnage increments based on the applicant's qualifying experience in accordance with the provisions of § 11.422.

70. Amend § 11.429 by revising the section heading, paragraph (a) introductory text, and paragraph (c) to read as follows:

§ 11.429 Requirements for a Limited Master of near-coastal self-propelled vessels of less than 100 GRT.

(a) An endorsement as Limited Master for service on near-coastal waters on vessels of less than 100 GRT may be issued to an applicant to be employed by organizations such as yacht clubs, marinas, formal camps, and educational institutions. An endorsement issued under this section is limited to the specific activity and the locality of the yacht club, marina, or camp. To obtain this restricted endorsement, an applicant must—

* * * * *

(c) To obtain an endorsement for sail or auxiliary sail vessels, the applicant must submit evidence of 4 months of service on sail or auxiliary sail vessels. The required 4 months of service may have been obtained prior to issuance of the License or MMC endorsement.

* * * * *

71. Amend § 11.430 by revising paragraph (e) to read as follows:

§ 11.430 Endorsements for the Great Lakes and inland waters.

* * * * *

(e) To obtain a Master or Mate endorsement with a tonnage limit of 200 GRT or more, whether an original, raise of grade, or increase in the scope of authority, the applicant must meet the training requirements in § 11.201(h) and (i) and successfully complete Radar Observer training in § 11.480.

* * * * *

72. Amend § 11.433 by revising the section heading and paragraph (a) to read as follows:

§ 11.433 Requirements for Master of Great Lakes and inland self-propelled vessels of unlimited tonnage.

(a) The minimum service required to qualify an applicant for an endorsement as Master of Great Lakes and inland self-propelled vessels of unlimited tonnage is—

(1) One year of service as a Mate or First-Class Pilot while acting in the capacity of First Mate of Great Lakes self-propelled vessels of 1,600 GRT or more while holding a License or MMC endorsement as Mate inland or First-Class Pilot of Great Lakes and inland self-propelled vessels of unlimited tonnage;

(2) Two years of service as Master of self-propelled vessels of 1,600 GRT or more on inland waters, excluding the Great Lakes; or

(3) One year of service upon Great Lakes waters while holding a License or MMC endorsement as Mate or First-Class Pilot of Great Lakes and inland self-propelled vessels of 1,600 GRT or more. A minimum of 6 months of this service must have been in the capacity of First Mate. Service as Second Mate is accepted for the remainder on a two-for-one basis to a maximum of 6 months (2 days of service equals 1 day of creditable service).

* * * * *

73. Amend § 11.435 by revising the section heading and paragraph (a) to read as follows:

§ 11.435 Requirements for Master of inland self-propelled vessels of unlimited tonnage.

(a) The minimum service required to qualify an applicant for an endorsement as Master of self-propelled vessels of unlimited tonnage on inland waters, excluding the Great Lakes is—

(1) One year of service as First-Class Pilot (of other than canal and small lakes routes) or Mate of Great Lakes or inland self-propelled vessels of 1,600 GRT or more while holding a License or MMC endorsement as Mate inland or First-Class Pilot of Great Lakes and inland self-propelled vessels of unlimited tonnage; or

(2) Two years of service performing bridge watchkeeping duties under the supervision of the Master or a qualified officer while holding a Mate/First-Class Pilot License or MMC endorsement.

* * * * *

74. Amend § 11.437 by revising the section heading and paragraph (a) to read as follows:

§ 11.437 Requirements for Mate of Great Lakes and inland self-propelled vessels of unlimited tonnage.

(a) The minimum service required to qualify an applicant for an endorsement as Mate of Great Lakes and inland self-propelled vessels of unlimited tonnage is—

(1) Three years of service in the deck department of self-propelled vessels, at least 3 months of which must have been on vessels on inland waters and at least 6 months of which must have been while performing bridge watchkeeping duties under the supervision of the Master or a qualified officer;

(2) Graduation from the deck class of the Great Lakes Maritime Academy; or

(3) While holding a License or MMC endorsement as Master of Great Lakes and inland self-propelled vessels of less than 1,600 GRT, 1 year of service as Master on vessels of 200 GRT or more. A tonnage limitation may be placed on this License in accordance with § 11.431.

* * * * *

75. Amend § 11.442 by revising the section heading and paragraph (a) to read as follows:

§ 11.442 Requirements for Master of Great Lakes and inland self-propelled vessels of less than 1,600 GRT.

(a) The minimum service required to qualify an applicant for an endorsement as Master of Great Lakes and inland self-propelled vessels of less than 1,600 GRT is—

(1) Three years of total service on vessels. Eighteen months of the required service must have been on vessels of 100 GRT or more. One year of the required service must have been as a Master, Mate, or equivalent position on vessels of 100 GRT or more while holding a License or MMC endorsement as Master, Mate, or Master of Towing Vessels; or

(2) Six months of service as operator on vessels of 100 GRT or more while holding a License or MMC endorsement as Master of Towing Vessels.

* * * * *

76. Amend § 11.444 by revising the section heading and paragraph (a) to read as follows:

§ 11.444 Requirements for Mate of Great Lakes and inland self-propelled vessels of less than 1,600 GRT.

(a) The minimum service required to qualify an applicant for an endorsement as Mate of Great Lakes and inland self-propelled vessels of less than 1,600 GRT is—

(1) Two years of total service in the deck department of self-propelled vessels. One year of the required service must have been on vessels of 100 GRT or more. Six months of the required service must have been while performing bridge watchkeeping duties under the supervision of the Master or a qualified officer on vessels of 100 GRT or more;

(2) One year of total service as Master of self-propelled, sail, or auxiliary sail vessels, or Operator of Uninspected Passenger Vessels (OUPV) of 50 GRT or more while holding a License or MMC endorsement as Master of self-propelled vessels of less than 200 GRT or OUPV; or

(3) Six months of total service as Mate (Pilot) of Towing Vessels on vessels of 100 GRT or more.

* * * * *

77. Revise § 11.446 to read as follows:

§ 11.446 Requirements for Master of Great Lakes and inland self-propelled vessels of less than 500 GRT.

(a) The minimum service required to qualify an applicant for an endorsement as Master of Great Lakes and inland self-propelled vessels of less than 500 GRT is—

(1) Three years of total service on vessels. One year of the required service must have been as a Master, Mate, or equivalent position on vessels of 50 GRT or more while holding a License or MMC endorsement as Master, Mate, or OUPV.

(2) [Reserved]

(b) An applicant holding a License or MMC endorsement as Master of ocean, near-coastal, or Great Lakes and inland towing vessels is eligible for this endorsement after 6 months of service as Master of Towing Vessels and completion of a limited examination. This requires 3½years of service. Two years of this service must have been served while holding a License or MMC endorsement as Master or Mate (Pilot) of Towing Vessels, or Mate.

78. Revise § 11.448 to read as follows:

§ 11.448 Requirements for Mate of Great Lakes and inland self-propelled vessels of less than 500 GRT.

The minimum service required to qualify an applicant for an endorsement as Mate of Great Lakes and inland self-propelled vessels of less than 500 GRT is 2 years of total service in the deck department of self-propelled vessels. One year of the required service must have been on vessels of 50 GRT or more. Three months of the required service must have been while performing bridge watchkeeping duties under the supervision of the Master or a qualified officer on vessels of 50 GRT or more.

79. Revise § 11.450 to read as follows:

§ 11.450 Tonnage limitations and qualifying requirements for endorsements as Master or Mate of Great Lakes and inland vessels of less than 200 GRT.

(a) Except as noted in paragraph (d) of this section, all endorsements issued for Master or Mate of vessels of less than 200 GRT are issued in 50 GRT increments based on the applicant's qualifying experience in accordance with the provisions of § 11.422.

(b) Service gained in the engineroom on vessels of less than 200 GRT may be creditable for up to 25 percent of the deck service requirements for Mate.

(c) When the service is obtained on vessels upon which personnel with Licenses or endorsements are not required, the Coast Guard must be satisfied that the nature of this required service (i.e., size of vessel, route, equipment, etc.) is a reasonable equivalent to the duties performed on vessels which are required to engage individuals with endorsements.

(d) If more than 75 percent of the qualifying experience is obtained on vessels of 5 GRT or less, the License will automatically be limited to vessels of less than 25 GRT.

80. Revise § 11.452 to read as follows:

§ 11.452 Requirements for Master of Great Lakes and inland self-propelled vessels of less than 200 GRT.

(a) The minimum service required to qualify an applicant for an endorsement or License as Master of Great Lakes and inland self-propelled vessels of less than 200 GRT is 1 year of service on vessels. Six months of the required service must have been as Master, Mate, or equivalent position while holding a License or endorsement as Master or Mate of self-propelled vessels, or Master or Mate (Pilot) of Towing Vessels, or OUPV. To obtain authority to serve on the Great Lakes, 3 months of the required service must have been on Great Lakes waters; otherwise the endorsement will be limited to the inland waters of the United States (excluding the Great Lakes).

(b) To obtain an endorsement for sail or auxiliary sail vessels, the applicant must have 6 months of service on sail or auxiliary sail vessels. This required service may have been obtained prior to issuance of the License or MMC endorsement as Master.

81. Amend § 11.454 by revising the section heading and paragraphs (a), (c), and (d) to read as follows:

§ 11.454 Requirements for Mate of Great Lakes and inland self-propelled vessels of less than 200 GRT.

(a) The minimum service required to qualify an applicant for an endorsement as Mate of Great Lakes and inland self-propelled vessels of less than 200 GRT is 6 months of service in the deck department of self-propelled vessels. To obtain authority to serve on the Great Lakes, 3 months of the required service must have been on Great Lakes waters; otherwise the endorsement will be limited to the inland waters of the United States (excluding the Great Lakes).

* * * * *

(c) A mariner holding an endorsement as Master of self-propelled vessels may be endorsed as Mate of sail or auxiliary sail vessels upon presentation of 3 months service on sail or auxiliary sail vessels.

(d) The holder of a License or MMC endorsement as Operator of Inland Uninspected Passenger Vessels (OUPV) may obtain this endorsement by successfully completing an examination on rules and regulations for small passenger vessels. To obtain authority to serve on the Great Lakes, 3 months of the required service must have been on Great Lakes waters; otherwise the endorsement will be limited to the inland waters of the United States (excluding the Great Lakes).

* * * * *

82. Amend § 11.455 by revising the section heading and paragraphs (a) and (c) to read as follows:

§ 11.455 Requirements for Master of Great Lakes and inland self-propelled vessels of less than 100 GRT.

(a) The minimum service required to qualify an applicant for an endorsement as Master of Great Lakes and inland self-propelled vessels of less than 100 GRT is 1 year of total service in the deck department of self-propelled, sail, or auxiliary sail vessels. To obtain authority to serve on the Great Lakes, 3 months of the required service must have been on Great Lakes waters; otherwise the endorsement will be limited to the inland waters of the United States (excluding the Great Lakes).

* * * * *

(c) All endorsements issued for Master or Mate of vessels of less than 100 GRT are issued in tonnage increments based on the applicant's qualifying experience in accordance with the provisions of § 11.422.

83. Amend § 11.456 by revising the section heading and paragraph (a) introductory text to read as follows:

§ 11.456 Requirements for Limited Master of Great Lakes and inland self-propelled vessels of less than 100 GRT.

(a) An endorsement as Limited Master for vessels of less than 100 GRT upon Great Lakes and inland waters may be issued to an applicant to be employed by organizations such as formal camps, educational institutions, yacht clubs, and marinas with reduced service requirements. An endorsement issued under this paragraph is limited to the specific activity and the locality of the camp, yacht club, or marina. To obtain this restricted endorsement, an applicant must—

* * * * *

84. Revise § 11.457, to read as follows:

§ 11.457 Requirements for Master of inland self-propelled vessels of less than 100 GRT.

(a) An applicant for an endorsement as Master of inland self-propelled vessels of less than 100 GRT must present 1 year of service on any waters. In order to raise the tonnage limitation to more than 100 GRT, the examination topics indicated in subpart I of this part must be completed in addition to satisfying the experience requirements of § 11.452(a).

(b) To obtain an endorsement for sail or auxiliary sail vessels, the applicant must submit evidence of 6 months of service on sail or auxiliary sail vessels. The required 6 months of service may have been obtained prior to issuance of the License or MMC endorsement.

(c) All endorsements issued for Master or Mate of vessels of less than 100 GRT are issued in tonnage increments based on the applicant's qualifying experience in accordance with the provisions of § 11.422.

85. Revise § 11.459, to read as follows:

§ 11.459 Requirements for national endorsement as Master or Mate on rivers.

(a) An applicant for an endorsement as Master of river self-propelled vessels of unlimited tonnage must meet the same service requirements as Master of inland self-propelled vessels of unlimited tonnage.

(b) An applicant for an endorsement as Master or Mate of river self-propelled vessels, with a limitation of 25 to 1,600 GRT, must meet the same service requirements as those required by this subpart for the corresponding tonnage Great Lakes and inland self-propelled endorsement. Service on the Great Lakes is not, however, required.

86. Amend § 11.462 by revising the section heading and paragraphs (b) through (d) to read as follows:

§ 11.462 Requirements for national endorsement as Master or Mate of Uninspected Fishing Industry Vessels.

* * * * *

(b) Endorsements as Master or Mate of Uninspected Fishing Industry Vessels are issued for either ocean or near-coastal routes, depending on the examination completed. To qualify for an Uninspected Fishing Industry Vessel endorsement, the applicant must satisfy the training and examination requirements of § 11.201(h)(1).

(c) An applicant for an endorsement as Master of Uninspected Fishing Industry Vessels must have 4 years of total service on ocean or near-coastal routes. Service on Great Lakes or inland waters may substitute for up to 2 years of the required service. One year of the required service must have been as Master, Mate, or equivalent position while holding a License or MMC endorsement as Master or Mate of self-propelled vessels, or Master or Mate (Pilot) of Towing Vessels, or OUPV.

(1) To qualify for an endorsement for less than 500 GRT, at least 2 years of the required service, including the 1 year as Master, Mate, or equivalent, must have been on vessels of 50 GRT or more.

(2) To qualify for an endorsement for less than 1,600 GRT, at least 2 years of the required service, including the 1 year as Master, Mate, or equivalent, must have been on vessels of 100 GRT or more.

(3) To qualify for an endorsement for more than 1,600 GRT, but not more than 5,000 GRT, the vessel tonnage upon which the 4 years of required service was obtained will be used to compute the tonnage. The endorsement is limited to the maximum tonnage on which at least 25 percent of the required service was obtained or 150 percent of the maximum tonnage on which at least 50 percent of the service was obtained, whichever is higher. Limitations are in multiples of 1,000 GRT, using the next higher figure when an intermediate tonnage is calculated. An endorsement as Master of Uninspected Fishing Industry Vessels authorizing service on vessels more than 1,600 GRT also requires 1 year as Master, Mate, or equivalent on vessels of 100 GRT or more.

(4) The tonnage limitation for this endorsement may be raised using one of the following methods but cannot exceed 5,000 GRT. Limitations are in multiples of 1,000 GRT, using the next higher figure when an intermediate tonnage is calculated.

(i) Three months of service as Master on a vessel results in a limitation in that capacity equal to the tonnage of that vessel rounded up to the next multiple of 1,000 GRT.

(ii) Six months of service as Master on a vessel results in a limitation in that capacity equal to 150 percent of the tonnage of that vessel.

(iii) Six months of service as Master on vessels more than 1,600 GRT results in raising the limitation to 5,000 GRT.

(iv) Six months of service as Mate on vessels more than 1,600 GRT results in raising the limitation for Master to the tonnage on which at least 50 percent of the service was obtained.

(v) Two years of service as a deckhand on a vessel while holding a License or MMC endorsement as Master results in a limitation on the MMC equal to 150 percent of the tonnage of that vessel up to 5,000 GRT.

(vi) One year of service as deckhand on a vessel while holding a License or MMC endorsement as Master results in a limitation on the MMC equal to the tonnage of that vessel.

(d) An applicant for an endorsement as Mate of Uninspected Fishing Industry Vessels must have 3 years of total service on ocean or near-coastal routes. Service on Great Lakes or inland waters may substitute for up to 18 months of the required service.

(1) To qualify for an endorsement of less than 500 GRT, at least 1 year of the required service must have been on vessels of 50 GRT or more.

(2) To qualify for an endorsement of less than 1,600 GRT, at least 1 year of the required service must have been on vessels of 100 GRT or more.

(3) To qualify for an endorsement of more than 1,600 GRT, but not more than 5,000 GRT, the vessel tonnage upon which the 3 years of required service was obtained will be used to compute the tonnage. The endorsement is limited to the maximum tonnage on which at least 25 percent of the required service was obtained, or 150 percent of the maximum tonnage on which at least 50 percent of the service was obtained, whichever is higher. Limitations are in multiples of 1,000 GRT, using the next higher figure when an intermediate tonnage is calculated.

(4) The tonnage limitation on this endorsement may be raised using one of the following methods, but cannot exceed 5,000 GRT. Limitations are in multiples of 1,000 GRT, using the next higher figure when an intermediate tonnage is calculated.

(i) Three months of service as Mate on a vessel results in a limitation in that capacity equal to the tonnage of that vessel rounded up to the next multiple of 1,000 GRT.

(ii) Six months of service as Mate on a vessel results in a limitation in that capacity equal to 150 percent of the tonnage of that vessel.

(iii) Six months of service as Mate on vessels more than 1,600 GRT results in raising the limitation to 5,000 GRT.

(iv) One year of service as deckhand on vessels more than 1,600 GRT while holding a License or MMC endorsement as Mate, results in raising the limitation on the MMC to 5,000 GRT;

(v) Two years of service as a deckhand on a vessel while holding a License or MMC endorsed as Mate results in a limitation on the MMC equal to 150 percent of the tonnage of that vessel up to 5,000 GRT.

(vi) One year of service as deckhand on a vessel while holding a License or MMC endorsement as Mate results in a limitation on the MMC equal to the tonnage of that vessel.

* * * * *

87. Amend § 11.463 by revising the section heading, paragraphs (a) through (e), paragraph (g), and Figure 11.463(h) to read as follows:

§ 11.463 General requirements for national endorsements as Master, Mate (Pilot), and Apprentice Mate of Towing Vessels.

(a) The Coast Guard issues the following endorsements for towing vessels:

(1) Master of Towing Vessels.

(2) Master of Towing Vessels-Limited.

(3) Mate (Pilot) of Towing Vessels.

(4) Apprentice Mate of Towing Vessels.

(5) Apprentice Mate of Towing Vessels-Limited.

(b) An endorsement as Master of Towing Vessels means an endorsement to operate towing vessels not restricted to local areas designated by OCMIs. This also applies to a Mate (Pilot) of Towing Vessels.

(c) For this section, “Limited” means an endorsement to operate a towing vessel of less than 200 GRT only within a local area on the Great Lakes, inland waters, or Western Rivers designated by the OCMI.

(d) Mariners who met the training and service requirements for towing vessels before May 21, 2001, and have maintained a valid Coast Guard-issued credential may obtain a towing endorsement if they meet the following:

(1) Demonstrate at least 90 days of towing service before May 21, 2001;

(2) Provide evidence of successfully completing the Apprentice Mate exam, its predecessor exam, or a superior exam' and

(3) Meet the renewal requirements in § 10.227(e)(6)(i) of this subchapter.

(e) Mariners who operated towing vessels in the offshore oil and mineral industry prior to October 15, 2010, may obtain a towing endorsement until December 24, 2018 as follows:

(1) Mariners who held an officer endorsement as Operator of Uninspected Towing Vessels (OUTV) or Mate or Master of Inspected Self-propelled Vessels may qualify for a towing endorsement if they meet the following:

(i) Provide evidence of at least 90 days of service on towing vessels in the offshore oil and mineral industry prior to October 15, 2010;

(ii) Provide evidence of successfully completing the Apprentice Mate of Towing Vessels examination, its predecessor exam, or a superior exam; and

(iii) Meet the renewal requirements in § 10.227(e)(6) of this subchapter.

(2) Mariners who have not held any of the officer endorsements listed in paragraph (e)(1) of this section may qualify for an endorsement as Master of Towing Vessels if they meet the following:

(i) Provide evidence of at least 48 months of service on towing vessels in the offshore oil and mineral industry prior to October 15, 2010; and

(ii) Successfully complete the appropriate Apprentice Mate of Towing Vessels exam.

(3) Mariners who have not held any of the officer endorsements listed in paragraph (e)(1) of this section may qualify for an endorsement as Mate of Towing Vessels if they meet the following:

(i) Provide evidence of at least 36 months of service on towing vessels in the offshore oil and mineral industry prior to October 15, 2010; and

(ii) Successfully complete the appropriate Apprentice Mate of Towing Vessels exam.

* * * * *

(g) Endorsements as Mate (Pilot) or Master of Towing Vessels may be issued with a restriction to specific types of towing vessels and/or towing operations such as vessels that do not routinely perform all of the tasks identified in the Towing Officer Assessment Record (TOAR).

(h) * * *

Figure 1 to § 11.463(h)—Structure of Towing Officer Endorsements

88. Revise § 11.464 to read as follows:

§ 11.464 Requirements for national endorsements as Master of Towing Vessels.

(a) An applicant for an endorsement as Master of Towing Vessels with a route listed in column 1 of table 1 to this section, must complete the service requirements indicated in columns 2 through 5. Applicants may serve on the subordinate routes listed in column 5 without further endorsement.

Table 1 to § 11.464(a)—Requirements for Endorsement as Master of Towing Vessels ¹
1 | 2 | 3 | 4 | 5
Route endorsed | Total service ² | TOS ³ on T/V as Mate (Pilot) | TOS ³ on particular route | Sub-ordinate route authorized
(1) OCEANS (O) | 48 | 18 | 3 | NC, GL-I.
(2) NEAR-COASTAL (NC) | 48 | 18 | 3 | GL-I.
(3) GREAT LAKES-INLAND (GL-I) | 48 | 18 | 3 | None.
(4) WESTERN RIVERS (WR) | 48 | 18 | 3 | None.
¹ The holder of an endorsement as Master of Towing Vessels may have an endorsement placed on the MMC as Mate (Pilot) of Towing Vessels for a route superior to the current route on which the holder has no operating experience after passing an examination for that additional route. After the holder completes 90 days of experience and completes a Towing Officer Assessment Record (TOAR) on that route, the Coast Guard will add it to the holder's endorsement as Master of Towing Vessels and remove the endorsement for Mate (Pilot) of Towing Vessels.
² Service is in months.
³ TOS is time of service.

(b) A person holding this endorsement may qualify for an STCW endorsement, according to §§ 11.307, 11.311, 11.313, and 11.315.

(c) To obtain an endorsement as Master of Towing Vessels-Limited, applicants must complete the requirements listed in columns 2 through 5 of table 2 to paragraph (c) of this section.

Table 2 to § 11.464(c)—Requirements for National Endorsement as Master of Towing Vessels-Limited
1 | 2 | 3 | 4 | 5
Route endorsed | Total service ¹ | TOS ² on T/V as apprentice mate of towing- limited | TOAR or an approved course | TOS on particular route
LIMITED LOCAL AREA (LLA) | 36 | 18 | Yes | 3.
¹ Service is in months.
² TOS is time of service.

(d) Those holding a License or MMC endorsement as Mate (Pilot) of Towing Vessels, may have Master of Towing Vessels-Limited added to their MMC for a limited local area within the scope of their current route.

(e) Before serving as Master of Towing Vessels on the Western Rivers, mariners must possess 90 days of observation and training and their MMC must include an endorsement for Western Rivers.

(f) Each company must maintain evidence that every vessel it operates is under the direction and control of a mariner with the appropriate endorsement and experience, including 30 days of observation and training on the intended route other than Western Rivers.

(g) Those holding a License or MMC endorsement as a Master of self-propelled vessels of more than 200 GRT, may operate towing vessels within any restrictions on their endorsement if they-

(1) Have a minimum of 30 days of training and observation on towing vessels for the route being assessed, except as noted in paragraph (e) of this section; and

(2) Either—

(i) Hold a completed Towing Officer Assessment Record (TOAR) described in § 10.404(c) of this subchapter that shows evidence of assessment of practical demonstration of skills; or

(ii) Complete an approved training course.

(h) A License or MMC does not need to include a towing endorsement if mariners hold a TOAR or complete an approved training course.

89. Amend § 11.465 by revising the section heading, paragraphs (a) and (b), and paragraphs (d) through (g) to read as follows:

§ 11.465 Requirements for national endorsements as Mate (Pilot) of Towing Vessels.

(a) To obtain an endorsement as Mate (Pilot) of Towing Vessels endorsed with a route listed in column 1 of table 1 to paragraph (a) of this section, applicants must complete the service in columns 2 through 5. Mariners holding a License or MMC endorsement as Master of Towing Vessels-Limited wishing to raise of grade to Mate (Pilot) of Towing Vessels must complete the service in columns 5 and 6. An endorsement with a route endorsed in column 1 authorizes service on the subordinate routes listed in column 7 without further endorsement. Time of service requirements as an Apprentice Mate of Towing Vessels may be reduced by an amount equal to the time specified in the approval letter for a completed Coast Guard-approved training program.

Table 1 to § 11.465(a)—Requirements for National Endorsement as Mate (Pilot ¹) of Towing Vessels
1 | 2 | 3 | 4 | 5 | 6 | 7
Route endorsed | Total service ² | TOS ³ on T/V as apprentice mate of towing vessels⁴ | TOS on particular route | TOAR ⁵ or an approved course | 30 days of observation and training while holding master of towing vessels-limited and pass an examination | Subordinate route authorized
(1) OCEANS (O) | 30 | 12 | 3 | YES | YES | (1) OCEANS (O)
(2) NEAR-COASTAL (NC) | 30 | 12 | 3 | YES | YES | (2) NEAR-COASTAL (NC)
(3) GREAT LAKES-INLAND (GL-I) | 30 | 12 | 3 | YES | YES | (3) GREAT LAKES-INLAND (GL-I)
(4) WESTERN RIVERS (WR) | 30 | 12 | 3 | YES | NO (90 days service required) | (4) WESTERN RIVERS (WR)
¹ For all inland routes, as well as Western Rivers, the endorsement as Pilot of Towing Vessels is equivalent to that as Mate of Towing Vessels. All qualifications and equivalencies are the same.
² Service is in months unless otherwise indicated.
³ TOS is time of service.
⁴ Time of service requirements as an Apprentice Mate of Towing Vessels may be reduced by an amount equal to the time specified in the approval letter for a completed Coast Guard-approved training program.
⁵ TOAR is a Towing Officer Assessment Record.

(b) Before serving as Mate (Pilot) of Towing Vessels on the Western Rivers, mariners must possess 90 days of observation and training and have their MMC include an endorsement for Western Rivers.

* * * * *

(d) Those holding a License or MMC endorsement as a Mate of inspected, self-propelled vessels of more than 200 GRT or one as First-Class Pilot, may operate towing vessels within any restrictions on their credential if they-

(1) Have a minimum of 30 days of training and observation on towing vessels for the route being assessed, except as noted in paragraph (b) of this section; and

(2) Hold a completed Towing Officer Assessment Record (TOAR) described in § 10.404(c) of this subchapter that shows evidence of assessment of practical demonstration of skills.

(e) A License or MMC does not need to include a towing endorsement if you hold a TOAR or a course completion certificate.

(f) Those holding any endorsement as a Master of self-propelled vessels of any tonnage that is less than 200 GRT, except for the Limited Master endorsements specified in §§ 11.429 and 11.456, may obtain an endorsement as Mate (Pilot) of Towing Vessels by meeting the following requirements:

(1) Providing proof of 36 months of service as a Master under the authority of an endorsement described in this paragraph;

(2) Successfully completing the appropriate TOAR;

(3) Successfully completing the appropriate Apprentice Mate exam; and

(4) Having a minimum of 30 days of training and observation on towing vessels for the route being assessed, except as noted in paragraph (b) of this section.

(g) An approved training course for Mate (Pilot) of Towing Vessels must include formal instruction and practical demonstration of proficiency either onboard a towing vessel or at a shoreside training facility before a designated examiner, and must cover the material (dependent upon route) required by table 2 to § 11.910 for Apprentice Mate of Towing Vessels on ocean and near-coastal routes; Apprentice Mate of Towing Vessels on Great Lakes and inland routes; or Apprentice Mate of Towing Vessels on Western Rivers routes.

* * * * *

90. Revise § 11.466 to read as follows:

§ 11.466 Requirements for national endorsements as Apprentice Mate of Towing Vessels.

(a) As table 1 to § 11.466(a) shows, to obtain an endorsement as Apprentice Mate of Towing Vessels listed in column 1, endorsed with a route listed in column 2, mariners must complete the service requirements indicated in columns 3 through 6.

Table 1 to § 11.466(a)—Requirements for National Endorsement as Apprentice Mate of Towing Vessels
1 | 2 | 3 | 4 | 5 | 6
Endorsement | Route endorsed | Total service ¹ | TOS ² on T/V | TOS on particular route | Pass examination ³
(1) APPRENTICE MATE OF TOWING VESSELS | OCEANS (O) | 18 | 12 | 3 | YES.
| NEAR-COASTAL (NC) | 18 | 12 | 3 | YES.
| GREAT LAKES | 18 | 12 | 3 | YES.
| INLAND (GL-I) | 18 | 12 | 3 | YES.
| WESTERN RIVERS (WR) | 18 | 12 | 3 | YES.
(2) APPRENTICE MATE OF TOWING VESSELS -LIMITED | NOT APPLICABLE | 18 | 12 | 3 | YES.
¹ Service is in months.
² TOS is time of service.
³ The examination for Apprentice Mate is specified in subpart I of this part.

(b) Those holding a License or endorsement as Apprentice Mate of Towing Vessels may obtain a restricted endorsement as Apprentice Mate of Towing Vessels-Limited. This endorsement will go on the mariner's MMC after passing an examination for a route that is not included in the current endorsements and on which the mariners have no operating experience. Upon completion of 3 months of experience on that route, mariners may have the restriction removed.

91. Amend § 11.467 by revising the section heading and paragraph (a) to read as follows:

§ 11.467 Requirements for a national endorsement as Operator of Uninspected Passenger Vessels of less than 100 GRT.

(a) This section applies to an applicant for an endorsement as Operator of Uninspected Passenger Vessels (OUPV) of less than 100 GRT, equipped with propulsion machinery of any type, carrying six or fewer passengers.

* * * * *

92. Revise § 11.470 to read as follows:

§ 11.470 National officer endorsements as Offshore Installation Manager.

(a) Officer endorsements as Offshore Installation Manager (OIM) include:

(1) OIM Unrestricted.

(2) OIM Surface Units on Location.

(3) OIM Surface Units Underway.

(4) OIM Bottom Bearing Units on Location.

(5) OIM Bottom Bearing Units Underway.

(b) To qualify for an endorsement as OIM Unrestricted, an applicant must—

(1) Present evidence of one of the following:

(i) Four years of employment assigned to MODUs, including at least 1 year of service as Driller, Assistant Driller, Toolpusher, Assistant Toolpusher, Barge Supervisor, Mechanical Supervisor, Electrician, Crane Operator, Ballast Control Operator, or equivalent supervisory position on MODUs, with a minimum of 14 days of that supervisory service on surface units; or

(ii) A degree from a program in engineering or engineering technology which is accredited by the Accreditation Board for Engineering and Technology (ABET). The National Maritime Center will give consideration to accepting education credentials from programs having other than ABET accreditation. An applicant qualifying through a degree program must also have at least 168 days of service as Driller, Assistant Driller, Toolpusher, Assistant Toolpusher, Barge Supervisor, Mechanical Supervisor, Electrician, Crane Operator, Ballast Control Operator, or equivalent supervisory position on MODUs, with a minimum of 14 days of that supervisory service on surface units;

(2) Present evidence of training course completion as follows:

(i) A certificate from a Coast Guard-approved stability course approved for OIM Unrestricted.

(ii) A certificate from a Coast Guard-approved survival suit and survival craft training course.

(iii) A certificate from a firefighting training course as required by § 11.201(h); and

(3) Provide a recommendation signed by a senior company official which—

(i) Provides a description of the applicant's experience and qualifications;

(ii) Certifies that the individual has successfully directed, while under the supervision of an experienced rig mover, two rig moves each of surface units and of bottom bearing units; and

(iii) Certifies that one of the rig moves required under paragraph (b)(3)(ii) of this section was completed within 1 year preceding date of application.

(c) An applicant for an endorsement as OIM Unrestricted who holds an unlimited license or MMC endorsement as Master or Chief Mate must satisfy the requirements in paragraphs (b)(2) and (3) of this section and have at least 84 days of service on surface units and at least 28 days of service on bottom bearing units.

(d) To qualify for an endorsement as OIM Surface Units on Location, an applicant must—

(1) Present evidence of one of the following:

(i) Four years of employment assigned to MODUs, including at least 1 year of service as Driller, Assistant Driller, Toolpusher, Assistant Toolpusher, Barge Supervisor, Mechanical Supervisor, Electrician, Crane Operator, Ballast Control Operator, or equivalent supervisory position on MODUs, with a minimum of 14 days of that supervisory service on surface units.

(ii) A degree from a program in engineering or engineering technology which is accredited by the Accreditation Board for Engineering and Technology (ABET). The National Maritime Center will give consideration to accepting education credentials from programs having other than ABET accreditation. An applicant qualifying through a degree program must also have at least 168 days of service as Driller, Assistant Driller, Toolpusher, Assistant Toolpusher, Barge Supervisor, Mechanical Supervisor, Electrician, Crane Operator, Ballast Control Operator, or equivalent supervisory position of MODUs, with a minimum of 14 days of that supervisory service on surface units; and

(2) Present evidence of training course completion as follows:

(i) A certificate from a Coast Guard-approved stability course approved for a License or MMC endorsement as OIM Surface Units.

(ii) A certificate from a Coast Guard-approved survival suit and survival craft training course.

(iii) A certificate from a firefighting training course as required by § 11.201(h).

(e) An applicant for an endorsement as OIM Surface Units on Location who holds an unlimited License or MMC endorsement as Master or Chief Mate must satisfy the requirements of paragraph (d)(2) of this section and have at least 84 days of service on surface units.

(f) To qualify for an endorsement as OIM Surface Units Underway, an applicant must—

(1) Provide the following:

(i) Evidence of the experience described in paragraph (d)(1) of this section and a recommendation signed by a senior company official which—

(A) Provides a description of the applicant's experience and qualifications;

(B) Certifies that the individual has successfully directed, while under the supervision of an experienced rig mover, three rig moves of surface units; and

(C) Certifies that one of the rig moves required under paragraph (f)(1)(i)(B) of this section was completed within 1 year preceding date of application; or

(ii) A recommendation signed by a senior company official which—

(A) Provides a description of the applicant's experience and company qualifications program completed;

(B) Certifies that the applicant has witnessed ten rig moves either as an observer in training or as a rig mover under supervision;

(C) Certifies that the individual has successfully directed, while under the supervision of an experienced rig mover, five rig moves of surface units; and

(D) Certifies that one of the rig moves required under paragraph (f)(1)(ii)(C) of this section was completed within 1 year preceding the date of application; and

(2) Present evidence of training course completion as follows:

(i) A certificate from a Coast Guard-approved stability course approved for an OIM Surface Units Endorsement.

(ii) A certificate from a Coast Guard-approved survival suit and survival craft training course.

(iii) A certificate from a firefighting training course as required by § 11.201(h).

(g) An applicant for endorsement as OIM Surface Units Underway who holds an unlimited License or MMC endorsement as Master or Chief Mate must satisfy the requirements in paragraph (f)(2) of this section and provide a company recommendation signed by a senior company official which—

(1) Provides a description of the applicant's experience and qualifications;

(2) Certifies that the individual has successfully directed, while under the supervision of an experienced rig mover, three rig moves on surface units; and

(3) Certifies that one of the rig moves required under paragraph (g)(2) of this section was completed within 1 year preceding the date of application.

(h) To qualify for an endorsement as OIM Bottom Bearing Units on Location, an applicant must—

(1) Present evidence of one of the following:

(i) Four years of employment assigned to MODUs, including at least 1 year of service as Driller, Assistant Driller, Toolpusher, Assistant Toolpusher, Barge Supervisor, Mechanical Supervisor, Electrician, Crane Operator, Ballast Control Operator, or equivalent supervisory position on MODUs.

(ii) A degree from a program in engineering or engineering technology that is accredited by ABET. The National Maritime Center will give consideration to accepting education credentials from programs having other than ABET accreditation. An applicant qualifying through a degree program must also have at least 168 days of service as Driller, Assistant Driller, Toolpusher, Assistant Toolpusher, Barge Supervisor, Mechanical Supervisor, Electrician, Crane Operator, Ballast Control Operator, or equivalent supervisory position on MODUs; and

(2) Present evidence of training course completion as follows:

(i) A certificate from a Coast Guard-approved survival suit and survival craft training course.

(ii) A certificate from a firefighting training course as required by § 11.201(h).

(i) An applicant for an endorsement as OIM Bottom Bearing Units on Location who holds an unlimited License or MMC endorsement as Master or Chief Mate must satisfy paragraph (h)(2) of this section and have at least 28 days of service on bottom bearing units.

(j) To qualify for an endorsement as OIM Bottom Bearing Units Underway, an applicant must—

(1) Provide the following:

(i) Evidence of the experience described in paragraph (h)(1) of this section with a recommendation signed by a senior company official which—

(A) Provides a description of the applicant's experience and qualifications;

(B) Certifies that the individual has successfully directed, while under the supervision of an experienced rig mover, three rig moves of bottom bearing units; and

(C) Certifies that one of the rig moves required under paragraph (j)(1)(i)(B) of this section was completed within 1 year preceding date of application; or

(ii) A recommendation signed by a senior company official which—

(A) Provides a description of the applicant's experience and company qualifications program completed;

(B) Certifies that the applicant has witnessed ten rig moves either as an Observer in training or as a rig mover under supervision;

(C) Certifies that the individual has successfully directed, while under the supervision of an experienced rig mover, five rig moves of bottom bearing units; and

(D) Certifies that one of the rig moves required under paragraph (j)(1)(ii)(C) of this section was completed within 1 year preceding date of application; and

(2) Present evidence of training course completion as follows:

(i) A certificate from a Coast Guard-approved stability course approved for a License or MMC endorsement as OIM Bottom Bearing Units.

(ii) A certificate from a Coast Guard-approved survival suit and survival craft training course.

(iii) A certificate from a firefighting training course as required by § 11.201(h).

(k) An applicant for endorsement as OIM Bottom Bearing Units Underway who holds an unlimited License or MMC endorsement as Master or Chief Mate must satisfy the requirements in paragraph (j)(2) of this section and provide a company recommendation signed by a senior company official, which—

(1) Provides a description of the applicant's experience and qualifications;

(2) Certifies that the individual has successfully directed, while under the supervision of an experienced rig mover, three rig moves of bottom bearing units; and

(3) Certifies that one of the rig moves required under paragraph (k)(2) of this section was completed within 1 year preceding the date of application.

93. Revise § 11.472 to read as follows:

§ 11.472 National officer endorsements as Barge Supervisor.

(a) To qualify for an endorsement as Barge Supervisor (BS), an applicant must—

(1) Present evidence of one of the following:

(i) Three years of employment assigned to MODUs including at least 168 days of service as Driller, Assistant Driller, Toolpusher, Assistant Toolpusher, Mechanic, Electrician, Crane Operator, Subsea Specialist, Ballast Control Operator (BCO), or equivalent supervisory position on MODUs. At least 84 days of that service must have been as a BCO, or Barge Supervisor trainee.

(ii) A degree from a program in engineering or engineering technology that is accredited by the Accreditation Board for Engineering and Technology (ABET). The National Maritime Center will give consideration to accepting education credentials from programs having other than ABET accreditation. An applicant qualifying through a degree program must also have at least 168 days of service as Driller, Assistant Driller, Toolpusher, Assistant Toolpusher, Mechanic, Electrician, Crane Operator, Subsea Specialist, BCO, or equivalent supervisory position on MODUs. At least 84 days of that service must have been as a BCO, or Barge Supervisor trainee; and

(2) Present evidence of one of the following:

(i) A certificate from a Coast Guard-approved stability course approved for Barge Supervisor;

(ii) A certificate from a Coast Guard-approved survival suit and survival craft training course; or

(iii) A certificate from a firefighting training course as required by § 11.201(h).

(b) An applicant for an endorsement as Barge Supervisor who holds an unlimited license or MMC endorsement as Master or Mate must satisfy the requirements in paragraph (a)(2) of this section and have at least 84 days of service as BCO or Barge Supervisor trainee.

94. Revise § 11.474 to read as follows:

§ 11.474 National officer endorsements as Ballast Control Operator.

(a) To qualify for an endorsement as Ballast Control Operator (BCO), an applicant must—

(1) Present evidence of one of the following:

(i) One year of employment assigned to MODUs, including at least 28 days of service as a trainee under the supervision of an individual holding a License or MMC endorsement as BCO.

(ii) A degree from a program in engineering or engineering technology that is accredited by the Accreditation Board for Engineering and Technology (ABET). The National Maritime Center will give consideration to accepting education credentials from programs having other than ABET accreditation. An applicant qualifying through a degree program must also have at least 28 days of service as a trainee under the supervision of an individual holding a License or MMC endorsement as BCO; and

(2) Present evidence of training course completion as follows:

(i) A certificate from a Coast Guard-approved stability course approved for Barge Supervisor or BCO.

(ii) A certificate from a Coast Guard-approved survival suit and survival craft training course.

(iii) A certificate from a firefighting training course as required by § 11.201(h).

(b) An applicant for an endorsement as BCO who holds an unlimited License or MMC endorsement as Master, Mate, Chief Engineer, or Assistant Engineer must satisfy the requirements in paragraph (a)(2) of this section and have at least 28 days of service as a trainee under the supervision of an individual holding an endorsement as BCO.

95. Revise § 11.480 to read as follows:

§ 11.480 Radar Observer.

(a) This section contains the requirements that an applicant must meet to qualify as a Radar Observer.

(b) If an applicant meets the requirements of this section, one of the following Radar Observer endorsements will be added to their MMC:

(1) Radar Observer-Unlimited.

(2) Radar Observer-Inland Waters and Gulf Intracoastal Waterways (GIWW).

(3) Radar Observer-Rivers.

(c) Radar Observer-Unlimited is valid on all waters. Radar Observer-Inland Waters and GIWW is valid only for those waters other than the Great Lakes covered by the Inland Navigational Rules. Radar Observer-Rivers is valid only on any river, canal, or similar body of water designated by the OCMI, but not beyond the boundary line.

(d) Except as provided by paragraphs (f) or (g) of this section, each applicant for a Radar Observer endorsement or for renewal of a Radar Observer endorsement must complete the appropriate course approved by the Coast Guard, receive the appropriate certificate of training, and present the certificate or a copy of the certificate to the Coast Guard in person, by mail, fax, or other electronic means.

(e) A Radar Observer endorsement issued under this section is valid until the expiration of the mariner's MMC.

(f) A mariner may also renew their Radar Observer endorsement by providing evidence of meeting the requirements in § 10.227(e)(1)(v) of this subchapter.

(g) The Coast Guard will accept on-board training and experience through acceptable documentary evidence of 1 year of relevant sea service within the last 5 years in a position that routinely uses radar for navigation and collision avoidance purposes on vessels equipped with radar as meeting the refresher or re-certification requirements of paragraph (d) of this section. This also applies to mariners applying for raises of grade or new endorsements under § 10.231 of this subchapter.

(h) An applicant for renewal of an MMC who does not provide evidence of meeting the renewal requirements of paragraph (d), (f), or (g) of this section will not have a Radar Observer endorsement placed on their MMC.

96. Revise § 11.482 to read as follows:

§ 11.482 Assistance Towing.

(a) This section contains the requirements to qualify for an endorsement authorizing a mariner to engage in assistance towing. Except as noted in this paragraph, holders of MMC officer and OUPV endorsements must have an Assistance Towing endorsement to engage in assistance towing. Holders of endorsements as Master or Mate (Pilot) of Towing Vessels or Master or Mate endorsements authorizing service on inspected vessels of 200 GRT or more do not need the Assistance Towing endorsement.

(b) An applicant for an Assistance Towing endorsement must pass a written examination or complete a Coast Guard-approved course demonstrating their knowledge of assistance towing safety, equipment, and procedures.

(c) The holder of a License or MMC for Master, Mate, or operator endorsed for Assistance Towing is authorized to engage in assistance towing on any vessel within the scope of the License or MMC.

(d) The period of validity of the endorsement is the same as the License or MMC on which it is included, and it may be renewed with the MMC.

97. Amend § 11.491 by revising paragraph (a) to read as follows:

§ 11.491 National officer endorsements for service on offshore supply vessels.

(a) Each officer endorsement for service on offshore supply vessels (OSVs) authorizes service on OSVs as defined in 46 U.S.C. 2101(19) and as interpreted under 46 U.S.C. 14104(b), subject to any restrictions placed on the License or MMC.

* * * * *

98. Amend § 11.493 by revising the section heading and paragraphs (a) through (d) to read as follows:

§ 11.493 Master-OSV.

(a) The minimum service required to qualify an applicant for an endorsement as Master-OSV of less than 1,600 GRT/3,000 GT is 24 months of total service as Mate, Chief Mate, or Master of ocean or near-coastal and/or Great Lakes on self-propelled vessels of more than 100 GRT. Service on inland waters may substitute for up to 50 percent of the required service. At least one-half of the required experience must be served as Chief Mate.

(b) The minimum service required to qualify an applicant for Master-OSV of 1,600 GRT/3,000 GT or more is 24 months of total service as Mate, Chief Mate, or Master of ocean or near-coastal and/or Great Lakes on self-propelled vessels of more than 100 GRT. At least one-half of the required experience must be served as Chief Mate and be obtained on vessels of 1,600 GRT/3,000 GT or more.

(c) If an applicant for Master-OSV of more than 1,600 GRT/3,000 GT does not have the service on vessels of 1,600 GRT/3,000 GT or more as required by paragraph (b) of this section, a tonnage limitation will be placed on the officer endorsement based on the applicant's qualifying experience. The endorsement will be limited to the maximum tonnage on which at least 25 percent of the required experience was obtained, or 150 percent of the maximum tonnage on which at least 50 percent of the service was obtained, whichever is higher. However, the minimum tonnage limitation calculated according to this paragraph will be 2,000 GRT. Limitations are in multiples of 1,000 GRT using the next higher figure when an intermediate tonnage is calculated. In no case will the limitation exceed 10,000 GRT/GT for OSVs unless the applicant meets the full requirements for an unlimited tonnage endorsement.

(d) A person holding an endorsement as Master-OSV may qualify for an STCW endorsement, according to §§ 11.305 and 11.311.

* * * * *

99. Amend § 11.495 by revising the section heading and paragraphs (a) through (d) to read as follows:

§ 11.495 Chief Mate-OSV.

(a) The minimum service required to qualify an applicant for an endorsement as Chief Mate-OSV of less than 1,600 GRT/3,000 GT is 12 months of total service as Mate, Chief Mate, or Master of ocean or near-coastal and/or Great Lakes on self-propelled vessels of more than 100 GRT. Service on inland waters may substitute for up to 50 percent of the required service.

(b) The minimum service required to qualify an applicant for as Chief Mate-OSV of 1,600 GRT/3,000 GT or more is 12 months of total service as Mate, Chief Mate, or Master of ocean or near-coastal and/or Great Lakes on self-propelled vessels of more than 100 GRT. At least one-half of the required experience must be obtained on vessels of 1,600 GRT/3,000 GT or more.

(c) If an applicant for as Chief Mate-OSV of 1,600 GRT/3,000 GT or more does not have the service on vessels of 1,600 GRT/3,000 GT or more as required by paragraph (b) of this section, a tonnage limitation will be placed on the officer endorsement based on the applicant's qualifying experience. The endorsement will be limited to the maximum tonnage on which at least 25 percent of the required experience was obtained, or 150 percent of the maximum tonnage on which at least 50 percent of the service was obtained, whichever is higher. However, the minimum tonnage limitation calculated according to this paragraph will be 2,000 GRT. Limitations are in multiples of 1,000 GRT using the next higher figure when an intermediate tonnage is calculated. In no case will the limitation exceed 10,000 GRT/GT for OSVs unless the applicant meets the full requirements for an unlimited tonnage endorsement.

(d) A person holding an endorsement as Chief Mate-OSV may qualify for an STCW endorsement, according to §§ 11.307 and 11.313.

* * * * *

100. Amend § 11.497 by revising the section heading and paragraphs (a) and (b) to read as follows:

§ 11.497 Mate-OSV.

(a) The minimum service required to qualify an applicant for an endorsement as Mate-OSV is—

(1) Twenty-four months of total service in the deck department of ocean or near-coastal self-propelled, sail, or auxiliary sail vessels. Service on Great Lakes and inland waters may substitute for up to 1 year of the required service. One year of the required service must have been on vessels of more than 100 GRT; or

(2) One year of total service as part of an approved or accepted Mate-OSV training program.

(b) A person holding an endorsement as Mate-OSV may qualify for an STCW endorsement, according to § 11.309.

* * * * *

101. Revise § 11.501 to read as follows:

§ 11.501 Grades and types of national engineer endorsements issued.

(a) National engineer endorsements are issued in the grades of—

(1) Chief Engineer;

(2) First Assistant Engineer;

(3) Second Assistant Engineer;

(4) Third Assistant Engineer;

(5) Chief Engineer-Limited;

(6) Assistant Engineer-Limited;

(7) Designated Duty Engineer (DDE);

(8) Chief Engineer Uninspected Fishing Industry Vessels;

(9) Assistant Engineer Uninspected Fishing Industry Vessels;

(10) Chief Engineer-MODU;

(11) Assistant Engineer-MODU;

(12) Chief Engineer-OSV; and

(13) Assistant Engineer-OSV.

(b) Engineer endorsements issued in the grades of Chief Engineer-Limited and Assistant Engineer-Limited of steam, motor, and/or gas turbine-propelled vessels allow the holder to serve within any propulsion power limitations on vessels of unlimited tonnage on inland waters and of less than 1,600 GRT in ocean, near-coastal, or Great Lakes service in the following manner:

(1) Chief Engineer-Limited may serve on oceans and near-coastal waters.

(2) Assistant Engineer-Limited may serve on ocean and near-coastal waters.

(c) Engineer Licenses or MMC endorsements issued in the grades of Designated Duty Engineer of steam, motor, and/or gas turbine-propelled vessels allow the holder to serve within stated propulsion power limitations on vessels of less than 500 GRT in the following manner:

(1) Designated Duty Engineers-Limited to vessels of less than 1,000 HP or 4,000 HP may serve only on near-coastal or inland waters.

(2) Designated Duty Engineers-Unlimited may serve on any waters.

(d) An engineer officer License or MMC endorsement authorizes service on steam, motor, or gas turbine-propelled vessels or may authorize all modes of propulsion.

(e) A person holding an engineer License or MMC endorsement that is restricted to near-coastal waters may serve within the limitations of the License or MMC upon near-coastal, Great Lakes, and inland waters.

102. Amend § 11.502 by revising paragraph (b) to read as follows:

§ 11.502 General requirements for national engineer endorsements.

* * * * *

(b) If an applicant desires to add a propulsion mode (steam, motor, or gas turbine) to their endorsement while holding a License or MMC officer endorsement in that grade, the following alternatives are acceptable:

(1) Four months of service as an observer on vessels of the new propulsion mode.

(2) Four months of service as an engineer officer at the operational level on vessels of the new propulsion mode.

(3) Six months of service as Oiler, Boiler Technician/Watertender, or Junior Engineer on vessels of the new propulsion mode.

(4) Completion of a Coast Guard-approved training course for this endorsement.

103. Amend § 11.503 by revising paragraphs (a) and (c)(3) and (4) to read as follows:

§ 11.503 Propulsion power limitations for national endorsements.

(a) Engineer endorsements of all grades and types may be subject to propulsion power limitations. Other than as provided in § 11.524 for the Designated Duty Engineer (DDE), the propulsion power limitation placed on a License or MMC endorsement is based on the applicant's qualifying experience considering the total shaft propulsion power of each vessel on which the applicant has served.

* * * * *

(c) * * *

(3) Twelve months of service as Oiler or Junior Engineer while holding a License or MMC endorsement as Third Assistant Engineer or Assistant Engineer-Limited: Removal of all propulsion power limitations on Third Assistant Engineer or Assistant Engineer-Limited endorsement.

(4) Six months of service as Oiler or Junior Engineer while holding a License or MMC endorsement as Second Assistant Engineer: removal of all propulsion power limitations on Third Assistant Engineer endorsement.

* * * * *

104. Revise § 11.504 to read as follows:

§ 11.504 Application of deck service for national limited engineer endorsements.

Service gained in the deck department on vessels of appropriate tonnage may substitute for up to 25 percent or 6 months, whichever is less, of the service requirement for an endorsement as Chief Engineer-Limited, Assistant Engineer-Limited, or DDE.

105. Amend § 11.510 by revising the section heading and paragraph (a) to read as follows:

§ 11.510 Service requirements for national endorsement as Chief Engineer of steam, motor, and/or gas turbine-propelled vessels.

(a) The minimum service required to qualify an applicant for endorsement as Chief Engineer of steam, motor, and/or gas turbine-propelled vessels is—

(1) One year of service as First Assistant Engineer; or

(2) One year of service while holding a License or MMC endorsement as First Assistant Engineer. A minimum of 6 months of this service must have been as First Assistant Engineer, and the remainder must be as Assistant Engineer. Service as an Assistant Engineer other than First Assistant Engineer is accepted on a two-for-one basis to a maximum of 6 months (2 days of service as a Second or Third Assistant Engineer equals 1 day of creditable service).

* * * * *

106. Amend § 11.512 by revising the section heading and paragraph (a) to read as follows:

§ 11.512 Service requirements for national endorsement as First Assistant Engineer of steam, motor, and/or gas turbine-propelled vessels.

(a) The minimum service required to qualify an applicant for endorsement as First Assistant Engineer of steam, motor, and/or gas turbine-propelled vessels is—

(1) One year of service as an Assistant Engineer while holding a License or MMC with a Second Assistant Engineer endorsement; or

(2) One year of service as a Chief Engineer-Limited and completing the appropriate examination described in subpart I of this part.

* * * * *

107. Amend § 11.514 by revising the section heading and paragraph (a) to read as follows:

§ 11.514 Service requirements for national endorsement as Second Assistant Engineer of steam, motor, and/or gas turbine-propelled vessels.

(a) The minimum service required to qualify an applicant for endorsement as Second Assistant Engineer of steam, motor, and/or gas turbine-propelled vessels is—

(1) One year of service as an Assistant Engineer, while holding a License or MMC endorsement as Third Assistant Engineer; or

(2) One year of service while holding a License or MMC endorsement as Third Assistant Engineer, which includes—

(i) A minimum of 6 months of service as Third Assistant Engineer; and

(ii) Additional service as a Qualified Member of the Engine Department (QMED), calculated on a two-for-one basis.

* * * * *

108. Amend § 11.516 by revising the section heading and paragraph (a) to read as follows:

§ 11.516 Service requirements for national endorsement as Third Assistant Engineer of steam, motor, and/or gas turbine-propelled vessels.

(a) The minimum service required to qualify an applicant for endorsement as Third Assistant Engineer of steam, motor, and/or gas turbine-propelled vessels is—

(1) Three years of service in the engineroom of vessels, 2 years of which must have been as a Qualified Member of the Engine Department (QMED) or equivalent position;

(2) Three years of service as an apprentice to the machinist trade engaged in the construction or repair of marine, locomotive, or stationary engines, together with 1 year of service in the engineroom as Oiler, Boiler Technician/Watertender, or Junior Engineer;

(3) Graduation from—

(i) The U.S. Merchant Marine Academy (engineering curriculum);

(ii) The U.S. Coast Guard Academy and completion of an onboard engineer officer qualification program required by the service;

(iii) The U.S. Naval Academy and completion of an onboard engineer officer qualification program required by the service; or

(iv) The engineering class of a Maritime Academy approved by and conducted under the rules prescribed by the Maritime Administrator and listed in part 310 of this title;

(4) Graduation from the marine engineering course of a school of technology accredited by the Accreditation Board for Engineering and Technology, together with 3 months of service in the engine department of steam, motor, or gas turbine-propelled vessels;

(5) Graduation from the mechanical or electrical engineering course of a school of technology accredited by the ABET, together with 6 months of service in the engine department of steam, motor, or gas turbine-propelled vessels;

(6) Satisfactory completion of a comprehensive Apprentice Engineer training program approved by the Coast Guard; or

(7) One year of service as Assistant Engineer-Limited of self-propelled vessels and completion of the appropriate examination described in subpart I of this part.

* * * * *

109. Amend § 11.518 by revising the section heading and paragraph (a) to read as follows:

§ 11.518 Service requirements for national endorsement as Chief Engineer-Limited of steam, motor, and/or gas turbine-propelled vessels.

(a) The minimum service required to qualify an applicant for endorsement as Chief Engineer-Limited of steam, motor, and/or gas turbine-propelled vessels is 5 years of total service in the engineroom of vessels. Two years of this service must have been as an engineer officer while holding an engineer officer endorsement. Thirty months of the service must have been as a Qualified Member of the Engine Department (QMED) or equivalent position.

* * * * *

110. Amend § 11.522 by revising the section heading and paragraph (a) to read as follows:

§ 11.522 Service requirements for national endorsement as Assistant Engineer-Limited of steam, motor, and/or gas turbine-propelled vessels.

(a) The minimum service required to qualify an applicant for endorsement as Assistant Engineer-Limited of steam, motor, and/or gas turbine-propelled vessels is 3 years of service in the engineroom of vessels. Eighteen months of this service must have been as a Qualified Member of the Engine Department (QMED) or equivalent position.

* * * * *

111. Amend § 11.524 by revising the section heading and paragraphs (a) and (b) to read as follows:

§ 11.524 Service requirements for national endorsement as Designated Duty Engineer of steam, motor, and/or gas turbine-propelled vessels.

(a) Designated Duty Engineer (DDE) endorsements are issued in three levels of propulsion power limitations dependent upon the total service of the applicant and completion of an appropriate examination. These endorsements are limited to vessels of less than 500 GRT on certain waters as specified in § 11.501.

(b) The service requirements for endorsements as DDE are—

(1) For DDE of steam, motor, and/or gas turbine-propelled vessels of unlimited propulsion power, the applicant must have 3 years of service in the engineroom. Eighteen months of this service must have been as a Qualified Member of the Engine Department (QMED) or equivalent position;

(2) For DDE of steam, motor, and/or gas turbine-propelled vessels of less than 4,000 HP/3,000 kW, the applicant must have 2 years of service in the engineroom. One year of this service must have been as a QMED or equivalent position; and

(3) For DDE of steam, motor, and/or gas turbine-propelled vessels of less than 1,000 HP/750 kW, the applicant must have 1 year of service in the engineroom. Six months of this service must have been as a QMED or equivalent position.

* * * * *

112. Amend § 11.530 by revising the section heading and paragraphs (a) through (d) to read as follows:

§ 11.530 Endorsements as Engineer of Uninspected Fishing Industry Vessels.

(a) This section applies to endorsements for Chief and Assistant Engineer of all vessels, however propelled, which are documented to engage in the fishing industry, with the exception of—

(1) Wooden ships of primitive build;

(2) Unrigged vessels; and

(3) Vessels of less than 200 GRT.

(b) Endorsements as Chief Engineer and Assistant Engineer of Uninspected Fishing Industry Vessels are issued for ocean waters and with propulsion power limitations in accordance with the provisions of § 11.503.

(c) For an endorsement as Chief Engineer, the applicant must have served 4 years in the engineroom of vessels. One year of this service must have been as an Assistant Engineer Officer or equivalent position.

(d) For an endorsement as Assistant Engineer, an applicant must have served 3 years in the engineroom of vessels.

* * * * *

113. Revise § 11.540 to read as follows:

§ 11.540 Endorsements as engineers of mobile offshore drilling units.

Endorsements as Chief Engineer-Mobile Offshore Drilling Unit (MODU) or Assistant Engineer-MODU authorize service on certain self-propelled or non-self-propelled units of unlimited propulsion power where authorized by the vessel's certificate of inspection.

114. Amend § 11.542 by revising the section heading and paragraphs (a) and (b) to read as follows:

§ 11.542 Endorsement as Chief Engineer-MODU.

(a) To qualify for an endorsement as Chief Engineer-MODU an applicant must—

(1) Present evidence of one of the following:

(i) Six years of employment assigned to MODUs, including 3 years of employment as Mechanic, Motorman, Subsea Engineer, Electrician, Barge Engineer, Toolpusher, Unit Superintendent, Crane Operator, or equivalent. Eighteen months of that employment must have been assigned to self-propelled or propulsion assisted units.

(ii) Two years of employment assigned to MODUs as an Assistant Engineer-MODU. Twelve months of that employment must have been assigned to self-propelled or propulsion assisted units; and

(2) Present evidence of completion of a firefighting training course as required by § 11.201(h).

(b) If an applicant successfully completes an examination and possesses the total required sea service for an endorsement as Chief Engineer-MODU, but does not possess the required sea service onboard self-propelled or propulsion assisted units, the Coast Guard may issue the applicant an endorsement limited to non-self-propelled units. The Coast Guard may remove the limitation upon presentation of satisfactory evidence of the required self-propelled sea service and completion of any additional required examination.

* * * * *

115. Amend § 11.544 by revising the section heading and paragraphs (a) and (b) to read as follows:

§ 11.544 Endorsement as Assistant Engineer-MODU.

(a) To qualify for an endorsement as Assistant Engineer-MODU an applicant must—

(1) Present evidence of one of the following:

(i) Three years of employment assigned to MODUs, including 18 months of employment as Mechanic, Motorman, Subsea Engineer, Electrician, Barge Engineer, Toolpusher, Unit Superintendent, Crane Operator, or equivalent. Nine months of that employment must have been assigned to self-propelled or propulsion assisted unit.

(ii) Three years of employment in the machinist trade engaged in the construction or repair of diesel engines and 1 year of employment assigned to MODUs in the capacity of Mechanic, Motorman, Oiler, or equivalent. Nine months of that employment must have been assigned to self-propelled or propulsion assisted units.

(iii) A degree from a program in marine, mechanical, or electrical engineering technology that is accredited by the Accreditation Board for Engineering and Technology (ABET). The National Maritime Center will give consideration to accepting education credentials from programs having other than ABET accreditation. An applicant qualifying through a degree program must also have at least 6 months of employment in any of the capacities listed in paragraph (a)(1)(i) of this section aboard self-propelled or propulsion-assisted units; and

(2) Present evidence of completion of a firefighting training course as required by § 11.201(h).

(b) If an applicant successfully completes an examination and possesses the total required sea service for an endorsement as an Assistant Engineer-MODU, but does not possess the required sea service onboard self-propelled or propulsion assisted units, the Coast Guard may issue the applicant an endorsement limited to non-self-propelled units. The Coast Guard may remove the limitation upon presentation of the satisfactory evidence of the required self-propelled sea service and completion of any additional required examination.

* * * * *

116. Revise § 11.551 to read as follows:

§ 11.551 Endorsements for service on offshore supply vessels.

Each endorsement for service on offshore supply vessels (OSVs) as Chief Engineer-OSV or Engineer-OSV authorizes service on OSVs as defined in 46 U.S.C. 2101(19) and as interpreted under 46 U.S.C. 14104(b), subject to any restrictions placed on the MMC.

117. Amend § 11.553 by revising the section heading and paragraphs (a) and (c) to read as follows:

§ 11.553 Chief Engineer-OSV.

(a) The minimum service required to qualify an applicant for an endorsement as Chief Engineer-OSV is 4 years of total service in the engineroom of vessels. One year of this service must have been as an engineer officer while holding an engineer officer endorsement. Two years of the service must have been as a Qualified Member of the Engine Department (QMED) or equivalent position.

* * * * *

(c) A person holding an endorsement as Chief Engineer-OSV may qualify for an STCW endorsement, according to §§ 11.325, 11.327, and 11.331.

* * * * *

118. Amend § 11.555 by revising the section heading and paragraphs (a) through (d) to read as follows:

§ 11.555 Assistant Engineer-OSV.

(a) The minimum service required to qualify an applicant for an endorsement as Assistant Engineer-OSV of unlimited propulsion power is—

(1) Three years of service in the engineroom. Eighteen months of this service must have been as a Qualified Member of the Engine Department (QMED) or equivalent position; or

(2) One year of total service as part of an approved or accepted Assistant Engineer-OSV training program.

(b) The minimum service required to qualify an applicant for an endorsement as Assistant Engineer-OSV of less than 4,000 HP/3,000 kW, is 2 years of service in the engineroom. One year of this service must have been as a QMED or equivalent position.

(c) The minimum service required to qualify an applicant for an endorsement as Assistant Engineer-OSV of less than 1,000 HP/750 kW is 1 year of service in the engineroom. Six months of this service must have been as a QMED or equivalent position.

(d) A person holding an endorsement as Assistant Engineer-OSV may qualify for an STCW endorsement, according to §§ 11.329 and 11.333.

* * * * *

119. Revise § 11.601 to read as follows:

§ 11.601 Applicability.

This subpart provides for endorsement as Radio Officer for employment on vessels, and for the issue of STCW endorsements for those qualified to serve as Radio Operator on vessels subject to the provisions on the Global Maritime Distress and Safety System (GMDSS) of Chapter IV of SOLAS (incorporated by reference, see § 11.102).

120. Revise § 11.603 to read as follows:

§ 11.603 Requirements for Radio Officer endorsements.

Each applicant for an original endorsement or renewal of License must present a current Radiotelegraph Operator License (T) issued by the Federal Communications Commission. The applicant must enter on the endorsement application form the number, class, and date of issuance of their Federal Communications Commission License.

121. Revise § 11.604 section heading to read as follows:

§ 11.604 Requirements for an STCW endorsement for Global Maritime Distress and Safety System (GMDSS) Radio Operator.

* * * * *

122. Revise § 11.701 to read as follows:

§ 11.701 Scope of Pilot endorsements.

(a) An applicant for an endorsement as First-Class Pilot need not hold any other officer endorsement issued under this part.

(b) The issuance of an endorsement as First-Class Pilot to an individual qualifies that individual to serve as Pilot over the routes specified on the endorsement, subject to any limitations imposed under paragraph (c) of this section.

(c) The OCMI issuing an endorsement as First-Class Pilot imposes appropriate limitations commensurate with the experience of the applicant, with respect to class or type of vessel, tonnage, route, and waters.

(d) A License or MMC endorsement issued for service as a Master, Mate, or Operator of Uninspected Towing Vessels authorizes service as a Pilot under the provisions of § 15.812 of this subchapter. Therefore, First-Class Pilot endorsements will not be issued with tonnage limitations of 1,600 GRT or less.

123. Revise § 11.703 to read as follows:

§ 11.703 Service requirements.

(a) The minimum service required to qualify an applicant for an endorsement as First-Class Pilot is predicated upon the nature of the waters for which pilotage is desired.

(1) General routes (routes not restricted to rivers, canals and small lakes). The applicant must have at least 36 months of service in the deck department of self-propelled vessels navigating on oceans, coastwise, and Great Lakes, or bays, sounds, and lakes other than the Great Lakes, as follows:

(i) Eighteen months of the 36 months of service must be performing bridge watchkeeping duties under the supervision of the Master or a qualified officer.

(ii) At least 12 months of the 18 months of service required in paragraph (a)(1)(i) of this section must be on vessels operating on the class of waters for which pilotage is desired.

(2) River routes. The applicant must have at least 36 months of service in the deck department of any vessel including at least 12 months of service on vessels operating on the waters of rivers while the applicant is performing bridge watchkeeping duties under the supervision of the Master or a qualified officer.

(3) Canal and small lakes routes. The applicant must have at least 24 months of service in the deck department of any vessel including at least 8 months of service on vessels operating on canals or small lakes.

(b) A graduate of the Great Lakes Maritime Academy in the deck class meets the service requirements of this section for an endorsement as First-Class Pilot on the Great Lakes.

(c) Completion of an approved or accepted Pilot training course may be substituted for a portion of the service requirements of this section in accordance with § 10.404 of this subchapter. Additionally, roundtrips made during this training may apply toward the route familiarization requirements of § 11.705. An individual using substituted service must have at least 9 months of shipboard service.

(d) An individual holding a License or MMC endorsement as Master or Mate of inspected self-propelled vessels of more than 1,600 GRT meets the service requirements of this section for an endorsement as First-Class Pilot.

124. Amend § 11.705 by revising paragraphs (b) and (c) to read as follows:

§ 11.705 Route familiarization requirements.

* * * * *

(b) An applicant holding no other deck officer endorsement seeking an endorsement as First-Class Pilot must furnish evidence of having completed a minimum number of roundtrips, while serving as quartermaster, wheelsman, Able Seafarer, Apprentice Pilot, or in an equivalent capacity, standing regular watches at the wheel or in the pilot house as part of routine duties, over the route sought. Evidence of having completed a minimum number of roundtrips while serving as an observer, properly certified by the Master and/or Pilot of the vessel, is also acceptable. The range of roundtrips for an endorsement is a minimum of 12 roundtrips and a maximum of 20 roundtrips. An applicant may have additional routes added to the First-Class Pilot endorsement by meeting the requirements in paragraph (c) of this section.

(c) An applicant who currently holds a deck officer License or MMC endorsement seeking an endorsement as First-Class Pilot for a particular route must furnish evidence of having completed the number of roundtrips over the route, specified by the OCMI, within the range limitations of this paragraph, for the particular grade of existing License or MMC endorsement held. The range of roundtrips for an endorsement is a minimum of eight roundtrips and a maximum of 15 roundtrips.

* * * * *

125. Revise § 11.707 to read as follows:

§ 11.707 Examination requirements.

(a) An applicant for an endorsement as First-Class Pilot, except as noted in paragraph (b) of this section, is required to pass the examination described in subpart I of this part.

(b) An applicant for an extension of route, or an applicant holding a License or MMC endorsement as Master or Mate authorized to serve on vessels of more than 1,600 GRT seeking an endorsement as First-Class Pilot, is required to pass those portions of the examination described in subpart I of this part that concern the specific route for which endorsement is sought.

126. Amend § 11.709 by revising paragraph (b) introductory text and paragraphs (c) and (d) to read as follows:

§ 11.709 Annual physical examination requirements.

* * * * *

(b) Every person holding an MMC endorsement as First-Class Pilot, or a Master or Mate serving as a Pilot under § 15.812 of this subchapter, must have a thorough physical examination each year. This annual physical examination must be completed by the first day of the month following the anniversary of the individual's most recently completed Coast Guard-required physical examination. Each annual physical examination must meet the requirements specified in part 10, subpart C, of this subchapter and be recorded on the form CG-719K.

* * * * *

(c) An individual's First-Class Pilot endorsement becomes invalid on the first day of the month following the anniversary of the individual's most recently completed Coast Guard-required physical examination, if the person does not meet the physical examination requirement as provided in paragraph (b) of this section. The individual may not operate under the authority of that endorsement until a physical examination has been satisfactorily completed.

(d) A Master or Mate may not serve as a Pilot on a vessel 1,600 GRT or more under § 15.812 of this subchapter if the person does not meet the physical examination requirements provided in paragraph (b) of this section.

127. Amend § 11.711 by revising paragraphs (a), (b), and (d) to read as follows:

§ 11.711 Tonnage requirements.

(a) In order to obtain a First-Class Pilot endorsement authorizing service on vessels of unlimited tonnage over a particular route, the applicant must have sufficient experience on vessels of more than 1,600 GRT.

(b) For purposes of this section, an applicant is considered to have sufficient experience if the applicant has 18 months of experience as Master, Mate, quartermaster, wheelsman, Able Seafarer, Apprentice Pilot, or in an equivalent capacity, standing regular watches at the wheel or in the pilothouse as part of routine duties, on vessels of 1,600 GRT or more, and two-thirds of the minimum number of roundtrips required for the route have been on vessels of 1,600 GRT or more.

* * * * *

(d) For purposes of this section, for experience with respect to tonnage on towing vessels, the combined gross tonnage of the towing vessels and the vessels towed will be considered. However, the Coast Guard may require that all or a portion of the required number of roundtrips be obtained on self-propelled vessels of 1,600 GRT or more, when the Coast Guard determines that due to the nature of the waters and the overall experience of the applicant, self-propelled vessel experience is necessary to obtain a First-Class Pilot endorsement that is not restricted to tug and barge combinations.

128. Revise § 11.713 to read as follows:

§ 11.713 Requirements for maintaining current knowledge of waters to be navigated.

(a) If a First-Class Pilot has not served over a particular route within the past 60 months, that person's License or MMC endorsement is invalid for that route, and remains invalid until the individual has made one re-familiarization round trip over that route, except as provided in paragraph (b) of this section. Whether this requirement is satisfied or not has no effect on the renewal of other Licenses or MMC endorsements. Roundtrips made within the 90-day period preceding renewal will be valid for the duration of the renewed License or MMC endorsement.

(b) For certain long or extended routes, the OCMI may, at their discretion, allow the re-familiarization requirement to be satisfied by reviewing appropriate navigation charts, coast pilots tide and current tables, local Notice to Mariners, and any other materials that would provide the Pilot with current knowledge of the route. Persons using this method of re-familiarization must certify, when applying for renewal of their License or MMC endorsement, the material they have reviewed and the dates on which this was accomplished. Review within the 90-day period preceding renewal is valid for the duration of the renewed MMC endorsement.

129. Amend § 11.807 by revising paragraphs (a) and (d) to read as follows:

§ 11.807 Experience requirements for registry.

(a) The applicant for a certificate of registry as staff officer must submit evidence of experience as follows:

(1) Chief Purser. Two years of service aboard vessels performing duties relating to work in the Purser's office.

(2) Purser. One year of service aboard vessels performing duties relating to work in the Purser's office.

(3) Senior Assistant Purser. Six months of service aboard vessels performing duties relating to work in the Purser's office.

(4) Junior Assistant Purser. Previous experience not required.

(5) Medical Doctor. A valid License as physician or surgeon issued under the authority of a state or territory of the United States, the Commonwealth of Puerto Rico, or the District of Columbia.

(6) Professional Nurse. A valid License as a registered nurse issued under authority of a state or territory of the United States, the Commonwealth of Puerto Rico, or the District of Columbia.

(7) Marine Physician Assistant. Successful completion of an accredited course of instruction for a physician's assistant or nurse practitioner program.

(8) Medical Technician. A rating of at least hospital corpsman or health services technician, first class, in the U.S. Navy and U.S. Coast Guard, or an equivalent rating in the U.S. Army (not less than Staff Sergeant, Medical Department, U.S.A.), or in the U.S. Air Force (not less than Technical Sergeant, Medical Department, U.S.A.F.), and a period of satisfactory service of at least 1 month in a military hospital..

* * * * *

(d) In the event an applicant for an endorsement, other than Medical Doctor or Professional Nurse, presents evidence of other qualifications that, in the opinion of the Coast Guard, is equivalent to the experience requirements of this section and is consistent with the duties of a staff officer, the Coast Guard may issue the MMC.

130. Amend § 11.821 by revising the section heading and paragraphs (a) through (c) to read as follows:

§ 11.821 High-Speed Craft Type-Rating.

(a) This section is only applicable to those persons who will be serving or have served upon those vessels built and operated in accordance with the International Code of Safety for High-Speed Craft (HSC Code).

(b) To qualify for a High-Speed Craft Type-Rating endorsement (TRE) for operating vessels to which the HSC Code applies, an applicant must—

(1) Hold a valid officer endorsement for vessels of commensurate grade, tonnage, route, and/or horsepower; and

(2) Present evidence of successful completion of a Coast Guard-approved Type Rating training program.

(c) A separate TRE will be issued for each type and class of high-speed craft. The original route will be as specified in the approved type rating program. Additional routes may be added to an existing TRE by completing at least 12 roundtrips over each route under the supervision of a type-rated Master on the class of high speed craft the TRE will be valid for. Six of the trips must be made during the hours of darkness or a “daylight only” restriction will be imposed.

* * * * *

131. Amend § 11.901 by revising paragraph (b)(1) to read as follows:

§ 11.901 General provisions.

* * * * *

(b) * * *

(1) Restricted routes for reduced service officer endorsements (Master or Mate of vessels of less than 200 GRT, OUPV, or Master or Mate (Pilot) of Towing Vessels).

* * * * *

132. Amend § 11.903 by revising paragraphs (a) and (c) to read as follows:

§ 11.903 Officer endorsements requiring examinations.

(a) The following officer endorsements require examinations for issuance:

(1) Chief Mate of ocean or near-coastal self-propelled vessels of unlimited tonnage (examined at the management level).

(2) Third Mate of ocean or near-coastal self-propelled vessels of unlimited tonnage (examined at the operational level).

(3) Master of ocean or near-coastal self-propelled vessels of less than 1,600 GRT.

(4) Mate of ocean or near-coastal self-propelled vessels of less than 1,600 GRT.

(5) Master of near-coastal vessels less than 200 GRT.

(6) Mate of near-coastal vessels less than 200 GRT.

(7) Master of near-coastal vessels less than 100 GRT.

(8) Mate of near-coastal vessels less than 100 GRT.

(9) Master of Great Lakes and inland vessels of unlimited tonnage.

(10) Mate of Great Lakes and inland vessels of unlimited tonnage.

(11) Master of inland vessels of unlimited tonnage.

(12) Master of river vessels of unlimited tonnage.

(13) Master of Great Lakes and inland/river vessels less than 500 GRT or less than 1,600 GRT.

(14) Mate of Great Lakes and inland/river vessels less than 500 GRT or less than 1,600 GRT.

(15) Master of Great Lakes and inland/river vessels less than 200 GRT.

(16) Mate of Great Lakes and inland/river vessels less than 200 GRT.

(17) Master of Great Lakes and inland.

(18) First-Class Pilot.

(19) Apprentice Mate of Towing Vessels.

(20) Apprentice Mate of Towing Vessels-Limited.

(21) Offshore Installation Manager.

(22) Barge Supervisor.

(23) Ballast Control Operator (BCO).

(24) Operator of Uninspected Passenger Vessels (OUPV).

(25) Master of Uninspected Fishing Industry Vessels.

(26) Mate of Uninspected Fishing Industry Vessels.

(27) Master-OSV.

(28) Chief Mate-OSV.

(29) Mate-OSV.

(30) First Assistant Engineer limited or unlimited propulsion power.

(31) Third Assistant Engineer limited or unlimited propulsion power.

(32) Chief Engineer-Limited steam/motor vessels.

(33) Assistant Engineer-Limited steam/motor vessels.

(34) Designated Duty Engineer steam/motor vessels.

(35) Chief Engineer Uninspected Fishing Industry Vessels.

(36) Assistant Engineer Uninspected Fishing Industry Vessels.

(37) Chief Engineer-MODU.

(38) Assistant Engineer-MODU.

(39) Chief Engineer-OSV.

(40) Assistant Engineer-OSV.

* * * * *

(c) The following officer endorsements do not require examinations:

(1) Master of oceans or near-coastal vessels of unlimited tonnage when upgrading from MMC officer endorsements, or a License as Chief Mate of oceans or near-coastal vessels of unlimited tonnage, provided the applicant has already been examined at the management level.

(2) Master of oceans or near-coastal vessels of unlimited tonnage when adding an endorsement as Offshore Installation Manager (OIM).

(3) Master of oceans or near-coastal self-propelled vessels of less than 200 GRT, when upgrading from Mate of near-coastal self-propelled vessels of less than 200 GRT. Master of oceans self-propelled vessels of less than 200 GRT will, however, require an examination in celestial navigation.

(4) Second Mate of oceans or near-coastal vessels when upgrading from Third Mate of oceans or near-coastal vessels, provided the applicant has already been examined at the operational level.

(5) Master of Great Lakes and inland vessels, or river vessels of less than 200 GRT when upgrading from Mate of less than 200 GRT on the same route.

(6) Chief Engineer-Unlimited, provided the applicant has already been examined at the management level.

(7) Chief Engineer-Limited to service on steam, motor, or gas turbine-propelled vessels of less than 10,000 HP/7,500 kW on near-coastal routes, provided the applicant has already been examined at the management level.

(8) Chief Engineer-Limited to service on steam, motor, and/or gas turbine-propelled vessels of less than 4,000 HP/3,000 kW on near-coastal routes, provided the applicant has already been examined at the management level.

(9) Second Assistant Engineer when upgrading from Third Assistant Engineer, provided the applicant has already been examined at the operational level.

133. Amend § 11.910 by revising table 1 to § 11.910 to read as follows:

§ 11.910 Subjects for deck officer endorsements.

* * * * *

Table 1 to § 11.910—Codes for Deck Officer Endorsements
Deck Officer Endorsements
1. Master/Chief Mate, oceans/near-coastal, unlimited tonnage.
2. Master, oceans/near-coastal, less than 500 GRT and less than 1,600 GRT.
3. Second Mate/Third Mate, oceans/near-coastal, unlimited tonnage, and Mate less than 500 GRT and less than 1600 GRT, oceans/near-coastal.
4. Master, oceans/near-coastal, and Mate, near-coastal, less than 200 GRT (includes Master, near-coastal, less than 100 GRT).
5. Operator of Uninspected Passenger Vessels, near-coastal.
6. Operator of Uninspected Passenger Vessels, Great Lakes/inland.
7. Apprentice Mate of Towing Vessels, ocean (domestic trade) and near-coastal routes.
8. Apprentice Mate of Towing Vessels, Great Lakes, and inland routes.
9. Apprentice Mate of Towing Vessels, Western Rivers.
10. Master, Great Lakes/inland, or Master, inland, unlimited tonnage.
11. Mate, Great Lakes/inland, unlimited tonnage.
12. Master, Great Lakes/inland, less than 500 GRT and less than 1,600 GRT.
13. Mate, Great Lakes/inland, less than 500 GRT and less than 1,600 GRT.
14. Master or Mate, Great Lakes/inland, less than 200 GRT (includes Master, Great Lakes/inland, less than 100 GRT).
15. Master, rivers, unlimited tonnage.
16. Master, rivers, less than 500 GRT and less than 1,600 GRT.
17. Mate, rivers, less than 500 GRT and less than 1,600 GRT.
18. Master or Mate, rivers, less than 200 GRT (includes Master, rivers, less than 100 GRT).
19. Master of Uninspected Fishing Industry Vessels, oceans/near-coastal.
20. Mate of Uninspected Fishing Industry Vessels, oceans/near-coastal.
21. First-Class Pilot.
22. Master-OSV.
23. Chief Mate-OSV.
24. Mate-OSV.

* * * * *

134. Amend § 11.950 by revising table 1 to § 11.950 to read as follows:

§ 11.950 Examination subjects for engineer officer endorsements.

* * * * *

Table 1 to § 11.950—Codes for Engineer Officer Endorsements
1. First Assistant Engineer-Unlimited.
2. Third Assistant Engineer-Unlimited.
3. Chief Engineer-Limited.
4. Assistant Engineer-Limited.
5. Designated Duty Engineer-Unlimited.
6. Designated Duty Engineer 4,000 HP.
7. Designated Duty Engineer 1,000 HP.
8. Chief Engineer-Uninspected Fishing Industry Vessels.
9. Assistant Engineer-Uninspected Fishing Industry Vessels.
10. Chief Engineer-MODU.
11. Assistant Engineer-MODU.
12. Chief Engineer-OSV Unlimited.
13. Assistant Engineer-OSV Unlimited.
14. Chief Engineer-OSV 4,000 HP.
15. Assistant Engineer-OSV 4,000 HP.

* * * * *

135. Amend § 11.1001 by revising paragraph (b) to read as follows:

§ 11.1001 Purpose of rules.

* * * * *

(b) Specific regulations on the use of non-U.S. credentialed officers and mariners with officer endorsements (except those of Master) are found in § 15.720 of this subchapter.

136. Amend § 11.1005 by revising paragraphs (b) and (d)(3) to read as follows:

§ 11.1005 Employer application requirements.

* * * * *

(b) If a “Certificate attesting recognition” is issued to the applicant, the employer must maintain a detailed record of the seafarer's total service on all authorized U.S.-flagged vessels, and must make that information available to the Coast Guard upon request.

* * * * *

(d) * * *

(3) Valid identification document, such as a passport or Seafarer's Identity Document (SID).

* * * * *

137. Amend § 11.1105 by revising paragraph (a) introductory text and paragraphs (a)(1)(iii) and (iv) to read as follows:

§ 11.1105 General requirements for officer endorsements.

(a) To serve on a passenger vessel on international voyages, Masters, deck officers, Chief Engineers, and engineer officers, must—

(1) * * *

(iii) Masters, Chief Engineer Officers, Chief Mates, Second Engineer Officers, and any person designated on muster lists of having responsibility for the safety of passengers in emergency situations onboard passenger ships must have completed approved training in crisis management and human behavior as specified in section A-V/2 of the STCW Code.

(iv) Masters, Chief Engineer Officers, Chief Mates, Second Engineer Officers, and every person assigned immediate responsibility for embarking and disembarking passengers, loading, discharging or securing cargo, or closing hull openings onboard Ro-Ro passenger ships must have completed approved training in passenger safety, cargo safety, and hull integrity as specified in section A-V/2 of the STCW Code; and

* * * * *

PART 12—REQUIREMENTS FOR RATING ENDORSEMENTS

138. The authority citation for part 12 is revised to read as follows:

Authority: 31 U.S.C. 9701; 46 U.S.C. 2101, 2103, 2110, Chapter 73, 7503, 7505, 7701, and 70105; DHS Delegation No. 00170.1, Revision No. 01.4.

139. Amend § 12.103 by revising paragraph (a) and the introductory text of paragraph (b) to read as follows:

§ 12.103 Incorporation by reference.

(a) Certain material is incorporated by reference into this part with the approval of the Director of the Federal Register under 5 U.S.C. 552(a) and 1 CFR part 51. All approved incorporation by reference material (IBR) is available for inspection at the Coast Guard and the National Archives and Records Administration (NARA). Contact Coast Guard at: Office of Merchant Mariner Credentialing (CG-MMC), U.S. Coast Guard, Stop 7509, 2703 Martin Luther King Jr. Avenue SE, Washington, DC 20593-7509; phone: 202-372-1492; website: https://www.dco.uscg.mil/nmc/merchant_mariner_credential/. For information on the availability of this material at NARA, visit www.archives.gov/federal-register/cfr/ibr-locations or email fr.inspection@nara.gov. The material may be obtained from:

(b) International Maritime Organization (IMO), 4 Albert Embankment, London SE1 7SR, England; phone: +44 (0)20 7735 7611; website: www.imo.org.

* * * * *

§ 12.201 [Amended]

140. Amend § 12.201 paragraph (a)(2) by removing the text “food handler's” and adding, in its place, the text “Food Handler's”.

141. Revise § 12.401 to read as follows:

§ 12.401 General requirements for Able Seafarer endorsements.

(a) General. An Able Seafarer is any person below officer and above Ordinary Seafarer who holds a Merchant Mariner Credential (MMC) endorsed as Able Seafarer by the Coast Guard.

(b) Categories. The following categories of Able Seafarer endorsements are established:

(1) Able Seafarer-Unlimited.

(2) Able Seafarer-Limited.

(3) Able Seafarer-Special.

(4) Able Seafarer-OSV.

(5) Able Seafarer-Sail.

(6) Able Seafarer-Fishing Industry.

(c) Requirements for certification. To qualify for an endorsement as Able Seafarer, an applicant must—

(1) Be at least 18 years of age;

(2) Pass the prescribed physical and medical examination requirements specified in 46 CFR, part 10, subpart C;

(3) Present evidence of having passed a chemical test for dangerous drugs or of qualifying for an exemption from testing as described in § 16.220 of this subchapter;

(4) Meet the sea service or training requirements set forth in this part;

(5) Pass an examination for Able Seafarer;

(6) Qualify for an endorsement as Lifeboat Operator or Lifeboat Operator-Limited; and

(7) Speak and understand the English language as would be required in performing the general duties of Able Seafarer and during an emergency aboard ship.

(d) Additional requirements. (1) The holder of an MMC or MMD endorsed for the rating of Able Seafarer may serve in any rating in the deck department without obtaining an additional endorsement, provided—

(i) That the holder possesses the appropriate Able Seafarer endorsement for the service of the vessel; and

(ii) That the holder possesses the appropriate STCW endorsement when serving as an Able Seafarer-Deck or Ratings Forming Part of the Navigational Watch (RFPNW) on a seagoing ship.

(2) Any MMC endorsed as Able Seafarer will also be endorsed as Lifeboat Operator or Lifeboat Operator-Limited, as appropriate.

(3) The Able Seafarer endorsement will clearly describe the type of rating that it represents (see paragraph (a) of this section).

142. Revise § 12.403 to read as follows:

§ 12.403 Service or training requirements for Able Seafarer endorsements.

(a) The minimum service required to qualify for the various categories of endorsement as Able Seafarer is as follows:

(1) Able Seafarer-Unlimited. Three years of service on deck on vessels operating on oceans or on the Great Lakes.

(2) Able Seafarer-Limited. Eighteen months of service on deck on vessels of 100 GRT or more which operate in a service not exclusively confined to the rivers and smaller inland lakes of the United States.

(3) Able Seafarer-Special. Twelve months of service on deck on vessels operating on oceans or the navigable waters of the United States, including the Great Lakes.

(4) Able Seafarer-OSV. Six months of service on deck on vessels operating on oceans or on the navigable waters of the United States, including the Great Lakes.

(5) Able Seafarer-Sail. Six months of service on deck on sailing school vessels, oceanographic research vessels powered primarily by sail, or equivalent sailing vessels operating on oceans or on the navigable waters of the United States, including the Great Lakes.

(6) Able Seafarer-Fishing Industry. Six months of service on deck, not as a processor, onboard vessels operating on oceans or on the navigable waters of the United States, including the Great Lakes.

(b) Approved training programs may be substituted for the required periods of service on deck as follows:

(1) A graduate of a school ship may be qualified for a rating endorsement as Able Seafarer, without further service, upon satisfactory completion of the program of instruction. For this purpose, “school ship” is interpreted to mean an institution that offers a complete approved program of instruction, including a period of at-sea training, in the skills appropriate to the rating of Able Seafarer.

(2) Training programs, other than those classified as a school ship, may be substituted for up to one-third of the required service on deck. The Coast Guard will determine the service/training ratio for each program and may allow a maximum of 3 days of deck service credit for each day of instruction.

143. Amend § 12.405 by revising the section heading and paragraphs (a) and (b)(2) to read as follows:

§ 12.405 Examination and demonstration of ability for Able Seafarer endorsements.

(a) Before an applicant is issued an endorsement as an Able Seafarer, he or she must prove, to the satisfaction of the Coast Guard, by oral or other means of examination, or by actual demonstration in a Coast Guard-approved course, their knowledge of seamanship and the ability to carry out effectively all the duties that may be required of an Able Seafarer, including those of a Lifeboat Operator or Lifeboat Operator-Limited.

(b) * * *

(2) The applicant's knowledge of commands in handling the wheel by obeying orders passed to them as helmsman, and knowledge of the use of the engine room telegraph.

* * * * *

144. Revise § 12.407 to read as follows:

§ 12.407 General requirements for Lifeboat Operator endorsements.

(a) General. Every person fulfilling the manning requirements as Lifeboat Operator on any United States vessel must hold an endorsement as Lifeboat Operator. No endorsement as Lifeboat Operator is required of any person employed on any unrigged vessel, except on a seagoing barge and on a tank barge navigating waters other than rivers and/or canals.

(b) Requirements for certification. (1) To qualify for an endorsement as Lifeboat Operator, an applicant must—

(i) Be at least 18 years of age;

(ii) Pass the prescribed physical and medical examination requirements specified in 46 CFR, part 10, subpart C; and

(iii) Present evidence of having passed a chemical test for dangerous drugs or as having qualified for an exemption for testing described in § 16.220 of this subchapter.

(2) To be eligible for an endorsement as Lifeboat Operator, an applicant must meet one of the following sea service requirements:

(i) At least 6 months of sea service in any department of vessels and the successful completion of an approved course.

(ii) At least 12 months of sea service in any department of vessels on ocean, coastwise, inland, and Great Lakes routes.

(3) Before an applicant is issued an endorsement as a Lifeboat Operator, they must prove, to the satisfaction of the Coast Guard, by oral or other means of examination, and by actual practical demonstration of abilities, their knowledge of seamanship and the ability to carry out effectively all the duties that may be required of a Lifeboat Operator. This requirement may be met by completion of an approved course in paragraph (b)(2)(i) of this section, provided the course includes actual practical demonstration of abilities.

(4) The practical demonstration must consist of a demonstration of the applicant's ability to—

(i) Take charge of a survival craft or rescue boat during and after launch;

(ii) Operate a survival craft engine;

(iii) Demonstrate the ability to row by actually pulling an oar in the boat;

(iv) Manage a survival craft and survivors after abandoning ship;

(v) Safely recover survival craft and rescue boats; and

(vi) Use locating and communication devices.

(5) The examination, whether administered orally or by other means, must be conducted only in the English language and must consist of questions regarding—

(i) Lifeboats and liferafts, the names of their essential parts, and a description of the required equipment;

(ii) The clearing away, swinging out, and lowering of lifeboats and liferafts, the handling of lifeboats under oars and sails, including questions relative to the proper handling of a boat in a heavy sea; and

(iii) The operation and functions of commonly used types of davits.

(6) An applicant, to be eligible for an endorsement as Lifeboat Operator, must be able to speak and understand the English language as would be required in the rating of Lifeboat Operator and in an emergency aboard ship.

145. Revise § 12.409 to read as follows:

§ 12.409 General requirements for Lifeboat Operator-Limited endorsements.

(a) General. Every person fulfilling the manning requirements for Lifeboat Operator on any United States vessel fitted with liferafts, but not fitted with lifeboats, must hold an endorsement as Lifeboat Operator or as Lifeboat Operator-Limited. No endorsement as Lifeboat Operator or Lifeboat Operator-Limited is required of any person employed on any unrigged vessel, except on a seagoing barge and on a tank barge navigating waters other than rivers and/or canals.

(b) Requirements for certification. (1) To qualify for an endorsement as Lifeboat Operator-Limited, an applicant must—

(i) Be at least 18 years of age;

(ii) Pass the prescribed physical and medical examination requirements specified in 46 CFR part 10, subpart C; and

(iii) Present evidence of having passed a chemical test for dangerous drugs or of having qualified for an exemption for testing, as described in § 16.220 of this subchapter.

(2) An applicant, to be eligible for an endorsement as Lifeboat Operator-Limited, must meet one of the following sea service requirements:

(i) At least 12 months of sea service in any department of vessels on ocean, coastwise, inland, and Great Lakes routes.

(ii) At least 6 months of sea service in any department of vessels, and successful completion of an approved course.

(3) Before an applicant is issued an endorsement as a Lifeboat Operator-Limited, they must prove, to the satisfaction of the Coast Guard, by oral or other means of examination, and by actual practical demonstration of abilities, their knowledge of seamanship and ability to carry out effectively all the duties that may be required of a Lifeboat Operator-Limited.

(4) The practical demonstration must consist of a demonstration of the applicant's ability to—

(i) Take charge of a rescue boat, liferaft, or other lifesaving apparatus during and after launch;

(ii) Operate a rescue boat engine;

(iii) Manage a survival craft and survivors after abandoning ship;

(iv) Safely recover rescue boats; and

(v) Use locating and communication devices.

(5) The examination, whether administered orally or by other means, must be conducted only in the English language and must consist of questions regarding—

(i) Liferafts, rescue boats, and other survival craft except lifeboats, the names of their essential parts, and a description and use of the required equipment;

(ii) The clearing away, launching, and handling of rescue craft, except lifeboats; and

(iii) The operation and functions of commonly used launching devices for rescue boats and survival craft other than lifeboats.

(6) An applicant, to be eligible for an endorsement as Lifeboat Operator-Limited, must be able to speak and understand the English language as would be required in the rating of Lifeboat Operator-Limited and in an emergency aboard ship.

146. Amend § 12.501 by revising the section heading and paragraphs (a) and (b) to read as follows:

§ 12.501 General requirements for a Qualified Member of the Engine Department.

(a) General. A Qualified Member of the Engine Department (QMED) is any person below officer and above the rating of Coal Passer or Wiper, who holds an MMC or MMD endorsed as QMED by the Coast Guard.

(b) Categories. (1) Each QMED rating must be endorsed separately, unless the applicant qualifies for all QMED ratings, in which case the endorsement will read “QMED—any rating.” The ratings are—

(i) Boiler Technician/Watertender;

(ii) Oiler;

(iii) Junior Engineer;

(iv) Electrician/Refrigerating Engineer; and

(v) Pump Technician/Machinist.

(2) The Coast Guard will no longer issue original endorsements for Deck Engineer, Deck/Engine Mechanic, or Engineman, or individual endorsements for Refrigerating Engineer, Machinist, Electrician, and Pump Technician. However, a mariner who holds any of these endorsements may continue to renew them as long as they are otherwise qualified.

(3) If the holder of an endorsement as Pump Technician only or Machinist only seeks the combined endorsement of Pump Technician/Machinist, the mariner must pass the examination described in table 1 to § 12.505(c).

(4) If the holder of an endorsement as Electrician only or Refrigerating Engineer only seeks the combined endorsement of Electrician/Refrigerating Engineer, the mariner must pass the examination described in table 1 to § 12.505(c).

* * * * *

147. Amend § 12.503 by revising paragraph (a) to read as follows:

§ 12.503 Service or training requirements.

(a) An applicant for an endorsement as Qualified Member of the Engine Department (QMED) must provide the Coast Guard with proof of qualification based on 6 months of service in a rating at least equal to that of Wiper or Coal Passer.

* * * * *

148. Amend § 12.505 by revising paragraph (a) and table 1 to § 12.505(c) to read as follows:

§ 12.505 Examination requirements.

(a) Before an applicant is issued an endorsement as QMED in the rating of Oiler, Boiler Technician/Watertender, Junior Engineer, Pump Technician/Machinist, or Electrician/Refrigerating Engineer, they must prove, to the satisfaction of the Coast Guard, by oral or other means of examination, their knowledge of the subjects listed in paragraph (c) of this section.

* * * * *

(c) * * *

Table 1 to § 12.505(c)—Examination Subjects for QMED Ratings
Subjects | Pump technician/ machinist | Boiler technician/ watertender | Oiler | Electrician/ refrigerating engineer | Junior engineer
General subjects:
Auxiliary machinery | X | X | X | X | X
Basic safety procedures | X | X | X | X | X
Bearings | X |  | X | X | X
Care of equipment and machine parts | X | X | X | X | X
Deck machinery | X |  |  | X | X
Drawings and tables | X |  |  | X | X
Heat exchangers | X | X | X | X | X
Hydraulic principles | X |  |  | X | X
Instrumentation principles | X | X | X | X | X
Lubrication principles | X |  | X | X | X
Maintenance procedures | X | X | X | X | X
Measuring instruments | X | X | X | X | X
Pipes, fittings, and valves | X | X | X | X | X
Pollution prevention | X | X | X | X | X
Properties of fuel |  | X | X |  | X
Pumps, fans, and blowers | X |  |  | X | X
Refrigeration principles |  |  | X | X | X
Remote control equipment | X | X | X | X | X
Use of hand/power tools | X | X | X | X | X
Watch duties |  | X | X |  | X
Electrical subjects:
A/C circuits |  |  |  | X | X
Batteries |  |  |  | X | X
Calculations |  |  |  | X | X
Communication devices |  |  |  | X | X
D/C circuits |  |  |  | X | X
Distribution systems |  |  |  | X | X
Electronic principles |  |  |  | X | X
Generation equipment |  |  | X | X | X
Maintenance |  |  | X | X | X
Measuring devices |  |  |  | X | X
Motor controllers |  |  |  | X | X
Motors |  |  | X | X | X
Safety | X | X | X | X | X
Troubleshooting |  |  |  | X |
Safety and environmental protection subjects:
Communications | X | X | X | X | X
Damage control | X | X | X | X | X
Elementary first aid | X | X | X | X | X
Emergency equipment | X | X | X | X | X
Environmental awareness | X | X | X | X | X
Fire prevention | X | X | X | X | X
Firefighting equipment | X | X | X | X | X
Firefighting principles | X | X | X | X | X
General safety | X | X | X | X | X
Hazardous materials | X | X | X | X | X
Shipboard equipment and systems subjects:
Air conditioning |  |  |  | X | X
Ballast | X | X | X |  | X
Bilge | X | X | X |  | X
Compressed air | X | X | X | X | X
Desalination |  |  | X |  | X
Fuel oil storage/transfer |  | X | X |  | X
Fuel treatment |  | X | X |  | X
Heating/ventilation | X |  |  | X | X
Lubrication | X |  | X | X | X
Potable water |  |  | X |  | X
Refrigeration |  |  | X | X | X
Sanitary/sewage |  |  | X |  | X
Steering |  |  | X | X | X
Steam propulsion subjects:
Auxiliary turbines |  | X | X |  | X
Boiler fundamentals |  | X | X |  | X
Combustion principles |  | X | X |  | X
Condensate systems |  | X | X |  | X
Drive systems |  | X | X |  | X
Feedwater systems |  | X | X |  | X
Fuel service systems |  | X | X |  | X
Maintenance | X | X | X |  | X
Safety | X | X | X | X | X
Steam fundamentals | X | X | X |  | X
Turbine fundamentals |  | X | X |  | X
Motor propulsion subjects:
Air-charge systems |  |  | X |  | X
Cooling water systems |  |  | X |  | X
Diesel engine principles | X |  | X |  | X
Drive systems | X |  | X |  | X
Fuel service systems |  |  | X |  | X
Intake/exhaust |  |  | X |  | X
Lubrication systems | X |  | X |  | X
Starting systems |  |  | X |  | X
Waste heat/auxiliary boiler |  |  | X |  | X

149. Amend § 12.601 by revising paragraphs (a) and (b)(1)(i) to read as follows:

§ 12.601 General requirements for STCW rating endorsements.

(a) General. An applicant for any STCW endorsement must hold the appropriate national endorsement, unless otherwise specified. The Coast Guard will issue an STCW endorsement to qualified applicants for any of the following ratings or qualifications:

(1) Able Seafarer-Deck.

(2) Ratings Forming Part of a Navigational Watch (RFPNW).

(3) Able Seafarer-Engine.

(4) Ratings Forming Part of an Engineering Watch in a manned engineroom or designated to perform duties in a periodically unmanned engineroom (RFPEW).

(5) Electro-technical Rating on vessels powered by main propulsion machinery of 750 kW/1,000 HP or more.

(6) Proficiency in Survival Craft and Rescue Boats, other than Fast Rescue Boats (PSC).

(7) Proficiency in Survival Craft and Rescue Boats, other than lifeboats and Fast Rescue Boats (PSC-Limited).

(8) Proficiency in Fast Rescue Boats.

(9) Medical First-aid Provider.

(10) Person in Charge of Medical Care.

(11) GMDSS At-sea Maintainer.

(12) Vessel Personnel with Designated Security Duties.

(13) Security Awareness.

(b) * * *

(1) * * *

(i) In-service experience: Documentation of successful completion of assessments, approved or accepted by the Coast Guard, and signed by a Qualified Assessor, deck or engineering, as appropriate.

* * * * *

150. Amend § 12.602 by revising the section heading and paragraphs (a) introductory text and (b) introductory text to read as follows:

§ 12.602 Basic Training.

(a) Applicants seeking an STCW rating endorsement must provide evidence, with their application, of meeting the standard of competence for Basic Training (BT) as described below:

* * * * *

(b) Every 5 years, seafarers qualified in accordance with § 12.601(a) must provide evidence of maintaining the standard of competence for Basic Training (BT).

* * * * *

151. Amend § 12.603 by revising the section heading, paragraphs (a) and (b), and table 1 to § 12.603(d) to read as follows:

§ 12.603 Requirements to qualify for an STCW endorsement as Able Seafarer-Deck.

(a) To qualify for this endorsement as Able Seafarer-Deck, an applicant must—

(1) Be not less than 18 years of age;

(2) Meet the requirements for certification as Ratings Forming Part of a Navigational Watch (RFPNW);

(3) While qualified as an RFPNW, have seagoing service in the deck department of—

(i) Not less than 18 months; or

(ii) Not less than 12 months and have completed approved training;

(4) Provide evidence of meeting the standard of competence specified in Table A-II/5 of the STCW Code (incorporated by reference, see § 12.103); and

(5) Provide evidence of having satisfactorily completed approved training in—

(i) Proficiency in Survival Craft and Rescue Boats other than Fast Rescue Boats (PSC); or

(ii) Proficiency in Survival Craft and Rescue Boats, other than lifeboats or Fast Rescue Boats-Limited (PSC-Limited), as appropriate.

(b) Seafarers holding a rating endorsement as Able Seafarer before January 1, 2017, will be eligible for this endorsement upon showing evidence of—

(1) Holding an endorsement as an RFPNW; and

(2) Having satisfactorily completed approved training in—

(i) Proficiency in Survival Craft and Rescue Boats, other than Fast Rescue Boats (PSC); or

(ii) Proficiency in Survival Craft and Rescue Boats, other than lifeboats or Fast Rescue Boats (PSC-Limited), as appropriate.

* * * * *

(d) * * *

Table 1 to § 12.603(d)—STCW Endorsement as Able Seafarer-Deck
Entry path from national endorsements | Sea service under authority of the endorsement ¹ | Competence—STCW Table A-II/4 ² | Competence—STCW Table A-II/5 ³ | Training required by this section ⁴
Able Seafarer-Unlimited | None | Y | Y | N
Able Seafarer-Limited | None | Y | Y | N
Able Seafarer-Special | 6 months ⁵ | Y | Y | N
Able Seafarer-OSV | 12 months ⁶ | Y | Y | N
Able Seafarer-Sail | 12 months ⁶ | Y | Y | N
Able Seafarer-Fishing Industry | 12 months ⁶ | Y | Y | N
¹ This column provides the minimum additional service required of the seafarer already holding an RFPNW endorsement in order to meet the requirements of this section.
² Complete any items in paragraph (a)(2) of this section not previously satisfied.
³ Complete any items in paragraph (a)(4) of this section not previously satisfied.
⁴ Complete any items in paragraph (a)(5) of this section not previously satisfied.
⁵ The service may be reduced to 3 months if training has been completed as part of an approved training program meeting the requirements of paragraph (a)(4) of this section.
⁶ The service may be reduced to 6 months if training has been completed as part of an approved training program meeting the requirements of (a)(4) of this section.

152. Amend § 12.605 by revising the section heading, paragraphs (a) introductory text and (a)(2)(i), and table 1 to § 12.605(c) to read as follows:

§ 12.605 Requirements to qualify for an STCW endorsement as Ratings Forming Part of a Navigational Watch

(a) To qualify for endorsement as Ratings Forming Part of a Navigational Watch (RFPNW) on a seagoing vessel of 500 GT or more, an applicant must—

* * * * *

(2) * * *

(i) Six months of seagoing service, which includes training and experience associated with navigational watchkeeping functions and involves the performance of duties carried out under the supervision of the Master, Mate, or qualified STCW deck rating; or

* * * * *

(c) * * *

Table 1 to § 12.605(c)—STCW Endorsement as RFPNW
Entry path from national endorsements | Sea service under authority of the endorsement ¹ | Competence—STCW Table A-II/4 ²
Able Seafarer-Unlimited | None | Y
Able Seafarer-Limited | None | Y
Able Seafarer-Special | None | Y
Able Seafarer-OSV | None | Y
Able Seafarer-Sail | None | Y
Able Seafarer-Fishing Industry | None | Y
Ordinary Seafarer | 6 mo.³ | Y
¹ This column provides the minimum additional service required of the seafarer in order to meet the requirements of this section.
² Complete any items in paragraph (a)(3) of this section not previously satisfied.
³ The service may be reduced to 2 months if training has been completed as part of an approved training program meeting the requirements of paragraph (a)(2)(ii) of this section.

153. Amend § 12.607 by revising the section heading, paragraphs (a) introductory text, (a)(2), and (b), and table 1 to § 12.607(d) to read as follows:

§ 12.607 Requirements to qualify for an STCW endorsement as rating as Able Seafarer-Engine.

(a) To qualify for an STCW endorsement as an Able Seafarer-Engine, an applicant must—

* * * * *

(2) Meet the requirements for certification as a Ratings Forming Part of an Engineering Watch (RFPEW);

* * * * *

(b) Seafarers holding a rating endorsement as QMED, Junior Engineer, Electrician or Electrician/Refrigerating Engineer, Pump Technician or Pump Technician/Machinist, Refrigerating Engineer, or Machinist before January 1, 2017, will be eligible for this endorsement upon showing evidence of holding an endorsement as an RFPEW.

* * * * *

(d) * * *

Table 1 to § 12.607(d)—STCW Endorsement as Able Seafarer-Engine
Domestic QMED endorsement | Additional sea service for AS-E
Engineman | None.
Deck Engine Mechanic | None.
Electrician | 6 months.¹
Refrigerating Engineer | 6 months.¹
Pump Technician | 6 months.¹
Machinist | 6 months.¹
¹ Service may be reduced to 3 months if training has been completed as part of an approved training program.

154. Amend § 12.609 by revising the section heading and paragraph (a) introductory text to read as follows:

§ 12.609 Requirements to qualify for an STCW endorsement as Rating Forming Part of an Engineering Watch.

(a) To qualify for an STCW endorsement as Ratings Forming Part of an Engineering Watch (RFPEW) in a manned engineroom or to qualify to be designated to perform duties in a periodically unmanned engineroom, an applicant must—

* * * * *

155. Amend § 12.611 by revising the section heading, paragraphs (a) introductory text, (a)(2)(i), and (b), and table 1 to § 12.611(c) to read as follows:

§ 12.611 Requirements to qualify for an STCW endorsement as Electro-technical Rating on vessels powered by main propulsion machinery of 750 kW/1,000 HP or more.

(a) To qualify for an STCW endorsement as an Electro-technical Rating (ETR), an applicant must—

* * * * *

(2) * * *

(i) Twelve months of seagoing service, that includes training and experience associated with engine room watchkeeping functions and involves the performance of duties carried out under the supervision of an engineer officer, Electro-technical Officer, or a qualified STCW engine rating;

* * * * *

(b) An applicant who holds an STCW endorsement as Able Seafarer-Engine and a national rating endorsement as Electrician, Electrician/Refrigerating Engineer, or Junior Engineer will be issued the ETR endorsement upon completion of the requirements in Section A-III/7 of the STCW Code and evidence of completion of the training required in paragraph (a)(4) of this section.

(c) * * *

Table 1 to § 12.611(c)—STCW Endorsement as Electro-technical Rating
Entry path from national endorsements | Sea service under authority of the endorsement ¹ | Competence—STCW Table A-III/7 ²
Electrician/Refrigerating Engineer | None | Y
Junior Engineer | None | Y
¹ This column provides the minimum additional service required of the seafarer in order to meet the requirements of this section.
² Complete any items in paragraph (a)(3) of this section not previously satisfied.

156. Amend § 12.613 by revising the section heading and paragraphs (a) and (c) to read as follows:

§ 12.613 Requirements to qualify for an STCW endorsement in Proficiency in Survival Craft and Rescue Boats other than Fast Rescue Boats.

(a) To qualify for an STCW endorsement in Proficiency in Survival Craft and Rescue Boats other than Fast Rescue Boats (PSC), the applicant must-

(1) Be at least 18 years of age;

(2) Meet the requirements for a Lifeboat Operator endorsement in § 12.407 and Table A-VI/2-1 of the STCW Code (incorporated by reference, see § 12.103); and

(3) Complete Basic Training (BT), found in § 12.602.

* * * * *

(c) Seafarers holding an MMD or MMC endorsement as Lifeboat Operator before January 1, 2017 will be eligible for this endorsement upon showing evidence of sea service of not less than 12 months within the last 60 months. The sea service must be completed prior to January 1, 2017.

157. Amend § 12.615 by revising the section heading and paragraphs (a) and (c) to read as follows:

§ 12.615 Requirements to qualify for an STCW endorsement in Proficiency in Survival Craft and Rescue Boats other than Lifeboats and Fast Rescue Boats-Limited (PSC-Limited).

(a) To qualify for an STCW endorsement in Proficiency in Survival Craft and Rescue Boats other than Lifeboats and Fast Rescue Boats-Limited (PSC-Limited), the applicant must—

(1) Be at least 18 years of age;

(2) Meet the requirements for a Lifeboat Operator-Limited endorsement in § 12.409 and Table A-VI/2-1 of the STCW Code (incorporated by reference, see § 12.103); and

(3) Complete Basic Training (BT), found in § 12.601(c).

* * * * *

(c) Seafarers holding an MMD or MMC endorsement as Lifeboat Operator-Limited before January 1, 2017, will be eligible for this endorsement upon showing evidence of sea service of not less than 12 months within the last 60 months. The sea service must be completed prior to January 1, 2017.

158. Amend § 12.617 by revising the section heading and paragraphs (a) and (b)(2)(i) to read as follows:

§ 12.617 Requirements to qualify for an STCW endorsement in Proficiency in Fast Rescue Boats.

(a) To qualify for an STCW endorsement in Proficiency in Fast Rescue Boats, an applicant must—

(1) Be not less than 18 years of age;

(2) Hold an endorsement in Proficiency in Survival Craft and Rescue Boats other than Fast Rescue Boats (PSC) or in Proficiency in Survival Craft and Rescue Boats other than lifeboats and Fast Rescue Boats-Limited (PSC-Limited) under this subpart;

(3) Provide evidence of successful completion of a Coast Guard-approved or -accepted course; and

(4) Provide evidence of meeting the standard of competence specified in Table A-VI/2-2 of the STCW Code (incorporated by reference, see § 12.103).

(b) * * *

(2) * * *

(i) Taking charge of a Fast Rescue Boat during and after launch, including—

(A) Controlling safe launching, operating of the engine, and recovering a Fast Rescue Boat;

(B) Handling a Fast Rescue Boat in prevailing weather and sea conditions;

(C) Using communication and signaling equipment between the Fast Rescue Boat and a helicopter and a ship;

* * * * *

159. Amend § 12.619 by revising the section heading and paragraphs (a) introductory text and (b) introductory text to read as follows:

§ 12.619 Requirements to qualify for an STCW endorsement as Medical First-aid Provider.

(a) To qualify for an STCW endorsement as Medical First-aid Provider, an applicant must—

* * * * *

(b) An applicant holding one of the following credentials is qualified for an endorsement as Medical First-aid Provider:

* * * * *

160. Amend § 12.621 by revising the section heading and paragraphs (a) introductory text and (b) introductory text to read as follows:

§ 12.621 Requirements to qualify for an STCW endorsement as Person in Charge of Medical Care.

(a) To qualify for an STCW endorsement as Person in Charge of Medical Care, an applicant must—

* * * * *

(b) An applicant holding any of the following credentials is qualified for an endorsement as Person in Charge of Medical Care:

* * * * *

161. Amend § 12.623 by revising the section heading, introductory text, and paragraphs (b)(2) and (c) to read as follows:

§ 12.623 Requirements to qualify for an STCW endorsement as Global Maritime Distress and Safety System At-sea Maintainer.

To qualify for an STCW endorsement as Global Maritime Distress and Safety System (GMDSS) At-sea Maintainer, an applicant must—

* * * * *

(b) * * *

(2) Passing an approved GMDSS At-sea Maintainer course; and

(c) Hold a valid Federal Communications Commission (FCC) certificate as GMDSS At-sea Maintainer.

162. Amend § 12.625 by revising the section heading and paragraphs (a) and (b) introductory text to read as follows:

§ 12.625 Requirements to qualify for an STCW endorsement as Vessel Personnel with Designated Security Duties.

(a) An applicant for an STCW endorsement as Vessel Personnel with Designated Security Duties must—

* * * * *

(b) Until March 24, 2014, seafarers will be able to apply for an endorsement as Vessel Personnel with Designated Security Duties by—

* * * * *

163. Amend § 12.627 by revising the section heading and paragraphs (a) introductory text and (b) introductory text to read as follows:

§ 12.627 Requirements to qualify for an STCW endorsement for Security Awareness.

(a) An applicant for an endorsement for Security Awareness must—

* * * * *

(b) Until March 24, 2014, seafarers will be able to apply for an endorsement in Security Awareness by—

* * * * *

164. Revise § 12.701 to read as follows:

§ 12.701 Credentials required for entry-level and miscellaneous ratings.

Every person employed or engaged on a vessel subject to 46 U.S.C. 8701 must produce an MMC or MMD with the appropriate endorsement to the Master or Person in Charge (PIC), if appropriate, before signing shipping articles.

165. Revise § 12.703 to read as follows:

§ 12.703 General requirements for entry-level ratings.

(a) Rating endorsements will be issued without professional examination to applicants in capacities other than Able Seafarer, Lifeboat Operator, Lifeboat Operator-Limited, tank vessel endorsement, or QMED, including—

(1) Ordinary Seafarer;

(2) Wiper;

(3) Steward's Department; and

(4) Steward's Department (F.H.).

(b) Holders of MMCs or MMDs endorsed as Ordinary Seafarer may serve in any unqualified rating in the deck or steward's department, except as a Food Handler (F.H.).

(c) Holders of MMCs or MMDs endorsed as Wiper may serve in any unqualified rating in the engine or steward's department, except as a Food Handler.

(d) Only MMCs or MMDs endorsed as Steward's Department (F.H.) will authorize the holder's service in any capacity in the steward's department, including Food Handler.

166. Revise § 12.705 to read as follows:

§ 12.705 Endorsements for persons enrolled in a Maritime Administration-approved training program.

MMCs issued to individuals obtaining sea service as part of an approved training curriculum while enrolled at either the United States Merchant Marine Academy or a deck or engineering class of a Maritime Academy approved by and conducted under the rules prescribed by the Maritime Administrator and listed in 46 CFR part 310 will include an endorsement of Cadet-Deck or Cadet-Engine, as appropriate, and Lifeboat Operator. Individuals obtaining sea service as part of such an approved training curriculum must do so in the capacity of Cadet-Deck or Cadet-Engine, as appropriate, notwithstanding any other rating endorsements the individual may hold or any other capacity in which the individual may have previously served.

167. Revise § 12.709 to read as follows:

§ 12.709 Apprentice Engineers.

(a) Persons enrolled in an engineer training program approved by the Coast Guard, and who present a letter or other documentary evidence that they are enrolled, may be issued an MMC endorsed as Apprentice Engineer and may be signed on ships as such. The endorsement as Apprentice Engineer may be in addition to other endorsements; however, this endorsement does not authorize the holder to replace any of the regular required crew.

(b) Persons holding the endorsement as Apprentice Engineer are deemed to be seafarers.

168. Revise § 12.711 to read as follows:

§ 12.711 Apprentice Mate.

(a) A person enrolled in a Mate training program approved by the Coast Guard, and who presents a letter or other documentary evidence that they are enrolled, may be issued an MMC rating endorsement as Apprentice Mate and may be signed on a vessel in this capacity. The rating endorsement as Apprentice Mate may be in addition to other endorsements; however, this endorsement does not authorize the holder to replace any of the regular required crew.

(b) Persons holding the endorsement as Apprentice Mate are deemed to be seafarers.

169. Amend § 12.805 by revising paragraphs (b) through (d) to read as follows:

§ 12.805 Employer requirements.

* * * * *

(b) If an MMC is issued to the applicant, the report and information required in paragraph (a)(2) of this section must be securely kept by the employer on the U.S.-flagged large passenger vessel on which the applicant is employed. The report and information must remain on the last U.S.-flagged large passenger vessel on which the applicant was employed until such time as the MMC is returned to the Coast Guard in accordance with paragraph (d) of this section.

(c) If an MMC or a Transportation Worker Identification Credential (TWIC) is issued to the applicant, each MMC and TWIC must be securely kept by the employer on the U.S.-flagged large passenger vessel on which the applicant is employed. The employer must maintain a detailed record of the seafarer's total service on all authorized U.S.-flagged large passenger vessels, and must make that information available to the Coast Guard upon request, to demonstrate that the limitations of § 12.811(c) have not been exceeded.

(d) In the event that the seafarer's MMC and/or TWIC expires, the seafarer's visa status terminates, the seafarer serves onboard the U.S.-flagged large passenger vessel(s) for 36 months in the aggregate as a nonimmigrant crewmember, the employer terminates employment of the seafarer, or if the seafarer otherwise ceases working with the employer, the employer must return the MMC to the Coast Guard and/or the TWIC to the Transportation Security Administration (TSA) within 10 days of the event.

* * * * *

170. Amend § 12.809 by revising paragraphs (a) and (b) to read as follows:

§ 12.809 Citizenship and identity.

(a) Instead of the requirements of § 10.221 of this subchapter, a non-resident alien may apply for a Coast Guard-issued MMC, endorsed and valid only for service in the steward's department of a U.S.-flagged large passenger vessel, as defined in 46 U.S.C. 8103(k)(5)(B), if they are employable in the United States under the Immigration and Nationality Act (8 U.S.C. 1101, et seq.), including an alien crewmember described in section 101 (a)(15)(D)(i) of that Act.

(b) To meet the citizenship and identity requirements of this subpart, an applicant must present an unexpired passport issued by the government of the country of which the applicant is a citizen or subject, and either a valid U.S. C-1/D Crewmember Visa or another valid U.S. visa or authority deemed acceptable by the Coast Guard.

* * * * *

171. Revise § 12.811 to read as follows:

§ 12.811 Restrictions.

(a) An MMC issued to a non-resident alien under this subpart authorizes service only in the steward's department of the U.S.-flagged large passenger vessel(s), that is/are under the same common ownership and control as the foreign-flagged passenger vessel(s) on which the non-resident alien served to meet the requirements of § 12.807(a).

(1) The MMC will be endorsed for service in the steward's department, in accordance with § 12.703.

(2) The MMC may also be endorsed for service as a Food Handler if the applicant meets the requirements of § 12.703.

(3) No other rating or endorsement is authorized, except Lifeboat Operator or Lifeboat Operator-Limited, in which case all applicable requirements of this subchapter and the STCW Convention and STCW Code (incorporated by reference, see § 12.103) must be met.

(b) The following restrictions must be printed on the MMC, or be listed in an accompanying Coast Guard letter, or both:

(1) The name and official number of all U.S.-flagged vessels on which the non-resident alien may serve. Service is not authorized on any other U.S.-flagged vessel.

(2) Upon issuance, the MMC must remain in the custody of the employer at all times.

(3) Upon termination of employment, the MMC must be returned to the Coast Guard within 10 days, in accordance with § 12.805.

(4) A non-resident alien issued an MMC under this subpart may not perform watchstanding, engine room duty watch, or vessel navigation functions.

(5) A non-resident alien issued an MMC under this subpart may perform emergency-related duties, provided that -

(i) The emergency-related duties do not require any other rating or endorsement, except Lifeboat Operator or Lifeboat Operator-Limited as specified in paragraph (a)(3) of this section;

(ii) The non-resident alien has completed Familiarization and Basic Training (BT), as required in § 15.1105 of this subchapter;

(iii) If the non-resident alien serves as a Lifeboat Operator or Lifeboat Operator-Limited, they have the necessary Lifeboat Operator or Lifeboat Operator-Limited endorsement; and

(iv) The non-resident alien has completed the training for crewmembers on passenger ships performing duties involving safety or care for passengers, as required in § 15.1103 of this subchapter.

(c) A non-resident alien may only serve for an aggregate period of 36 months of actual service on all authorized U.S.-flagged large passenger vessels combined under the provisions of this subpart.

(d) Once this 36-month limitation is reached, the MMC becomes invalid and must be returned to the Coast Guard under § 12.805(d), and the non-resident alien is no longer authorized to serve in a position requiring an MMC on any U.S.-flagged large passenger vessel.

(e) An individual who successfully adjusts their immigration status to become either an alien lawfully admitted for permanent residence to the United States, or a citizen of the United States, may apply for an MMC, subject to the requirements of § 10.221 of this subchapter, without any restrictions or limitations imposed by this subpart.

172. Revise and republish part 13, consisting of §§ 13.101 through 13.611, to read as follows:

PART 13—CERTIFICATION OF TANK VESSEL PERSONNEL

Subpart A—General
§ 13.101 Purpose.
§ 13.103 Incorporation by reference.
§ 13.105 Paperwork approval.
§ 13.106 Requirement to hold an MMC.
§ 13.107 Tank vessel endorsements: General.
§ 13.109 Tank vessel endorsements: Authorized cargoes.
§ 13.111 Restricted tank vessel endorsements.
§ 13.113 [Reserved]
§ 13.115 Chemical testing requirements.
§ 13.117 Re-issuance of expired tank vessel endorsements.
§ 13.119 Expiration of endorsements.
§ 13.120 Renewal of tank vessel endorsements.
§ 13.121 Courses for tank vessel endorsements.
§ 13.123 Recency of service or experience for original tank vessel endorsements.
§ 13.125 Physical and medical requirements.
§ 13.127 Service: General.
§ 13.129 Quick-reference table for tank vessel endorsements.
Subpart B—Requirements for Tank Vessel-PIC Endorsement
§ 13.201 Original application for Tank Vessel-PIC endorsement.
§ 13.203 Service requirements.
§ 13.205 Proof of service for Tank Vessel-PIC endorsement.
Subpart C—Requirements for Tank Barge-PIC Endorsement
§ 13.301 Original application for Tank Barge-PIC endorsement.
§ 13.303 Service requirements.
§ 13.305 Proof of service for Tank Barge-PIC.
Subpart D Requirements for Tank Vessel-Assistant Wndorsement.
§ 13.401 Original application for Tank Vessel-Assistant endorsement.
§ 13.403 Service requirements.
§ 13.405 Proof of service for Tank Vessel-Assistant endorsement.
Subpart E—Requirements for Tank Vessel-Engineer Wndorsement
§ 13.501 Original application for Tank Vessel-Engineer endorsement.
§ 13.503 Service requirements.
§ 13.505 Proof of service for Tank Vessel-Engineer endorsement.
Subpart F—Requirements for STCW Tank Vessel Endorsements
§ 13.601 General.
§ 13.603 Requirements to qualify for an STCW endorsement for Advanced Oil Tanker Cargo Operations.
§ 13.605 Requirements to qualify for an STCW endorsement for Advanced Chemical Tanker Cargo Operations.
§ 13.607 Requirements to qualify for an STCW endorsement for Advanced Liquefied Gas Tanker Cargo Operations.
§ 13.609 Requirements to qualify for an STCW endorsement for Basic Oil and Chemical Tanker Cargo Operations.
§ 13.611 Requirements to qualify for an STCW endorsement for Basic Liquefied Gas Tanker Cargo Operations.

Authority: 46 U.S.C. 3703, 7317, 8105, 8703, 9102; DHS Delegation No. 00170.1, Revision No. 01.4.

Subpart A—General

§ 13.101 Purpose.

This part describes the various tank vessel endorsements issued by the Coast Guard on a Merchant Mariner Credential (MMC).

(a) This part prescribes the requirements for the following endorsements:

(1) Tank Vessel-PIC.

(2) Tank Barge-PIC .

(3) Restricted Tank Vessel-PIC.

(4) Restricted Tank Barge-PIC .

(5) Tank Vessel-Assistant.

(6) Tank Vessel-Engineer.

(b) This part prescribes the requirements for the following STCW endorsements:

(1) Advanced Oil Tanker Cargo Operation.

(2) Advanced Chemical Tanker Cargo Operation.

(3) Advanced Liquefied Gas Tanker Cargo Operation.

(4) Basic Oil and Chemical Tanker Cargo Operation.

(5) Basic Liquefied Gas Tanker Cargo Operation.

§ 13.103 Incorporation by reference.

(a) Certain material is incorporated by reference into this part with the approval of the Director of the Federal Register under 5 U.S.C. 552(a) and 1 CFR part 51. All approved incorporation by reference material (IBR) is available for inspection at the Coast Guard and the National Archives and Records Administration (NARA). Contact Coast Guard at: Office of Merchant Mariner Credentialing (CG-MMC), U.S. Coast Guard, Stop 7509, 2703 Martin Luther King Jr. Avenue SE, Washington, DC 20593-7509; phone: 202-372-1492; website: https://www.dco.uscg.mil/nmc/merchant_mariner_credential/. For information on the availability of this material at NARA,Error! Hyperlink reference not valid. visit www.archives.gov/federal-register/cfr/ibr-locations or email fr.inspection@nara.gov. The material may be obtained from:

(b) International Maritime Organization (IMO), 4 Albert Embankment, London SE1 7SR, England; phone: +44 (0)20 7735 7611; website: www.imo.org.

(1) The Seafarers' Training, Certification and Watchkeeping Code, as amended, 2011 (the STCW Code); approved for incorporation by reference in §§ 13.601, 13.603, 13.605, 13.607, 13.609, and 13.611; and

(2) [Reserved]

§ 13.105 Paperwork approval.

(a) This section lists the control numbers assigned by the Office of Management and Budget (OMB) under the Paperwork Reduction Act of 1980 [Pub. L. 96-511] for the reporting and recordkeeping requirements in this part.

(b) OMB has assigned the following control numbers to the sections indicated:

(1) OMB 1625-0040—46 CFR 13.113, 13.115, 13.117, 13.201, 13.203, 13.205, 13.301, 13.303, 13.305, 13.401, 13.403, 13.405, 13.501, 13.503, 13.505.

(2) OMB 1625-0028—46 CFR 13.121, 13.207, 13.209, 13.307, 13.309, 13.407, 13.409, 13.507, 13.509.

§ 13.106 Requirement to hold an MMC.

An applicant for any endorsement in this part must also meet the requirements for the MMC on which the endorsement would appear. These requirements are set out in part 10 of this subchapter.

§ 13.107 Tank vessel endorsements: General.

(a) If an applicant meets the requirements of subpart B of this part, the Coast Guard may endorse their MMC as Tank Vessel-PIC with the appropriate cargo classification or classifications. A person holding this endorsement and meeting the other requirements of 33 CFR 155.710(a) may act as a PIC of a transfer of fuel oil, of a transfer of liquid cargo in bulk, or of cargo-tank cleaning on any tank vessel. That person may also act as a Tank Vessel-Engineer, provided they also hold an engineer License or engineer endorsement.

(b) If an applicant meets the requirements of subpart C of this part, the Coast Guard may endorse their MMC as Tank Barge-PIC with the appropriate cargo classification or classifications. A person holding this endorsement and meeting the other requirements of 33 CFR 155.710(b) may act as a PIC of a transfer of liquid cargo in bulk only on a tank barge.

(c) If an applicant meets the requirements of subpart D of this part, the Coast Guard may endorse their MMC as Tank Vessel-Assistant with the appropriate cargo classification or classifications. No person holding this endorsement may act as a PIC of any transfer of fuel oil, of any transfer of liquid cargo in bulk, or of cargo-tank cleaning unless they also hold an endorsement authorizing service as PIC. They may, however, without being directly supervised by the PIC, perform duties relative to cargo and cargo-handling equipment assigned by the PIC of transfers of fuel oil, of transfers of liquid cargo in bulk, or of cargo-tank cleaning. When performing these duties, they must maintain continuous two-way voice communications with the PIC.

(d) If an applicant meets the requirements of subpart E of this part, the Coast Guard may endorse their MMC as Tank Vessel-Engineer. No person holding this endorsement may act as a PIC or Tank Vessel-Assistant of any transfer of liquid cargo in bulk, or of cargo-tank cleaning unless they also hold an endorsement authorizing such service. A person holding this endorsement and acting in this capacity has the primary responsibility, on their self-propelled tank vessel carrying dangerous liquid (DL) or liquefied gas (LG), for maintaining both the cargo systems and equipment for transfer of liquid cargo in bulk. No person licensed or credentialed under part 11 of this chapter may serve as a Chief Engineer, First Assistant Engineer, or Cargo Engineer aboard an inspected self-propelled tank vessel when liquid cargo in bulk or cargo residue is carried unless they hold an endorsement as Tank Vessel-Engineer or equivalent.

(e) If an applicant meets the requirements of § 13.111, the Coast Guard may place, on their MMC, an endorsement as a Tank Vessel-PIC restricted according to the definitions of “restricted tank vessel endorsement” in § 10.107 of this subchapter.

(f) This section does not apply to any person solely by reason of their involvement in bunkering or fueling.

§ 13.109 Tank vessel endorsements: Authorized cargoes.

(a) Each tank vessel endorsement described in § 13.107 will expressly limit the holder's service under it to transfers involving one or both of the following cargo classifications:

(1) Dangerous liquid (DL).

(2) Liquefied gas (LG).

(b) No tank vessel endorsement is necessary to transfer the liquid cargoes in bulk listed in table 2 of part 153 of this subchapter when those cargoes are carried on barges not certified for ocean service.

§ 13.111 Restricted tank vessel endorsements.

(a) An applicant may apply for a tank vessel endorsement restricted to specific cargoes, specific vessels, or groups of vessels (such as uninspected towing vessels and oil spill response vessels), specific facilities, and/or specific employers. The Coast Guard will evaluate each application and may modify the applicable requirements for the endorsement, allowing for special circumstances and for whichever restrictions the endorsement will state.

(b) To qualify for a Restricted Tank Vessel-PIC endorsement, an applicant must meet §§ 13.201 (excluding paragraph (c)(4)), 13.203, and 13.205.

(1) Twenty-five percent of the service described in § 13.203(a) must have occurred within the past 5 years.

(2) Two of the transfers described in § 13.203(b) must have occurred within the past 5 years.

(c) To qualify for a Restricted Tank Barge-PIC endorsement, an applicant must meet §§ 13.301 (excluding paragraph (c)(4)), 13.303, and 13.305.

(1) Twenty-five percent of the service described in § 13.303(a) must have occurred within the past 5 years.

(2) Two of the transfers described in § 13.303(b) must have occurred within the past 5 years.

(d) To qualify for a Restricted Tank Barge-PIC endorsement restricted to a tank-cleaning and gas-freeing facility, an applicant must—

(1) Be at least 18 years old;

(2) Apply on a form provided by the Coast Guard;

(3) Present evidence of passing a physical and medical examination according to § 13.125;

(4) Present evidence in the form of a letter, which must be dated within the 5 years prior to the application for the credential, on company letterhead from the operator of the facility stating that OSHA considers the applicant a “competent person (as designated under 29 CFR 1915.7)” for the facility and that the applicant has the knowledge necessary to supervise tank-cleaning and gas-freeing; and

(5) Be capable of speaking and understanding, in English, all instructions needed to commence, conduct, and complete a transfer of cargo, and of reading and understanding the English found in the Declaration of Inspection, vessel response plans, and Cargo Information Cards.

(e) The Restricted Tank Barge-PIC endorsement restricted to a tank-cleaning and gas-freeing facility is valid only while the applicant is employed by the operator of the facility that provided the letter of service required by paragraph (d)(4) of this section, and this and any other appropriate restrictions will appear in the endorsement.

(f) A restricted Tank Vessel-PIC endorsement limited to operation on vessels inside the boundary line is not valid where STCW certification is required.

§ 13.113 [Reserved]

§ 13.115 Chemical testing requirements.

Each applicant for an original tank vessel endorsement must provide evidence of having passed a chemical test for dangerous drugs or of qualifying for an exemption from testing in § 16.220 of this subchapter as specified in § 10.225(b)(5) of this subchapter.

§ 13.117 Re-issuance of expired tank vessel endorsements.

Whenever an applicant applies for re-issuance of any tank vessel endorsement more than 12 months after expiration of the previous endorsement, the applicant must meet the requirements for an original endorsement.

§ 13.119 Expiration of endorsements.

A tank vessel endorsement is valid for the duration of the Merchant Mariner Credential (MMC) on which the endorsement appears.

§ 13.120 Renewal of tank vessel endorsements.

An applicant seeking renewal of a tank vessel endorsement or an STCW endorsement valid for service on tank vessels must meet the requirements of § 10.227 of this subchapter, except § 10.227(e)(1), for renewing an MMC, and meet the following additional requirements:

(a) For endorsements as Tank Vessel-PIC, Advanced Oil and Chemical Tanker Cargo Operation; and Advanced Liquefied Gas Tanker Cargo Operations, present evidence of—

(1) At least 90 days of service during the preceding 5 years onboard a tank vessel for which the endorsement is valid, performing duties appropriate to the tank vessel endorsement held; and participation in at least two transfers of liquid cargo in bulk of the type for which the endorsement is valid within the preceding 5 years; or

(2) Completion of an approved course for Tankship: Dangerous Liquids or Tankship: Liquefied Gases, appropriate for the endorsement to be renewed, within the previous 5 years.

(b) For endorsements as Tank Vessel-Assistant, Basic Oil and Chemical Tanker Cargo Operation; and Basic Liquefied Gas Tanker Cargo Operations, present evidence of—

(1) At least 90 days of service during the preceding 5 years onboard a tank vessel for which the endorsement is valid, performing duties appropriate to the tank vessel endorsement held; or

(2) Completion of an approved course for Tankship: Dangerous Liquids or Tankship: Liquefied Gases, appropriate for the endorsement to be renewed, within the previous 5 years.

(c) For endorsements as Tank Barge-PIC, present evidence of—

(1) Participation in at least two transfers of liquid cargo in bulk of the type for which the endorsement is valid, within the preceding 5 years; or

(2) Completion of a course approved for this purpose, appropriate for the endorsement to be renewed, within the previous 5 years.

(d) For endorsements as Tank Vessel-Engineer, present evidence of—

(1) At least 90 days of service during the preceding 5 years onboard a tank vessel for which the endorsement is valid, performing duties appropriate to the tank vessel endorsement held; or

(2) Completion of a course approved for this purpose, appropriate for the endorsement to be renewed, within the previous 5 years.

§ 13.121 Courses for tank vessel endorsements.

(a) This section prescribes the requirements, beyond those in §§ 10.302 and 10.304 of this subchapter, applicable to schools offering courses required for a tank vessel endorsement and courses that are a substitute for experience with transfers of liquid cargo in bulk required for the endorsement.

(b) A course that uses simulated transfers to train students in loading and discharging tank vessels may replace up to two loadings and two discharges, one commencement and one completion of loading, and one commencement and one completion of discharge required for a Tank Vessel-PIC or Tank Barge-PIC endorsement. The request for approval of the course must specify those segments of a transfer that the course will simulate. The letter from the Coast Guard approving the course will state the number and kind of segments that the course will replace.

(c) The Liquid Cargo course required for an endorsement as—

(1) Tank Vessel-PIC DL is Tankship: Dangerous Liquids;

(2) Tank Barge-PIC DL is Tank Barge: Dangerous Liquids;

(3) Tank Vessel-PIC LG is Tankship: Liquefied Gases;

(4) Tank barge-PIC LG is Tank Barge: Liquefied Gases;

(5) Tank Vessel-Assistant DL is Tankship: Familiarization (Dangerous Liquids);

(6) Tank Vessel-Assistant LG is Tankship: Familiarization (Liquefied Gases);

(7) Tank Vessel-Engineer DL is Tankship: Dangerous Liquids; and

(8) Tank Vessel-Engineer LG is Tankship: Liquefied Gases.

(d) The firefighting course required for an endorsement as—

(1) Tank Barge-PIC is Tank Barge: Firefighting or Basic Firefighting; and

(2) Tank Vessel-PIC, Tank Vessel-Assistant, and Tank Vessel-Engineer is basic firefighting.

(e) The Coast Guard will evaluate and approve the curricula of courses to ensure adequate coverage of the required subjects. Training may employ classroom instruction, demonstrations, or simulated or actual operations.

(1) The course curricula for Tankship Familiarization must consist of the topics identified in table 1 to § 13.121(e).

(2) The course curricula for Tank Vessel-PIC, Tank Barge-PIC, and Tank Vessel-Engineer endorsements must consist of the topics identified in table 2 to § 13.121(e).

(3) The course curricula for firefighting courses must consist of the topics identified in table 3 to § 13.121(e).

Table 1 to § 13.121(e)
Tankship familiarization topics | 1 | 2
Basic knowledge of tankers:
Types of oil and chemical vessels or liquefied gas tanker vessels | X | X
General arrangement and construction | X | X
Basic knowledge of cargo operations:
Piping systems and valves | X | X
Cargo pumps and cargo handling equipment | X | X
Loading and unloading and care in transit | X | X
Tank cleaning, purging, gas-freeing and inerting | X | X
Basic knowledge of the physical properties of oil and chemicals:
Pressure and temperature, including vapor pressure/temperature relationship | X |
Types of electrostatic charge generation | X |
chemical symbols | X |
Basic knowledge of the physical properties of liquefied gases, including:
Properties and characteristics |  | X
Pressure and temperature, including vapor pressure/temperature relationship |  | X
Types of electrostatic charge generation |  | X
Chemical symbols |  | X
Knowledge and understanding of tanker safety culture and safety management | X | X
Basic knowledge of the hazards associated with tanker operations, including:
Health hazards | X | X
Environmental hazards | X | X
Reactivity hazards | X | X
Corrosion hazards | X | X
Explosion and flammability hazards | X | X
Sources of ignition | X | X
Electrostatic hazards | X | X
Toxicity hazards | X | X
Vapor leaks and clouds | X | X
Extremely low temperatures |  | X
Pressure hazards |  | X
Basic knowledge of hazard controls:
Inerting, water padding, drying agents and monitoring techniques | X | X
Anti-static measures | X | X
Ventilation | X | X
Segregation | X | X
Cargo inhibition | X | X
Importance of cargo compatibility | X | X
Atmospheric control | X | X
Gas testing | X | X
Understanding of information on a Material Safety Data Sheet (MSDS) | X | X
Function and proper use of gas-measuring instruments and similar equipment | X | X
Proper use of safety equipment and protective devices, including:
Breathing apparatus and tank-evacuating equipment | X | X
Protective clothing and equipment | X | X
Resuscitators | X | X
Rescue and escape equipment | X | X
Basic knowledge of safe working practices and procedures in accordance with legislation and industry guidelines and personal shipboard safety relevant to oil and chemical tankers, including:
Precautions to be taken when entering enclosed spaces | X | X
Precautions to be taken before and during repair and maintenance work | X | X
Safety measures for hot and cold work | X | X
Electrical safety | X | X
Ship/shore safety checklist | X | X
Basic knowledge of first aid with reference to a Material Safety Data Sheet (MSDS) | X | X
Basic knowledge of emergency procedures, including emergency shutdown | X | X
Basic knowledge of the effects of oil and chemical pollution on human and marine life | X | X
Basic knowledge of shipboard procedures to prevent pollution | X | X
Basic knowledge of measures to be taken in the event of spillage, including the need to:
Report relevant information to the responsible persons | X | X
Assist in implementing shipboard spill-containment procedures | X | X
prevent brittle fracture | X |
Column 1—Tankship Familiarization (Dangerous Liquids).
Column 2—Tankship Familiarization (Liquefied Gases).

Table 2 to § 13.121(e)
Tankship and tank barge course topics | 1 | 2 | 3 | 4
General characteristics, compatibility, reaction, firefighting procedures, and safety precautions for the cargoes of:
Bulk liquids defined as Dangerous Liquids in 46 CFR Part 13 | X | X |  |
Bulk liquefied gases & their vapors defined as Liquefied Gases in 46 CFR Part 13 |  |  | X | X
Knowledge and understanding of the physical and chemical properties of oil and chemical cargoes | X |  |  |
Physical phenomena of liquefied gas, including:
Basic concept |  |  | X | X
Compression and expansion |  |  | X | X
Mechanism of heat transfer |  |  | X | X
Potential hazards of liquefied gas, including:
Chemical and physical properties |  |  | X | X
Combustion characteristics |  |  | X | X
Results of gas release to the atmosphere |  |  | X | X
Health hazards (skin contact, inhalation, and ingestion) |  |  | X | X
Control of flammability range with inert gas |  |  | X | X
Thermal stress in structure and piping of vessel |  |  | X | X
Cargo systems, including:
Principles of containment systems | X | X | X | X
Construction, materials, coating, & insulation of cargo tanks |  |  | X | X
General arrangement of cargo tanks | X | X | X | X
Venting and vapor-control systems | X | X | X | X
Cargo-handling systems, including:
Piping systems, valves, pumps, and expansion systems | X | X | X | X
Operating characteristics | X | X | X | X
Instrumentation systems, including:
Cargo-level indicators | X | X | X | X
Gas-detecting systems | X |  | X | X
Temperature-monitoring systems, cargo | X |  | X | X
Temperature-monitoring systems, hull |  |  | X | X
Automatic-shutdown systems | X |  | X | X
Auxiliary systems, including:
Ventilation, inerting | X | X | X | X
Valves, including:
Quick-closing | X | X | X | X
Remote-control | X | X | X | X
Pneumatic | X | X | X | X
Excess-flow | X | X | X | X
Safety-relief | X | X | X | X
Pressure-vacuum | X | X | X | X
Heating-systems: cofferdams & ballast tanks |  |  | X | X
Operations connected with the loading and discharging of cargo, including:
Lining up the cargo and vapor-control systems | X | X | X | X
Pre-transfer inspections and completion of the Declaration of Inspection | X | X | X | X
Hooking up of cargo hose, loading arms, and grounding-strap | X | X | X | X
Starting of liquid flow | X | X | X | X
Calculation of loading rates | X |  | X |
Discussion of loading | X | X | X | X
Ballasting and deballasting | X | X | X | X
Topping off of the cargo tanks | X | X | X | X
Discussion of discharging | X | X | X | X
Stripping of the cargo tanks | X | X |  |
Monitoring of transfers | X | X | X | X
Gauging of cargo tanks | X | X | X | X
Disconnecting of cargo hoses or loading arms | X | X | X | X
Cargo-tank-cleaning procedures and precautions | X | X |  |
Slop arrangements | X |  |  |
Ship-to-ship transfers | X |  |  |
Operating procedures and sequence for:
Inerting of cargo tanks and void spaces | X | X | X | X
Cooldown and warmup of cargo tanks |  |  | X | X
Gas-freeing | X | X | X | X
Loaded or ballasted voyages | X |  | X |
Testing of cargo-tank atmospheres for oxygen & cargo vapor | X | X | X | X
Stability and stress considerations connected with loading and discharging of cargo | X | X | X | X
Loadline, draft, and trim | X | X | X | X
Disposal of boil-off, including:
System design |  |  | X | X
Safety features |  |  | X | X
Stability-letter requirements | X |  | X |
Emergency procedures, including notice to appropriate authorities, for:
Fire | X | X | X | X
Collision | X | X | X | X
Grounding | X | X | X | X
Equipment failure | X | X | X | X
Leaks and spills | X | X | X |
Structural failure | X | X | X | X
Emergency discharge of cargo | X | X | X | X
Entering cargo tanks | X | X | X | X
Emergency shutdown of cargo-handling | X | X | X | X
Emergency systems for closing cargo tanks | X | X |  |
Rules & regulations (international and Federal, for all tank vessels) on conducting operations and preventing pollution | X | X | X | X
Pollution prevention, including:
Procedures to prevent air and water pollution | X | X | X | X
Measures to take in event of spillage | X | X | X | X
Danger from drift of vapor cloud | X | X | X | X
Environmental protection equipment, including oil discharge monitoring equipment | X |  |  |
Terminology for tankships carrying oil and chemicals | X |  |  |
Terminology for tank barges carrying oil and chemicals |  | X |  |
Terminology for tankships carrying liquefied gases |  |  | X |
Terminology for tank barges carrying liquefied gases |  |  |  | X
Principles & procedures of crude-oil-washing (COW) systems, including:
Purpose | X |  |  |
Equipment and design | X |  |  |
Operations | X |  |  |
Safety precautions | X |  |  |
Maintenance of plant and equipment | X |  |  |
Principles & procedures of the inert-gas systems (IGSs), including:
Purpose | X |  | X |
Equipment and design | X |  | X |
Operations | X |  | X |
Safety precautions | X |  | X |
Maintenance of plant and equipment | X |  | X |
Principles & procedures of vapor-control systems, including:
Purpose | X | X | X | X
Principles | X | X | X | X
Coast Guard regulations | X | X | X | X
Hazards | X | X | X | X
Active system components | X | X | X | X
Passive system components | X | X | X | X
Operating procedures, including:
Testing and inspection requirements | X | X | X | X
Pre-transfer procedures | X | X | X | X
Connecting sequence | X | X | X | X
Start-up sequence | X | X | X | X
Normal operations | X | X | X | X
Loading and unloading plans | X |  |  |
Emergency procedures | X | X | X | X
Cargo-hazard-information systems | X | X | X | X
Safe entry into confined spaces, including:
Testing tank atmospheres for oxygen & hydrocarbon vapors | X | X |  |
Definition and hazards of confined spaces | X | X | X | X
Cargo tanks and pumprooms | X | X | X | X
Evaluation and assessment of risks and hazards | X | X | X | X
Safety precautions and procedures | X | X | X | X
Enclosed space rescue | X |  |  |
Personnel protective equipment (PPE) and clothing | X | X | X | X
Maintenance of PPE | X | X | X | X
Dangers of skin contact | X | X | X | X
Inhalation of vapors | X | X |  |
Electricity and static electricity—hazards and precautions | X | X | X | X
Emergency procedures | X | X | X | X
Federal regulations, national standards & industry guidelines | X | X | X | X
Inspections by marine chemists & competent persons, including hot-work permits & procedures | X | X | X | X
Vessel response plans:
Purpose, content, and location of information | X | X | X | X
Procedures for notice and mitigation of spills | X | X | X | X
Geographic-specific appendices | X | X | X | X
Vessel-specific appendices | X | X | X | X
Emergency-action checklist | X | X | X | X
Column 1—Tankship: Dangerous Liquids.
Column 2—Tank Barge: Dangerous Liquids.
Column 3—Tankship: Liquefied Gases.
Column 4—Tank Barge: Liquefied Gases.

Table 3 to § 13.121(e)
Firefighting course topics | 1 | 2
Elements of fire (Fire triangle):
Fuel | X | X
Source of ignition | X | X
Oxygen | X | X
Ignition sources (general):
Chemical |  | X
Biological |  | X
Physical |  | X
Ignition sources applicable to barges | X |
Definitions of flammability and combustibility:
Flammability | X | X
Ignition point | X | X
Burning temperature | X | X
Burning speed |  | X
Thermal value |  | X
Lower flammable limit | X | X
Upper flammable limit | X | X
Flammable range | X | X
Inerting |  | X
Static electricity | X | X
Flash point | X | X
Auto-ignition | X | X
Spread of fire:
By radiation | X | X
By convection | X | X
By conduction | X | X
Reactivity | X | X
Fire classifications and applicable extinguishing agents | X | X
Main causes of fires:
Oil leakage | X | X
Smoking | X | X
Overheating pumps | X | X
Galley appliances |  | X
Spontaneous ignition | X | X
Hot work | X | X
Electrical apparatus |  | X
Reaction, self-heating, and auto-ignition |  | X
Fire prevention:
General | X | X
Fire hazards of DL and LG | X | X
Fire detection:
Fire- and smoke-detection systems |  | X
Automatic fire alarms |  | X
Firefighting equipment:
Fire mains, hydrants |  | X
International shore-connection |  | X
Smothering-installations, carbon dioxide (CO2), foam * * * |  | X
Pressure-water spray system in special-category spaces |  | X
Automatic sprinkler system |  | X
Emergency fire pump, emergency generator |  | X
Chemical-powder applicants |  | X
General outline of required and mobile apparatus |  | X
Boiler Technician's outfit, personal equipment |  | X
Breathing apparatus |  | X
Resuscitation apparatus |  | X
Smoke helmet or mask |  | X
Fireproof life-line and harness |  | X
Fire hose, nozzles, connections, and fire axes |  | X
Fire blankets |  | X
Portable fire extinguishers | X | X
Limitations of portable and semiportable extinguishers | X | X
Emergency procedures:
Arrangements:
Escape routes | X | X
Means of gas-freeing tanks | X | X
Class A, B, and C divisions |  | X
Inert-gas system |  | X
Ship firefighting organization:
General alarms |  | X
Fire-control plans, muster stations, and duties |  | X
Communications |  | X
Periodic shipboard drills |  | X
Patrol system |  | X
Basic firefighting techniques:
Sounding alarm | X | X
Locating and isolating fires | X | X
Stopping leakage of cargo | X | X
Jettisoning |  | X
Inhibiting |  | X
Cooling |  | X
Smothering |  | X
Sizing up situation | X |
Locating information on cargo | X |
Extinguishing | X | X
Extinguishing with portable units | X | X
Setting reflash watch | X | X
Using additional personnel | X | X
Firefighting extinguishing-agents:
Water (solid jet, spray, fog, and flooding) |  | X
Foam (high, medium and low expansion) |  | X
Carbon dioxide (CO2) | X | X
Aqueous-film-forming foam (AFFF) |  | X
Dry chemicals | X | X
Use of extinguisher on:
Flammable and combustible liquids | X | X
Manifold-flange fire | X | X
Drip-pan fire | X | X
Pump fire | X | X
Drills for typical fires on barges | X |
Field exercises:
Extinguish small fires using portable extinguishers:
Electrical | X | X
Manifold-flange | X | X
Drip-pan | X | X
Pump | X | X
Use self-contained breathing apparatus (SCBA) |  | X
Extinguish extensive fires with water |  | X
Extinguish fires with foam, or chemical |  | X
Fight fire in smoke-filled enclosed space wearing SCBA |  | X
Extinguish fire with water fog in an enclosed space with heavy smoke |  | X
Extinguish oil fire with fog applicator and spray nozzles, dry-chemical, or foam applicators |  | X
Effect a rescue in a smoke-filled space while wearing breathing apparatus |  | X
Column 1—Tank Barge-PIC.
Column 2—Tank Vessel-PIC, Tank Vessel-Engineer, and Tank Vessel-Assistant.

§ 13.123 Recency of service or experience for original tank vessel endorsements.

An applicant for an original tank vessel endorsement in subpart B, C, D, or E of this part must have obtained at least 25 percent of the qualifying service and, if the endorsement requires transfers, at least two of the qualifying transfers, within 5 years of the date of application.

§ 13.125 Physical and medical requirements.

Each applicant for an original tank vessel endorsement must meet the physical requirements of part 10, subpart C, of this subchapter.

§ 13.127 Service: General.

(a) A service letter must be signed by the owner, operator, Master, or Chief Engineer of the vessel and must specify the following:

(1) The name of the vessel, official number for the vessel, and date of service for each vessel.

(2) For endorsements as Tank Vessel-PIC, Tank Barge-PIC, and Tank Vessel-Assistant, the classification of cargo (DL, LG, or, for a restricted endorsement, a specific product) handled while the applicant accumulated the service.

(3) The dates, the numbers and kinds of transfers the applicant has participated in, the ports or terminals, if applicable, and the number of transfers that involved commencement or completion of loading or discharge.

(4) For endorsements as Tank Vessel-PIC or Tank Barge-PIC, that the applicant has demonstrated to the satisfaction of the signer that they are fully capable of supervising transfers of liquid cargo, including—

(i) Pre-transfer inspection;

(ii) Pre-transfer conference and execution of the Declaration of Inspection;

(iii) Connection of cargo hoses or loading-arms;

(iv) Line-up of the cargo system for loading and discharge;

(v) Start of liquid flow during loading;

(vi) Start of cargo pump and increase of pressure to normal discharge pressure;

(vii) Calculation of loading-rates;

(viii) Monitoring;

(ix) Topping-off of cargo tanks during loading;

(x) Stripping of cargo tanks;

(xi) Ballasting and deballasting, if appropriate;

(xii) Disconnection of the cargo hoses or loading-arms; and

(xiii) Securing of cargo systems.

(5) For endorsements as Tank Vessel-Engineer, that the applicant has demonstrated to the satisfaction of the signer that they are fully capable of supervising transfers of fuel oil, including—

(i) Pre-transfer inspection;

(ii) Pre-transfer conference and execution of the Declaration of Inspection;

(iii) Connection of hoses or loading-arms;

(iv) Line-up of the piping system for loading and transfer of fuel oil;

(v) Start of liquid flow during loading;

(vi) Calculation of loading rates;

(vii) Monitoring;

(viii) Topping-off of tanks during loading;

(ix) Disconnection of the hoses or loading arms; and

(x) Securing of fuel oil systems.

(b) In determining the numbers and kinds of transfers that the applicant has participated in under paragraph (a)(3) of this section, the following rules apply:

(1) A transfer must involve the loading or discharge from at least one of the vessel's cargo tanks to or from a shore facility or another vessel. A shift of cargo from one tank to another tank is not a transfer for this purpose.

(2) Regardless of how long the transfer lasts beyond 4 hours, it counts as only one transfer.

(3) A transfer must include both a commencement and a completion.

(4) Regardless of how many tanks or products are being loaded or discharged at the same time, a person may receive credit for only one transfer, one loading, and one discharge conducted during each watch.

(5) Credit for a transfer during a watch of less than 4 hours accrues only if the watch includes either the connection and the commencement of transfer or the completion of transfer and the disconnection.

(6) Credit for a commencement of loading accrues only if the applicant participates in the pre-transfer inspection, the pre-transfer conference including execution of the Declaration of Inspection, the connection of hoses or loading-arms, the line-up of the system for the loading, the start of liquid flow, and the calculation of loading-rates, where applicable.

(7) Credit for a commencement of discharge accrues only if the applicant participates in the pre-transfer inspection, the pre-transfer conference including execution of the Declaration of Inspection, the connection of hoses or loading-arms, the line-up of the cargo system for the discharge, the start of the pump or pumps and increase of pressure to normal pressure for discharge, and the monitoring of discharge rates.

(8) Credit for a completion of transfer, whether loading or discharge, accrues only if the applicant participates in the topping-off at the loading port, or in the stripping of cargo tanks and the commencement of ballasting, if required by the vessel's transfer procedures, at the discharge port.

(9) Personnel desiring credit for transfers during off-duty hours may satisfy requirements of competence through incremental training periods that include segments of transfers. The cumulative number of transfers must equal the minimum specified in §§ 13.203(b) or 13.303(b) of this subchapter.

(c) Service on Articulated Tug Barges (ATBs). Service on ATBs with an aggregate tonnage of 1,600 GRT or more will be creditable on a case-by-case basis and with prior authorization by the Coast Guard, provided the ATB equipment is comparable to tank vessel equipment. The Coast Guard may issue blanket authorizations for classes of ATBs.

§ 13.129 Quick-reference table for tank vessel endorsements.

Table 1 to § 13.129 provides a guide to the requirements for various tank vessel endorsements. Provisions in the reference sections are controlling.

Table 1 to § 13.129
Category | Minimum age | Physical required | Service | Recency of service | Proof of service | Firefighting | Cargo training | English language
Tank Vessel-PIC Subpart B | 18; 13.201(a) | Yes; Part 10, subpart C | 13.203 | 13.123 | 13.205 | 13.201(c)(3) | 13.201(c)(4) | 13.201(d).
Tank Barge-PIC Subpart C | 18; 13.301(a) | Yes; Part 10, subpart C | 13.303 | 13.123 | 13.305 | 13.301(c)(3) | 13.301(c)(4) | 13.301(d).
Tank Vessel-Assistant Subpart D | 18; 13.401(a) | Yes; Part 10, subpart C | 13.401(e)(2) | 13.123 | 13.405 | 13.401(d) | 13.401(e)(1) | 13.401(f).
Tank Vessel-Engineer Subpart E | 18; 13.501(a) | Yes; Part 10, subpart C | 13.503 | 13.123 | 13.505 | 13.501(c)(3) | 13.501(c)(4) | 13.501(d).
Restricted Tank Vessel-PIC | 18; 13.111(b) | Yes; Part 10, subpart C | 13.111(b) | 13.111(b) | 13.111(b) | 13.111(b) | No | 13.111(b).
Restricted Tank Barge-PIC | 18; 13.111(c) | Yes; Part 10, subpart C | 13.111(c) | 13.111(c) | 13.111(c) | 13.111(c) | No | 13.111(c).
Restricted Tank Barge-PIC, Facility | 18; 13.111(d)(1) | Yes; Part 10, subpart C | 13.111(d)(4) | No | 13.111(d)(4) | No | No | 13.111(d)(5).

Subpart B—Requirements for Tank Vessel-PIC Endorsement

§ 13.201 Original application for Tank Vessel-PIC endorsement.

Each applicant for an original Tank Vessel-PIC endorsement must—

(a) Be at least 18 years old;

(b) Apply on a form provided by the Coast Guard;

(c) Present evidence of—

(1) Passing a physical and medical examination in accordance with § 13.125;

(2) Service on tankships in accordance with § 13.203;

(3) Completion of an approved firefighting course that provides training in the subjects listed in table 3 to § 13.121(e) completed within 5 years of the date of application for the endorsement, unless they have previously submitted such a certificate for tank vessel endorsement or officer endorsement on an MMC; and

(4) Completion of an approved course for Tankship: Dangerous Liquids or Tankship: Liquefied Gases appropriate to the endorsement applied for within the previous 5 years. A course certificate used for original issuance or renewal of an endorsement cannot be used for a subsequent renewal of the same endorsement; and

(d) Be capable of speaking and understanding, in English, all instructions needed to commence, conduct, and complete a transfer of cargo, and be capable of reading and understanding the English language found in the Declaration of Inspection, vessel response plans, and Material Safety Data Sheet.

§ 13.203 Service requirements.

Each applicant for a Tank Vessel-PIC endorsement for DL or LG must meet the requirements of either paragraphs (a) and (b) or paragraph (c) of this section.

(a) Each applicant must present evidence of—

(1) At least 90 days of service as a deck officer or an engineering officer on one or more tankships or self-propelled tank vessels certified to carry DL or LG appropriate to the endorsement applied for;

(2) At least 90 days of rating or cadet service on deck or in the engine department on one or more tankships or self-propelled tank vessels certified to carry DL or LG appropriate to the endorsement applied for; or

(3) A combination of the service in paragraphs (a) (1) and (2) of this section.

(b) Each applicant must present evidence of participation, under the supervision of a Tank Vessel-PIC, in at least 10 transfers of liquid cargo in bulk of the classification desired on tankships or self-propelled tank vessels, including at least—

(1) Five loadings and five discharges;

(2) Two commencements of loading and two completions of loading; and

(3) Two commencements of discharge and two completions of discharge.

(c) Each applicant already holding an MMC endorsed as Tank Vessel-PIC for DL and seeking an endorsement for LG, or the converse, must—

(1) Provide evidence of at least half the service required by paragraph (a) of this section; and

(2) Comply with paragraph (b) of this section, except that they need provide evidence of only three loadings and three discharges along with evidence of compliance with paragraphs (b)(2) and (3) of this section.

§ 13.205 Proof of service for Tank Vessel-PIC endorsement.

Proof of service must be provided in a letter on company letterhead from the owner, operator, or Master of the vessel on which the applicant obtained the service. The letter must contain the information described in § 13.127(a).

Subpart C—Requirements for Tank Barge-PIC Endorsement

§ 13.301 Original application for Tank Barge-PIC endorsement.

Each applicant for a Tank Barge-PIC endorsement must—

(a) Be at least 18 years old;

(b) Apply on a form provided by the Coast Guard;

(c) Present evidence of—

(1) Passing a physical and medical examination according to § 13.125;

(2) Service on tank vessels in accordance with § 13.303;

(3) Completion of an approved Tank Barge: Firefighting course providing training in the subjects identified in table 3 to § 13.121(e) completed within 5 years of the date of application for the endorsement, unless they have previously submitted such a certificate for a tank vessel endorsement or officer endorsement on an MMC; and

(4) Completion of an approved Tank Barge: Dangerous Liquids or Tank Barge: Liquefied Gases course appropriate for the endorsement applied for within the previous 5 years. A course certificate used for original issuance or renewal of an endorsement cannot be used for a subsequent renewal of the same endorsement; and

(d) Be capable of speaking, and understanding, in English, all instructions needed to commence, conduct, and complete a transfer of cargo, and be capable of reading and understanding the English language found in the Declaration of Inspection, vessel response plans, and Material Safety Data Sheet.

§ 13.303 Service requirements.

Each applicant for a Tank Barge-PIC endorsement for DL or LG must meet the requirements of either paragraphs (a) and (b) or paragraph (c) of this section.

(a) Each applicant must present evidence of—

(1) At least 60 days of service, whether by shore-based or by vessel-based personnel, on one or more tank vessels certified to carry DL or LG appropriate to the endorsement applied for; or

(2) At least 6 months of closely related service directly involved with tank barges appropriate to the endorsement applied for; and

(b) Participation, under the supervision of a Tank Vessel-PIC or Tank Barge-PIC, in at least 10 transfers of liquid cargo in bulk of the classification desired on any tank vessel, including at least—

(1) Five loadings and five discharges;

(2) Two commencements of loading and two completions of loading; and

(3) Two commencements of discharge and two completions of discharge.

(c) Each applicant already holding an MMC endorsed as Tank Barge-PIC for DL and seeking an endorsement for LG, or the converse, must—

(1) Provide evidence of at least half the service required by paragraph (a) of this section; and

(2) Comply with paragraph (b) of this section, except that they need provide evidence of only three loadings and three discharges along with evidence of compliance with paragraphs (b)(2) and (3) of this section.

§ 13.305 Proof of service for Tank Barge-PIC.

Proof of service must be provided in a letter on company letterhead from the owner or operator of a terminal; the owner or operator of a tank barge; the owner, operator, or Master of a tank vessel; or the employer of shore-based PICs. The letter must contain the information required by § 13.127(a), excluding paragraph (a)(4)(vii).

Subpart D—Requirements for Tank Vessel-Assistant Endorsement

§ 13.401 Original application for Tank Vessel-Assistant endorsement.

Each applicant for a Tank Vessel-Assistant endorsement must—

(a) Be at least 18 years old;

(b) Apply on a form provided by the Coast Guard;

(c) Present evidence of passing a physical and medical examination according to § 13.125;

(d) Present evidence of completion of an approved firefighting course providing training in the subjects identified in table 3 to § 13.121(e) completed within 5 years of the date of application for the endorsement, unless they have previously submitted such a certificate for a tank vessel endorsement or officer endorsement on an MMC;

(e) Present evidence of either—

(1) Completion of an approved Tankship Familiarization course providing training in the subjects identified in table 1 to § 13.121(e) within the previous 5 years. A course certificate used for original issuance or renewal of an endorsement cannot be used for a subsequent renewal of the same endorsement; or

(2) At least 90 days of deck service on tankships or self-propelled tank vessels certified to carry DL or LG appropriate to the endorsement applied for and successfully complete a professional examination for the topics identified in table 1 to § 13.121(e); and

(f) Be capable of speaking and understanding, in English, all instructions needed to commence, conduct, and complete a transfer of cargo.

§ 13.403 Service requirements.

(a) Each applicant already holding an MMC endorsed as Tank Vessel-Assistant for DL and seeking one for LG, or the converse, must—

(1) Provide evidence of at least half the service required in § 13.401(e)(2) and successfully complete a professional examination for the topics identified in table 1 to § 13.121(e) appropriate to the endorsement applied for; or

(2) Complete a course in DL or LG appropriate to the endorsement applied for as prescribed in § 13.401(e)(1).

(b) [Reserved]

§ 13.405 Proof of service for Tank Vessel-Assistant endorsement.

Service must be proved by either—

(a) A letter on company letterhead from the owner, operator, or Master of a tankship or self-propelled tank vessel. The letter must specify—

(1) The name of the vessel(s), the applicable dates, and the port(s) or terminal(s);

(2) The classification of cargo (DL or LG) carried while the applicant accumulated the service;

(3) The number of days of deck service the applicant accumulated on the tankship or self-propelled tank vessel; and

(4) That the applicant has demonstrated an understanding of cargo transfer and a sense of responsibility that, in the opinion of the signer, will allow the applicant to safely carry out duties respecting cargo transfer and transfer equipment assigned by the PIC of the transfer without direct supervision by the PIC; or

(b) Certificates of Discharge from tankships with the appropriate classification of cargo (DL, LG, or both); and a letter on company letterhead from the owner, operator, or Master of one of the tankships or self-propelled tank vessels stating that they have demonstrated—

(1) An understanding of cargo transfers; and

(2) A sense of responsibility that, in the opinion of the signer, will allow them to safely carry out duties respecting cargo and its equipment assigned by the PIC of the transfer without direct supervision by the PIC.

Subpart E—Requirements for Tank Vessel-Engineer Endorsement

§ 13.501 Original application for Tank Vessel-Engineer endorsement.

Each applicant for a Tank Vessel-Engineer endorsement must—

(a) Be at least 18 years old;

(b) Apply on a form provided by the Coast Guard;

(c) Present evidence of—

(1) Passing a physical and medical examination according to § 13.125;

(2) Service on tankships and self-propelled tank vessels in accordance with § 13.503;

(3) Completion of an approved firefighting course providing training in the subjects identified in table 3 to § 13.121(e) completed within 5 years of the date of application for the endorsement, unless they have previously submitted such a certificate for a tank vessel endorsement or officer endorsement on an MMC; and

(4) Completion of an approved Tankship course in dangerous liquids or liquefied gases, appropriate for the endorsement applied for within the previous 5 years. A course certificate used for original issuance or renewal of an endorsement cannot be used for a subsequent renewal of the same endorsement; and

(d) Be capable of speaking and understanding, in English, all instructions needed to commence, conduct, and complete a transfer of cargo or fuel.

§ 13.503 Service requirements.

(a) Each applicant for a Tank Vessel-Engineer endorsement must present evidence of at least—

(1) 90 days of service as an engineering officer on tankships or self-propelled tank vessels certified to carry DL or LG appropriate to the endorsement applied for;

(2) 90 days of rating or cadet service in the engine department on tankships or self-propelled tank vessels certified to carry DL or LG appropriate to the endorsement applied for; or

(3) A combination of the service in paragraphs (a) (1) and (2) of this section.

(b) Each applicant already holding an MMC endorsed as Tank Vessel-Engineer for DL and seeking an endorsement for LG, or the converse, must prove at least half the service required by paragraph (a) of this section.

§ 13.505 Proof of service for Tank Vessel-Engineer endorsement.

(a) Service must be proved by a letter on company letterhead from the owner, operator, Master, or Chief Engineer of a tankship or self-propelled tank vessel. The letter must specify—

(1) The classification of cargo (DL, LG, or both) carried while the applicant accumulated the service; and

(2) The number of days of officer, rating, and cadet service in the engine department on tankships or self-propelled tank vessels; or

(b) Service must be proved by certificates of discharge from tankships or self-propelled tank vessels with the appropriate classification of cargo (DL, LG, or both).

Subpart F—Requirements for STCW Tank Vessel Endorsements

§ 13.601 General.

(a) When all tank vessel endorsements are issued, renewed, or otherwise modified, the Coast Guard will determine, upon request, whether the applicant meets the requirements for an STCW tank vessel endorsement for service on seagoing vessels. If the applicant is qualified, the Coast Guard will issue the appropriate endorsement. An applicant for any STCW endorsement must hold the appropriate national endorsement unless otherwise specified.

(b) Applicants for an STCW tank vessel endorsement must—

(1) Meet the training and service requirements for the endorsement sought; and

(2) Meet the appropriate standard of competence identified in the STCW Code (incorporated by reference, see § 13.103).

(c) The Coast Guard will accept the following as proof of meeting the standards of competence:

(1) In-service experience: Documentation of successful completion of assessments, approved or accepted by the Coast Guard, and signed by a qualified assessor, deck or engineering, as appropriate.

(2) Training ship experience: Documentation of successful completion of an approved training program involving formal training and assessment onboard a school ship.

(3) Simulator training: Documentation of successful completion of training and assessment from a Coast Guard-approved course involving maritime simulation.

(4) Training program: Documentation of successful completion of an approved training program involving formal training and assessments.

(d) The Coast Guard will publish guidelines that should be used to document successful demonstrations of competence. Organizations may develop alternative assessment documentation for demonstrations of competence; however, such documentation must be approved by the Coast Guard prior to its use and submittal with an application.

§ 13.603 Requirements to qualify for an STCW endorsement for Advanced Oil Tanker Cargo Operations.

(a) Every applicant for an endorsement in Advanced Oil Tanker Cargo Operations must—

(1) Qualify for a national endorsement as Tank Vessel-PIC Dangerous Liquids (DL);

(2) Meet the standards of competence identified in Table A-V/1-1-2 of the STCW Code (incorporated by reference, see § 13.103); and

(3) Provide evidence of 90 days of sea service onboard oil tankers. The Coast Guard will accept service submitted to qualify for a national endorsement as required in § 13.203, provided that the service was on oil tankers.

(b) Applicants may qualify for an endorsement in Advanced Oil Tanker Cargo Operations with a limitation to non-self-propelled vessels. To qualify for this endorsement, an applicant must—

(1) Hold a national endorsement as Tank Barge-PIC DL;

(2) Provide evidence of meeting the standards of competence identified in Table A-V/1-1-2 of the STCW Code; and

(3) Provide evidence of at least 90 days of service, whether shore-based or vessel-based, on one or more oil tankers. The Coast Guard will accept service submitted to qualify for a national endorsement required in § 13.303, provided that the service was on oil tankers.

(c) Applicants may qualify for an endorsement in Advanced Oil Tanker Cargo Operations with a limitation to maintenance and repair of cargo equipment. To qualify for this endorsement, an applicant must—

(1) Qualify for a national endorsement as Tank Vessel-Engineer;

(2) Provide evidence of meeting the standards of competence identified in Table A-V/1-1-2 of the STCW Code applicable to maintenance and repair of cargo equipment; and

(3) Provide evidence of—

(i) At least 90 days of service as an engineering officer on oil tankers;

(ii) At least 90 days of rating or cadet service on deck or in the engine department on oil tankers; or

(iii) A combination of the service in paragraphs (c)(3)(i) and (c)(3)(ii) of this section.

(d) Applicants holding an endorsement in Advanced Chemical Tanker Cargo Operations or Advanced Liquefied Gas Tanker Cargo Operations may qualify for an endorsement in Advanced Oil Tanker Cargo Operations by completing, in a supernumerary capacity, an approved training program onboard oil tankers. The program must be at least 1 month and include at least three loading and three discharge operations.

§ 13.605 Requirements to qualify for an STCW endorsement for Advanced Chemical Tanker Cargo Operations.

(a) Every applicant for an endorsement in Advanced Chemical Tanker Cargo Operations must:

(1) Qualify for a national endorsement as Tank Vessel-PIC DL;

(2) Meet the standards of competence identified in Table A-V/1-1-3 of the STCW Code (incorporated by reference, see § 13.103); and

(3) Provide evidence of 90 days of sea service onboard chemical tankers. The Coast Guard will accept service submitted to qualify for a national endorsement as required in § 13.203, provided that the service was on chemical tankers.

(b) Applicants may qualify for an endorsement in Advanced Chemical Tanker Cargo Operations with a limitation to non-self-propelled vessels. To qualify for this endorsement, an applicant must:

(1) Qualify for a national endorsement as Tank Barge-PIC DL;

(2) Provide evidence of meeting the standards of competence identified in Table A-V/1-1-3 of the STCW Code; and

(3) Provide evidence of at least 90 days of service, whether shore-based or vessel-based, on chemical tankers. The Coast Guard will accept service submitted to qualify for a national endorsement as required in § 13.303, provided that the service was on chemical tankers.

(c) Applicants may qualify for an endorsement in Advanced Chemical Tanker Cargo Operations with a limitation to maintenance and repair of cargo equipment. To qualify for this endorsement, an applicant must:

(1) Qualify for a national endorsement as Tank Vessel-Engineer;

(2) Provide evidence of meeting the standards of competence identified in Table A-V/1-1-3 of the STCW Code applicable to maintenance and repair of cargo equipment; and

(3) Provide evidence of—

(i) At least 90 days of service as an engineering officer on chemical tankers;

(ii) At least 90 days of rating or cadet service on deck or in the engine department on chemical tankers; or

(iii) A combination of the service in paragraphs (c)(3)(i) and (c)(3)(ii) of this section.

(d) Applicants holding an endorsement in Advanced Oil Tanker Cargo Operations or Advanced Liquefied Gas Tanker Cargo Operations may qualify for an endorsement in Advanced Chemical Tanker Cargo Operations by completing, in a supernumerary capacity, an approved training program onboard chemical tankers. The program must be at least 1 month and include at least three loading and three discharge operations.

§ 13.607 Requirements to qualify for an STCW endorsement for Advanced Liquefied Gas Tanker Cargo Operations.

(a) Every applicant for an endorsement in Advanced Liquefied Gas Tanker Cargo Operations must:

(1) Qualify for a national endorsement as Tank Vessel-PIC LG;

(2) Meet the standards of competence identified in Tables A-V/1-2-2 of the STCW Code (incorporated by reference, see § 13.103); and

(3) Provide evidence of 90 days of service on liquefied gas tankers. The Coast Guard will accept service submitted to qualify for a national endorsement as required in § 13.203, provided that the service was on liquefied gas tankers.

(b) Applicants may qualify for an endorsement in Advanced Liquefied Gas Tanker Cargo Operations with a limitation to non-self-propelled vessels. To qualify for this endorsement, an applicant must:

(1) Qualify for a national endorsement as Tank Barge-PIC LG;

(2) Provide evidence of meeting the standards of competence identified in Table A-V/1-2-2 of the STCW Code; and

(3) Provide evidence of at least 90 days of service, whether shore-based or vessel-based, on liquefied gas tankers. The Coast Guard will accept service submitted to qualify for a national endorsement as required in § 13.303, provided that the service was on liquefied gas tankers.

(c) Applicants may qualify for an endorsement in Advanced Liquefied Gas Tanker Cargo Operations with a limitation to maintenance and repair of cargo equipment. To qualify for this endorsement, an applicant must:

(1) Qualify for a national endorsement as Tank Vessel-Engineer;

(2) Provide evidence of meeting the standards of competence identified in Table A-V/1-2-2 of the STCW Code applicable to maintenance and repair of cargo equipment; and

(3) Provide evidence of—

(i) At least 90 days of service as an engineering officer on liquefied gas tankers;

(ii) At least 90 days of rating or cadet service on deck or in the engine department on liquefied gas tankers; or

(iii) A combination of the service in paragraphs (c)(3)(i) and (c)(3)(ii) of this section.

(d) Applicants holding an endorsement in Advanced Oil Tanker Cargo Operations or Advanced Chemical Tanker Cargo Operations may qualify for an endorsement in Advanced Liquefied Gas Tanker Cargo Operations by completing, in a supernumerary capacity, an approved training program onboard liquefied gas tankers. The program must be at least 1 month and include at least three loading and three discharge operations.

§ 13.609 Requirements to qualify for an STCW endorsement for Basic Oil and Chemical Tanker Cargo Operations.

(a) Every applicant for an endorsement in Basic Oil and Chemical Tanker Operations must:

(1) Qualify for a national endorsement as Tank Vessel-Assistant DL; and

(2) Provide evidence of meeting the standards of competence identified in Table A-V/1-1-1 of the STCW Code (incorporated by reference, see § 13.103).

(b) [Reserved]

§ 13.611 Requirements to qualify for an STCW endorsement for Basic Liquefied Gas Tanker Cargo Operations.

(a) Every applicant for an endorsement in Basic Liquefied Gas Tanker Operations must:

(1) Qualify for a national endorsement as Tank Vessel-Assistant LG; and

(2) Provide evidence of meeting the standards of competence identified in Table A-V/1-2-1 of the STCW Code (incorporated by reference, see § 13.103).

(b) [Reserved]

173. Revise and republish part 15, consisting of §§ 15.101 through 15.1113, to read as follows:

PART 15—MANNING REQUIREMENTS

Subpart A—Purpose and Applicability
§ 15.101 Purpose of regulations.
§ 15.102 Paperwork approval.
§ 15.103 Incorporation by reference.
§ 15.105 General.
Subpart B-C [Reserved]
Subpart D—Manning Requirements; All Vessels
§ 15.401 Employment and service within restrictions of credential.
§ 15.403 When credentials for ratings are required.
§ 15.404 Requirements for serving onboard a vessel.
§ 15.405 Familiarity with vessel characteristics.
§ 15.410 Credentialed individuals for assistance towing vessels.
§ 15.415 [Reserved]
Subpart E—Manning Requirements; Inspected Vessels
§ 15.501 Certificate of inspection.
§ 15.505 Changes in the certificate of inspection.
§ 15.510 Right of appeal.
§ 15.515 Compliance with certificate of inspection.
§ 15.520 Mobile offshore drilling units (MODUs).
§ 15.525 Additional manning requirements for tank vessels.
§ 15.530 Large passenger vessels.
§ 15.535 Towing vessels.
Subpart F—Manning Requirements; Uninspected Vessels
§ 15.601 General.
§ 15.605 Credentialed operators for uninspected passenger vessels.
§ 15.610 Master and Mate (Pilot) of uninspected towing vessels.
Subpart G—Limitations and Qualifying Factors
§ 15.701 Officers Competency Certificates Convention, 1936.
§ 15.705 Watches.
§ 15.710 Working hours.
§ 15.715 Automated vessels.
§ 15.720 Use of non-U.S.-credentialed personnel.
§ 15.725 Sailing short.
§ 15.730 Language requirements.
Subpart H—Computations
§ 15.801 General.
§ 15.805 Master.
§ 15.810 Mates.
§ 15.812 Pilots.
§ 15.815 Radar Observers.
§ 15.816 Automatic radar plotting aids (ARPA).
§ 15.817 Global Maritime Distress and Safety System (GMDSS) Radio Operator.
§ 15.818 Global Maritime Distress and Safety System (GMDSS) At-sea Maintainer.
§ 15.820 Chief Engineer.
§ 15.825 Engineers.
§ 15.830 Radio Officers.
§ 15.835 Staff officers.
§ 15.840 Able Seafarers.
§ 15.845 Lifeboat Operators.
§ 15.850 Lookouts.
§ 15.855 Cabin watchmen and fire patrolmen.
§ 15.860 Tank vessel endorsements.
§ 15.865 Qualified member of the engine department (QMED).
Subpart I—Equivalents
§ 15.901 Inspected vessels of less than 100 GRT.
§ 15.905 Uninspected passenger vessels.
§ 15.910 Towing vessels.
§ 15.915 Engineer officer endorsements.
Subpart J—Vessels in Foreign Trade
§ 15.1001 General.
§ 15.1010 California.
§ 15.1020 Hawaii.
§ 15.1030 New York and New Jersey.
§ 15.1040 Massachusetts.
§ 15.1050 North Carolina.
Subpart K—Vessels Subject to Requirements of STCW
§ 15.1101 General.
§ 15.1103 Employment and service within the restrictions of an STCW endorsement or of a certificate of training.
§ 15.1105 Familiarization and Basic Training (BT).
§ 15.1107 Maintenance of merchant mariners' records by owner or operator.
§ 15.1109 Watches.
§ 15.1111 Work hours and rest periods.
§ 15.1113 Security personnel.

Authority: 46 U.S.C. 2101, 2103, 3306, 3703, 8101, 8102, 8103, 8104, 8105, 8301, 8304, 8502, 8503, 8701, 8702, 8901, 8902, 8903, 8904, 8905(b), 8906 and 9102; sec. 617, Pub. L. 111-281, 124 Stat. 2905; and DHS Delegation No. 00170.1, Revision No. 01.4.

Subpart A—Purpose and Applicability

§ 15.101 Purpose of regulations.

The purpose of this part is to set forth uniform minimum requirements for the manning of vessels. In general, they implement, interpret, or apply the specific statutory manning requirements in title 46, U.S.C., implement various international conventions which affect merchant marine personnel, and provide the means for establishing the complement necessary for safe operation of vessels.

§ 15.102 Paperwork approval.

(a) This section lists the control numbers assigned by the Office of Management and Budget under the Paper Reduction Act of 1980 (Pub. L. 96-511) for the reporting and recordkeeping requirements in this part.

(b) The following control numbers have been assigned to the sections indicated:

(1) OMB 1625-0079—46 CFR 15.1107.

(2) [Reserved]

§ 15.103 Incorporation by reference.

(a) Certain material is incorporated by reference into this part with the approval of the Director of the Federal Register under 5 U.S.C. 552(a) and 1 CFR part 51. All approved incorporation by reference (IBR) material is available for inspection at the Coast Guard and the National Archives and Records Administration (NARA). Contact Coast Guard at: Office of Merchant Mariner Credentialing (CG-MMC), U.S. Coast Guard, Stop 7509, 2703 Martin Luther King Jr. Avenue SE, Washington, DC 20593-7509, 202-372-1492; website: https://www.dco.uscg.mil/nmc/merchant_mariner_credential/. For information on the availability of this material at NARA, visit www.archives.gov/federal-register/cfr/ibr-locations or email fr.inspection@nara.gov. The material may be obtained from:

(b) International Maritime Organization (IMO), 4 Albert Embankment, London, SE1 7SR England, phone: +44 (0)20 7735 7611; website: www.imo.org.

(1) The International Convention on Standards of Training, Certification and Watchkeeping for Seafarers, 1978, as amended, 2011 (STCW Convention); incorporation by reference approved for §§ 15.403, 15.404, 15.1103, 15.1105, and 15.1109.

(2) The Seafarers' Training, Certification and Watchkeeping Code, as amended, 2011 (STCW Code); incorporation by reference approved for § 15.1109.

(3) The International Convention for the Safety of Life at Sea, 1974 (SOLAS); incorporation by reference approved for §§ 15.818 and 15.1103.

§ 15.105 General.

(a) The regulations in this part apply to all vessels that are subject to the manning requirements contained in the navigation and shipping laws of the United States, including uninspected vessels (46 U.S.C. 7101-9308).

(b) The navigation and shipping laws state that a vessel may not be operated unless certain manning requirements are met. In addition to establishing a minimum number of officers and rated crew to be carried onboard certain vessels, they establish minimum qualifications concerning Licenses and MMC endorsements, citizenship, and conditions of employment. It is the responsibility of the owner, charterer, managing operator, Master, or Person in Charge or in command of the vessel to ensure that appropriate personnel are carried to meet the requirements of the applicable navigation and shipping laws and regulations.

(c) Inspected vessels are issued a Certificate of Inspection (COI) which indicates the minimum complement of officers and crew (including Lifeboat Operators) considered necessary for safe operation. The COI complements the statutory requirements but does not supersede them.

(d) Uninspected vessels operating on an international voyage may be issued a safe manning certificate indicating the minimum complement of qualified mariners necessary for safe operation.

(e) The regulations in subpart K of this part apply to seagoing vessels subject to the International Convention on Standards of Training, Certification and Watchkeeping for Seafarers, 1978, as amended (STCW).

(f) Persons serving on any of the following vessels, or any owner or operator of any of these vessels, do not need to meet the requirements of subpart K of this part, because the vessels are exempt from application of STCW:

(1) Fishing vessels as defined in 46 U.S.C. 2101(12).

(2) Fishing vessels used as fish-tender vessels as defined in 46 U.S.C. 2101(14).

(3) Barges as defined in 46 U.S.C. 102, including non-self-propelled Mobile Offshore Drilling Units.

(4) Vessels operating exclusively on the Great Lakes or on the inland waters of the U.S. in the Straits of Juan de Fuca or on the Inside Passage between Puget Sound and Cape Spencer.

(5) Pilot vessels engaged on pilotage duty.

(g) Owners and operators, and personnel serving on the following small vessels engaged exclusively on domestic, near-coastal voyages are in compliance with subpart K of this part and are, therefore, not subject to further requirements for the purposes of the STCW Convention:

(1) Small passenger vessels subject to subchapter T or K of this chapter.

(2) Vessels of less than 200 GRT, other than passenger vessels subject to subchapter H of this chapter.

(3) Uninspected passenger vessels (UPVs) as defined in 46 U.S.C. 2101(42)(B).

(h) Personnel serving on vessels identified in paragraphs (g)(1) and (2) of this section may be issued, without additional proof of qualification, an appropriate STCW endorsement on their License or MMC when the Coast Guard determines that such an endorsement is necessary to enable the vessel to engage on a single international voyage of a non-routine nature. The STCW endorsement will be expressly limited to service on the vessel or the class of vessels and will not establish qualification for any other purpose.

Subpart B-C [Reserved]

Subpart D—Manning Requirements; All Vessels

§ 15.401 Employment and service within restrictions of credential.

(a) A person may not employ or engage an individual, and an individual may not serve, in a position in which an individual is required by law or regulation to hold a Transportation Worker Identification Credential (TWIC) and/or Merchant Mariner Credential (MMC), unless the individual holds all credentials required, as appropriate, authorizing service in the capacity in which the individual is engaged or employed, and the individual serves within any restrictions placed on the credential. An individual holding an active MMC issued by the Coast Guard must also hold a valid TWIC issued by the Transportation Security Administration unless the individual is exempt under § 10.203(b)(1) of this subchapter.

(b) A person may not employ or engage an individual, and an individual may not serve in a position in which it is required by law or regulation that the individual hold an MMC endorsed with a national endorsement, as well as a corresponding STCW endorsement for service outside the boundary line.

(c) A person may not employ or engage an individual in a position required to hold an MMC unless that individual maintains a current medical certificate. Medical certificates must be issued and will remain current for the following periods of time, unless otherwise noted on the certificate:

(1) Two years for individuals serving on vessels to which STCW applies unless the mariner is under the age of 18, in which case the maximum period of validity will be 1 year.

(2) Five years for all other mariners.

(d) Each individual referred to in paragraph (a) of this section must hold an MMC that serves as identification, with an appropriate endorsement for the position in which the seafarer serves, and the MMC, along with a valid medical certificate, must be presented to the Master of the vessel at the time of employment or before signing Articles of Agreement.

(e) Each individual below the grades of officer and staff officer employed on any U.S.-flagged merchant vessel of 100 GRT or more must possess a valid MMC issued by the Coast Guard, except as noted below:

(1) Mariners on vessels navigating exclusively on rivers and lakes, except the Great Lakes, as defined in § 10.107 of this subchapter.

(2) Mariners below the rank of officer employed on any non-self-propelled vessel, except seagoing barges and barges to which 46 U.S.C. chapter 37 applies.

(3) Personnel not designated with any safety or security duties onboard casino vessels.

(f) Every person employed on a vessel with dual tonnages (both domestic and international) must hold a credential authorizing service appropriate to the tonnage scheme under which the vessel is manned and operating.

§ 15.403 When credentials for ratings are required.

(a) Every seafarer referred to in this section, when required, must produce a valid MMC with all applicable rating endorsements for the position sought, a valid TWIC unless the mariner is exempt under § 10.203(b)(2) of this subchapter, and a valid medical certificate, to the Master of the vessel at the time of employment or before signing Articles of Agreement. Seafarers who do not possess one of these credentials may be employed at a foreign port or place within the limitations specified in § 15.720.

(b)(1) Every person below the grades of officer and staff officer employed on any U.S.-flagged merchant vessel of 100 GRT or more, except those navigating rivers exclusively and the smaller inland lakes, must possess a valid MMC, along with a valid medical certificate, with all appropriate endorsements for the positions served.

(2) No endorsements are required of any person below the rank of officer employed on any barges except seagoing barges and barges to which 46 U.S.C. chapter 37 applies.

(3) No endorsements are required of any person below the rank of officer employed on any sail vessel of less than 500 net tons while not carrying passengers for hire and while not operating outside the line dividing inland waters from the high seas. 33 U.S.C. 151.

(c) Each person serving as an Able Seafarer-Deck or a Rating Forming Part of a Navigational Watch (RFPNW) on a seagoing vessel of 500 GT or more must hold an STCW endorsement certifying them as qualified to perform the navigational function at the support level, in accordance with the STCW Convention (incorporated by reference, see § 15.103).

(d) Each person serving as an Able Seafarer-Engine or an RFPEW on a seagoing vessel driven by main propulsion machinery of 1,000 HP/750 kW propulsion power or more must hold an STCW endorsement certifying them as qualified to perform the marine-engineering function at the support level, in accordance with the STCW Convention.

(e) Notwithstanding any other rule in this part, no person subject to this part serving on any of the following vessels needs an STCW endorsement:

(1) Vessels exempted from the application of the STCW Convention, including—

(i) Fishing vessels as defined in 46 U.S.C. 2101(11)(a);

(ii) Fishing vessels used as fish-tender vessels as defined in 46 U.S.C. 2101(11)(c);

(iii) Barges as defined in 46 U.S.C. 102, including non-self-propelled mobile offshore-drilling units;

(iv) Vessels operating exclusively on the Great Lakes; or

(v) Pilot vessels engaged in pilotage duty.

(2) Vessels not subject to any obligation under the STCW Convention due to their special operating conditions as small vessels engaged in domestic, near-coastal voyages, including—

(i) Small passenger vessels subject to subchapter T or K of this chapter;

(ii) Vessels of less than 200 GRT (other than passenger vessels subject to subchapter H of this chapter); or

(iii) Uninspected passenger vessels as defined in 46 U.S.C. 2101(42)(B).

§ 15.404 Requirements for serving onboard a vessel.

(a) Ratings Forming Part of a Navigational Watch (RFPNW). Each person serving as an RFPNW on a seagoing vessel of 500 GT or more, subject to the STCW Convention (incorporated by reference, see § 15.103), must hold an STCW endorsement attesting to their qualifications to perform the navigational function at the support level.

(b) Able Seafarer. Each person serving as a rating as Able Seafarer on a U.S.-flagged vessel must hold an MMC endorsed as Able Seafarer, except that no credential as Able Seafarer is required of any person employed on any tug or towboat on the bays and sounds connected directly with the seas, or on any barges except seagoing barges or tank barges. Each person serving as an Able Seafarer on a seagoing vessel subject to the STCW Convention must also hold an STCW endorsement as Able Seafarer-Deck.

(c) Ratings Forming Part of an Engineering Watch (RFPEW). Each person serving as an RFPEW in a manned engineroom or designated to perform duties in a periodically unmanned engineroom, on a seagoing vessel driven by main propulsion machinery of 1,000 HP/750 kW propulsion power or more, must hold an STCW endorsement attesting to their qualifications to perform the marine-engineering function at the support level.

(d) Qualified Member of the Engine Department (QMED). (1) The holder of an MMC endorsed with one or more QMED ratings may serve in any unqualified rating in the engine department without obtaining an additional endorsement.

(2) A QMED may serve as a qualified rating in the engine department only in the specific ratings endorsed on their MMC.

(3) Persons serving on vessels subject to the STCW Convention as Junior Engineer, Pump Technician/Machinist, or Electrician/Refrigeration Engineer must also hold an STCW endorsement as Able Seafarer-Engine.

(e) Lifeboat Operator. Every person assigned duties as a Lifeboat Operator must hold a credential attesting to such proficiency. Persons serving on vessels subject to the STCW Convention must also hold an STCW endorsement in Proficiency in Survival Craft and Rescue Boats other than Fast Rescue Boats (PSC).

(f) Lifeboat Operator-Limited. Every person assigned duties onboard a vessel that is not required to carry lifeboats and is required to employ a Lifeboat Operator must hold an endorsement as either Lifeboat Operator or Lifeboat Operator-Limited. Persons serving on vessels subject to the STCW Convention must also hold an STCW endorsement in Proficiency in Survival Craft and Rescue Boats other than Lifeboats and Fast Rescue Boats-Limited (PSC-Limited).

(g) Fast Rescue Boats. Every person engaged or employed in a position requiring Proficiency in Fast Rescue Boats must hold an endorsement attesting to such proficiency.

(h) Entry level. Every person employed in a rating other than Able Seafarer or QMED on a U.S. flagged vessel on which MMCs are required must hold an MMC endorsed as Wiper, Ordinary Seafarer, Steward's Department, or Steward's Department Food Handler (F.H.).

(i) Person in Charge of Medical Care. Every person designated to take charge of medical care onboard vessels subject to the STCW Convention must hold an MMC endorsed as Person in Charge of Medical Care.

(j) Medical First-aid Provider. Every person designated to provide medical first aid onboard vessels subject to the STCW Convention must hold an MMC endorsed as Medical First-aid Provider or a deck or engineer officer endorsement.

(k) GMDSS Radio Operator or Maintainer. Every person responsible for the operation or shipboard maintenance of GMDSS radio equipment onboard vessels subject to the STCW Convention must hold an MMC endorsed as GMDSS Radio Operator or GMDSS Radio Maintainer, as appropriate.

§ 15.405 Familiarity with vessel characteristics.

Each credentialed crewmember must become familiar with the relevant characteristics of the vessel appropriate to their duties and responsibilities prior to assuming those duties and responsibilities. As appropriate, these may include, but are not limited to, general arrangement of the vessel, maneuvering characteristics, proper operation of the installed navigation equipment, proper operation of firefighting and lifesaving equipment, stability and loading characteristics, emergency duties, and main propulsion and auxiliary machinery, including steering gear systems and controls.

§ 15.410 Credentialed individuals for assistance towing vessels.

Every assistance towing vessel must be under the direction and control of an individual holding a License or MMC authorizing them to engage in assistance towing under the provisions of § 11.482 of this subchapter.

§ 15.415 [Reserved]

Subpart E—Manning Requirements; Inspected Vessels

§ 15.501 Certificate of inspection.

(a) The certificate of inspection (COI) issued by an Officer in Charge, Marine Inspection (OCMI), to a vessel required to be inspected under 46 U.S.C. 3301 specifies the minimum complement of officers and crew necessary for the safe operation of the vessel.

(b) The manning requirements for a particular vessel are determined by the OCMI after consideration of the applicable laws, the regulations in this part, and all other factors involved, such as: emergency situations, size and type of vessel, installed equipment, proposed routes of operation including frequency of port calls, cargo carried, type of service in which employed, degree of automation, use of labor saving devices, and the organizational structure of the vessel.

§ 15.505 Changes in the certificate of inspection.

All requests for changes in manning as indicated on the COI must be sent to—

(a) The Officer in Charge, Marine Inspection (OCMI) who last issued the COI; or

(b) The OCMI conducting the inspection, if the request is made in conjunction with an inspection for certification.

§ 15.510 Right of appeal.

Any person directly affected by a decision or action taken under this part, by or on behalf of the Coast Guard, may appeal in accordance with subpart 1.03 of this chapter.

§ 15.515 Compliance with certificate of inspection.

(a) Except as provided by § 15.725, no vessel may be navigated unless it has in its service and onboard the crew complement required by the COI.

(b) Any time passengers are embarked on a passenger vessel, the vessel must have the crew complement required by the COI, whether the vessel is underway, at anchor, made fast to shore, or aground. However, the Master may allow reduced crew for limited or special operating conditions subject to the approval of the OCMI.

(c) No vessel subject to inspection under 46 U.S.C. 3301 will be navigated unless it is under the direction and control of an individual who holds an appropriate License or officer endorsement on their MMC.

§ 15.520 Mobile offshore drilling units (MODUs).

(a) The requirements in this section for MODUs supplement other requirements in this part.

(b) The OCMI determines the minimum number of officers and crew (including Lifeboat Operators) required for the safe operation of inspected MODUs. In addition to other factors listed in this part, the specialized nature of the MODU is considered in determining the specific manning levels.

(c) A License or officer endorsement on an MMC as Offshore Installation Manager (OIM), Barge Supervisor (BS), or Ballast Control Operator (BCO) authorizes service only on MODUs. A License or endorsement as OIM is restricted to the MODU type and mode of operation specified on the credential.

(d) When underway, a self-propelled MODU, other than a drillship, must be under the command of an individual who holds a License as Master endorsed as OIM, or an MMC endorsed as Master and OIM. When not underway, such a vessel must be under the command of an individual holding the appropriate OIM credential.

(e) A drillship must be under the command of an individual who holds a License or MMC officer endorsement as Master. When a drillship is on location, or is maintaining its position with a dynamic positioning system, the individual in command must hold a License as Master endorsed as OIM or an MMC with Master and OIM officer endorsements.

(f) A non-self-propelled MODU must be under the command of an individual who holds a License or MMC officer endorsement as OIM.

(g) An individual serving as Mate on a self-propelled surface unit when underway, other than a drillship, must hold an appropriate License, or an MMC endorsed as Mate and BS or BCO. When not underway, such a vessel may substitute an individual holding the appropriate BS or BCO endorsement for the Mate, if permitted by the cognizant OCMI.

(h) An individual holding a License or MMC officer endorsement as BS is required on a non-self-propelled surface unit other than a drillship.

(i) An individual holding a License or MMC officer endorsement as BS may serve as BCO.

(j) The OCMI issuing the MODU's COI may authorize the substitution of Chief or Assistant Engineer-MODU for Chief or Assistant Engineer, respectively, on self-propelled or propulsion-assisted surface units, except drillships. The OCMI may also authorize the substitution of Assistant Engineer-MODU for Assistant Engineer on drillships.

(k) Requirements in this part concerning Radar Observers do not apply to non-self-propelled MODUs.

(l) A surface MODU underway or on location, when afloat and equipped with a ballast control room, must have that ballast control room manned by an individual holding a License or MMC officer endorsement authorizing service as BCO.

§ 15.525 Additional manning requirements for tank vessels.

Parts 31 and 35 of this subchapter contain additional manning requirements applicable to tank vessels.

§ 15.530 Large passenger vessels.

(a) The owner or operator of a U.S.-flagged large passenger vessel must ensure that any non-resident alien holding a Coast Guard-issued MMC described in part 12, subpart H of this subchapter is provided the rights, protections, and benefits of the International Labor Organization's Merchant Shipping (Minimum Standards) Convention of 1976.

(b) On U.S-flagged large passenger vessels, non-resident aliens holding a Coast Guard-issued MMC described in part 12, subpart H of this subchapter—

(1) May only be employed in the steward's department on the vessel(s) specified on the MMC or accompanying Coast Guard letter under § 12.811 of this subchapter;

(2) May only be employed for an aggregate period of 36 months of actual service on all authorized U.S.-flagged large passenger vessels combined, under § 12.811 of this subchapter;

(3) May not perform watchstanding, engine room duty watch, or vessel navigation functions, under § 12.811 of this subchapter; and

(4) May perform emergency-related duties only if, under § 12.811 of this subchapter—

(i) The emergency-related duties do not require any other rating or endorsement, except Lifeboat Operator as specified in § 12.811 of this subchapter;

(ii) The non-resident alien has completed familiarization and Basic Training, as required in § 15.1105;

(iii) The non-resident alien, if serving as a Lifeboat Operator, has the necessary Lifeboat Operator's endorsement; and

(iv) The non-resident alien has completed the training for crewmembers on passenger ships performing duties involving safety or care for passengers, as required in part 12, subpart I of this subchapter.

(c) No more than 25 percent of the total number of ratings on a U.S.-flagged large passenger vessel may be aliens, whether admitted to the United States for permanent residence or authorized for employment in the United States as non-resident aliens.

(d) The owner or operator of a U.S.-flagged large passenger vessel employing non-resident aliens holding Coast Guard-issued MMCs described in part 12, subpart H of this subchapter must—

(1) Retain custody of all non-resident alien MMCs for the duration of employment, under § 12.811 of this subchapter; and

(2) Return all non-resident alien MMCs to the Coast Guard upon termination of employment, under § 12.811 of this subchapter.

(e) The owner or operator of a U.S.-flagged large passenger vessel employing non-resident aliens holding Coast Guard-issued MMCs described in part 12, subpart H of this subchapter is subject to the civil penalty provisions specified in 46 U.S.C. 8103(f), for any violation of this section.

§ 15.535 Towing vessels.

(a) Applicability. Except as provided in this paragraph (a), the requirements in this section apply to a towing vessel subject to subchapter M of this chapter. Vessels subject to this section must also meet the requirements in § 15.515(c). A towing vessel at least 8 meters (26 feet) in length, measured from end to end over the deck (excluding sheer), that is not subject to subchapter M must meet the requirements in paragraph (b) of this section if it is—

(1) A seagoing towing vessel of 300 gross tons or more subject to the provisions of subchapter I of this chapter;

(2) A vessel inspected under other subchapters of this chapter that may perform occasional towing; or

(3) A public vessel as defined in 46 U.S.C. 2101.

(b) Towing vessels 8 meters or more in length. Every towing vessel of at least 8 meters (26 feet) in length, measured from end to end over the deck (excluding sheer), must be under the direction and control of a person holding a MMC endorsed as Master or Mate (Pilot) of Towing Vessels or as Master or Mate of vessels of greater than 200 gross register tons, holding a completed Towing Officer Assessment Record signed by a designated examiner indicating that the officer is proficient in the operation of towing vessels upon the appropriate route.

(c) Towing Vessels of Any Length on the Lower Mississippi River. In addition to the requirements of paragraph (b) of this section, any towing vessel operating in the pilotage waters of the Lower Mississippi River must be under the control of an officer who holds either a First-Class Pilot's endorsement for that route, or MMC officer endorsement for the Western Rivers, or who meets the requirements of either paragraph (c)(1) or (2) of this section, as applicable.

(1) Moving tank or hazardous material barges. To operate a towing vessel with tank barges or a tow of barges carrying hazardous material regulated under subchapter N or O of this chapter, the officer in charge of the towing vessel must have completed at least 12 round trips over this route as an observer, with at least 3 of those trips during hours of darkness, and must provide evidence to the Coast Guard upon request that at least 1 of the 12 round trips occurred within the last 5 years.

(2) Moving uninspected barges or no barges. To operate a towing vessel without barges or a tow of uninspected barges, the officer in charge of the towing vessel must have completed at least 4 round trips over this route as an observer, with at least 1 of those trips during hours of darkness, and must provide evidence to the Coast Guard upon request that at least 1 of the 4 round trips occurred within the last 5 years.

Subpart F—Manning Requirements; Uninspected Vessels

§ 15.601 General.

The following sections of subparts F, G, and H of this part contain provisions concerning manning of uninspected vessels; §§ 15.701, 15.705, 15.710, 15.720, 15.730, 15.801, 15.805, 15.810, 15.820, 15.825, 15.840, 15.850, 15.855, 15.905, 15.910, and 15.915.

§ 15.605 Credentialed operators for uninspected passenger vessels.

Each uninspected passenger vessel (UPV) must be under the direction and control of an individual credentialed by the Coast Guard, as follows:

(a) Every UPV of 100 GRT or more, as defined by 46 U.S.C. 2101(53)(A), must be under the command of an individual holding a License or MMC endorsed as Master. When navigated, it must be under the direction and control of a credentialed Master, Pilot, or Mate.

(b) Every self-propelled UPV as defined by 46 U.S.C. 2101(53)(B) must be under the direction and control of an individual holding a License or MMC endorsed as or equivalent to an Operator of an Uninspected Passenger Vessel (OUPV).

(c) Personnel serving on UPVs engaged on international voyages must meet the requirements of subpart K of this part.

§ 15.610 Master and Mate (Pilot) of uninspected towing vessels.

(a) The requirements in this section apply to towing vessels, except for—

(1) Towing vessels that are subject to subchapter M in accordance with § 136.105 of this subchapter;

(2) Towing vessels that are seagoing and 300 gross or more tons subject to the provisions of subchapter I of this chapter;

(3) Towing vessels that are inspected under other subchapters of this chapter that may perform occasional towing; and

(4) Towing vessels that are public vessels as defined in 46 U.S.C. 2101.

(b) Except as provided in this paragraph, every towing vessel of at least 8 meters (26 feet) in length, measured from end to end over the deck (excluding sheer), must be under the direction and control of a person holding a License or MMC officer endorsement as Master or Mate (Pilot) of Towing Vessels, or as Master or Mate of vessels of greater than 200 GRT, holding either an endorsement on their License or MMC for towing vessels or a completed Towing Officer Assessment Record (TOAR) signed by a designated examiner indicating that the officer is proficient in the operation of towing vessels. This requirement does not apply to any vessel engaged in assistance towing.

(c) Any towing vessel operating in the pilotage waters of the Lower Mississippi River must be under the control of an officer meeting the requirements of paragraph (b) of this section who holds either a First-Class Pilot's endorsement for that route or MMC officer endorsement for the Western Rivers, or who meets the requirements of paragraph (b) of this section and meets the requirements of either paragraph (c)(1) or (2) of this section as applicable:

(1) To operate a towing vessel with tank barges, or a tow of barges carrying hazardous materials regulated under subchapters N or O of this chapter, an officer in charge of the towing vessel must have completed 12 roundtrips over this route as an observer, with at least three of those trips during hours of darkness, and provide evidence to the Coast Guard that at least one of the 12 roundtrips was completed within the last 5 years.

(2) To operate a towing vessel without barges, or a tow of uninspected barges, an officer in charge of the towing vessel must have completed at least four round trips over this route as an observer, with at least one of those trips during hours of darkness, and provide evidence to the Coast Guard that at least one of the four roundtrips was within the last 5 years.

Subpart G—Limitations and Qualifying Factors

§ 15.701 Officers Competency Certificates Convention, 1936.

(a) This section implements the Officers Competency Certificates Convention, 1936 (see 46 U.S.C. 8304), and applies to each vessel documented under the laws of the United States navigating seaward of the Boundary Lines in part 7 of this chapter, except:

(1) A public vessel;

(2) A wooden vessel of primitive build, such as a dhow or junk;

(3) A barge; or

(4) A vessel of less than 200 gross tons.

(b) The Master, Mates and engineers on any vessel to which this section applies must hold a License or MMC officer endorsement to serve in that capacity issued by the Coast Guard under parts 10 and 11 of this subchapter.

(c) A vessel to which this section applies, or a foreign flagged vessel to which the Officers Competency Certificates Convention applies, may be detained by a designated official until that official is satisfied that the vessel is in compliance with the Convention. Designated official includes Coast Guard officers, Coast Guard petty officers and officers or employees of the Customs and Border Protection Service.

(d) Whenever a vessel is detained, the owner, charterer, managing operator, agent, Master, or individual in charge may appeal the detention within 5 days under the provisions of § 2.01-70 of this chapter.

§ 15.705 Watches.

(a) 46 U.S.C. 8104 applies to the establishment of watches aboard certain U.S. vessels. The establishment of adequate watches is the responsibility of the vessel's Master. The Coast Guard interprets the term “watch” to be the direct performance of vessel operations, whether deck or engine, where such operations would routinely be controlled and performed in a scheduled and fixed rotation. The performance of maintenance or work necessary to the vessel's safe operation on a daily basis does not in itself constitute the establishment of a watch. The minimum safe manning levels specified in a vessel's COI or other safe manning document take into consideration routine maintenance requirements and ability of the crew to perform all operational evolutions, including emergencies, as well as those functions which may be assigned to persons in watches.

(b) Subject to exceptions, 46 U.S.C. 8104 requires that when a Master of a seagoing vessel of more than 100 GRT establishes watches for the officers, sailors, and Oilers, “the personnel shall be divided, when at sea, into at least three watches and shall be kept on duty successively to perform ordinary work incidental to the operation and management of the vessel.” Solely for the purposes of this part, the Coast Guard interprets “sailors” to mean those members of the deck department other than officers, whose duties involve the mechanics of conducting the ship on its voyage, such as helmsman (wheelsman), lookout, etc., and which are necessary to the maintenance of a continuous watch. The term “sailors” is not interpreted to include Able Seafarers and Ordinary Seafarers not performing these duties.

(c)(1) Subject to exceptions, 46 U.S.C. 8104(g) permits the officers and crew members to be divided into two watches when at sea and engaged on a voyage of less than 600 miles on the following categories of vessels—

(i) Towing vessel;

(ii) Offshore supply vessel, except as provided by paragraph (c)(2) of this section; or

(iii) Barge.

(2) Paragraph (c)(1) of this section applies to an OSV of at least 6,000 GT ITC (500 GRT if GT ITC is not assigned), as defined in § 125.160 of this subchapter, if the individuals engaged on the vessel are in compliance with the work hours and rest period requirements in § 15.1111.

(d) Subject to exceptions, 46 U.S.C. 8104(h) permits a Master or Mate (Pilot) operating a towing vessel that is at least 8 meters (26 feet) in length measured from end to end over the deck (excluding sheer) to work not more than 12 hours in a consecutive 24-hour period except in an emergency. The Coast Guard interprets this, in conjunction with other provisions of the law, to permit Masters or Mates (Pilots) serving as operators of towing vessels that are not subject to the provisions of the Officers' Competency Certificates Convention, 1936 (see 46 U.S.C. 8304), to be divided into two watches regardless of the length of the voyage.

(e) Fish processing vessels are subject to various provisions of 46 U.S.C. 8104 concerning watches, including—

(1) For fish processing vessels that entered into service before January 1, 1988, the following watch requirements apply to the officers and deck crew:

(i) If more than 5,000 GRT—three watches.

(ii) If more than 1,600 GRT and not more than 5,000 GRT—two watches.

(iii) If not more than 1,600 GRT—no watch division specified; or

(2) For fish processing vessels that entered into service after December 31, 1987, the following watch requirements apply to the officers and deck crew:

(i) If more than 5,000 GRT—three watches.

(ii) If not more than 5,000 GRT and having more than 16 individuals onboard, primarily employed in the preparation of fish or fish products—two watches.

(iii) If not more than 5,000 GRT and having not more than 16 individuals onboard, primarily employed in the preparation of fish or fish products—no watch division specified.

(f) Properly manned uninspected passenger vessels of at least 100 GRT—

(1) Which are underway for no more than 12 hours in any 24-hour period, and which are adequately moored, anchored, or otherwise secured in a harbor of safe refuge for the remainder of that 24-hour period, may operate with one navigational watch;

(2) Which are underway more than 12 hours in any 24-hour period, must provide a minimum of a two-watch system;

(3) In no case may the crew of any watch work more than 12 hours in any 24-hour period, except in an emergency.

§ 15.710 Working hours.

In addition to prescribing watch requirements, 46 U.S.C. 8104 sets limitations on the working hours of credentialed officers and crew members, prescribes certain rest periods, and prohibits unnecessary work on Sundays and certain holidays when the vessel is in a safe harbor. It is the responsibility of the Master or Person in Charge to ensure that these limitations are met. However, under 46 U.S.C. 8104(f), the Master or other credentialed officer can require any part of the crew to work when, in their judgment, they are needed for:

(a) Maneuvering, shifting berth, mooring, unmooring;

(b) Performing work necessary for the safety of the vessel, or the vessel's passengers, crew, or cargo;

(c) Saving of life onboard another vessel in jeopardy; or,

(d) Performing fire, lifeboat, or other drills in port or at sea.

§ 15.715 Automated vessels.

(a) Coast Guard acceptance of automated systems to replace specific personnel or to reduce overall crew requirements is predicated upon the capabilities of the system, the system's demonstrated and continuing reliability, and a planned maintenance program that ensures continued safe operation of the vessel.

(b) The OCMI considers the capabilities of an automated system in establishing initial manning levels; however, until the system is proven reliable, a manning level adequate to operate in a continuously attended mode will be specified on a vessel's COI. It remains the responsibility of the vessel's Master to determine when a continuous watch is necessary.

§ 15.720 Use of non-U.S.-credentialed personnel.

(a) United States vessels which need to replace one or more persons while on a foreign voyage and outside the jurisdiction of the United States, in order to meet manning requirements, may use non-U.S. credentialed personnel without a TWIC, except for the positions of Master and Radio Officer, until the vessel returns to a port at which in the most expeditious manner replacements who are citizens of the United States can be obtained.

(b) The citizenship requirements of 46 U.S.C. 8103(a) and (b) and the TWIC requirement of 46 U.S.C. 70105 are waived, except for the requirement that the Master must be a U.S. citizen holding a TWIC, with respect to the following vessels:

(1) A U.S.-documented offshore supply vessel (OSV) (as that term is defined in 46 U.S.C. 2101(19)) that is operating from a foreign port; and

(2) A U.S.-documented mobile offshore drilling unit (MODU) (as that term is defined in 46 U.S.C. 2101(15a)) that is operating beyond the water above the U.S. Outer Continental Shelf.

(c) The waiver provided in paragraph (b) of this section does not apply to any vessel operating in water above the U.S. Outer Continental Shelf (as that term is defined in 43 U.S.C. 1331(a)).

(d) The Master must assure that any replacements of crewmembers by non-U.S. citizens made in accordance with this section will be with an individual who holds a credential that required experience, training, and other qualifications equivalent to the U.S. credential required for the position and that the person possesses or will possess the training required to communicate to the extent required by § 15.730.

(e) Non-U.S.-credentialed officers serving onboard vessels subject to STCW must hold a “Certificate attesting recognition” in accordance with part 11, subpart J of this subchapter. A mariner may serve for a period not to exceed 3 months onboard the vessel while the Coast Guard is processing their application for such a certificate.

§ 15.725 Sailing short.

Whenever a vessel is deprived of the service of a member of its complement, and the Master or Person in Charge is unable to find appropriate credentialed personnel to man the vessel, the Master or Person in Charge may proceed on the voyage, having determined the vessel is sufficiently manned for the voyage. A report of sailing short must be filed with the OCMI having cognizance for inspection in the area in which the vessel is operating, or the OCMI within whose jurisdiction the voyage is completed. The report must explain the cause of each deficiency and be submitted within 12 hours after arrival at the next port. The actions of the Master or Person in Charge in such instances are subject to review and it must be shown the vacancy was not due to the consent, fault or collusion of the Master or other individuals specified in 46 U.S.C. 8101(e). A civil penalty may be assessed against the Master or Person in Charge for failure to submit the report.

§ 15.730 Language requirements.

(a) The provisions of 46 U.S.C. 8702 relating to language apply generally to vessels of at least 100 GRT except:

(1) Vessels operating on rivers and lakes except the Great Lakes;

(2) A manned barge except a seagoing barge or a barge to which chapter 37 of 46 U.S.C. applies;

(3) A fishing vessel, fish tender vessel, whaling vessel, or yacht;

(4) A sailing school vessel with respect to sailing school instructors and sailing school students;

(5) An oceanographic research vessel with respect to scientific personnel;

(6) A fish processing vessel which entered into service before January 1, 1988, and is not more than 1,600 GRT or which entered into service after December 31, 1987, and has not more than 16 individuals onboard primarily employed in the preparation of fish or fish products; and

(7) All fish processing vessels with respect to those personnel primarily employed in the preparation of fish or fish products or in a support position not related to navigation.

(b) 46 U.S.C. 8702(b) requires that onboard vessels departing U.S. ports 75 percent of the crew in each department onboard is able to understand any order spoken by the officers.

(c) The words able to understand any order spoken by the officers relates to any order to a member of the crew when directing the performance of that person's duties and orders relating to emergency situations such as used for response to a fire or in using lifesaving equipment. It is not expected that a member of the deck department understand terminology normally used only in the engineroom or vice versa.

(d) Whenever information is presented to the Coast Guard that a vessel fails to comply with the specified language requirements the Coast Guard investigates the allegation to determine its validity. In determining if an allegation is factual, the Coast Guard may require a demonstration by the officers and crew that appropriate orders are understood. The demonstration will require that orders be spoken to the individual members of the crew by the officers in the language ordinarily and customarily used by the officers. The orders must be spoken directly by the officer to the crew member and not through an interpreter. Signs, gestures, or signals may not be used in the test. The Coast Guard representative will specify the orders to be given and will include not only daily routine but orders involving emergencies, either of a departmental or of a general nature. This test will be conducted, if possible, at a time reasonably in advance of the vessel's departure, to avoid delays.

Subpart H—Computations

§ 15.801 General.

The OCMI will determine the specific manning levels for vessels required to have certificates of inspection by part B of subtitle II of title 46 U.S.C. The Masters or individuals in command of all vessels, whether required to be inspected under 46 U.S.C. 3301 or not, are responsible for properly manning vessels in accordance with the applicable laws, regulations, and international conventions.

§ 15.805 Master.

(a) There must be an individual holding an appropriate License as or a valid MMC with endorsement as Master in command of each of the following vessels:

(1) Every self-propelled, seagoing documented vessel of 200 GRT and over.

(2) Every self-propelled inspected vessel;

(3) Every inspected passenger vessel;

(4) Every inspected small passenger vessel; and

(5) Every towing vessel of at least 8 meters (26 feet) or more in length must be in command of a Master of Towing Vessels, or a mariner holding a License or MMC endorsed as Master of inspected, self-propelled vessels greater than 200 GRT holding either—

(i) A completed Towing Officer's Assessment Record (TOAR), bearing the signature of a Designated Examiner and stating that the Examiner found the candidate proficient; or

(ii) A License or MMC endorsed for Master of Towing Vessels.

(6) Every uninspected passenger vessel of at least 100 GRT.

(7) Every uninspected passenger vessel engaged on an international voyage.

(b) On vessels subject to STCW, the individual meeting the requirement of this section must also hold an STCW endorsement as Master with the appropriate tonnage for the vessel which he or she is operating, except as noted in § 15.105(g) for vessels on domestic near-coastal voyages.

(c) Every vessel documented under the laws of the United States, other than a vessel with only a recreational endorsement, must be under the command of a U.S. citizen.

§ 15.810 Mates.

(a) The OCMI determines the minimum number of Mates required for the safe operation of inspected vessels.

(b) The minimum number of mariners holding a License or MMC officer endorsement as Mate required to be carried on every inspected, self-propelled, seagoing and Great Lakes vessel, and every inspected, seagoing, passenger vessel must not be less than the following, except when reductions are authorized under paragraph (e) of this section:

(1) Vessels of 1,000 GRT or more (except MODUs)—three Mates (except when on a voyage of less than 400 miles from port of departure to port of final destination—two Mates).

(2) MODUs of 1,000 GRT or more:

(i) Three Mates when on a voyage of more than 72 hours.

(ii) Two Mates when on a voyage of more than 16 but not more than 72 hours.

(iii) One Mate when on a voyage of not more than 16 hours.

(3) Vessels of 100 GRT or more but less than 1,000 GRT—two Mates (except vessels of at least 100 but less than 200 GRT on voyages which do not exceed 24 hours in duration—one Mate).

(4) All vessels of less than 100 GRT—one Mate (except vessels on voyages not exceeding 12 hours in duration may, if the OCMI determines it to be safe, be operated without Mates).

(5) An offshore supply vessel of 100 GRT (100 GT ITC if GRT is not assigned) or more, but less than 6,000 GT ITC (500 GRT if GT ITC is not assigned) as defined in § 125.160 of this subchapter—one credentialed Mate (except when on a voyage of at least 600 miles—two credentialed Mates). A voyage includes the accrued distance from port of departure to port of arrival and does not include stops at offshore points.

(6) An offshore supply vessel of at least 6,000 GT ITC (500 GRT if GT ITC is not assigned) as defined in § 125.160 of this chapter—two credentialed Mates provided that the OSV meets the requirements in § 15.1111 (except when on a voyage of more than 600 miles—three credentialed Mates). A voyage includes the accrued distance from the vessel's port of departure to the vessel's port of arrival. Stops at offshore points or facilities do not constitute separate voyages; stops at offshore points or facilities are included in the total accrued distance between the vessel's port of departure and the vessel's port of arrival.

(c) An individual in charge of the navigation or maneuvering of a self-propelled, uninspected, documented, seagoing vessel of 200 GRT or over must hold an appropriate License or MMC authorizing service as Mate.

(d) Each Person in Charge of the navigation or maneuvering of a towing vessel of at least 8 meters (26 feet) in length must satisfy the requirements of § 15.805(a)(5) or hold a License or MMC authorizing service as either—

(1) Mate (Pilot) of Towing Vessels; or

(2) Mate of inspected self-propelled vessels greater than 200 GRT within any other restrictions on the officer's License or MMC, holding either—

(i) A completed TOAR bearing the signature from a Designated Examiner (DE) and stating that the DE found the candidate proficient; or

(ii) A License or MMC with officer endorsement for towing vessels.

(e) The OCMI may increase the minimum number of Mates indicated in paragraph (b) of this section where they determine that the vessel's characteristics, route, or other operating conditions create special circumstances warranting an increase.

(f) The Commandant will consider reductions to the number of Mates required by this section when special circumstances allowing a vessel to be safely operated can be demonstrated.

(g) On vessels subject to STCW, the individual meeting the requirement of this section must also hold an STCW endorsement as Officer in Charge of a Navigational Watch with the appropriate tonnage for the vessel which they are operating, except as noted in § 15.105 (g) for vessels on domestic near-coastal voyages.

§ 15.812 Pilots.

(a) Except as specified in paragraph (f) of this section, the following vessels, not sailing on register, when underway on the navigable waters of the United States, must be under the direction and control of an individual qualified to serve as Pilot under paragraph (b) or (c) of this section, as appropriate:

(1) Coastwise seagoing vessels propelled by machinery and subject to inspection under 46 U.S.C. Chapter 33, and coastwise seagoing tank barges subject to inspection under 46 U.S.C. Chapter 37.

(2) Vessels that are not authorized by their COI to proceed beyond the Boundary Line established in part 7 of this chapter, are in excess of 1,600 GRT propelled by machinery, and are subject to inspection under 46 U.S.C. Chapter 33.

(3) Vessels operating on the Great Lakes, that are propelled by machinery and subject to inspection under 46 U.S.C. Chapter 33, or are tank barges subject to inspection under 46 U.S.C. Chapter 37.

(b) The following individuals may serve as a Pilot on a vessel subject to paragraph (a) of this section, when underway on the navigable waters of the United States that are designated areas:

(1) An individual holding a valid First-Class Pilot's License or MMC officer endorsement as First-Class Pilot, operating within the restrictions of their credential, may serve as Pilot on any vessel to which this section applies.

(2) An individual holding a valid License or MMC officer endorsement as Master or Mate, employed aboard a vessel within the restrictions of their credential, may serve as Pilot on a vessel of not more than 1,600 GRT propelled by machinery, described in paragraphs (a)(1) and (3) of this section, provided they are—

(i) At least 21 years old;

(ii) Able to show current knowledge of the waters to be navigated, as required in § 11.713 of this subchapter; and

(iii) Able to provide evidence of completing a minimum of four roundtrips over the route to be traversed while in the wheelhouse as watchstander or observer. At least one of the roundtrips must be made during the hours of darkness if the route is to be traversed during darkness.

(3) An individual holding a valid License or MMC officer endorsement as Master, Mate, or operator employed aboard a vessel within the restrictions of their credential, may serve as Pilot on a tank barge or tank barges totaling not more than 10,000 GRT/GT, described in paragraphs (a)(1) and (3) of this section, provided they—

(i) Are at least 21 years old

(ii) Are able to show current knowledge of the waters to be navigated, as required in § 11.713 of this subchapter

(iii) Have a current physical examination in accordance with the provisions of § 11.709 of this subchapter

(iv) Have at least 6 months of service in the deck department on towing vessels engaged in towing operations; and

(v) Provide evidence of completing a minimum of 12 roundtrips over the route to be traversed, as an observer or under instruction in the wheelhouse. At least three of the roundtrips must be made during the hours of darkness if the route is to be traversed during darkness

(c) An individual holding a valid License or MMC officer endorsement as Master, Mate, or operator, employed aboard a vessel within the restrictions of their credential, may serve as a Pilot for a vessel subject to paragraphs (a)(1) and (2) of this section, when underway on the navigable waters of the United States that are not designated areas of pilotage waters, provided they—

(1) Are at least 21 years old

(2) Are able to show current knowledge of the waters to be navigated, as required in § 11.713 of this subchapter; and

(3) Have a current physical examination in accordance with the provisions of § 11.709 of this subchapter

(d) In any instance in which the qualifications of a person satisfying the requirements for pilotage through the provisions of this subpart are questioned by the Coast Guard, the individual must, within a reasonable time, provide the Coast Guard with documentation proving compliance with the applicable portions of paragraphs (b) and (c) of this section

(e) Federal pilotage requirements contained in paragraphs (a) through (d) of this section are summarized in the following two quick reference tables

(1) Table 1 to § 15.812(e)(1) provides a guide to the pilotage requirements for inspected, self-propelled vessels.

Table 1 to § 15.812(e)(1)—Quick Reference Table for Federal Pilotage Requirements for U.S.-Inspected, Self-Propelled Vessels, Not Sailing on Register
| Designated areas of pilotage waters (routes for which First- Class Pilot's licenses or MMC officer endorsements are issued) | Non-designated areas of pilotage waters (between the 3-mile line and the start of traditional pilotage routes)
Inspected self-propelled vessels greater than 1,600 GRT, authorized by their COI to proceed beyond the Boundary Line, or operating on the Great Lakes | First-Class Pilot | Master or Mate may serve as Pilot if they— 1. Are at least 21 years old; 2. Have an annual physical exam; and 3. Maintain current knowledge of the waters to be navigated.¹
Inspected self-propelled vessels not more than 1,600 GRT, authorized by their COI to proceed beyond the Boundary Line, or operating on the Great Lakes | First-Class Pilot, or Master or Mate may serve as Pilot if they— 1. Are at least 21 years old; 2. Maintain current knowledge of the waters to be navigated; and ¹ 3. Have four roundtrips over the route.² | Master or Mate may serve as Pilot if they— 1. Are at least 21 years old; and 2. Maintain current knowledge of the waters to be navigated.¹
Inspected self-propelled vessels greater than 1,600 GRT, not authorized by their COI to proceed beyond the Boundary Line (inland route vessels); other than vessels operating on the Great Lakes | First-Class Pilot | Master or Mate may serve as Pilot if they— 1. Are at least 21 years old; 2. Have an annual physical exam; and 3. Maintain current knowledge of the waters to be navigated.¹
Inspected self-propelled vessels not more than 1,600 GRT, not authorized by their COI to proceed beyond the Boundary Line (inland route vessels); other than vessels operating on the Great Lakes | No pilotage requirement | No pilotage requirement.
¹ One roundtrip within the past 60 months.
² If the route is to be traversed during darkness, one of the four roundtrips must be made during darkness.

(2) Table 2 to § 15.812(e)(2) provides a guide to the pilotage requirements for tank barges.

Table 2 to § 15.812(e)(2)—Quick Reference Table for Federal Pilotage Requirements for U.S.-Inspected Tank Barges, Not Sailing on Register
| Designated areas of pilotage waters (routes for which First- Class Pilot's Licenses or MMC officer endorsements are issued) | Non-designated areas of pilotage waters (between the 3-mile line and the start of traditional pilotage routes)
Tank Barges greater than 10,000 GRT/GT, authorized by their COI to proceed beyond the Boundary Line, or operating on the Great Lakes | First-Class Pilot | Master, Mate, or Master, Mate (Pilot) of Towing Vessels may serve as Pilot if they: 1. Are at least 21 years old; 2. Have an annual physical exam; ² 3. Maintain current knowledge of the waters to be navigated; ¹ and 4. Have at least 6 months' service in the deck department on towing vessels engaged in towing operations.
Tank Barges 10,000 GRT/GT or less, authorized by their COI to proceed beyond the Boundary Line, or operating on the Great Lakes | First-Class Pilot, or Master, Mate, or Master, Mate (Pilot) of Towing Vessels may serve as Pilot if they: 1. Are at least 21 years old; 2. Have an annual physical exam; ² 3. Maintain current knowledge of the waters to be navigated; ¹ 4. Have at least 6 months' service in the deck department on towing vessels engaged in towing operations; and 5. Have 12 roundtrips over the route.³
Tank Barges authorized by their COI for inland routes only (lakes, bays, and sounds/rivers); other than vessels operating on the Great Lakes | No pilotage requirement | No pilotage requirement.
¹ One roundtrip within the past 60 months.
² Annual physical exam does not apply to an individual who will serve as a Pilot of a tank barge of less than 1,600 GRT.
³ If the route is to be traversed during darkness, three of the 12 roundtrips must be made during darkness.

(f) In Prince William Sound, Alaska, coastwise seagoing vessels over 1,600 GRT and propelled by machinery and subject to inspection under 46 U.S.C. Chapter 37 must—

(1) When operating from 60°49′ north latitude to the Port of Valdez, be under the direction and control of an individual holding a valid License or MMC endorsed as Pilot who—

(i) Is operating under the authority of a License or MMC;

(ii) Holds a License issued by the State of Alaska; and

(iii) Is not a crewmember of the vessel; and

(2) Navigate with either two credentialed deck officers on the bridge or an individual holding a valid License or MMC endorsed as Pilot, when operating south of 60°49′ north latitude and in the approaches through Hinchinbrook Entrance and in the area bounded—

(i) On the West by a line 1 mile west of the western boundary of the Traffic Separation Scheme

(ii) On the East by 146°00′ West longitude;

(iii) On the North by 60°49′ North latitude; and

(iv) On the South by that area of Hinchinbrook Entrance within the territorial sea bounded by 60°07′ North latitude and 146°31.5′ West longitude

§ 15.815 Radar Observers.

(a) Each person in the required complement of deck officers, including the Master, on inspected vessels of 300 GRT or over which are radar equipped, must hold an endorsement as Radar Observer.

(b) Each person who is employed or serves as Pilot in accordance with Federal law onboard radar-equipped vessels of 300 GRT or over must hold an endorsement as Radar Observer.

(c) Each person having to hold a License or MMC officer endorsement under 46 U.S.C. 8904(a) for employment or service as Master or Mate onboard a towing vessel of 8 meters (26 feet) or more in length must, if the vessel is equipped with radar, hold an endorsement as Radar Observer.

(d) Until July 22, 2024, a person may satisfy the requirements in paragraph (a), (b), or (c) by having immediately available a valid course completion certificate from an appropriate Coast Guard-approved or accepted radar course that was issued within the previous 5 years.

§ 15.816 Automatic radar plotting aids (ARPA).

Every person in the required complement of deck officers, including the Master, on seagoing vessels equipped with automatic radar plotting aids (ARPA), except those vessels listed in § 15.105(f) and (g), must hold an appropriate STCW endorsement valid for vessels equipped with ARPA.

§ 15.817 Global Maritime Distress and Safety System (GMDSS) Radio Operator.

Every person in the required complement of deck officers, including the Master, on seagoing vessels equipped with a GMDSS, except those vessels listed in § 15.105(f) and (g), must provide evidence of a valid STCW endorsement as GMDSS Radio Operator.

§ 15.818 Global Maritime Distress and Safety System (GMDSS) At-sea Maintainer.

Every person employed or engaged to maintain GMDSS equipment at sea, when the service of a person so designated is used to meet the maintenance requirements of SOLAS Regulation IV/15 (incorporated by reference, see § 15.103), must provide documentary evidence that they are competent to maintain GMDSS equipment at sea.

§ 15.820 Chief Engineer.

(a) There must be an individual holding an MMC or License endorsed as Chief Engineer or other credential authorizing service as Chief Engineer employed onboard the following mechanically propelled inspected vessels:

(1) Seagoing or Great Lakes vessels of 200 GRT and over;

(2) Offshore supply vessels of more than 200 GRT;

(3) Inland (other than Great Lakes) vessels of 300 GRT or more, if the OCMI determines that an individual with a license or the appropriate MMC officer endorsement responsible for the vessel's mechanical propulsion is necessary.

(b) On vessels subject to STCW, the individual meeting the requirement of this section must also hold an STCW endorsement as Chief Engineer with the appropriate propulsion power for the vessel upon which they are operating, except as noted in § 15.105(g) for vessels on domestic near-coastal voyages.

(c) An individual engaged or employed to perform the duties of Chief Engineer on a mechanically propelled, uninspected, seagoing, documented vessel of 200 GRT or more must hold an appropriately endorsed License or MMC authorizing service as a Chief Engineer.

§ 15.825 Engineers.

(a) An individual in charge of an engineering watch on a mechanically propelled, seagoing, documented vessel of 200 GRT or more, other than an individual described in § 15.820, must hold an appropriately endorsed License or MMC authorizing service as an Assistant Engineer.

(b) On vessels subject to STCW, the individual meeting the requirement of this section must also hold an STCW endorsement as Officer in Charge of an Engineering Watch with the appropriate propulsion power for the vessel upon which they are operating, except as noted in § 15.105(g) for vessels on domestic near-coastal voyages.

(c) An offshore supply vessel of at least 6,000 GT ITC (500 GRT if GT ITC is not assigned) as defined in § 125.160 of this chapter, for which the Coast Guard has accepted the use of automated systems to replace specific personnel pursuant to subpart 62.50 of this chapter, must carry at least one credentialed Assistant Engineer, in addition to the individual described in § 15.820.

(d) The OCMI determines the minimum number of credentialed engineers required for the safe operation of inspected vessels.

§ 15.830 Radio Officers.

Radio Officers are required on certain merchant vessels of the United States. The determination of when a Radio Officer is required is based on the Federal Communications Commission requirements as found in 47 CFR parts 13 and 80.

§ 15.835 Staff officers.

Staff officers, when carried, must be registered as specified in part 11 of this subchapter.

§ 15.840 Able Seafarers.

(a) With certain exceptions, 46 U.S.C. 8702 applies to all vessels of at least 100 GRT. At least 65 percent of the deck crew of these vessels, excluding individuals serving as officers, must be Able Seafarers. For vessels permitted to maintain a two-watch system, the percentage of Able Seafarers may be reduced to 50 percent.

(b) Able Seafarers are rated as: Unlimited, Limited, Special, OSV, Sail, and Fishing Industry, under the provisions of part 12 of this subchapter. 46 U.S.C. 7312 specifies the categories of Able Seafarers (i.e., Unlimited, Limited, etc.) necessary to meet the requirements of 46 U.S.C. 8702.

(c) On vessels subject to STCW, the individual meeting the requirement of this section must also hold an STCW endorsement as Rating Forming Part of a Navigational Watch (RFPNW) or Able Seafarer-Deck (according to § 15.404(a) and (b)), except as noted in § 15.105 (g) for vessels on domestic near-coastal voyages.

(d) It is the responsibility of the Master or Person in Charge (PIC) to ensure that the Able Seafarers in the service of the vessel meet the requirements of 46 U.S.C. 7312 and 8702.

§ 15.845 Lifeboat Operators.

(a) The number of Lifeboat Operators required for a vessel is specified in part 199 of this chapter; however, on vessels not equipped with lifeboats, a Lifeboat Operator may be replaced by a Lifeboat Operator-Limited.

(b) On vessels subject to STCW, the individual meeting the requirement of this section must also hold an STCW endorsement for Proficiency in Survival Craft, except as noted in § 15.105 (g) for vessels on domestic near-coastal voyages.

§ 15.850 Lookouts.

(a) The requirements for the maintenance of a proper lookout are specified in Rule 5 of the International Regulations for Preventing Collisions at Sea, 1972 (33 U.S.C. 1602(c)), and Rule 5 of the Inland Navigational Rules Act of 1980 (33 CFR part 83). Lookout is a function to be performed by a member of a navigational watch.

(b) On vessels subject to STCW, the individual meeting the requirement of this section must also hold at least an STCW deck endorsement as Rating Forming Part of a Navigational Watch (RFPNW), except as noted in § 15.105(g) for vessels on domestic near-coastal voyages.

§ 15.855 Cabin watchmen and fire patrolmen.

(a) On vessels carrying passengers at night, the Master or Person in Charge must ensure that a suitable number of watchmen are in the vicinity of the cabins or staterooms and on each deck, to guard against and give alarm in case of fire or other danger.

(b) On a fish processing vessel of more than 100 GRT, there must be a suitable number of watchmen trained in firefighting onboard when hot work is being done, to guard against and give alarm in case of a fire.

(c) For the watchmen described in paragraph (a) of this section, the owner or operator of an uninspected passenger vessel not more than 300 GRT may substitute the use of fire detectors, heat detectors, smoke detectors, and high-water alarms with audible- and visual-warning indicators, in addition to other required safety alarms, only when each of the following conditions are met:

(1) Fire detectors are located in each space containing machinery or fuel tanks per § 181.400(c) of this chapter.

(2) All grills, broilers, and deep-fat fryers are fitted with a grease extraction hood per § 181.425 of this chapter.

(3) Heat and/or smoke detectors are located in each galley, public accommodation space, enclosed passageway, berthing space, and all crew spaces.

(4) High-water alarms are located in each space with a through hull fitting below the deepest load waterline, a machinery space bilge, bilge well, shaft alley bilge, or other space subject to flooding from sea water piping within the space, and a space below the waterline with non-watertight closure such as a space with a non-watertight hatch on the main deck.

(5) Each alarm has an audible- and visual-alarm indicator located at the normal operating station and, if the normal operating position is not continually manned and not navigating underway, in an alternate location that must provide the crew, and may at all times provide the passengers, immediate warning of a hazardous condition.

(6) The vessel is underway for no more than 12 hours in any 24-hour period, and the Master of the vessel has chosen to operate with less than a three-watch system in accordance with § 15.705.

§ 15.860 Tank vessel endorsements.

(a) The OCMI enters on the COI issued to each manned tank vessel subject to the regulations in this chapter the number of crewmembers required to hold valid MMCs with the proper tank vessel endorsement. Table 1 to § 15.860(a) of this section provides the minimum requirements for manned tank vessels. Table 2 to § 15.860(a) of this section provides the tank vessel endorsements required for personnel aboard tankships.

Table 1 to § 15.860(a)—Minimum Requirements for Manned Tank Vessels
Tank vessels | Tank vessel-PIC | Tank Vessel-assistant | Tank Vessel-engineer | Tank Vessel-PIC or tank barge-PIC
Tankship Certified for Voyages Beyond Boundary Line:
Over 5,000 GRT | 2 | 3 | 2
5,000 GRT or less | 2 |  | ¹ 2
Tankship Not Certified for Voyages Beyond Boundary Line | ² 2
Tank Barge |  |  |  | ² 2
¹ If only one engineer is required, then only one Tank Vessel-Engineer is required.
² If the total crew complement is one or two persons, then only one Tank Vessel-PIC is required.
³ If the total crew complement is one or two persons, then only one Tank Vessel-PIC or Tank Barge-PIC is required.

Table 2 to § 15.860(a)—Tank Vessel Endorsements Required for Personnel Aboard Tankships
[Endorsement for the classification of the bulk liquid cargo or residues carried]
Tankship certified for voyages beyond boundary line | Tank vessel-PIC |  | Tank vessel-engineer | Tank vessel-assistant
Master | X
Chief Mate | X
Chief Engineer | X | or | X
First Assistant Engineer | X | or | X
Cargo Engineer | X | or | X
Credentialed officer Acting as PIC of Transfer of Liquid Cargo in Bulk | X
Credentialed Officer or Crewmember Not Directly Supervised by PIC |  |  |  | X

(b) For each tankship of more than 5,000 GRT certified for voyages beyond the boundary line as described in part 7 of this chapter—

(1) At least two Tank Vessel-PICs or Restricted Tank Vessel-PICs must be carried;

(2) At least three Tank Vessel-Assistants must be carried; and

(3) At least two Tank Vessel-Engineers must be carried.

(c) For each tankship of 5,000 GRT or less certified for voyages beyond the boundary line, as described in part 7 of this chapter

(1) At least two Tank Vessel-PICs or Restricted Tank Vessel-PICs must be carried; and

(2) At least two Tank Vessel-Engineers must be carried, unless only one engineer is required, in which case at least one Tank Vessel-Engineer must be carried.

(d) For each tankship not certified for voyages beyond the boundary line, as described in part 7 of this chapter, if the total crew complement is—

(1) One or two, at least one Tank Vessel-PIC or Restricted Tank Vessel-PIC must be carried; or

(2) More than two, at least two Tank Vessel-PICs or Restricted Tank Vessel-PICs must be carried.

(e) For each Tank Barge-PIC manned under § 31.15-5 of this chapter, if the total crew complement is—

(1) One or two, at least one Tank Vessel-PIC, restricted Tank Vessel-PIC, Tank Barge-PIC, or Restricted Tank Barge-PIC must be carried; or

(2) More than two, at least two Tank Vessel-PICs, Restricted Tank Vessel-PICs, Tank Barge-PICs, or Restricted Tank Barge-PICs must be carried.

(f) The following personnel aboard each tankship certified for voyages beyond the boundary line, as described in part 7 of this chapter, must hold valid MMCs, endorsed as follows:

(1) The Master and Chief Mate must each hold a Tank Vessel-PIC or Restricted Tank Vessel-PIC endorsement.

(2) The Chief, First Assistant, and cargo engineers must each hold a Tank Vessel-Engineer or Tank Vessel-PIC endorsement.

(3) Each credentialed officer acting as the PIC of a transfer of liquid cargo in bulk must hold a Tank Vessel-PIC or Restricted Tank Vessel-PIC endorsement.

(4) Each officer or crewmember who is assigned by the PIC duties and responsibilities related to the cargo or cargo-handling equipment during a transfer of liquid cargo in bulk, but is not directly supervised by the PIC, must hold a Tank Vessel-Assistant endorsement.

(g) The endorsements required by this section must be for the classification of the liquid cargo in bulk or of the cargo residue being carried.

(h) All individuals serving on tankships certified for voyages beyond the boundary line, as described in part 7 of this chapter, must hold an appropriate STCW endorsement, as follows:

(1) For Tank Vessel-PIC, an STCW endorsement as Advanced Oil Tanker Cargo Operations, Advanced Chemical Tanker Cargo Operations, or Advanced Liquefied Gas Tanker Cargo Operations, as appropriate.

(2) For Tank Vessel-Assistant, an STCW endorsement as Basic Oil and Chemical Tanker Cargo Operations, or Basic Liquefied Gas Tanker Cargo Operations, as appropriate.

(3) For a Tank Barge-PIC, an STCW endorsement as Advanced Oil Tanker Cargo Operations, Advanced Chemical Tanker Cargo Operations, or Advanced Liquefied Gas Tanker Cargo Operations, as appropriate, including endorsements with a limitation for non-self-propelled vessels.

(4) For a Tank Vessel-Engineer, an STCW endorsement as Advanced Oil Tanker Cargo Operations, or Advanced Chemical Tanker Cargo Operations, as appropriate, including endorsements with a limitation to maintenance and repair of cargo equipment.

§ 15.865 Qualified Member of the Engine Department.

(a) Every person serving under the authority of a rating endorsement as Qualified Member of the Engine Department (QMED) on any United States vessel requiring QMED must hold an endorsement as QMED.

(b) On vessels subject to STCW, certain seafarers meeting the requirement of this section must also hold either an STCW endorsement as Able Seafarer-Engine or Rating Forming Part of an Engineering Watch (RFPEW) or designated to perform duties in a periodically unmanned engineroom (according to § 15.404(c) and (d)), except as noted in § 15.105(g) for vessels on domestic near-coastal voyages.

Subpart I—Equivalents

§ 15.901 Inspected vessels of less than 100 GRT.

(a) An individual holding a License or MMC endorsed as Mate or Pilot of inspected, self-propelled vessels of 200 GRT or more is authorized to serve as Master on inspected vessels of less than 100 GRT within any restrictions on the individual's License or MMC, without further endorsement.

(b) An individual holding a License or MMC endorsed as Master or Mate of inspected self-propelled vessels is authorized to serve as Master or Mate, respectively, of non-self-propelled vessels other than sail vessels, within any restrictions on the individual's License or MMC, without further endorsement.

(c) An individual holding a License or MMC endorsed as Master or Mate of inspected sail vessels is authorized to serve as Master or Mate, respectively, of other non-self-propelled vessels, within any restrictions on the individual's License or MMC, without further endorsement.

(d) An individual holding a License or MMC endorsed as Master or Mate of inspected auxiliary sail vessels, is authorized to serve as Master or Mate, respectively, of self-propelled and non-self-propelled vessels, within any restrictions on the individual's License or MMC, without further endorsement.

§ 15.905 Uninspected passenger vessels.

(a) An individual holding a License or MMC endorsed as Master or Pilot of an inspected self-propelled vessel is authorized to serve as operator of an uninspected passenger vessel of less than 100 GRT within any restrictions, other than tonnage limitations, on the individual's License or MMC.

(b) An individual holding a License or MMC endorsed as a Master or Pilot of an inspected self-propelled vessel is authorized to serve as Master, as required by 46 CFR 15.805(a)(6), of an uninspected passenger vessel of 100 GRT or more within any restrictions, including gross tonnage and route, on the individual's License or MMC.

(c) An individual holding a License or MMC endorsed as Mate of an inspected self-propelled vessel (other than Great Lakes, inland, or river vessels of less than 200 GRT) is authorized to serve as Operator of Uninspected Passenger Vessels (OUPV) of less than 100 GRT within any restrictions, other than tonnage limitations, on the individual's License or MMC.

§ 15.910 Towing vessels.

No person may serve as a Master or Mate (Pilot) of any towing vessel without meeting the requirements of § 15.805(a)(5) or 15.810(d).

§ 15.915 Engineer officer endorsements.

The following Licenses and MMC officer endorsements authorize the holder to serve as noted, within any restrictions on the License or MMC, and as provided by § 15.401:

(a) A Designated Duty Engineer (DDE) License or endorsement authorizes service as Chief or Assistant Engineer on vessels of less than 500 GT in the following manners:

(1) A DDE limited to vessels of less than 1,000 horsepower or less than 4,000 horsepower may serve only on near-coastal, Great Lakes, or inland waters.

(2) A DDE with no horsepower limitations may serve on any waters.

(3) When serving on a vessel to which STCW applies, the appropriate STCW endorsement must also be held.

(b) A Chief Engineer-Limited License or endorsement authorizes service as Chief or Assistant Engineer on vessels of any gross tons on inland waters and of less than 1,600 GRT on ocean, near-coastal, or Great Lakes waters.

(c) An Assistant Engineer-Limited License or endorsement authorizes service on vessels of any gross tons on inland waters and of less than 1,600 GRT on ocean, near-coastal, or Great Lakes waters.

Subpart J—Vessels in Foreign Trade

§ 15.1001 General.

Self-propelled vessels engaged in foreign commerce are required to use a Pilot holding a valid MMC or License with appropriate endorsement as a First-Class Pilot when operating in the navigable waters of the United States specified in this subpart.

§ 15.1010 California.

The following offshore marine oil terminals located within U.S. navigable waters of the State of California:

(a) Carlsbad, CA. The waters including the San Diego Gas and Electric, Encina Power Plant, lying within an area bounded by a line beginning at latitude 33°10′06″ N, longitude 117°21′42″ W, thence southwesterly to latitude 33°08′54″ N, longitude 117°24′36″ W, thence southwesterly to latitude 33°04′30″ N, longitude 117°21′42″ W, thence northeasterly to latitude 33°05′36″ N, longitude 117°18′54″ W, thence northwesterly along the shoreline to latitude 33°10′06″ N, longitude 117°21′42″ W.

(b) Huntington Beach, CA. The waters including the Golden West Refining Company, Huntington Beach Marine Terminal, lying within an area bounded by a line beginning at latitude 33°39′06″ N, longitude 118°00′0″ W, thence westerly to latitude 33°39′18″ N, longitude 118°05′12″ W, thence southeasterly along a line drawn three nautical miles from the baseline to latitude 33°35′30″ N, longitude 118°00′00″ W, thence easterly to latitude 33°35′30″ N, longitude 117°52′30″ W, thence northwesterly along the shoreline to latitude 33°39′06″ N, longitude 118°00′00″ W.

(c) El Segundo, CA. The waters including the Chevron USA, El Segundo Marine Terminal, lying within an area bounded by a line beginning at latitude 33°56′18″ N, longitude 118°26′18″ W, thence westerly to latitude 33°56′18″ N, longitude 118°30′48″ W, thence southeasterly along a line drawn three nautical miles from the baseline to latitude 33°51′48″ N, longitude 118°27′54″ W, thence easterly to latitude 33°51′48″ N, longitude 118°24′00″ W, thence northwesterly along the shoreline to latitude 33°56′18″ N, longitude 118°26′18″ W.

(d) Oxnard, CA. The waters including the Southern California Edison Company, Mandalay Generating Station, lying within an area bounded by a line beginning at latitude 34°14′12″ N, longitude 119°16′00″ W, thence westerly to latitude 34°14′12″ N, longitude 119°19′36″ W, thence southeasterly along a line drawn three nautical miles from the baseline to latitude 34°09′24″ N, longitude 119°17′20″ W, thence easterly to latitude 34°09′24″ N, longitude 119°13′24″ W, thence northwesterly along the shoreline to latitude 34°14′24″ N, longitude 119°16′00″ W.

(e) Goleta, CA. The waters including the ARCO, Ellwood Marine Terminal, lying within an area bounded by a line beginning at latitude 34°26′12″ N, longitude 119°57′00″ W, thence southerly to latitude 34°22′48″ N, longitude 119°57′00″ W, thence southeasterly along a line drawn three nautical miles from the baseline to latitude 34°21′06″ N, longitude 119°50′30.5″ W, thence northerly to latitude 34°24′18″ N, longitude 119°50′30″ W, thence northwesterly along the shoreline to latitude 34°26′12″ N, longitude 119°57′00″ W.

(f) Gaviota, CA. The waters including the Texaco Trading and Transportation, Gaviota Marine Terminal, lying within an area bounded by a line beginning at latitude 34°28′06″ N, longitude 120°16′00″ W, thence southerly to latitude 34°25′06″ N, longitude 120°16′00″ W, thence easterly along a line drawn three nautical miles from the baseline to latitude 34°25′24″ N, longitude 120°08′30″ W, thence northerly to latitude 34°28′24″ N, longitude 120°08′30″ W, thence westerly along the shoreline to latitude 34°28′06″ N, longitude 120°16′00″ W.

(g) Moss Landing, CA. The waters including the Pacific Gas and Electric Company Power Plant, lying within an area bounded by a line beginning at latitude 36°49′00″ N, longitude 121°47′42″ W, thence westerly to latitude 36°49′00″ N, longitude 121°51′00″ W, thence southerly to latitude 36°47′00″ N, longitude 121°51′00″ W thence easterly to latitude 36°47′00″ N, longitude 121°47′54″ W, thence northerly along the shoreline to latitude 36°49′00″ N, longitude 121°47′42″ W.

(h) Estero Bay, CA. The waters including various moorings, including the Pacific Gas and Electric Company mooring and the two Chevron Oil Company Terminals lying within an area bounded by a line beginning at latitude 36°25′00″ N, longitude 120°52′30″ W, thence westerly to latitude 36°25′00″ N, longitude 120°56′00″ W, thence southerly to latitude 36°22′00″ N, longitude 120°56′00″ W, thence easterly to latitude 36°22′00″ N, longitude 120°52′12″ W, thence northerly along the shoreline to latitude 36°25′00″ N, longitude 120°52′30″ W.

(i) San Luis Obispo Bay, CA. The waters including the Unocal Corporation Avila Terminal and the approaches thereto, lying in an area bounded by a line beginning at latitude 35°09′42″ N, longitude 120°46′00″ W, thence southerly to latitude 35°07′00″ N, longitude 120°46′00″ W, thence easterly to latitude 35°07′00″ N, longitude 120°43′00″ W, thence northerly to latitude 35°10′24″ N, longitude 120°43′00″ W, thence westerly along the shoreline to latitude 35°09′42″ N, longitude 120°46′00″ W.

§ 15.1020 Hawaii.

The following offshore marine oil terminals located within U.S. navigable waters of the State of Hawaii: Barbers Point, Island of Oahu. The waters including the Hawaiian Independent Refinery, Inc. and the Chevron moorings lying within an area bounded by a line bearing 180 degrees true from Barbers Point Light to latitude 21°14.8′N, longitude 158°06.4′W, thence easterly to latitude 21°14.8′N, longitude 158°03.3′W, thence northeasterly to latitude 21°15.6′N, longitude 158°01.1′W, thence northwesterly to latitude 21°18.5′N, longitude 158°02.0′W, thence westerly along the shoreline to latitude 21°17.8′N, longitude 158°06.4′W.

§ 15.1030 New York and New Jersey.

The following U.S. navigable waters located within the States of New York and New Jersey when the vessel is making an intra-port transit, to include, but not limited to, a movement from a dock to a dock, from a dock to an anchorage, from an anchorage to a dock, or from an anchorage to an anchorage, within the following listed operating areas:

(a) East River from Execution Rocks to New York Harbor, Upper Bay;

(b) Hudson River from Yonkers, New York to New York Harbor, Upper Bay;

(c) Raritan River from Grossman Dock/Arsenal to New York Harbor, Lower Bay;

(d) Arthur Kill Channel;

(e) Kill Van Kull Channel;

(f) Newark Bay;

(g) Passaic River from Point No Point to Newark Bay;

(h) Hackensack River from the turning basin to Newark Bay; and

(i) New York Harbor, Upper and Lower Bay.

Note to § 15.1030: “Intra-port transit” as used in this section includes the movement of a foreign-trade vessel inbound from sea from the point where a State-licensed Pilot ceases providing pilotage to another point within the identified areas (i.e., a dock or anchorage). Likewise, intra-port transit also includes the movement of a foreign-trade vessel outbound to sea from a point within the identified areas (i.e., a dock or anchorage) to the point where a State-licensed Pilot begins providing pilotage.

§ 15.1040 Massachusetts.

The following U.S. navigable waters located within the State of Massachusetts when the vessel is in transit, but not bound to or departing from a port within the following listed operating areas:

(a) Cape Cod Bay south of latitude 41°48′54″ N;

(b) The Cape Cod Canal; and

(c) Buzzards Bay east of a line extending from the southernmost point of Wilbur Point (latitude 41°34′55″ N longitude 70°51′15″ W) to the easternmost point of Pasque Island (latitude 41°26′55″ N longitude 70°50′30″ W).

§ 15.1050 North Carolina.

(a) The following navigable waters of the United States within the State of North Carolina when the vessel is maneuvering while berthing or unberthing, is approaching or passing through a bridge, or is making any intra-port transit, which transit may include but is not limited to movement from a dock to a dock, from a dock to an anchorage, from an anchorage to a dock, or from an anchorage to an anchorage, within either of the following areas:

(1) The waters of the Cape Fear River from the boundary line established by 46 CFR 7.60 to Latitude 34°16.5′ N.

(2) The waters of the Northeast Cape Fear River from its confluence with the Cape Fear River at Point Peter to Latitude 34°17′ N.

(b) This subpart does not apply to any vessel on the waters specified in paragraph (a) of this section if the laws of the State of North Carolina require a State-licensed Pilot on the vessel.

Subpart K—Vessels Subject to Requirements of STCW

§ 15.1101 General.

(a) Except as noted in paragraphs (a)(1) and (2) of this section, the regulations in this subpart apply to seagoing vessels as defined in § 10.107 of this subchapter.

(1) The following vessels are exempt from application of the STCW Convention:

(i) Fishing vessels as defined in 46 U.S.C. 2101(11)(a).

(ii) Fishing vessels used as fish-tender vessels as defined in 46 U.S.C. 2101(11)(c).

(iii) Barges as defined in 46 U.S.C. 102, including non-self-propelled MODUs.

(iv) Vessels operating exclusively on the Great Lakes or on the inland waters of the U.S., in the Straits of Juan de Fuca, or on the Inside Passage between Puget Sound and Cape Spencer.

(v) Pilot vessels engaged on pilotage duty.

(2) The following small vessels engaged exclusively on domestic, near-coastal voyages are not subject to any obligation for the purposes of the STCW Convention:

(i) Small passenger vessels subject to subchapter T or K of this chapter.

(ii) Vessels of less than 200 GRT (other than passenger vessels subject to subchapter H of this chapter).

(iii) Uninspected passenger vessels as defined in 46 U.S.C. 2101(42)(B).

(b) Masters, Mates, and engineers serving on vessels identified in paragraphs (a)(2)(i) and (ii) of this section may be issued, without additional proof of qualification, an appropriate STCW endorsement when the Coast Guard determines that such a document is necessary to enable the vessel to engage on a single international voyage of a non-routine nature. The STCW endorsement will be expressly limited to service on the vessel or the class of vessels and will not establish qualification for any other purpose.

§ 15.1103 Employment and service within the restrictions of an STCW endorsement or of a certificate of training.

(a) Onboard a seagoing vessel of 500 GT or more, driven by main propulsion machinery of 1,000 HP/750 kW propulsion power or more or on an international voyage beyond the boundary line as described in part 7 of this chapter, no person may employ or engage any person to serve, and no person may serve, in a position requiring a person to hold an STCW endorsement, including Master, Chief Mate, Chief Engineer Officer, Second Engineer Officer, Officer of the Navigational or Engineering Watch, or GMDSS Radio Operator, unless the person serving holds an appropriate, valid STCW endorsement issued in accordance with part 11 of this subchapter.

(b) Onboard a seagoing vessel of 500 GT or more, no person may employ or engage any person to serve, and no person may serve, as an RFPNW, except for training, unless the person serving holds an appropriate, valid STCW endorsement issued in accordance with part 12 of this subchapter.

(c) As of January 1, 2017, onboard a seagoing vessel of 500 GT or more, no person may employ or engage any person to serve, and no person may serve, as an Able Seafarer-Deck, except for training, unless the person serving holds an appropriate, valid STCW endorsement issued in accordance with part 12 of this subchapter.

(d) Onboard a seagoing vessel driven by main propulsion machinery of 1,000 HP/750 kW propulsion power or more, no person may employ or engage any person to serve, and no person may serve as an RFPEW, nor may any person be designated to perform duties in a periodically unmanned engineroom, except for training or for the performance of duties of an unskilled nature, unless the person serving holds an appropriate, valid STCW endorsement issued in accordance with part 12 of this subchapter.

(e) As of January 1, 2017, onboard a seagoing vessel driven by main propulsion machinery of 1,000 HP/750 kW propulsion power or more, no person may employ or engage any person to serve, and no person may serve as an Able Seafarer-Engine, except for training, unless the person serving holds an appropriate valid STCW endorsement issued in accordance with part 12 of this subchapter.

(f) Onboard a passenger ship, as defined by the Convention for the Safety of Life at Sea, 1974, as amended (SOLAS) (incorporated by reference, see § 15.103), on an international voyage, any person serving as Master, Chief Mate, Mate, Chief Engineer, engineer officer, or any person holding an MMC and performing duties relating to safety, cargo handling, or care for passengers, must meet the appropriate requirements of Regulation V/2 of the STCW Convention (incorporated by reference, see § 15.103). These individuals must hold documentary evidence to show they meet these requirements.

(g) Onboard a seagoing vessel required to comply with provisions of the GMDSS in Chapter IV of SOLAS, no person may employ or engage any person to serve, and no person may serve, as the person designated to maintain GMDSS equipment at sea, when the service of a person so designated is used to meet the maintenance requirements of SOLAS Regulation IV/15, which allows for capability of at-sea electronic maintenance to ensure that radio equipment is available for radio communication, unless the person so serving holds documentary evidence that they are competent to maintain GMDSS equipment at sea.

(h) Medical certificate. (1) A person may not employ or engage an individual unless that individual maintains a current medical certificate.

(2) After January 1, 2017, all persons employed or engaged onboard vessels to which STCW applies must hold a medical certificate valid for 2 years unless the mariner is under the age of 18, in which case the maximum period of validity will be 1 year.

(3) If a mariner's medical certificate expires during a voyage, it will remain valid until the next United States port of call, provided that the period after expiration does not exceed 90 days.

§ 15.1105 Familiarization and Basic Training (BT).

(a) Onboard a seagoing vessel to which this subpart applies, no person may assign any person to perform shipboard duties, and no person may perform those duties, unless the person performing them has received—

(1) Training in personal survival techniques as set out in the standard of competence under Regulation VI/1 of the STCW Convention (incorporated by reference, see § 15.103); or

(2) Sufficient familiarization training or instruction that they—

(i) Can communicate with other persons onboard about elementary safety matters and understand informational symbols, signs, and alarm signals concerning safety;

(ii) Know what to do if a person falls overboard; if fire or smoke is detected; or if the fire alarm or abandon-ship alarm sounds;

(iii) Can identify stations for muster and embarkation, and emergency-escape routes;

(iv) Can locate and don life jackets;

(v) Can raise the alarm and knows the use of portable fire extinguishers;

(vi) Can take immediate action upon encountering an accident or other medical emergency before seeking further medical assistance onboard; and

(vii) Can close and open the fire doors, weather-tight doors, and watertight doors fitted in the vessel other than those for hull openings.

(b) Onboard a seagoing vessel to which this subpart applies, no person may assign a shipboard duty or responsibility to any person who is serving in a position that must be filled as part of the required crew complement, and no person may perform any such duty or responsibility, unless they are familiar with it and with all of the vessel's arrangements, installations, equipment, procedures, and characteristics relevant to their routine and emergency duties or responsibilities, in accordance with Regulation I/14 of the STCW Convention.

(c) Onboard a seagoing vessel to which this subpart applies, no person may assign a shipboard duty or responsibility to any person who is serving in a position that must be filled as part of the required crew complement or who is assigned a responsibility on the muster list, and no person may perform any such duty or responsibility, unless the person performing it can produce evidence of having—

(1) Received appropriate approved Basic Training or instruction as set out in the standards of competence under Regulation VI/1 of the STCW Convention, with respect to personal survival techniques, fire prevention and fire-fighting, elementary first aid, and personal safety and social responsibilities; and

(2) Maintained the standard of competence under Regulation VI/1 of the STCW Convention, with respect to personal survival techniques, fire prevention and fire-fighting, elementary first aid, and personal safety and social responsibilities, every 5 years.

(d) Fish-processing vessels in compliance with the provisions of part 28 of this chapter on instructions, drills, and safety orientation are deemed to be in compliance with the requirements of this section on familiarization and Basic Training.

§ 15.1107 Maintenance of merchant mariners' records by owner or operator.

For every credentialed mariner employed on a U.S.-documented seagoing vessel, the owner or operator must ensure that the following information is maintained and readily accessible to those in management positions, including the Master of the vessel, who are responsible for the safety of the vessel, compliance with laws and regulations, and for the prevention of marine pollution:

(a) Experience and training relevant to assigned shipboard duties (i.e., record of training completed, ship-specific familiarization and of relevant on-the-job experience acquired).

(b) Copies of the mariner's current credentials.

§ 15.1109 Watches.

Except those serving on vessels listed in § 15.105(f) and (g), each Master of a vessel that operates beyond the boundary line, as described in part 7 of this chapter, must ensure observance of the principles concerning watchkeeping set out in Regulation VIII/2 of the STCW Convention and section A-VIII/2 of the STCW Code (both incorporated by reference, see § 15.103).

§ 15.1111 Work hours and rest periods.

(a) Every person assigned duty as Officer in Charge of a Navigational or Engineering Watch, or duty as Ratings Forming Part of a Navigational or Engineering Watch, or designated safety, prevention of pollution, and security duties onboard any vessel that operates beyond the boundary line, as described in part 7 of this chapter, must receive—

(1) A minimum of 10 hours of rest in any 24-hour period; and

(2) 77 hours of rest in any 7-day period.

(b) The hours of rest required under paragraph (a) of this section may be divided into no more than two periods in any 24-hour period, one of which must be at least 6 hours in length, and the interval between consecutive periods of rest must not exceed 14 hours.

(c) The requirements of paragraphs (a) and (b) of this section need not be maintained in the case of an emergency or drill or in other overriding operational conditions.

(d) The minimum period of rest required under paragraph (a) of this section may not be devoted to watchkeeping or other duties.

(e) Watchkeeping personnel remain subject to the work-hour limits in 46 U.S.C. 8104 and to the conditions under which crewmembers may be required to work.

(f) The Master must post watch schedules where they are easily accessible. They must cover each affected person under paragraph (a) of this section, and must take into account the rest requirements of this section as well as port rotations and changes in the vessel's itinerary.

(g) Records of daily hours of rest must be maintained onboard the vessel. Each affected person under paragraph (a) of this section must receive a copy of the records pertaining to them, which will be endorsed by the Master or by a person authorized by the Master and by the seafarer.

(h) For every seafarer on call, such as when a machinery space is unattended, the seafarer must have an adequate compensatory rest period if the normal period of rest is disturbed by call-outs to work.

(i) The Master of the vessel may suspend the schedule of hours of rest and require a seafarer to perform any hours of work necessary for the immediate safety of the ship, persons onboard, or cargo, or for the purpose of giving assistance to other ships or persons in distress at sea. As soon as practicable after the situation has been restored, the Master must ensure that any seafarer who has performed work in a scheduled rest period is provided with an adequate period of rest.

(j) In exceptional circumstances, the Master may authorize exceptions from the hours of rest required under paragraphs (a) and (b) of this section provided that:

(1) The hours of rest provided for in paragraph (a)(1) of this section may be divided into no more than three periods, one of which must be at least 6 hours in length, and neither of the other two periods are permitted to be less than one hour in length.

(i) Exceptions to paragraph (a)(1) of this section must not extend beyond two 24-hour periods in any 7-day period; and,

(ii) The intervals between consecutive periods of rest must not exceed 14 hours.

(2) Exceptions to paragraphs (a)(2) and (b) of this section must not be less than 70 hours of rest in any 7-day period.

(3) Exceptions to paragraph (a)(2) of this section are not allowed for more than two consecutive weeks, and the intervals between two periods of exceptions to paragraph (a)(2) must not be less than twice the duration of the longer exception.

§ 15.1113 Security personnel.

(a) Onboard a seagoing vessel of 500 GT or more to which the International Ship and Port Facility Security (ISPS) Code applies, all persons performing duties as Vessel Security Officer (VSO) must hold a valid endorsement as VSO.

(b) Persons who hold an endorsement as VSO will be deemed to satisfy the requirements for vessel personnel with designated security duties in paragraph (c) of this section.

(c) After March 24, 2014, onboard a seagoing vessel of 500 GT or more to which the ISPS Code applies, all personnel with designated security duties must hold a valid endorsement as vessel personnel with designated security duties, or a certificate of course completion or documentary evidence of onboard training from an appropriate Coast Guard-accepted or Coast Guard-approved course meeting the requirements of 33 CFR 104.220.

(d) Persons who hold an endorsement as vessel personnel with designated security duties, or a certificate of course completion or documentary evidence of onboard training from an appropriate Coast Guard-accepted or Coast Guard-approved course for vessel personnel with designated security duties, will be deemed to satisfy the requirements for all other vessel personnel in paragraph (e) of this section.

(e) After March 24, 2014, onboard a seagoing vessel of 500 GT or more to which the ISPS Code applies, all other vessel personnel must hold a valid endorsement in security awareness, or a certificate of course completion from an appropriate Coast Guard-accepted or Coast Guard-approved course, or documentary evidence of onboard training meeting the requirements of 33 CFR 104.225.

(f) After March 24, 2014, onboard a seagoing vessel of 500 GT or more to which the ISPS Code applies, all contractors, whether part-time, full-time, temporary, or permanent, must have knowledge of the requirements in 33 CFR 104.225, through training or equivalent job experience. Vessel owners and operators must maintain records documenting this requirement and produce those records to the Coast Guard upon request.

PART 16—CHEMICAL TESTING

174. The authority citation for part 16 is revised to read as follows:

Authority: 46 U.S.C. 2103, 3306, 7101, 7301, and 7701; DHS Delegation No. 00170.1, Revision No. 01.4.

175. Amend § 16.105 by revising the definitions for the terms “Credential” and “Marine employer” to read as follows:

§ 16.105 Definitions of terms used in this part.

* * * * *

Credential is a term used to refer to any or all of the following:

(1) Merchant Mariner's Document (MMD).

(2) Merchant Mariner's License.

(3) STCW endorsement.

(4) Certificate of Registry (COR).

(5) Merchant Mariner Credential (MMC).

* * * * *

Marine employer means the owner, managing operator, charterer, agent, Master, or Person in Charge of a vessel, other than a recreational vessel.

* * * * *

176. Revise and republish subpart B, consisting of §§ 16.201 through 16.260, to read as follows:

Subpart B—Required Chemical Testing

§ 16.201 Application.

(a) Chemical testing of personnel must be conducted as required by this subpart and in accordance with the procedures detailed in 49 CFR part 40.

(b) If an individual fails a chemical test for dangerous drugs under this part, the individual will be presumed to be a user of dangerous drugs.

(c) If an individual holding a credential fails a chemical test for dangerous drugs, the individual's employer, prospective employer, or sponsoring organization must report the test results in writing to the nearest Coast Guard Officer in Charge, Marine Inspection (OCMI). The individual must be denied employment as a crewmember or must be removed from duties which directly affect the safe operation of the vessel as soon as practicable and is subject to suspension and revocation proceedings against their credential under part 5 of this chapter.

(d) If an individual who does not hold a credential fails a chemical test for dangerous drugs, the individual will be denied employment as a crewmember or removed from duties that directly affect the safe operation of the vessel, as soon as possible.

(e) An individual who has failed a required chemical test for dangerous drugs may not be re-employed aboard a vessel until the requirements of paragraph (f) of this section and part 5 of this chapter, if applicable, have been satisfied.

(f) Before an individual who has failed a required chemical test for dangerous drugs may return to work aboard a vessel, the MRO must determine that the individual is drug-free and the risk of subsequent use of dangerous drugs by that person is sufficiently low to justify their return to work. In addition, the individual must agree to be subject to increased unannounced testing—

(1) For a minimum of six (6) tests in the first year after the individual returns to work as required in 49 CFR part 40; and

(2) For any additional period as determined by the MRO up to a total of 60 months.

§ 16.203 Employer, MRO, and SAP responsibilities.

(a) Employers. (1) Employers must ensure that they and their crewmembers meet the requirements of this part.

(2) Employers are responsible for all the actions of their officials, representatives, and agents in carrying out the requirements of this part.

(3) All agreements and arrangements, written or unwritten, between and among employers and service agents concerning the implementation of DOT drug testing requirements are deemed, as a matter of law, to require compliance with all applicable provisions of this part and DOT agency drug testing regulations. Compliance with these provisions is a material term of all such agreements and arrangements.

(b) Medical Review Officer (MRO). (1) Individuals performing MRO functions must meet the training requirements and follow the procedures in 49 CFR part 40.

(2) MROs may report chemical drug test results to the Coast Guard for unemployed, self-employed, or individual mariners.

(c) Substance Abuse Professional (SAP). Individuals performing SAP functions must meet the training requirements and follow the procedures in 49 CFR part 40.

§ 16.205 Implementation of chemical testing programs.

(a) When a vessel owned in the United States is operating in waters that are not subject to the jurisdiction of the United States, the testing requirements of §§ 16.210 and 16.230 do not apply to a citizen of a foreign country engaged or employed as Pilot in accordance with the laws or customs of that foreign country.

(b) Upon written request of an employer, Commandant (CG-INV) will review the employer's chemical testing program to determine compliance with the provisions of this part.

§ 16.210 Pre-employment testing requirements.

(a) No marine employer may engage or employ any individual to serve as a crewmember unless the individual passes a chemical test for dangerous drugs for that employer.

(b) An employer may waive a pre-employment test required for a job applicant by paragraph (a) of this section if the individual provides satisfactory evidence that they have:

(1) Passed a chemical test for dangerous drugs, required by this part, within the previous six months with no subsequent positive drug tests during the remainder of the six-month period; or

(2) During the previous 185 days been subject to a random testing program required by § 16.230 for at least 60 days and did not fail or refuse to participate in a chemical test for dangerous drugs required by this part.

§ 16.220 Periodic testing requirements.

(a) Except as provided by paragraph (c) of this section and § 10.227(g) of this subchapter, an applicant must pass a chemical test for dangerous drugs for—

(1) An original issuance of a License, Certificate of Registry (COR), MMD, or Merchant Mariner Credential (MMC);

(2) The first issuance, raise of grade, or renewal of an officer endorsement on an MMC;

(3) A raise of grade of a License or COR;

(4) The first endorsement as an Able Seafarer, Lifeboat Operator, Qualified Member of the Engine Department (QMED), or a tank vessel endorsement; or

(5) A reissuance of a credential with a new expiration date. The applicant must provide the results of the test to the Coast Guard Regional Examination Center (REC) at the time of submitting an application. The test results must be completed and dated not more than 185 days before submission of the application.

(b) Unless excepted under paragraph (c) of this section, each Pilot required by this subchapter to receive an annual physical examination must pass a chemical test for dangerous drugs as a part of that examination, and provide the results to the Coast Guard. Applicants need not submit additional copies of their annual chemical test for dangerous drugs pursuant to paragraph (a) of this section if the applicant submitted passing results of a chemical test for dangerous drugs to the Coast Guard within 12 months of the date of application.

(c) An applicant need not submit evidence of passing a chemical test for dangerous drugs required by paragraph (a) or (b) of this section if they provide satisfactory evidence that they have—

(1) Passed a chemical test for dangerous drugs required by this part within the previous 6 months with no subsequent positive chemical tests during the remainder of the 6-month period; or

(2) During the previous 185 days been subject to a random testing program required by § 16.230 for at least 60 days and did not fail or refuse to participate in a chemical test for dangerous drugs required by this part.

(d) Except as provided by paragraph (b) of this section, an applicant is required to provide the results of only one chemical test for dangerous drugs when multiple transactions are covered by or requested in a single application.

§ 16.230 Random testing requirements.

(a) Marine employers must establish programs for the chemical testing for dangerous drugs on a random basis of crewmembers on inspected vessels who:

(1) Occupy a position, or perform the duties and functions of a position, required by the vessel's Certificate of Inspection;

(2) Perform the duties and functions of patrolmen or watchmen required by this chapter; or,

(3) Are specifically assigned the duties of warning, mustering, assembling, assisting, or controlling the movement of passengers during emergencies.

(b) Marine employers must establish programs for the chemical testing for dangerous drugs on a random basis of crewmembers on uninspected vessels who:

(1) Are required by law or regulation to hold a License issued by the Coast Guard in order to perform their duties on the vessel;

(2) Perform duties and functions directly related to the safe operation of the vessel;

(3) Perform the duties and functions of patrolmen or watchmen required by this chapter; or,

(4) Are specifically assigned the duties of warning, mustering, assembling, assisting, or controlling the movement of passengers during emergencies.

(c) The selection of crewmembers for random drug testing must be made by a scientifically valid method, such as a random number table or a computer-based random number generator that is matched with crewmembers' Social Security numbers, payroll identification numbers, or other comparable identifying numbers. Under the testing frequency and selection process used, each covered crewmember will have an equal chance of being tested each time selections are made and an employee's chance of selection will continue to exist throughout their employment. As an alternative, random selection may be accomplished by periodically selecting one or more vessels and testing all crewmembers covered by this section, provided that each vessel subject to the marine employer's test program remains equally subject to selection.

(d) Marine employers may form or otherwise use sponsoring organizations, or may use contractors, to conduct the random chemical testing programs required by this part.

(e) Except as provided in paragraph (f) of this section, the minimum annual percentage rate for random drug testing must be 50 percent of covered crewmembers.

(f) The annual rate for random drug testing may be adjusted in accordance with this paragraph.

(1) The Commandant's decision to increase or decrease the minimum annual percentage rate for random drug testing is based on the reported random positive rate for the entire industry. All information used for this determination is drawn from the drug MIS reports required by this part. In order to ensure reliability of the data, the Commandant considers the quality and completeness of the reported data, may obtain additional information or reports from marine employers, and may make appropriate modifications in calculating the industry random positive rate. Each year, the Commandant will publish in the Federal Register the minimum annual percentage rate for random drug testing of covered crewmembers. The new minimum annual percentage rate for random drug testing will be applicable starting January 1 of the calendar year following publication.

(2) When the minimum annual percentage rate for random drug testing is 50 percent, the Commandant may lower this rate to 25 percent of all covered crewmembers if the Commandant determines that the data received under the reporting requirements of 46 CFR 16.500 for two consecutive calendar years indicate that the positive rate is less than 1.0 percent.

(3) When the minimum annual percentage rate for random drug testing is 25 percent, and the data received under the reporting requirements of 46 CFR 16.500 for any calendar year indicate that the positive rate is equal to or greater than 1.0 percent, the Commandant will increase the minimum annual percentage rate for random drug testing to 50 percent of all covered crewmembers.

(g) Marine employers will randomly select a sufficient number of covered crewmembers for testing during each calendar year to equal an annual rate not less than the minimum annual percentage rate for random drug testing determined by the Commandant. If the marine employer conducts random drug testing through a consortium, the number of crewmembers to be tested may be calculated for each individual marine employer or may be based on the total number of covered crewmembers covered by the consortium who are subject to random drug testing at the same minimum annual percentage rate under this part or any DOT drug testing rule.

(h) Each marine employer must ensure that random drug tests conducted under this part are unannounced and that the dates for administering random tests are spread reasonably throughout the calendar year.

(i) If a given covered crewmember is subject to random drug testing under the drug testing rules of more than one DOT agency for the same marine employer, the crewmember will be subject to random drug testing at the percentage rate established for the calendar year by the DOT agency regulating more than 50 percent of the crewmember's function.

(j) If a marine employer is required to conduct random drug testing under the drug testing rules of more than one DOT agency, the marine employer may—

(1) Establish separate pools for random selection, with each pool containing the covered crewmembers who are subject to testing at the same required rate; or

(2) Randomly select such crewmembers for testing at the highest percentage rate established for the calendar year by any DOT agency to which the marine employer is subject.

(k) An individual may not be engaged or employed, including self-employment, on a vessel in a position as Master, operator, or Person in Charge for which a credential is required by law or regulation unless all crewmembers covered by this section are subject to the random testing requirements of this section.

§ 16.240 Serious marine incident testing requirements.

The marine employer must ensure that all persons directly involved in a serious marine incident are chemically tested for evidence of dangerous drugs and alcohol in accordance with the requirements of subpart 4.06 of this chapter.

§ 16.250 Reasonable cause testing requirements.

(a) The marine employer must require any crewmember engaged or employed on board a vessel owned in the United States that is required by law or regulation to engage, employ or be operated by an individual holding a credential issued under this subchapter, who is reasonably suspected of using a dangerous drug to be chemically tested for dangerous drugs.

(b) The marine employer's decision to test must be based on a reasonable and articulable belief that the individual has used a dangerous drug based on direct observation of specific, contemporaneous physical, behavioral, or performance indicators of probable use. Where practicable, this belief should be based on the observation of the individual by two persons in supervisory positions.

(c) When the marine employer requires testing of an individual under the provisions of this section, the individual must be informed of that fact and directed to provide a urine specimen as soon as practicable. This fact will be entered in the vessel's official logbook, if one is required.

(d) If an individual refuses to provide a urine specimen when directed to do so by the employer under the provisions of this section, this fact will be entered in the vessel's official logbook, if one is required.

§ 16.260 Records.

(a) Employers must maintain records of chemical tests as provided in 49 CFR 40.333 and must make these records available to Coast Guard officials upon request.

(b) The records must be sufficient to:

(1) Satisfy the requirements of §§ 16.210(b) and 16.220(c).

(2) Identify the total number of individuals chemically tested annually for dangerous drugs in each of the categories of testing required by this part including the annual number of individuals failing chemical tests and the number and types of drugs for which individuals tested positive.

PART 30—GENERAL PROVISIONS

177. The authority citation for part 30 is revised to read as follows:

Authority: 46 U.S.C. 2103, 3306, 3703; DHS Delegation No. 00170.1, Revision No. 01.4.

178. Revise § 30.10-7 to read as follows:

§ 30.10-7 Certificated—TB/ALL.

The term certificated when applied to tank vessels refers to a vessel covered by a certificate of inspection issued by the Coast Guard; when applied to mariners employed on tank vessels, the term refers to a certificate of ability issued by the Coast Guard.

179. Revise § 30.10-71 to read as follows:

§ 30.10-71 Tank vessel endorsements—TB/ALL.

The following ratings are established in part 13 of this chapter. The terms for the ratings identify persons holding valid endorsements for service in the ratings issued under that part:

(a) Tank Vessel-PIC.

(b) Tank Barge-PIC.

(c) Restricted Tank Vessel-PIC.

(d) Restricted Tank Barge-PIC.

(e) Tank Vessel-Assistant.

(f) Tank Vessel-Engineer.

PART 35—OPERATIONS

180. The authority citation for part 35 is revised to read as follows:

Authority: 33 U.S.C. 1321(j); 46 U.S.C. 3306, 3703, 6101, 70011, 70034; 49 U.S.C. 5103, 5106; Executive Order 12234, 45 FR 58801, 3 CFR, 1980 Comp., p. 277; Executive Order 12777, 56 FR 54757, 3 CFR, 1991 Comp., p. 351; DHS Delegation No. 00170.1, Revision No. 01.4.

181. Revise § 35.01-3 to read as follows:

§ 35.01-3 Incorporation by reference.

(a) Certain material is incorporated by reference into this part with the approval of the Director of the Federal Register under 5 U.S.C. 552(a) and 1 CFR part 51. All approved incorporation by reference material (IBR) is available for inspection at the Coast Guard and the National Archives and Records Administration (NARA). Contact Coast Guard at: Office of Merchant Mariner Credentialing (CG-MMC), U.S. Coast Guard, Stop 7509, 2703 Martin Luther King Jr. Avenue SE, Washington, DC 20593-7509; phone: 202-372-1492; website: https://www.dco.uscg.mil/nmc/merchant_mariner_credential/. For information on the availability of this material at NARA, visit www.archives.gov/federal-register/cfr/ibr-locations or email fr.inspection@nara.gov. The material may be obtained from:

(b) ASTM, International (ASTM), 100 Barr Harbor Drive, West Conshohocken, PA 19428-2959; phone 610-832-9500; website: https://www.astm.org/contact.

(1) ASTM F1014-92, Standard Specification for Flashlights on Vessels, 1992;§ 35.30-20(c).

(2) ASTM Adjunct F1626, Symbols for Use in Accordance with Regulation II-2/20 of the 1974 SOLAS Convention, PCN 12-616260-01, 1996; § 35.10-3.

(3) ASTM D 93-97, Standard Test Methods for Flash-Point by Pensky-Martens Closed Cup Tester, 1997; § 35.25-10.

(c) International Maritime Organization (IMO), Publications Section, 4 Albert Embankment, London, SE1 7SR United Kingdom; phone: +44 (0)20 7735 7611; website: www.imo.org.

(1) Resolution A.654(16), Graphical Symbols for Fire Control Plans, 19 October, 1989; § 35.10-3.

(2) Reserved

182. Revise § 35.01-5 to read as follows:

§ 35.01-5 Sanitary condition and crew quarters—T/ALL.

It is the duty of the Master and Chief Engineer of every tankship to see that such vessel and crew's quarters are kept in a sanitary condition.

183. Revise § 35.01-10 to read as follows:

§ 35.01-10 Shipping papers—TB/ALL.

Each loaded tank vessel must have on board a bill of lading, manifest, or shipping document giving the name of the consignee and the location of the delivery point, the kind, grades, and approximate quantity of each kind and grade of cargo, and for whose account the cargo is being handled. The tank vessel must not be delayed in order to secure exact quantities of cargo. Such manifests or bills of lading may be made out by the Master, Master of the towing vessel, owner, or agent of the owner. In the case of unmanned barges where shipping papers are not available, an entry in the logbook of the towing vessel giving the name of the shipper and location of shipping point, the name of the consignee and location of delivery point, the approximate kind, grade, and quantity of cargo in each barge of the tow, and for whose account the cargo is being handled, will be considered as complying with the requirements of this section.

184. Amend § 35.01-45 by revising paragraphs (b) through (d) to read as follows:

§ 35.01-45 Open hopper type barges—B/ALL.

* * * * *

(b) All open hopper type barges, while carrying in bulk any of the cargoes described in paragraph (a) of this section, must be operated in conformance with the provisions in this section. However, the provisions in this section are not applicable to such barges when empty (not necessarily cleaned or gas-freed).

(c)(1) Except as otherwise provided in this section, no such open hopper type barge must be placed as a lead barge in any tow. Such barges must be placed in protected positions within the tow so that the danger from diving or swamping will be minimized. Where, due to operating conditions, compliance with this paragraph is impossible, the provisions of paragraph (c)(3) of this section apply. The Person in Charge of the towing vessels is responsible for compliance with this paragraph.

(2) No such open hopper type barge may be moved from a loading facility unless all void spaces and bilges are substantially free of water. Periodic inspections and necessary pumping must be carried out to ensure the maintenance of such water-free conditions, in order to minimize the free surface effect in both the longitudinal and transverse directions. Except when otherwise considered necessary for inspection or pumping, all hatch covers and other hull closure devices for void spaces and hull compartments must be closed and secured at all times. In the case of unmanned barges, the Person in Charge of the towing vessel is deemed to be in charge of the barge, and all requirements to be carried out on the barge will be carried out by or under the direction of such person.

(3) When an open hopper type barge is in an exposed position, such that protection from swamping provided by adjoining barges cannot be obtained from location within the two alone, it is the responsibility of the Person in Charge of the towing vessel to control speed so as to ensure protection against diving and swamping of the barge, having due regard to its design and freeboard, and to the operating conditions.

(d) To show that special operating requirements apply to a specific open hopper type barge, additional placards or signs must be displayed in at least four different locations on the barge when the cargoes described in paragraph (a) of this section are carried in any form in the cargo tanks. The placards or signs must be posted on the barge approximately amidships on each side and near the centerline of each end, facing outboard. Racks, or other suitable means, for mounting such placards or signs must be so arranged as to provide clear visibility and shall be protected from becoming readily damaged or obscured. The placards or signs must be at least equal in dimensions to the DOT standard tank car “Dangerous” placard (10¾ inches square or larger), and must display a circle (10 inches in diameter or larger) with alternating quadrants of white and red, and so mounted that the red quadrants are centered on the vertical axis. The shipper and/or owner of the barge will be responsible for the installation of the required placards or signs, including maintenance of them while such barge is in temporary storage with cargo aboard. The Person in Charge of the towing vessel is responsible for the continued maintenance of the placards or signs while such barge is in transit.

185. Amend § 35.01-50 by revising paragraph (a) introductory text and paragraphs (c) through (g) to read as follows:

§ 35.01-50 Special operating requirements for tank barges carrying certain dangerous bulk cargoes—B/ALL.

(a) The requirements of this section apply to all tank barges carrying those cargoes listed on table 30.25-1, of this subchapter, which are defined as:

* * * * *

(c) When it is necessary to operate box or square-end barges as lead barges of tows, the Person in Charge of the towing vessel must control the speed to ensure protection against diving and swamping of such barges, having due regard to their design and freeboard, and to the operating conditions.

(d) All barges, while carrying in bulk any of the cargoes described in paragraph (a) of this section, must be operated in conformance with the provisions of this section. However, the provisions of this section are not applicable to such barges when empty and gas-freed.

(e) Barges must not be moved from a loading facility unless all bilges and void spaces (except those used for ballasting) are substantially free of water. Periodic inspections and necessary pumping must be carried out to ensure maintenance of such water-free condition in order to minimize the free surface effects, both in the longitudinal and transverse directions. Except when otherwise considered necessary for inspection or pumping, all hatch covers and other hull closure devices for void spaces and hull compartments other than cargo spaces must be closed and secured at all times.

(f) During the time the cargo tanks contain dangerous cargoes described in paragraph (a) of this section in any amount, in the liquid or gaseous state, the barge must be under constant surveillance.

(1) A strict watch of each unmanned barge in tow must be maintained from the towing vessel while underway.

(2) A towing vessel engaged in transporting such unmanned barges must not leave them unattended. When a barge is moored, but not gas free, it must be under the observation of a watchman who may be a member of the complement of the towing vessel, or a terminal employee, or other person. Such person will be responsible for the security of the barge and for keeping unauthorized persons off the barge.

(g) The owner, operator, Master, or Person in Charge of any barge carrying dangerous cargoes described in paragraph (a) of this section must ensure that, while the barge is being towed, and during cargo transfer operations, the persons as required by § 31.15-5 of this subchapter and § 35.35-1 are provided.

186. Amend § 35.01-55 by revising paragraph (a) introductory text, paragraph (b) introductory text, and paragraph (b)(4) to read as follows:

§ 35.01-55 Pilot boarding operation.

(a) The Master must ensure that pilot boarding equipment is maintained as follows:

* * * * *

(b) The Master must ensure compliance with the following during Pilot boarding operations:

* * * * *

(4) Rigging of the equipment and embarkation/debarkation of a Pilot must be supervised in person by a deck officer.

* * * * *

187. Revise § 35.01-60 to read as follows:

§ 35.01-60 Person excluded.

Masters and Pilots must exclude from the pilothouse and navigation bridge, while underway, all persons not connected with the navigation of the vessel. However, licensed officers of vessels, persons regularly engaged in training, regulating, evaluating, or learning the profession of Pilot, officials of the United States Coast Guard, United States Navy, United States Coast and Geodetic Survey, United States Army Corps of Engineers, Maritime Administration, and National Transportation Safety Board may be allowed in the pilothouse or upon the navigation bridge upon the responsibility of the Master or Pilot.

188. Revise § 35.05-1 to read as follows:

§ 35.05-1 Officers and crews of tankships—T/ALL.

No tankship of the United States may be navigated unless it has in its service and on board such complement of officers and crew, including Lifeboat Operators and those who hold the proper tank vessel endorsements where required by the regulations in this subchapter, separately stated, as called for in its certificate of inspection.

189. Amend § 35.05-15 by revising paragraph (a) and paragraph (b)(1) introductory text to read as follows:

§ 35.05-15 Tank vessel security—TB/ALL.

(a) Manned tank vessel. At least one member of the crew of a manned tank vessel must be on board at all times except when the vessel is gas free or is moored at a dock or terminal at which watchman service is provided.

(b) * * *

(1) The owner, managing operator, Master, and Person in Charge of a vessel towing a tank barge that need not be manned, and each of them is responsible for monitoring the security and integrity of the tank barge and for ensuring adherence to proper safety precautions. These responsibilities include, but are not limited to—

* * * * *

190. Revise § 35.07-1 to read as follows:

§ 35.07-1 Application—TB/ALL.

Except as specifically noted, the provisions of this subpart apply to all tank vessels.

191. Revise § 35.07-5 to read as follows:

§ 35.07-5 Logbooks and records—TB/ALL.

(a) The Master or Person in Charge of a vessel that is required by 46 U.S.C. 11301 to have an official logbook must maintain the logbook on form CG-706. The official logbook is available free to Masters of U.S.-flagged vessels from the Officer in Charge, Marine Inspection, as form CG-706B or CG-706C, depending on the number of persons employed in the crew. When the voyage is completed, the Master or Person in Charge must file the logbook with the Officer in Charge, Marine Inspection.

(b) The Master or Person in Charge of a vessel that is not required by 46 U.S.C. 11301 to have an official logbook, must maintain, on board, an unofficial logbook or record in any form desired for the purposes of making entries therein as required by law or regulations in this subchapter. Such logs or records are not filed with the Officer in Charge, Marine Inspection, but must be kept available for review by a marine inspector for a period of 1 year after the date to which the records refer. Separate records of tests and inspections of firefighting equipment must be maintained with the vessel's logs for the period of validity of the vessel's certificate of inspection.

192. Revise § 35.10-15 to read as follows:

§ 35.10-15 Emergency lighting and power systems—T/ALL.

(a) Where fitted, it is the duty of the Master to see that the emergency lighting and power systems are tested and inspected at least once in each week that the vessel is navigated to be assured that the system is in proper operating condition.

(b) Internal combustion engine driven emergency generators must be tested under load for at least 2 hours, at least once in each month that the vessel is navigated.

(c) Storage batteries for emergency lighting and power systems must be tested at least once in each 6-month period that the vessel is navigated to demonstrate the ability of the storage battery to supply the emergency loads for the period of time specified in table 112.05-5(a) of this subchapter.

(d) The date of the tests required by this section and the condition and performance of the apparatus must be noted in the vessel's official logbook or in logs or records considered to take the place of the official logbook.

193. Revise § 35.20-5 to read as follows:

§ 35.20-5 Draft of tankships—T/OC.

The Master of every tankship must, whenever leaving port, enter the maximum draft of the vessel in the logbook.

194. Amend § 35.20-7 by revising paragraphs (a) and (c) to read as follows:

§ 35.20-7 Verification of vessel compliance with applicable stability requirements—TB/ALL.

(a) Except as provided in paragraph (d) of this section, after loading and prior to departure and at all other times necessary to assure the safety of the vessel, the Master or Person in Charge must determine that the vessel complies with all applicable stability requirements in the vessel's trim and stability book, stability letter, Certificate of Inspection, and Load Line Certificate, as the case may be. The vessel may not depart until it is in compliance with these requirements.

* * * * *

(c) If a logbook is required by § 35.07-5, then the Master or Person in Charge must enter an attestation statement verifying that the vessel complies with the applicable stability requirements at the times specified in paragraph (a) and any stability calculations made in support of the determination must be retained on board the vessel for the duration of the voyage.

* * * * *

195. Revise § 35.20-20 to read as follows:

§ 35.20-20 Master's and officer's responsibility—TB/ALL.

Nothing in this part exonerates any Master or officer in command from the consequences of any neglect to keep a proper lookout or the neglect of any precaution which may be required by the ordinary practice of seafarers or by the special circumstances of the case.

196. Revise § 35.25-1 to read as follows:

§ 35.25-1 Examination of boilers and machinery by engineer—T/ALL.

It is the duty of an engineer when assuming charge of the boilers to examine the same forthwith and thoroughly. If any part thereof is found in bad condition, the engineer must immediately report the facts to the Master, owner, or agent, and to the nearest Officer in Charge, Marine Inspection.

197. Revise § 35.25-5 to read as follows:

§ 35.25-5 Repairs of boilers and unfired pressure vessels and reports of repairs or accidents by Chief Engineer—TB/ALL.

(a) Before making any repairs to boilers or unfired pressure vessels, the Chief Engineer must submit a report covering the nature of the repairs to the Officer in Charge, Marine Inspection, at or nearest to the port where the repairs are to be made.

(b) In the event of an accident to a boiler, unfired pressure vessel, or machinery tending to render the further use of the item itself unsafe until repairs are made, or if by ordinary wear such items become unsafe, a report must be made by the Chief Engineer immediately to the Officer in Charge, Marine Inspection, or, if at sea, immediately upon arrival at port.

198. Revise § 35.25-10 to read as follows:

§ 35.25-10 Requirements for fuel oil—T/ALL.

(a) Oil to be used as fuel to be burned under boilers on tankships must have a flashpoint of not less than 140 °F. (Pensky-Martens Closed Cup Method, ASTM D 93) (incorporated by reference, see § 35.01-3).

(b) It is the duty of the Chief Engineer to make an entry in the log of each supply of fuel oil received on board, stating the quantity received, the name of the vendor, the name of the oil producer, and the flashpoint (Pensky-Martens Closed Cup Method, ASTM D93) (incorporated by reference, see § 35.01-3) for which it is certified by the producer.

(c) It is the further duty of the Chief Engineer to draw and seal at the time the supply is received on board, a half-pint sample of each lot of fuel oil, such sample to be preserved until that particular supply of oil is exhausted.

199. Revise § 35.25-15 to read as follows:

§ 35.25-15 Carrying of excess steam—TB/ALL.

It is the duty of the Chief Engineer of any tank vessel to see that a steam pressure is not carried in excess of that allowed by the certificate of inspection, and to see that the safety valves, once set by the inspector, are in no way tampered with or made inoperative.

200. Amend § 35.30-5 by revising paragraphs (a) through (c) to read as follows:

§ 35.30-5 Fires, matches, and smoking—TB/ALL.

(a) General. In making the determinations required under paragraphs (b), (c), and (d) of this section, the senior deck officer on duty, who must be a licensed officer or hold the proper tank vessel endorsements, must exercise skill and experience with due regard to attendant conditions and circumstances, including consideration for location of shoreside facilities, maintenance of mobility, provision for fire protection, state or change of winds, tides, sea, weather conditions, forces of nature and other circumstances generally beyond human control.

(b) Boiler fires. Boiler fires are permitted during cargo transfer operations if and only if prior to loading Grades A, B, and C cargoes, the senior deck officer on duty, who must be a licensed officer or hold the proper tank vessel endorsements, must make an inspection to determine whether, in their judgment, boiler fires may be maintained with reasonable safety during the loading operation.

(c) Smoking. Smoking is prohibited on the weather decks of tank vessels when they are not gas free or are alongside docks. At other times and places, the senior deck officer on duty, who must be a licensed officer or hold the proper tank vessel endorsements, must designate when and where the crew may smoke: Provided, That prior to loading Grade A, B, or C cargo the Master or senior deck officer on duty must make an inspection to determine if and where, in their judgment, smoking may be permitted with reasonable safety during the loading operation.

* * * * *

201. Revise § 35.35-1 to read as follows:

§ 35.35-1 Persons on duty—TB/ALL.

(a) On each tankship required to be documented under the laws of the United States, the owner, managing operator, Master, and Person in Charge of the vessel, and each of them, must ensure that—

(1) Enough Tank Vessel-PICs or Restricted Tank Vessel-PICs and Tank Vessel-Assistants authorized for the classification of cargo carried are on duty to safely transfer liquid cargo in bulk or safely clean cargo tanks; and

(2) Each transfer of liquid cargo in bulk and each cleaning of a cargo tank is supervised by a person qualified to be the Person in Charge of the transfer or the cleaning under subpart C of 33 CFR part 155.

(b) On each United States tank barge subject to inspection—

(1) The owner, managing operator, Master, and Person in Charge of the vessel, and each of them, must ensure that no transfer of liquid cargo in bulk or cleaning of a cargo tank takes place unless under the supervision of a qualified person designated as the Person in Charge of the transfer or the cleaning under subpart C of 33 CFR part 155; and

(2) The person designated as the Person in Charge of the transfer must ensure that—

(i) Enough qualified personnel are on duty to safely transfer liquid cargo in bulk or safely clean cargo tanks; and

(ii) The approved portable extinguishers required by table 34.50-10(a) of this subchapter are aboard and readily available before any transfer of liquid cargo in bulk or any operation of barge machinery or boilers.

(c) On each foreign tankship, the owner, managing operator, Master, and Person in Charge of the vessel, and each of them, must ensure that—

(1) Enough personnel, qualified for the classification of cargo carried, are on duty to safely transfer liquid cargo in bulk or safely clean cargo tanks; and

(2) Each transfer of liquid cargo in bulk and each cleaning of a cargo tank is supervised by a qualified person designated as a Person in Charge of the transfer or the cleaning under subpart C of 33 CFR part 155.

(d) On each foreign tank barge—

(1) The owner, managing operator, Master, and Person in Charge of the vessel, and each of them, must ensure that no transfer of liquid cargo in bulk or cleaning of a cargo tank takes place unless under the supervision of a qualified person designated as the Person in Charge of the transfer or the cleaning under subpart C of 33 CFR part 155.

(2) The person designated as the Person in Charge of the transfer must ensure that enough qualified personnel are on duty to safely transfer liquid cargo in bulk or safely clean cargo tanks.

(e) The Person in Charge of the transfer of liquid cargo in bulk on the tank vessel will be responsible for the safe loading and discharge of the liquid cargo in bulk.

(f) The Person in Charge of the transfer of liquid cargo in bulk on each United States tank vessel, when lightering to or from a foreign tank vessel, must ensure that the Person in Charge on the foreign tank vessel, or their interpreter, is capable of reading, speaking, and understanding the English language well enough to allow a safe transfer.

202. Revise § 35.35-10 to read as follows:

§ 35.35-10 Closing of freeing-ports, scuppers, and sea valves—TB/ALL.

The Person in Charge of each transfer of liquid cargo in bulk must ensure that all freeing-ports and scuppers are properly plugged during the transfer except on tank vessels using water for cooling decks. Although under no circumstances may sea valves be secured by locks, the valves must be closed, and lashed or sealed, to indicate that they should not be opened during the transfer.

203. Amend § 35.35-20 by revising the introductory text to read as follows:

§ 35.35-20 Inspection before transfer of cargo—TB/ALL.

Before the transfer of liquid cargo in bulk, the Person in Charge of the transfer must inspect the vessel to ensure the following:

* * * * *

204. Revise § 35.35-25 to read as follows:

§ 35.35-25 Approval to start transfer of cargo—TB/ALL.

When the Person in Charge of the transfer of liquid cargo in bulk has ensured that the requirements of §§ 35.35-20 and 35.35-30 have been met, they may give approval to start the transfer.

§ 35.35-30 [Amended]

205. Amend § 35.35-30 by removing the words “person in charge” wherever they appear in the section and adding, in their place, the words “Person in Charge”.

206. Amend § 35.35-35 by revising the section heading and introductory text to read as follows:

§ 35.35-35 Duties of Person in Charge of transfer—TB/ALL.

The Person in Charge of the transfer of liquid cargo in bulk, fuel oil in bulk, or bunkers in bulk must control the transfer as follows:

* * * * *

207. Revise § 35.35-42 to read as follows:

§ 35.35-42 Restrictions on vessels alongside a tank vessel loading or unloading cargo of Grade A, B, or C—TB/ALL.

(a) No vessel may come alongside or remain alongside a tank vessel in way of its cargo tanks while it is loading or unloading cargo of Grade A, B, or C without permission of the Person in Charge of the transfer on the tank vessel.

(b) No vessel may come alongside or remain alongside a tank vessel in way of its cargo tanks while it is loading or unloading cargo of Grade A, B, or C unless the conditions then prevailing are acceptable to the Persons in Charge of cargo handling on both vessels.

208. Amend § 35.35-55 by revising paragraph (a) to read as follows:

§ 35.35-55 Transfer of other cargo or stores on tank vessels—TB/ALL.

(a) No packaged goods, freight, or ship's stores may be loaded or unloaded during the loading or unloading of cargo of Grade A, B, or C except by permission of the Person in Charge of the transfer of liquid cargo in bulk. No explosives may be loaded, unloaded, or carried as cargo on any tank vessel containing cargo of Grade A, B, or C.

* * * * *

PART 39—VAPOR CONTROL SYSTEMS

209. The authority citation for part 39 is revised to read as follows:

Authority: 42 U.S.C. 7511b(f)(2); 46 U.S.C. 3306, 3703, 3715(b), 70011, 70034; Executive Order 12234, 45 FR 58801, 3 CFR, 1980 Comp., p. 277; DHS Delegation No. 00170.1, Revision No. 01.4.

210. Amend § 39.5003 by revising paragraph (c) to read as follows:

§ 39.5003 Additional requirements for multi-breasted loading using an inboard barge vapor collection system—B/CLBR.

* * * * *

(c) Persons holding an appropriate tank vessel endorsement trained in and familiar with multi-breasted loading operations, must be onboard each barge during transfer operations. The Tank Barge-PIC serves as the barge Person in Charge (PIC). During transfer operations, the barge PICs must maintain constant communication with each other as well as with the facility PIC.

* * * * *

Dated: October 15, 2024.
W.R. Arguin,
Rear Admiral, U.S. Coast Guard, Assistant Commandant for Prevention Policy.

[FR Doc. 2024-24271 Filed 11-22-24; 8:45 am]

BILLING CODE 9110-04-P